FEDERAL COMMUNICATIONS COMMISSION

47 CFR Part 76

[MB Docket No. 05-49; FCC 05-24]

Implementation of the Satellite Home Viewer Extension and Reauthorization Act of 2004; Implementation of Section 340 of the Communications Act; Notice of Proposed Rulemaking

AGENCY: Federal Communications Commission.

ACTION: Proposed rule.

SUMMARY: In this document, the Commission proposes rules to implement Section 202 of the Satellite Home Viewer Extension and Reauthorization Act of 2004 (“SHVERA”), which creates Section 340 of the Communications Act of 1934, as amended (“Act”), and amends the copyright laws in order to provide satellite carriers with the authority to offer Commission-determined “significantly-viewed” signals of out-of-market broadcast stations to subscribers. This document achieves the SHVERA's statutory objectives to publish and maintain a list of the stations and the communities containing such stations that are eligible for “significantly viewed” status; and commence a rulemaking proceeding to implement new Section 340.

DATES: Submit comments on or before April 8, 2005; and reply comments must be filed on or before April 29, 2005. Written comments on the proposed information collection requirements contained in the document must be submitted by the public, the Office of Management and Budget (OMB), and other interested parties on or before May 9, 2005.

ADDRESSES: All filings must be addressed to the Commission's Secretary, Office of the Secretary, Federal Communications Commission, 445 12th Street, SW., Room TW-A325, Washington, DC 20554. See SUPPLEMENTARY INFORMATION for filing instructions.

FOR FURTHER INFORMATION CONTACT: For additional information on this proceeding, contact Evan Baranoff, Evan.Baranoff@fcc.gov, or Eloise Gore, Eloise.Gore@fcc.gov, of the Media Bureau, Policy Division, (202) 418-2120. For additional information concerning the Paperwork Reduction Act information collection requirements contained in this document, contact Cathy Williams, Federal Communications Commission, 445 12th St, SW., Room 1-C823, Washington, DC 20554, or via the Internet to Cathy.Williams@fcc.gov.

SUPPLEMENTARY INFORMATION: This is a summary of the Federal Communications Commission's Notice of Proposed Rulemaking (“NPRM”) FCC 05-24, adopted on February 4, 2005, and released on February 7, 2005. The full text of this document is available for public inspection and copying during regular business hours in the FCC Reference Center, Federal Communications Commission, 445 12th Street, SW., CY-A257, Washington, DC 20554. These documents will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Initial Paperwork Reduction Act of 1995 Analysis

This NPRM has been analyzed with respect to the Paperwork Reduction Act of 1995 (“PRA”), Public Law. 104-13, 109 Stat 163 (1995), and contains proposed information collection requirements. It will be submitted to the Office of Management and Budget (OMB) for review under section 3507(d) of the PRA. The Commission, as part of its continuing effort to reduce paperwork burdens, invites the general public and the OMB to comment on the proposed information collection requirements contained in this NPRM, as required by the PRA. Written comments on the PRA proposed information collection requirements must be submitted by the public, the Office of Management and Budget (OMB), and other interested parties on or before May 9, 2005. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, (“SBPRA”), Public Law 107-198, 116 Stat 729 (2002), see 44 U.S.C. 3506(c)(4), comments should also address how the Commission might “further reduce the information collection burden for small business concerns with fewer than 25 employees.”

The following existing information collection requirements would be modified if the proposed rules contained in the NPRM are adopted.

OMB Control Number: 3060-0311.

Title: 47 CFR 76.54, Significantly Viewed Signals; Method to be Followed for Special Showings.

Form Number: Not Applicable.

Type of Review: Revision of a currently approved collection.

Respondents: Business or other for-profit entities.

Number of Respondents: 250.

Frequency of Response: On occasion reporting requirement; Third party disclosure requirement.

Estimated Time Per Response: 1-15 hours (average).

Total Annual Burden: 4,610 hours.

Total Annual Costs: None.

Privacy Impact Assessment: No impact(s).

Needs and Uses: 47 CFR 76.54(c) is used to notify interested parties, including licensees or permittees of television broadcast stations, about audience surveys that are being conducted by an organization to demonstrate that a particular broadcast station is eligible for significantly viewed status under the Commission's rules. The notifications provide interested parties with an opportunity to review survey methodologies and file objections. The proposed § 76.54(c) retains the existing notification requirement, but, if adopted, would increase the potential number of parties that would file such notifications. 47 CFR 76.54(e) and (f), if adopted, would be used to notify television broadcast stations about the retransmission of significantly viewed signals by a satellite carrier into these stations' local market.

OMB Control Number: 3060-0888.

Title: Part 76, Multichannel Video and Cable Television Service; Pleading and Complaint Rules; 47 CFR 76.7 Petition Procedures.

Form Number: Not applicable.

Type of Review: Revision of a currently approved collection.

Respondents: Business or other for-profit entities.

Number of Respondents: 500.

Frequency of Response: On occasion reporting requirement; Third party disclosure requirement.

Estimated Time Per Response: 4-40 hours (average).

Total Annual Burden: 11,000 hours.

Total Annual Costs: $2,000,000.

Privacy Impact Assessment: No impact(s).

Needs and Uses: 47 CFR 76.7 is used to make determinations on petitions and complaints filed with the Commission. The proposed rule changes, if adopted, would expand the potential number of parties and situations that may require the filing of § 76.7 petitions. Parties (cable operators and broadcast stations) are currently permitted to file § 76.7 petitions (with audience surveys) to demonstrate significantly viewed status under rule § 76.54. The proposed rule changes, if adopted, would authorize additional parties (satellite carriers) to file such § 76.7 petitions to demonstrate significantly viewed status under new Section 340 of the Act. Moreover, the proposed rule changes, if adopted, would authorize parties to file § 76.7 petitions in order to file a complaint under the Section 340 enforcement provisions.

OMB Control Number: 3060-0960.

Title: 47 CFR 76.122, Satellite Network Non-duplication Protection Rules; 47 CFR 76.123, Satellite Syndicated Program Exclusivity Rules; 47 CFR 76.124, Requirements for Invocation of Non-duplication and Syndicated Exclusivity Protection; 47 CFR 76.127, Satellite Sports Blackout Rules.

Form Number: Not Applicable.

Type of Review: Revision of a currently approved collection.

Respondents: Business or other for-profit entities.

Number of Respondents: 1,428.

Estimated Time Per Response: 0.5-1 hour (average).

Frequency of Response: On occasion reporting requirement; Third party disclosure requirement.

Total Annual Burden: 68,529 hours.

Total Annual Costs: None.

Privacy Impact Assessment: No impact(s).

Needs and Uses: 47 CFR 76.122, 76.123, 76.124 and 76.127 are used to protect exclusive contract rights negotiated between broadcasters, distributors, and rights holders for the transmission of network, syndicated, and sports programming in the broadcasters' recognized market areas. The proposed rule changes to §§ 76.122 and 76.123, if adopted, would implement statutory requirements to provide new rights for in-market stations to assert nonduplication and exclusivity rights, potentially increasing the number of filings pursuant to these rules. No changes to §§ 76.124 and 76.127 are proposed.

Summary of the Notice of Proposed Rulemaking

I. Introduction

1. In this Notice of Proposed Rulemaking (“NPRM”), the Commission proposes rules to implement Section 202 of the Satellite Home Viewer Extension and Reauthorization Act of 2004 (“SHVERA”), Pub. L. No. 108-447, sec. 202, 118 Stat 2809, 3393 (2004) (to be codified at 47 U.S.C. 340). (The SHVERA was enacted on December 8, 2004 as title IX of the “Consolidated Appropriations Act, 2005.” This proceeding is one of a number of Commission proceedings that will be required to implement the SHVERA. The other proceedings will follow according to the timeframes set forth in the SHVERA, to be undertaken and largely completely in 2005; see Sections 202, 204, 205, 207, 208, 209 and 210 of the SHVERA; see also public notice, “Media Bureau Seeks Comment For Inquiry Required By the on Rules Affecting Competition In the Television Marketplace,” MB Docket No. 05-28, DA 05-169 (rel. Jan. 25, 2005).) Section 202 of the SHVERA creates Section 340 of the Communications Act of 1934, as amended (“Communications Act” or “Act”), which provides satellite carriers with the authority to offer Commission-determined “significantly viewed” signals of out-of-market (or “distant”) broadcast stations to subscribers. The SHVERA imposes strict statutory deadlines, directing the Commission to (1) publish and maintain a list of stations eligible for “significantly viewed” status and the related communities (as determined by the Commission), and (2) commence a rulemaking proceeding to implement Section 340 of the Act, 47 U.S.C. 340, both within 60 days, thus enabling satellite carriage of such “significantly viewed” signals. The SHVERA was enacted by Presidential signature on December 8, 2004. The SHVERA also requires that the Commission adopt rules implementing Section 340 of the Act, 47 U.S.C. 340, within one year of the statute's enactment. Section 340(h) of the Act, 47 U.S.C. 340(h), directs the Commission to make specific revisions to § 76.66 of our rules, 47 CFR 76.66, with respect to carriage elections, retransmission consent negotiations and notifications to stations in local-into-local markets no later than October 30, 2005. These revisions will be addressed in a separate proceeding.)

2. With the SHVERA, Congress takes another step toward “moderniz[ing] satellite television policy and enhanc[ing] competition between satellite and cable operators.” The SHVERA adopts for satellite carriers and subscribers the concept of “significantly viewed,” which has applied in the cable context for more than 30 years. In 1972, the Commission adopted the concept of “significantly viewed” signals to differentiate between out-of-market television stations “that have sufficient audience to be considered local and those that do not.” The Commission concluded at that time that it would not be reasonable if choices on cable were more limited than choices over the air, and gave cable carriage rights to stations in communities where they had significant over-the-air non-cable viewing. (At the time the Commission adopted the significantly viewed rules, the cable television carriage rules were generally based on mileage zones from the relevant stations. A television station was generally considered “local” for cable carriage purposes if the relevant community served was within 35 miles of the station's city of license or within its Grade B contour but not within the 35 mile zone of another market. Cable system carriage of significantly viewed stations, however, was based on audience viewership levels in the relevant communities rather than by strict mileage zones. This afforded significantly viewed stations carriage when they otherwise would have been considered distant stations, 47 CFR 76.5(i), 47 CFR 76.5(i).) The designation is salient because it has enabled stations assigned to one market to be treated as “local” stations with respect to a particular cable community in another market.

3. The copyright provisions that apply to cable systems have recognized the Commission's designation of stations as “significantly viewed” and treated them, for copyright purposes, as “local,” and therefore subject to reduced copyright payment obligations. The copyright provisions governing satellite carriers did not, however, provide a statutory copyright license for significantly viewed signals, and as a consequence such signals are not, as a practical matter, generally available for carriage for satellite distribution outside of their Designated Market Areas (“DMAs”). Recognizing that the reach of a station's over-the-air signal is not constrained by the boundary of a DMA, the SHVERA now will allow a satellite carrier to treat an otherwise distant signal as “local” in a community where such signal is “significantly viewed” by consumers in that community. (A DMA generally identifies a television station's “local market.”). In this way, the statutory provisions governing satellite carriage of broadcast stations move closer to the provisions that have long governed cable carriage.

II. Background

A. Satellite Home Viewer Act (SHVA)

4. In 1988, Congress passed the Satellite Home Viewer Act (“1988 SHVA”), which established a statutory copyright license for satellite carriers to offer subscribers who could not receive the signal of a broadcast station over the air access to broadcast programming via satellite. The 1988 SHVA reflected Congress' intent to protect the role of local broadcasters in providing over-the-air television by limiting satellite delivery of network broadcast programming to subscribers who were “unserved” by over-the-air signals. The 1988 SHVA, however, did permit satellite carriers to offer distant “superstations” to subscribers.

B. Satellite Home Viewer Improvement Act of 1999 (SHVIA)

5. In the Satellite Home Viewer Improvement Act (“SHVIA”), Congress expanded on the 1988 SHVA by amending both the 1988 copyright laws and the Communications Act to permit satellite carriers to retransmit local broadcast television signals directly to consumers. Generally, the SHVIA sought to level the competitive playing field between satellite and cable operators, thereby providing consumers with more and better choices when selecting a multichannel video programming distributor (“MVPD”). The Commission undertook a number of rulemakings to implement the SHVIA, adopting rules for satellite companies with regard to mandatory carriage of broadcast signals, retransmission consent, and program exclusivity that closely paralleled the requirements for cable service.

6. A key element of the SHVIA was to provide satellite carriers with a statutory copyright license to facilitate the retransmission of local broadcast programming, or “local-into-local” service, to subscribers. A satellite carrier provides “local-into-local” service when it retransmits a local television signal back into the local market of that television station for reception by subscribers. Generally, a television station's “local market” is the DMA in which it is located. (Section 340(i)(1) of the Act, 47 U.S.C. 340(i)(1), as established by the SHVERA, defines the term “local market” using the definition contained in 17 U.S.C. 122(j)(2).) DMAs, which describe each television market in terms of a unique geographic area, are established by Nielsen Media Research based on measured viewing patterns. Each satellite carrier providing local-into-local service pursuant to the statutory copyright license is generally obligated to carry any qualified local television station in the particular DMA that has made a timely election for mandatory carriage, unless the station's programming is duplicative of the programming of another station carried by the carrier in the DMA or the station does not provide a good quality signal to the carrier's local receive facility. This is commonly referred to as the “carry one, carry all” requirement; see 47 U.S.C. 338.

C. Satellite Home Viewer Extension and Reauthorization Act of 2004 (SHVERA)

7. In December 2004, Congress passed and the President signed the Satellite Home Viewer Extension and Reauthorization Act of 2004, which again amends the 1988 copyright laws and the Communications Act to further aid the competitiveness of satellite carriers and expand program offerings for satellite subscribers; see the Satellite Home Viewer Extension and Reauthorization Act of 2004, Pub. L. No. 108-447, 118 Stat 2809, 3393 (2004) (codified in scattered sections of 17 and 47 U.S.C.). Section 102 of the SHVERA creates a new 17 U.S.C. 119(a)(3) to provide satellite carriers with a statutory copyright license to offer “significantly viewed” signals as part of their local service subscribers. The 1999 SHVIA opened the door for satellite carriers to offer local broadcast programming to subscribers, but the SHVIA copyright license for satellite carriers was still more limited than the statutory copyright license for cable operators. Specifically, for satellite purposes, “local,” though out-of-market (i.e., “significantly viewed”) signals were treated the same as truly “distant” (e.g., hundreds of miles away) signals for purposes of the SHVIA's statutory copyright licenses in 17 U.S.C. 119 and 122. The SHVERA is intended to correct this particular inconsistency by giving satellite carriers the option to offer Commission-determined “significantly viewed” signals to subscribers.

III. Discussion

8. The SHVERA creates Section 340 of the Act, 47 U.S.C. 340, and expands the statutory copyright license for satellite carriers contained in 17 U.S.C. 119 to establish the framework for satellite carriage of Commission-determined “significantly viewed” signals. As required by the SHVERA, we open this rulemaking proceeding, publish the existing list of significantly viewed stations, and seek comment on implementation of Section 340 of the Act, 47 U.S.C. 340, and on the specific rule proposals and tentative conclusions contained herein.

A. Station Eligibility for Satellite Carriage as “Significantly Viewed”

9. In this section, we will consider which stations are eligible for “significantly viewed” status in which communities pursuant to the statutory copyright license contained in 17 U.S.C. 119(a). We will also consider how stations and the related communities can become eligible for such status. Such examination requires discussion of the interplay of the Section 340 of the Act, 47 U.S.C. 340, requirements with the Commission's network nonduplication and syndicated exclusivity rules. We must also consider how to define a satellite community in this context.

1. “Significantly Viewed” Status

10. The SHVERA specifies two ways for a station to be eligible for “significantly viewed” status. Section 340(a) of the Act, as created by the SHVERA, authorizes a satellite carrier “to retransmit to a subscriber located in a community the signal of any station located outside the local market in which such subscriber is located, to the extent such signal—

(1) Has, before the date of enactment of the Satellite Home Viewer Extension and Reauthorization Act of 2004, been determined by the Federal Communications Commission to be a signal a cable operator may carry as significantly viewed in such community, except to the extent that such signal is prevented from being carried by a cable system in such community under the Commission's network nonduplication and syndicated exclusivity rules; or

(2) Is, after such date of enactment, determined by the Commission to be significantly viewed in such community in accordance with the same standards and procedures concerning shares of viewing hours and audience surveys as are applicable under the rules, regulations, and authorizations of the Commission to determining with respect to a cable system whether signals are significantly viewed in a community.”

Therefore, to obtain “significantly viewed” status, a station must either (1) be determined by the Commission to be “significantly viewed,” as of December 7, 2004 (i.e., must be on the Commission's “Significantly Viewed List” or “SV List”), or (2) obtain a “significantly viewed” determination by the Commission (i.e., must be added to the “Significantly Viewed List”). There is no statutory limit on the number of significantly viewed signals a satellite carrier may carry.

2. List of Significantly Viewed Stations and Communities

11. Section 340(c) of the Act, 47 U.S.C. 340(c), directs the Commission to publish and maintain a unified list of significantly viewed stations, and the communities containing such stations, that will apply to both cable operators and satellite carriers. The provision also requires that the Commission make this list of significantly viewed stations with related communities available to the public on our Web site, and update this list within 10 business days after taking an action to modify the list. (At the completion of this rulemaking proceeding, the final list will be published on the Commission's Web site at http://www.fcc.gov/mb, and, as further required by SHVERA, we will update the list as it appears on the website within 10 days of any modifications.)

12. In accordance with the SHVERA, we have compiled a list of stations that have been granted significantly viewed status pursuant to the Commission's cable television rules. This list (“SV List”), attached as Appendix B, is a list of significantly viewed stations and the communities containing such stations combining the Commission's original 1972 list of significantly viewed stations granted on a county-wide basis with stations added on a county or community-wide basis over the intervening years. (The Commission's initial list of significantly viewed stations was released in 1972. The SV List also includes stations granted significantly viewed status subsequent to 1972. These latter stations and communities have not been previously published by the Commission, but have been included in a list maintained and published annually in Warren Publishing's Cable & Station Coverage Atlas (Warren Publishing Inc., Washington DC). The most recent version of Warren Communications News' significantly viewed list can be found at: Cable and Station Coverage Atlas, Warren Communications News' (Appendix B) (2004). The SV List indicates by a plus sign (+) those that have been added to the 1972 list after its publication to distinguish them from those stations and communities derived from the original 1972 list. We do not believe that this distinction is meaningful for the future and intend to eliminate this designation from the final SV List to be published at the conclusion of this proceeding.) When the Commission initiated the cable carriage rules in 1972, the goal was to be broadly inclusive in order to provide a wide range of programming choices for cable viewers by designating significantly viewed stations on a county-wide basis. The Commission provided that, after this initial period, stations can be added to the list on the basis of community surveys that focus on the area in which the station is significantly viewed. In addition, stations beginning operation after the initial survey period can use the county-wide methodology comparable to that used by Arbitron for the initial survey in lieu of a community-based survey.

13. As explained below, some stations on the SV List have been the subject of waivers and program deletions based on network nonduplication or syndicated exclusivity. The SV List indicates by a pound sign (#) the stations and related communities thus subjected to programming deletions. Cable operators and satellite carriers must be aware of these required programming deletions (“blackouts”) and abide by them in their carriage of these stations in the communities so indicated.

14. Based on the short time frame mandated by the SHVERA for publication of the SV List, as well as the legislative history, we believe that Congress intends for satellite carriers to make use of the SV List to expand their carriage offerings so that their subscribers can begin to experience the benefits of the SHVERA as soon as possible. We are confident that the SV List appended to this NPRM has a high degree of accuracy and, therefore, believe that both cable and satellite carriers may rely on its validity to commence service, consistent with the other requirements set out in the SHVERA and this proceeding, prior to the adoption of a final list. Nevertheless, in light of the length and age of the SV List, we are asking all interested parties to review the SV List to confirm its accuracy. We seek comment here only about whether the SV List accurately reflects such existing significantly viewed determinations, and not about whether the SV List should be modified because of a change in a station's circumstances subsequent to its placement on the SV List. (We are publishing the SV List in accordance with the SHVERA's mandate in new Section 340(c)(1)(A)(i), 47 U.S.C. 340(c)(1)(A)(i). The purpose of this SV List is to identify “the stations that are eligible” for significantly viewed status, meaning those stations already determined to be significantly viewed by the Commission. The House Commerce Committee intended that the Commission publish the SV List within 180 days of enactment, and provided for “interim eligibility” for stations on the list. The intent was for satellite carriers to “start carrying the signals on the list pending adoption of the rules.” Although the “interim eligibility” language did not survive, the enacted provision required even faster publication of the SV List (i.e., within 60 days). We believe this indicates Congress' interest in permitting immediate use of the SV List upon publication. As discussed below in Section III.A.3, the SHVERA provides for a mechanism for parties to subsequently seek modification of the SV List. Requests to modify the SV List based on changed circumstances must follow this process. Parties may file comments in response to this NPRM describing the nature and basis of any error, including changes in call sign or community. Such comments must include documentary evidence supporting the requested correction. If we find that a station or community has been listed in error, carriage of such signals in such communities will no longer be permitted pursuant to the significantly viewed provisions pertaining to satellite carriers. We believe, however, that carriage instituted in reliance on the SV List, and otherwise in compliance with the SHVERA and the Commission's rules, should not be treated as a “bad faith” violation, notwithstanding a subsequent conclusion that the SV List was in error.

15. With respect to the SV List, we seek specific comment on how to treat communities listed as “unincorporated areas,” as well as how to treat communities that have grown or changed over time, either through annexation or other means. We tentatively conclude that community listings or descriptions should generally be interpreted to encompass the area of natural growth of the community, such that we would apply the community description on the SV List to the community so denominated today. We recognize, however, that unincorporated areas present a somewhat more difficult problem because they may not be as clearly defined as are incorporated areas. We seek comment on how best to resolve treatment of unincorporated areas.

3. Procedures for Determining or Modifying Significantly Viewed Status

16. Section 340(c) of the Act, 47 U.S.C. 340(c), provides a procedure for modifying the SV List, either to add eligible stations or communities, or restrict use of eligible stations through application of the Commission's network nonduplication or syndicated exclusivity rules. This provision permits a satellite carrier or station to petition the Commission to include a particular station and related community on the significantly viewed list. Section 119(a)(3) of the copyright provisions in title 17, 17 U.S.C. 119(a)(3), requires that the Commission use the same rules in considering such petitions that were in effect as of April 15, 1976. Therefore, it is necessary to describe the existing rules and propose how they will be amended to implement the requirements of the SHVERA.

17. The Commission adopted the significantly viewed standard in 1972. The rules that set the standard also established the definition of “full network,” “partial network,” and “independent” station; see 47 CFR 76.5(i), (j), (k), and (l). The standard applies only to over the air viewing and only to commercial stations. As discussed below, these definitions differ from the copyright definition of “network station” and must be harmonized for our implementation of the SHVERA requirements. The Commission's rules provide that an out-of-market network affiliate should be considered to be significantly viewed if it obtains at least a three percent share of viewing hours in television homes in the community and has a net weekly circulation share of at least 25 percent. For independent stations, the test is a share of at least two percent viewing hours and a net weekly circulation of at least five percent. In 1972, the Commission used 1971 American Research Bureau (ARB) information to establish a baseline list of significantly viewed signals. This data provided audience statistics on a county basis. Although the Commission recognized some drawbacks in using this information, it concluded that county audience statistics could be used to indicate over-the-air viewing in all communities within a county. This list of significantly viewed signals is referred to as the “1972 Appendix B” list. To avoid disruption and uncertainty, the Commission stated that the stations deemed significantly viewed based on the ARB survey are not subject to deletion on the basis of some special showing or later survey.

18. In the 1972 Order, the Commission also established procedures for qualifying new signals for significantly viewed status. Under § 76.54 of the rules, 47 CFR 76.54, parties may submit surveys conducted by a disinterested professional organization that is independent from the cable systems or television stations ordering the surveys. The surveys must include the results of two weekly periods separated by at least 30 days, and one of the weeks must be outside the summer viewing period (i.e., April-September). The Commission recognized that the results of sample surveys can only be determinative within a given probability. Therefore, to assure that the survey errs on the side of excluding stations that are not actually significantly viewed, the Commission decided to require that the sample results exceed the significantly viewed standard, currently specified in § 76.5(i) of the rules, by at least one standard error. (A “standard error” is a statistical measure used to assess, at a specified probability, that the sample estimate reflects the actual result had the entire universe been surveyed. Using one standard error, we can be approximately 70 percent certain that the actual audience statistic is the reported statistic plus or minus one standard error. The calculation of the standard error takes into account the sampling procedure, the sample size and the sample result.) Initially, the Commission required separate surveys for each cable community, but the rule was revised to allow a single survey where a cable system served multiple communities. Thus, if a cable system serves more than one community, a single survey may be taken, provided that the sample includes noncable television homes from each community that are proportional to the population.

19. Section 76.54(d) of our rules, 47 CFR 76.54(d), adopted in 1975, amended the rules to permit television stations that were not on the air at the time the ARB surveys were used to create the 1972 Appendix B list to demonstrate their significantly viewed status using county-wide audience surveys in lieu of the more burdensome community-by-community method. For such stations, significantly viewed status may be demonstrated on a county-wide basis using independent professional audience surveys which cover three separate, consecutive four-week periods and are otherwise comparable to the surveys used to compile the 1972 Appendix B list. Under this rule, a demonstration that a station is significantly viewed must be based on audience survey data from the station's first three years of operation. Where surveys are conducted pursuant to § 76.54(d) of our rules, the Commission concluded that the potential for an unrepresentative sample was considerably lessened by the adoption of a longer survey period. Accordingly, the Commission decided not to require that the results be subject to the standard error requirement and the survey results must simply meet the significantly viewed standard for the station type specified in § 76.5(i) of our rules.

20. The SHVERA requires the Commission to use the rules “applicable to determining with respect to a cable system whether signals are significantly viewed in a community” as “in effect on April 15, 1976.” It is clear from the SHVERA that Congress intends for the Commission to use the same rules and process for making significantly viewed determinations for satellite carriage as we have used for such determinations in the cable carriage context. We thus tentatively conclude to apply § 76.54 of our rules to satellite carriage. Consistent with Section 340 of the Act, 47 U.S.C. 340, and Section 119(c)(3) of title 17, 47 U.S.C. 119(c)(3), we propose to amend § 76.54 of our rules, 47 CFR 76.54, to include application to satellite carriers. We do not believe that the SHVERA prevents us from making the very amendments that are needed to implement the statutory provisions. Our proposed § 76.54 does not alter the procedures as in effect on April 15, 1976, but is simply amended to make reference to satellite carriers and the new SV List. We also propose to amend § 76.54 to update the existing reference to “Grade B contour,” which applies to analog stations, to add “noise limited service contour,” the service contour relevant for a station's digital signal. We note that the Commission has previously decided that the digital signal of a television broadcast station will be accorded the same significantly viewed status as that of the analog signal, except that where the station is broadcasting only a digital signal, the station must petition for significantly viewed status using the analog requirements in § 76.54. We further propose to amend § 76.54 to eliminate an outdated reference and correct a typographical error, neither of which changes in any way the substance or the process of the rule. In light of the statutory restriction to use rules in effect on April 15, 1976, we seek comment on our proposed amendments to § 76.54. Additionally, we propose to require satellite carriers or broadcast stations seeking satellite carriage to follow the same petition process now in place for cable operators, as required by §§ 76.5, 76.7 and 76.54 of our rules. We believe, however, that it is not necessary to amend §§ 76.5 and 76.7 in order to permit the filing of such petitions for significantly viewed status by satellite carriers or broadcast stations seeking satellite carriage. A station or cable operator that wishes to have a station/community designated significantly viewed would file a petition pursuant to the pleading requirements in § 76.7(a)(1) and use the method described in § 76.54 to demonstrate that the station is significantly viewed as defined in § 76.5(i). We seek comment on our proposal and tentative conclusion.

4. Definition of “Network Station''

21. As mentioned above, our rules define network station as one of the “three major national networks.” This definition is expressly relied upon in the standard for determining whether a station is significantly viewed for placement on the SV List. The SHVERA, however, relies on the definition of “network station” that is used in the copyright provisions of title 17, which provides that a “network station” is:

“(A) a television broadcast station, including any translator station or terrestrial satellite station that rebroadcasts all or substantially all of the programming broadcast by a network station, that is owned or operated by, or affiliated with, one or more of the television networks in the United States which offer an interconnected program service on a regular basis for 15 or more hours per week to at least 25 of its affiliated television licensees in 10 or more States; or (B) a “noncommercial educational broadcast station (as defined in section 397 of the Communications Act of 1934 [47 U.S.C. 397])” (47 U.S.C. 340(i)(2); 47 U.S.C. 339(d)(3) and 17 U.S.C. 119(d)(2); 17 U.S.C. 119(d)(2); 47 U.S.C. 340(i)(2); 47 U.S.C. 339(d)(5 47 CFR 76.66(a)(5); Section 339(d)(5) of the Act; 47 U.S.C. 339(d)(5)).

22. The Commission's rules define three types of commercial stations for which significantly viewed status may be recognized: Full, partial, and independent. The SHVERA, however, relies on the copyright definitions of “network” and “superstation.”

23. Our significantly viewed rules for satellite carriers must follow SHVERA's requirement that we retain the standard we have used since April 15, 1976, which prevents us from updating these rule provisions for this purpose. Therefore, we propose to harmonize the apparent inconsistencies by continuing to use the definition of network and independent station in our rules for purposes of determining whether a station is significantly viewed for placement on the SV List, which thereby excludes noncommercial stations from eligibility for the SV List. However, as also required by the SHVERA, we will use the copyright definition of network station and superstation for purposes of subscriber eligibility and the other applications of the significantly viewed provisions. We seek comment on these tentative conclusions.

5. Limitations on Carriage of Significantly Viewed Stations Based on Network Nonduplication and Syndicated Exclusivity

24. Section 340(a)(1) of the Act, 47 U.S.C. 340(a)(1), limits satellite carriage of stations included on the SV List “to the extent such signal is prevented from being carried by a cable system in such community under the Commission's network nonduplication and syndicated exclusivity rules.” In the cable context, a commercial television station may assert “network nonduplication rights” to prevent a cable system within the geographic zone specified in the Commission's rules from carrying programming that duplicates the network programming for which the station has exclusive rights based upon its affiliate agreement with the network. Similarly, a television station or distributor may prevent a cable system within the geographic zone specified in the Commission's rules from carrying programming broadcast by any other television station if the exclusive rights to that programming are held by the station or distributor. Assertion of these rights, collectively known as the “cable exclusivity” rules, generally results in the blacking out of the programming in question. The cable system may continue to carry the station's signal, provided the duplicating programming is blacked out, or it may decide to cease carriage of the station's signal entirely. However, the rules further provide that a station whose programming is subjected to an assertion of either of the exclusivity rules is exempt if it is “significantly viewed” in the relevant cable community. The significantly viewed exception to the Commission's exclusivity rules is based on an otherwise distant station establishing that it receives a “significant” level of over-the-air viewership in a subject community. If this viewership level is met, the station is no longer considered distant for purposes of the application of the Commission's exclusivity rules because it has established that it can be received over-the-air in the subject communities. Thus, a cable system is not required to black out the duplicating programming of a significantly viewed station.

25. Notwithstanding the significantly viewed exemption to the cable exclusivity rules, the station or distributor asserting exclusivity protection may petition the Commission to waive the significantly viewed exception to permit a reassertion of exclusivity protection against a station claiming “significantly viewed” status. If the station or distributor asserting exclusivity demonstrates that the station claiming the significantly viewed exemption no longer merits significantly viewed status, the waiver is granted, and the duplicating programming must be blacked out. Thus, as described above, the Commission's SV List includes all stations deemed to be significantly viewed but indicates by a pound sign (#) those communities in which a waiver has been granted to permit assertion of the exclusivity rules.

26. The satellite context is somewhat more complicated. The exclusivity rules do not apply to satellite carriage of network stations but only to carriage of “national distributed superstations,” as provided by Section 339(b)(1)(A), 47 U.S.C. 339(b)(1)(A), which was enacted by the SHVIA in 1999. Section 340(e) of the Act, 47 U.S.C. 340(e), maintains the status quo by providing that the exclusivity rules shall not apply to distant network stations. Section 340(e)(1), however, allows the Commission to adopt rules to permit assertion of the exclusivity rules by stations and distributors with respect to stations carried by satellite carriers pursuant to the new significantly viewed provisions. This provision requires us, therefore, to (1) create a limited right for a station or distributor to assert exclusivity with respect to a station carried by a satellite carrier as significantly viewed; (2) allow that significantly viewed station to assert the significantly viewed exception, just as a station would with respect to cable carriage; and (3) allow the station or distributor asserting exclusivity to petition us for a waiver from the exception. Thus, Congress directs the Commission to ensure parity between cable operators and satellite carriers so that a station's programming that is subject to blackout deletions with respect to a cable system serving a cable community would also be subject to deletions for a satellite carrier's subscribers within the same cable community or within a satellite community.

27. We will implement these SHVERA requirements first by denoting on the SV List which stations in which communities have been subjected to deletions such that duplicating programming must be blacked out by cable operators. Satellite carriers using the SV List may carry these stations but are subject to the same programming deletions that apply to cable systems. Second, we will amend our rules so that stations and distributors may assert exclusivity rights with respect to satellite carriage of significantly viewed stations but only insofar as they can prove that the conditions supporting a waiver of the significantly viewed exception from the exclusivity rules would apply. We seek comment on this approach to effectuate Congressional provisions and intent.

6. Definition of “Satellite Community'

28. The SHVERA requires the Commission to define “community” in the satellite context. Under the SHVERA, a “community” is either (1) a county or a cable community under the Commission's rules (applicable to significantly viewed signals), or (2) a satellite community as defined by the Commission in implementing the statute; see 47 U.S.C. 340(i)(3). The concept of a “community” is important in the SHVERA because the term describes the geographic area where subscribers will be permitted to receive significantly viewed signals.

29. Because the Commission's rules have previously only applied to cable carriage of significantly viewed signals, significantly viewed determinations currently are limited to cable communities. In the cable context, the Commission defined a community unit in terms of a “distinct community or municipal entity” where a cable system operates or will operate. Due to the localized nature of cable systems, cable communities were easily defined by the geographic boundaries of a given cable system, which are often, but not always, coincident with a municipal boundary and may vary as determined on a case-by-case basis.

30. The concept of a cable community is largely inapplicable to the satellite context. Unlike cable service which reaches subscribers via local franchises across the country, satellite carriers offer service on a national basis, with no connection to a particular local community or municipality. Moreover, satellite service is offered in areas of the country that do not have cable service, and thus are not cable communities. Nevertheless, based upon the statutory language that the satellite carriers should use the existing list, we believe that, where a cable community is already defined, the statute requires a satellite carrier to use that defined “community.” We seek comment on this interpretation. We also seek comment on whether satellite carriers will be able to determine which of their subscribers are in existing communities and, if not, how best to apply existing cable communities to the satellite context.

31. In the context of adding future “communities” to the SV List, we seek to establish a definition of “satellite community” that will be appropriate for the nature of satellite service, including the opportunity to offer significantly viewed signals in a community where no cable system exists. The definition of satellite community will apply where a satellite carrier seeks to define a community not currently served by cable. We are proposing two alternative approaches and seek comment on these alternatives as well as invite comment on other possible definitions. One option would permit a carrier to seek significantly viewed status for a given station with respect to one or more specified five-digit zip code areas. (We propose to use the five-digit zip codes, as determined by the U.S. Postal Service.) For example, a satellite carrier or station could petition the Commission for a significantly viewed designation pursuant to § 76.54 by listing one or more zip codes and demonstrating that the signal is significantly viewed in these zip codes collectively. If zip codes are aggregated to define a single community, we propose to require satellite carriers to demonstrate significantly viewed status by taking a survey that includes a sample of noncable television homes from each zip code included in the “community” which is proportional to the population. This proportional sampling is consistent with the existing cable rules that require the use of proportional surveys where more than one community is involved. We believe that zip code based communities can be appropriate for this purpose because they capture all areas of the country, including areas now unserved by cable, and provide a practical and efficient approach for satellite carriers to utilize the significantly viewed carriage option offered in the SHVERA. We note that the Commission has previously used zip codes in the satellite context; e.g., to define the various zones of protection afforded under the satellite exclusivity rules. We further propose that a satellite community defined by one or more such zip codes is subject to any subsequent changes made to the listed zip codes by the U.S. Postal Service. Ideally, we would forecast for an area without cable what the franchise area would be were a cable operator to establish cable service. However, in areas currently unserved by cable, this forecasting may not be feasible. In this regard, if a cable operator subsequently offers cable service in a community after it has been defined as a “satellite community,” we seek comment on whether we should continue to use the zip code-defined satellite community or, instead, redefine the community to the extent it overlaps with the franchise area of the new cable community.

32. We recognize that the first proposal, use of one or more zip codes to define a satellite community, may ignore an existing town, village, municipality or other geopolitical entity that constitutes a “community” in the more traditional sense. Using one or more zip codes could create an artificial “community” with no minimum or maximum size, except as bounded by a postal zip code map. The alternative proposal would define a satellite “community” as a separate and distinct community or municipal entity (including unincorporated communities within unincorporated areas and including single, discrete unincorporated areas). The boundaries of the incorporated areas would be the existing geopolitical boundaries, while the unincorporated community would be defined by one or more five-digit zip code areas. We think that this approach may make it more likely that a cable system subsequently built in such an area would serve a “community” similar to the satellite community, thus making the SV List more easily used by both cable and satellite providers. We seek comment on both alternatives and invite additional variations on these or other proposals.

7. Significantly Viewed Carriage Not Mandatory; Retransmission Consent Rights Not Affected

33. The SHVERA does not require satellite carriers to carry significantly viewed stations. The SHVERA also does not change the retransmission consent requirements. Cable operators must obtain retransmission consent to carry significantly viewed signals, and the SHVERA requires the same of satellite carriers. The SHVERA provides, however, that retransmission consent is not necessary if the satellite carrier is exempt from having to obtain retransmission consent for other reasons. For example, a satellite carrier is exempt under Section 325(b) of the Act, 47 U.S.C. 325(b), from having to obtain retransmission consent when providing a distant signal of a network to an unserved subscriber who cannot receive an over-the-air signal from an affiliate of the same network. Thus, under the SHVERA, the satellite carrier would still be exempt from having to negotiate retransmission consent when providing a significantly viewed signal if it was providing it as a distant signal to an unserved household.

34. We note that the SHVERA requires that local stations must be carried on a single dish; see 47 U.S.C. 338(g)(1). Does this requirement with respect to local stations apply to out-of-market significantly viewed signals? If so, does the statute necessarily require that out of market significantly viewed signals be carried such that the subscriber would receive them on the same antenna and equipment as the local signals? We seek comment on these questions.

8. Definition of “Satellite Carrier”

35. The SHVERA defines the term “satellite carrier” in new Section 338(k) of the Act by reference to the definition in the copyright title 17. This definition includes entities providing services as described in 17 U.S.C. 119(d)(6) using the facilities of a satellite or satellite service licensed under part 25 of the Commission's rules to operate in Direct Broadcast Satellite (DBS) or Fixed-Satellite Service (FSS) frequencies. As a general practice, not mandated by any regulation, DBS licensees usually own and operate their own satellite facilities as well as package the programming they offer to their subscribers. In contrast, satellite carriers using FSS facilities often lease capacity from another entity that is licensed to operate the satellite used to provide service to subscribers. These entities package their own programming and may or may not be Commission licensees themselves. In addition, a third situation may include an entity using a non-U.S. licensed satellite to provide programming to subscribers in the United States pursuant to a blanket earth station license. We believe that the definition of “satellite carrier” would include all three types of entities described above but we nevertheless seek comment on this issue.

B. Subscriber Eligibility To Receive “Significantly Viewed” Signals

36. In addition to the statutory requirements concerning station eligibility, the SHVERA also limits the subscribers who are eligible to receive the signals of significantly viewed stations. In general, subscribers are not eligible to receive out-of-market significantly viewed signals of a network station unless they are already receiving the local signal of an affiliate of the same network via satellite. Application of this general principle differs, however, depending on whether the significantly viewed signal is analog or digital, with additional restrictions imposed on digital signals. The subscriber eligibility limitations also provide for an exception where there is no local network station present in the relevant market or when a local network station waives the subscriber eligibility requirements. But first, we will consider the definition of “subscriber.”

1. Definition of “Subscriber”

37. The SHVERA defines the term “subscriber” in new Section 338(k) by reference to the definition in 17 U.S.C. 122(j)(4), which provides that a subscriber is “a person who receives a secondary transmission service from a satellite carrier and pays a fee for the service, directly or indirectly, to the satellite carrier or to a distributor. Notably, the definition used by SHVERA differs slightly from the definition of subscriber currently contained in 17 U.S.C. 119, which establishes the significantly viewed compulsory copyright license for satellite carriers. The definition in 17 U.S.C. 119 limits “subscribers” to individuals in private homes. We believe use of the broader definition in 17 U.S.C. 122(j)(4) was intentional because Congress sought to treat satellite subscribers to significantly viewed stations in the same manner as satellite subscribers to local-into-local service. The 17 U.S.C. 119 definition applies to “distant” signals, to which significantly viewed signals represent an exception. We believe the statute is clear on this point but seek comment on this tentative conclusion. Subscriber in the more general sense, including a cable subscriber, is defined in our rules and amended here to include subscribers to satellite service.

2. Analog Service Limitations; Receipt of Local Analog Service Required

38. The SHVERA requires that a subscriber “receive retransmissions of a signal that originates as an analog signal of a local network station from that satellite carrier pursuant to section 338” to be eligible to receive an out-of-market network station's significantly viewed analog signal. We believe this means that subscribers receiving “local-into-local” service from their satellite carrier are eligible to also receive significantly viewed signals, and that the fundamental intention is to assure that a subscriber is receiving the local affiliate of the same network as the significantly viewed station. We base this interpretation of Section 340 of the Act, 47 U.S.C. 340, on the limitation of this eligibility requirement only to significantly viewed “network” stations, as well as language in the House Commerce Committee Report. However, the statutory copyright license in Section 119(a)(3) of title 17 provides that the limitation applies to both superstations and network stations. Thus, it appears that a satellite carrier must be offering local-into-local service and a subscriber must be receiving this service as a pre-condition to offering an out-of-market significantly viewed station's signal to that subscriber (subject to the exception described below). We seek comment on our tentative conclusion.

39. Because the statute specifically applies to the receipt of local service “pursuant to Section 338,” we believe that subscribers would not qualify for satellite retransmission of out-of-market significantly viewed signals if they are obtaining local stations via an over-the-air TV antenna, including one that is integrated with a satellite dish. It is not clear what the result would be if a subscriber is receiving local-into-local service but the local affiliate of the network with which the significantly viewed station is affiliated is not carried by the satellite carrier. Such situation could arise if the local station failed to request carriage, refused to grant retransmission consent, or otherwise did not qualify for carriage pursuant to Section 338. We tentatively conclude that a subscriber receiving local-into-local service in a market is eligible for out-of-market significantly viewed stations even if the local stations retransmitted by the satellite carrier exclude an affiliate of the network with which a significantly viewed station is affiliated. We do not think that a subscriber should be deprived of access to a significantly viewed station because the local station refused to grant retransmission consent or is otherwise ineligible for local carriage, but we seek comment on this tentative conclusion.

40. Although Section 340 of the Act, 47 U.S.C. 340, does not specifically restrict application of this subscriber eligibility requirement to markets in which satellite carriers are offering “local-into-local” service to subscribers, Section 119(a)(3)(B) of title 17 limits application of the statutory copyright license to the retransmission of significantly viewed stations to subscribers who receive local service pursuant to Section 122 of title 17. Therefore, we believe that the SHVERA, as a whole, contemplates that subscribers in a market in which “local-into-local” service is not being offered are not eligible for significantly viewed stations retransmitted by such carriers, except in the situations described in Section III.B.4., infra, in which there is no affiliate of a given network in the market. We seek comment on our tentative conclusions.

3. Digital Service Limitations; Receipt of Local Digital Service Required; Definitions of “Equivalent Bandwidth” and “Entire Bandwidth'

41. Similarly, to be eligible to receive an out-of-market network station's significantly viewed digital signal, a satellite subscriber must be receiving a digital signal from a local affiliate of the station's same network via satellite. We note that most of the issues raised in our previous section about analog subscriber eligibility are also relevant to our discussion here regarding the general digital subscriber eligibility requirement. So as not to duplicate discussion of these issues, we seek comment on these issues as they relate to digital subscriber eligibility. Moreover, we tentatively conclude that these issues should be treated similarly with respect to the digital subscriber eligibility requirement. We seek comment on these issues and tentative conclusions.

42. In addition, the SHVERA specifies certain “bandwidth” requirements for the retransmission of the local network station's digital signal when a satellite carrier opts to retransmit the significantly viewed digital signal of an applicable affiliate station. Specifically, a satellite carrier's retransmission of a local network station's digital signal must either (1) occupy “at least the equivalent bandwidth as the digital signal retransmitted” or (2) comprise “the entire bandwidth of the digital signal broadcast by such local network station.”

43. The SHVERA directs the Commission to define the terms “equivalent bandwidth” and “entire bandwidth.” In formulating definitions for these terms, the Commission is required to ensure that a satellite carrier is not: (1) Prevented from using compression technology; (2) required to use the exact bandwidth or bit rate as the local or distant broadcaster whose signal it is retransmitting; or (3) required to use the exact bandwidth or bit rate for a local broadcaster as it does for a distant broadcaster.

44. The concepts of “equivalent bandwidth” and “entire bandwidth” were created by Congress to prevent satellite carriage of a local network station's digital signal “in a less robust format” than the significantly viewed digital signal of an out-of-market network affiliate, such as by down-converting the local network station's digital signal from high-definition (HD) digital format to standard definition (SD) digital format while retaining the HD digital format for the affiliate's significantly viewed signal. The SHVERA, however, recognizes that not all local network stations will be broadcasting in HD or multicast format. Therefore, the SHVERA permits satellite carriage of an out-of-market network affiliate's significantly viewed digital signal in HD or multicast format while only carrying the local network station's signal in a single SD format when the local network station is only broadcasting in that single SD format. For example, if the local network station is broadcasting in multicast format, and the significantly viewed network affiliate is broadcasting in HD format, the satellite carrier may carry the HD signal of the significantly viewed network affiliate under the “equivalent bandwidth” requirement, provided that it carries the local network station's multicast signals. (The House Commerce Committee Report states that Section 340(b)(2)(B)(i)'s reference to “equivalent bandwidth” seeks “to ensure that the local affiliate's choice to multicast does not prevent the satellite carrier from retransmitting a significantly viewed signal of a distant affiliate of the network that chooses to broadcast in high-definition.”) Another example is if the local network station is broadcasting in a single SD format, while the significantly viewed network affiliate is broadcasting in HD or multicast format. The “entire bandwidth” provision does not prevent carriage of the significantly viewed network affiliate in HD format. A satellite carrier may carry the HD or multicast signal of the significantly viewed network affiliate under the “entire bandwidth” requirement, provided that the satellite carrier carries the local network station's original SD format. (According to the House Commerce Committee Report, Section 340(b)(2)(B)(ii)'s reference to “entire bandwidth” was intended “to ensure that a satellite carrier could still retransmit a significantly viewed distant digital signal of a network affiliate in a more robust format than a digital signal of a local broadcaster of the same network so long as the satellite carrier is carrying the digital signal of the local affiliate in its original format.”) We seek comment on these tentative conclusions.

45. We seek comment generally on the concepts of “equivalent bandwidth” and “entire bandwidth.” While we believe the final order adopted pursuant to this NPRM will define these concepts as required by the statute, we do not believe it is necessary at this time to include definitions of these terms in our rules because they will, to some extent, depend upon specific circumstances in each case. The rules we propose provide that satellite carriers must abide by the “equivalent bandwidth” and “entire bandwidth” requirements. We believe that the choice of format by a satellite carrier in delivering the signal of the significantly viewed network affiliate will determine the format required for the signal of the local network station in order to be permitted to retransmit the significantly viewed signal in the relevant local community. We believe this may afford satellite carriers some flexibility with respect to the broadcast of multicast streams. For example, if a satellite carrier chooses to retransmit only a portion of the multicast signal of the significantly viewed network affiliate, it need only retransmit the local network station using the same amount of bandwidth. We seek comment on these issues and tentative conclusions.

46. We also seek comment on whether satellite carriers must use the same compression techniques for both the local network station and the significantly viewed network affiliate. We note that doing so may result in differences in real bandwidth and bit rate, depending on the programming content carried by the signal. For example, a significantly viewed network affiliate broadcasting a sporting event would use more bandwidth than a local network station broadcasting an interview (i.e., talking head). In this example, should we apply the same compression standard to both stations, thereby precluding the significantly viewed sporting event? Instead, should only comparable content that uses a comparable bit rate be afforded equivalent bandwidth? Should we require only that the same amount of bandwidth be made available to the local network station, allowing the local station to choose the amount of bandwidth it needs? We seek comment on these issues. (The SHVERA provides that the “equivalent bandwidth” definition developed pursuant to new Section 340(h)(4), 47 U.S.C. 340(h)(4), will also apply to the provisions concerning “distant digital signals” of network stations in new Section 339(a)(2)(D)(iii)(II) of the Act, 47 U.S.C. 339(a)(2)(D)(iii)(II), as amended by Section 204 of the SHVERA.)

47. We note that the SHVERA expressly provides that the significantly viewed provisions pertaining to equivalent or entire bandwidth do not mandate carriage in the context of Section 338's “carry-one, carry-all” provisions. To avoid any ambiguity in this regard, the SHVERA requires that the Commission's definitions of equivalent and entire bandwidth do not affect (1) the definitions of “program related” and “primary video,” or (2) a satellite carrier's carry-one, carry-all obligations. As discussed above, there is no requirement for a satellite carrier to carry the signal of a significantly viewed station. Thus, the provisions concerning the carriage of the bandwidth of a local station's signal only come into play if and when a satellite carrier opts to carry a significantly viewed signal. Indeed, Section 340(d)(1) of the Act, 47 U.S.C. 340(d)(1), does not require carriage of a local network digital station at all, or in any particular format.

4. Exception to Subscriber Eligibility Limitations; Rule Not Applicable Where No Local Network Affiliates

48. The subscriber eligibility requirements in Section 340(b)(1) and (2) do not apply to the receipt of the signal of a significantly viewed network station for which there is no local network affiliate broadcasting in the relevant local market. This is meant as an exception to the requirement that subscribers must receive local service via satellite to be eligible to obtain significantly viewed stations. This exception permits a satellite carrier to carry a significantly viewed network affiliate where there is no local network station in a market. Should we require that local-into-local service be offered to subscribers in a market as a pre-condition to offering the signal of a significantly viewed station affiliated with a network that has no affiliate in the market in question? We seek comment on this question. We note that the statutory copyright license for significantly viewed carriage does not include language comparable to the exception in Section 340(b)(3). We seek comment on the effect of this difference between the copyright and Communications Act provisions on subscriber eligibility for significantly viewed signals.

49. We also consider the situation where a local network station is present in the market but is not broadcasting in digital format. In this case, subscribers would not have the opportunity to receive local digital service from the local network station. The station, however, may have a legitimate reason for not broadcasting in digital format. Because the station is present in the market, we believe the statute would prohibit subscribers from receiving significantly viewed stations in this situation. The legislative history suggests an intention to treat differently stations whose reason for failing to broadcast in digital is not excused by the Commission. (Notably, the House Commerce Committee Report: states: “Section 340(b)(3) does not allow provision of an out-of-market significantly viewed digital signal of a network broadcast station if a local affiliate from the same network is present in the market but not yet broadcasting a digital signal. Section 340(b)(3) operates in this fashion to ensure that a satellite carrier may not retransmit the out-of-market significantly viewed digital signal of a network broadcast station if an affiliate of that network is present in the local market but has never begun to offer a digital signal for a reason excused by the FCC.”) We seek comment on these issues.

5. Privately Negotiated Waivers

50. Section 340(b)(4) permits a satellite carrier to privately negotiate with the local network station to obtain a waiver of the subscriber eligibility restrictions in Section 340(b). If such negotiations are successful, a satellite subscriber who is not receiving the local network affiliate via satellite may nevertheless receive the signal of a significantly viewed station affiliated with that network. It would seem from the statute that such a waiver could be as broad or as narrow as desired by the local network affiliate. According to the House Commerce Committee Report, pursuant to Section 340(b)(4), a local network affiliate would be able to waive the application of Sections 340(b)(1) or 340(b)(2) of the Act to one or more consumers in the local market, and with respect to one or more specific distant affiliates of the same network. It may do so as part of a negotiated agreement and for any reason, including common ownership among the stations.

51. In addition, the statutory copyright provisions, as amended by the SHVERA, describe the waiver process in greater detail. Subscribers may seek a waiver from the relevant local station through their satellite carrier. The statutory copyright license waiver is considered granted unless the local broadcaster acts within 30 days of receipt to reject the request. The statutory copyright license waiver provision sunsets on December 31, 2008, on which date no further waivers will be granted and those then in effect will terminate. We seek comment on the effect, if any, of this statutory copyright license waiver provision, in particular the sunset provision, on waivers granted pursuant to Section 340(b)(4).

52. We do not believe that Congress intended for the Commission to grant these waivers or preside over the waiver process of either provision. According to the House Commerce Committee Report, whether to grant a waiver is a decision to be made solely based on the broadcaster's own business judgment, and there is no requirement for stations to execute any particular document as part of the waiver process. Because such waivers are voluntary and expressly outside the Commission's purview, we tentatively conclude that there is no need for rules or procedures concerning waiver arrangements between stations and satellite carriers. We note, however, that the presence or absence of waivers could be relevant in an enforcement proceeding concerning significantly viewed carriage. In addition, based on the House Commerce Committee Report, we tentatively conclude that such waivers or agreements are not subject to the Section 325 good-faith negotiation requirement.

C. Certain Stations Deemed Significantly Viewed in an Eligible County

53. New Section 341(a) of the Act, 47 U.S.C. 341(a), as established by Section 211 of the SHVERA, authorizes the retransmission of certain stations deemed to be significantly viewed, in accordance with § 76.54 of our rules, “to subscribers in an eligible county.” This provision limits an “eligible county” to very narrow circumstances, which we believe to be limited to the State of Oregon, based upon the specific reference to “41,340 television households according to the U.S. Television Household Estimates by Nielsen Media Research for 2003-2004.” This provision specifies that these stations be “deemed significantly viewed” and thereby requires us to add stations in these eligible counties to the SV list. Because we do not know at this time which stations and counties might qualify, we are not including them now in the SV List in Appendix B, but we seek comment to identify and confirm the stations and counties that would meet this definition.

54. New Section 341(b) of the Act, 47 U.S.C. 341(b), prevents a satellite carrier from carrying “the signal of a television station into an adjacent local market that is comprised of only a portion of a county, other than to unserved households located in that county.” We believe this provision precludes the retransmission of a significantly viewed signal to a subscriber in an adjacent market if the adjacent market consists of only a part of one county. We believe that this provision applies only to the DMAs of Palm Springs and Bakersfield, because they are the only DMAs that appear to satisfy the definition. We seek comment on this interpretation of the scope and meaning of this provision.

D. Enforcement and Notice Provisions

1. Enforcement of Section 340

55. Section 340(f) of the Act, 47 U.S.C. 340(f), as added by Section 202 of the SHVERA, creates an enforcement mechanism for the new provisions regarding satellite delivery of significantly viewed signals. Section 340(f)(1) contemplates that the Commission will respond to a complaint by issuing a “cease and desist order” and may provide for damages if requested and proven by the station filing the complaint. The SHVERA provides for monetary penalties up to $50 per subscriber, per station, per day if the station establishes that the satellite carrier committed the violation in bad faith, and provides that the Commission may impose similar damages on the complaining station if the Commission determines that the complaint was frivolous. The statute does not define “bad faith” or “frivolous,” but there is some guidance in a floor statement by Subcommittee Chairman Upton. He explains that a satellite carrier that lacks a good faith belief that the carriage of the challenged signal was lawful or a broadcaster who seeks damages in bad faith would warrant a Commission finding of damages. He further notes that if the broadcaster filing the complaint does not seek damages, then a finding of damages against either party by the Commission would not be appropriate.

56. We are inclined to address allegations of bad faith or frivolousness on a case-by-case basis, but we seek comment on identifying particular circumstances that would generally warrant such a finding. For example, if the only violation of Section 340 of the Act, 47 U.S.C. 340, were the failure to notify all broadcast stations in a market 60 days prior to commencing carriage of the significantly viewed stations, would such conduct constitute bad faith by the satellite carrier? Would seeking damages for failure to notify one station constitute a frivolous complaint by a broadcaster? In addition, as noted above with respect to the SV List appended to this NPRM, we do not believe it would constitute bad faith for a satellite carrier to carry a station listed as significantly viewed in a community on the SV List while this proceeding is pending, even if the listing is later shown to be incorrect, provided the carrier follows the other statutory and regulatory requirements.

57. Section 340(f)(2), 47 U.S.C. 340(f)(2), requires the Commission to issue final determinations within 180 days of the filing of a complaint concerning Section 340. The statute permits but does not require the Commission to hold hearings to resolve genuine disputes over material facts. In light of the short time frame for resolving these complaints, the statutory specification of a “cease and desist” order as a remedy, and the express grant of discretion to the Commission to issue a final ruling based on written pleadings, we tentatively conclude that we will use our existing procedures for Petitions for Special Relief as the procedural framework for complaints concerning significantly viewed status. Because Section 340(f) expressly provides for issuance of a cease and desist order to remedy violations of the significantly viewed provisions but does not require a hearing, we conclude that we are not required to follow the provisions in Section 312(c) of the Act, 47 U.S.C. 312(c). The procedures for Petitions for Special Relief, which the Commission uses to process cable and satellite carriage complaints, as well as complaints concerning the exclusivity rules and other cable and satellite regulations, will afford the parties ample opportunity to raise and respond to allegations while ensuring that the Commission can complete action within the 180 day statutory deadline. We propose to require that parties follow the pleading requirements in § 76.7(a)(1) and (b)(1), 47 CFR 76.7(a)(1), (b)(1), for petitions, which will permit us to issue a ruling on complaints. We seek comment on this tentative conclusion.

58. Section 340(f)(3) and (4) provide that remedial action at the Commission pursuant to Section 340 of the Act, 47 U.S.C. 340, are in addition to and have no effect upon actions taken pursuant to title 17, the copyright provisions. The meaning of these provisions is clear that neither action nor inaction by the Commission will have any effect on the filing of a copyright infringement or other action under title 17, nor on the remedies ordered by the appropriate forum thereunder.

2. Notice Concerning Retransmission of Significantly Viewed Stations

59. Section 340(g) of the Act, 47 U.S.C. 340(g), requires satellite carriers to provide written notice to any television broadcast station in the relevant local market at least 60 days before retransmitting a significantly viewed signal into that local market pursuant to Section 340. The provision also requires satellite carriers to list on their websites all significantly viewed signals carried pursuant to Section 340.

60. Although the statute does not specify the manner of notice required in these circumstances, we tentatively conclude that these written notices must be sent to the station's principal place of business, as listed in the Commission's database, by certified mail, return receipt requested. We believe reliance on the information in the Commission's database is consistent with other provisions of the SHVERA. We believe that requiring that the notices be sent via certified mail, return receipt requested is consistent with our rules. We also propose to require satellite carriers to publish a list on their websites that will identify all of the significantly viewed signals they are carrying, by market and community. We seek comment on our proposed rules.

61. The SHVERA states that notice must be afforded to “any television broadcast station in such local market of such proposal.” Given the breadth of this language, we tentatively conclude that this provision requires notice to stations in the relevant local market even if they are not affiliated with the same network of the significantly viewed station whose signal is being carried, regardless of whether they are carried by the satellite carrier as local stations pursuant to Section 338. We recognize that stations seemingly unaffected by the significantly viewed status of unaffiliated stations would nonetheless be entitled to receive such notice under our rules. We seek comment on our tentative conclusion.

IV. Procedural Matters

A. Initial Paperwork Reduction Act of 1995 Analysis

62. This NPRM has been analyzed with respect to the Paperwork Reduction Act of 1995 (“PRA”), and contains proposed information collection requirements. The Commission, as part of its continuing effort to reduce paperwork burdens, invites the general public and the Office of Management and Budget (OMB) to comment on the proposed information collection requirements contained in this NPRM, as required by the PRA.

63. Written comments on the PRA proposed information collection requirements must be submitted by the public, the Office of Management and Budget (OMB), and other interested parties on or before May 9, 2005. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, (“SBPRA”), Pub. L. No. 107-198, 116 Stat 729 (2002), see 44 U.S.C. 3506(c)(4), we seek specific comment on how we might “further reduce the information collection burden for small business concerns with fewer than 25 employees.”

64. In addition to filing comments with the Office of the Secretary, a copy of any comments on the proposed information collection requirements contained herein should be submitted to Cathy Williams, Federal Communications Commission, 445 12th St, SW., Room 1-C823, Washington, DC 20554, or via the Internet to Cathy.Williams@fcc.gov; and also to Kristy L. LaLonde, OMB Desk Officer, Room 10234 NEOB, 725 17th Street, NW., Washington, DC 20503, or via Internet to Kristy_L._LaLonde@omb.eop.gov, or via fax at 202-395-5167.

65. Further Information. For additional information concerning the PRA proposed information collection requirements contained in this NPRM, contact Cathy Williams at 202-418-2918, or via the Internet to Cathy.Williams@fcc.gov.

B. Ex Parte Rules

66. Permit-But-Disclose. This proceeding will be treated as a “permit-but-disclose” proceeding subject to the “permit-but-disclose” requirements under section 1.1206(b) of the Commission's rules. Ex parte presentations are permissible if disclosed in accordance with Commission rules, except during the Sunshine Agenda period when presentations, ex parte or otherwise, are generally prohibited. Persons making oral ex parte presentations are reminded that a memorandum summarizing a presentation must contain a summary of the substance of the presentation and not merely a listing of the subjects discussed. More than a one-or two-sentence description of the views and arguments presented is generally required. Additional rules pertaining to oral and written presentations are set forth in section 1.1206(b).

C. Filing Requirements

67. Comments and Replies. Pursuant to §§ 1.415 and 1.419 of the Commission's rules, 47 CFR 1.415, 1.419, interested parties may file comments and reply comments on or before the dates indicated on the first page of this document. Comments may be filed using: (1) The Commission's Electronic Comment Filing System (“ECFS”), (2) the Federal Government's eRulemaking Portal, or (3) by filing paper copies; see Electronic Filing of Documents in Rulemaking Proceedings, 63 FR 24121 (1998).

68. Electronic Filers: Comments may be filed electronically using the Internet by accessing the ECFS: http://www.fcc.gov/cgb/ecfs/ or the Federal eRulemaking Portal: http://www.regulations.gov. Filers should follow the instructions provided on the website for submitting comments. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

69. Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington DC 20554.

70. Availability of Documents. Comments, reply comments, and ex parte submissions will be available for public inspection during regular business hours in the FCC Reference Center, Federal Communications Commission, 445 12th Street, SW., CY-A257, Washington, DC 20554. These documents will also be available via ECFS. Documents will be available electronically in ASCII, Word 97, and/or Adobe Acrobat.

71. Accessibility Information. To request information in accessible formats (computer diskettes, large print, audio recording, and Braille), send an e-mail to fcc504@fcc.gov or call the FCC's Consumer and Governmental Affairs Bureau at (202) 418-0530 (voice), (202) 418-0432 (TTY). This document can also be downloaded in Word and Portable Document Format (PDF) at: http://www.fcc.gov.

72. Additional Information. For additional information on this proceeding, contact Evan Baranoff, Evan.Baranoff@fcc.gov, or Eloise Gore, Eloise.Gore@fcc.gov, of the Media Bureau, Policy Division, (202) 418-2120.

V. Initial Regulatory Flexibility Act Analysis

73. As required by the Regulatory Flexibility Act of 1980, as amended (“RFA”) the Commission has prepared this present Initial Regulatory Flexibility Analysis (“IRFA”) concerning the possible significant economic impact on small entities by the policies and rules proposed in this Notice of Proposed Rulemaking (“NPRM”); see 5 U.S.C. 603. (The RFA, see 5 U.S.C. 601 et seq., has been amended by the Small Business Regulatory Enforcement Fairness Act of 1996 (“SBREFA”), Pub. L. No. 104-121, Title II, 110 Stat. 847 (1996). The SBREFA was enacted as Title II of the Contract With America Advancement Act of 1996 (“CWAAA”).) Written public comments are requested on this IRFA. Comments must be identified as responses to the IRFA and must be filed by the deadlines for comments provided in Section IV.D. of the NPRM. The Commission will send a copy of the NPRM, including this IRFA, to the Chief Counsel for Advocacy of the Small Business Administration (SBA); see 5 U.S.C. 603(a). In addition, the NPRM and IRFA (or summaries thereof) will be published in the Federal Register.

A. Need for, and Objectives of, the Proposed Rule Changes

74. Section 202 of the Satellite Home Viewer Extension and Reauthorization Act of 2004 (“SHVERA”) creates Section 340 of the Communications Act of 1934, as amended, and amends the copyright laws to provide satellite carriers with the authority to offer Commission-determined “significantly-viewed” signals of out-of-market broadcast stations to subscribers. Section 340 of the Act, 47 U.S.C. 340, directs the Commission, within 60 days of enactment of the SHVERA, to (1) publish and maintain a list of the stations and the communities containing such stations that are eligible for “significantly viewed” status, and (2) commence a rulemaking proceeding to implement new Section 340. This NPRM achieves these statutory objectives by opening the present proceeding and publishing a list of significantly viewed stations, and proposes rule changes to part 76 of the Commission's rules to implement Section 340's statutory authorization for satellite carriage of significantly viewed signals.

B. Legal Basis

75. The proposed action is authorized under Sections 1, 4(i) and (j), and 340 of the Communications Act of 1934, as amended, 47 U.S.C. 151, 154(i) and (j), and 340.

C. Description and Estimate of the Number of Small Entities to Which the Proposed Rules Will Apply

1. Entities Directly Affected By Proposed Rules

76. The RFA directs the Commission to provide a description of and, where feasible, an estimate of the number of small entities that will be affected by the proposed rules, if adopted; see 5 U.S.C. 603(b)(3). The RFA generally defines the term “small entity” as having the same meaning as the terms “small business,” small organization,” and “small government jurisdiction;” see 5 U.S.C. 601(6). In addition, the term “small business” has the same meaning as the term “small business concern” under the Small Business Act; see 5 U.S.C. 601(3). A small business concern is one which: (1) Is independently owned and operated; (2) is not dominant in its field of operation; and (3) satisfies any additional criteria established by the SBA; see 15 U.S.C. 632. (Application of the statutory criteria of dominance in its field of operation and independence are sometimes difficult to apply in the context of broadcast television. Accordingly, the Commission's statistical account of television stations may be over-inclusive.)

77. The proposed rules contained in this NPRM, as required by statute, are intended to permit the distribution of Commission-determined “significantly viewed” signals by statutorily defined “satellite carriers” to consumers. Therefore, “satellite carriers,” which includes Direct Broadcast Satellite (DBS), will be directly and primarily affected by the proposed rules, if adopted. In addition, we believe the proposed rules, if adopted, will also directly affect television stations, which may be carried via satellite under the SHVERA if determined to be significantly viewed, and cable operators, which would share some of the new and revised rules with satellite carriers. We also believe that private cable operators (PCOs), also known as satellite master antenna television (SMATV) systems, may be directly affected because PCOs often use DBS video programming as part of their service package to subscribers. Therefore, in this IRFA, we consider, and invite comment on, the impact of the proposed rules on small television broadcast stations, small cable and satellite operators and other small entities. A description of such small entities, as well as an estimate of the number of such small entities, is provided below.

78. Satellite Carriers. The SHVERA defines the term “satellite carrier” by reference to the definition in the copyright title 17; see 17 U.S.C. 119(d)(6). This definition includes entities providing services as described in 17 U.S.C. 119(d)(6) using the facilities of a satellite or satellite service licensed under Part 25 of the Commission's rules to operate in Direct Broadcast Satellite (DBS) or Fixed-Satellite Service (FSS) frequencies. (Part 100 of the Commission's rules was eliminated in 2002 and now both FSS and DBS satellite facilities are licensed pursuant to part 25 of the rules.) As a general practice, not mandated by any regulation, DBS licensees usually own and operate their own satellite facilities as well as package the programming they offer to their subscribers. In contrast, satellite carriers using FSS facilities often lease capacity from another entity that is licensed to operate the satellite used to provide service to subscribers. These entities package their own programming and may or may not be Commission licensees themselves. In addition, a third situation may include an entity using a non-U.S. licensed satellite to provide programming to subscribers in the United States pursuant to a blanket earth station license. In the NPRM, we tentatively conclude that the definition of “satellite carrier” would include all three types of entities described above, but nonetheless request comment on this issue. Because the definition of “satellite carrier” will affect the type and number of entities impacted by the proposed rules, we again seek comment here, in the context of this IRFA.

79. Direct Broadcast Satellite (“DBS”) Service. DBS service is a nationally distributed subscription service that delivers video and audio programming via satellite to a small parabolic “dish” antenna at the subscriber's location. Because DBS provides subscription services, DBS falls within the SBA-recognized definition of Cable and Other Program Distribution; see 13 CFR 121.201, NAICS code 517510. This definition provides that a small entity is one with $12.5 million or less in annual receipts. Currently, only four operators hold licenses to provide DBS service, which requires a great investment of capital for operation. All four currently offer subscription services. Two of these four DBS operators, DirecTV and EchoStar Communications Corporation (“EchoStar”), report annual revenues that are in excess of the threshold for a small business. (DirecTV is the largest DBS operator and the second largest MVPD, serving an estimated 13.04 million subscribers nationwide; EchoStar, which provides service under the brand name Dish Network, is the second largest DBS operator and the fourth largest MVPD, serving an estimated 10.12 million subscribers nationwide; see Annual Assessment of the Status of Competition in the Market for the Delivery of Video Programming, Eleventh Annual Report, FCC 05-13 (rel. Feb. 4, 2005) (“2005 Cable Competition Report”).) A third operator, Rainbow DBS, is a subsidiary of Cablevision's Rainbow Network, which also reports annual revenues in excess of $12.5 million, and thus does not qualify as a small business. (DBS, which provides service under the brand name VOOM, reported an estimated 25,000 subscribers.) The fourth DBS operator, Dominion Video Satellite, Inc. (“Dominion”), offers religious (Christian) programming and does not report its annual receipts. (Dominion, which provides service under the brand name Sky Angel, does not publicly disclose its subscribership numbers on an annualized basis.) The Commission does not know of any source which provides this information and, thus, we have no way of confirming whether Dominion qualifies as a small business. Because DBS service requires significant capital, we believe it is unlikely that a small entity as defined by the SBA would have the financial wherewithal to become a DBS licensee. Nevertheless, given the absence of specific data on this point, we acknowledge the possibility that there are entrants in this field that may not yet have generated $12.5 million in annual receipts, and therefore may be categorized as a small business, if independently owned and operated.

80. Fixed-Satellite Service (“FSS”). The FSS is a radiocommunication service between earth stations at a specified fixed point or between any fixed point within specified areas and one or more satellites; see 47 CFR 2.1(c). The FSS, which utilizes many earth stations that communicate with one or more space stations, may be used to provide subscription video service. Therefore, to the extent FSS frequencies are used to provide subscription services, FSS falls within the SBA-recognized definition of Cable and Other Program Distribution, which includes all such companies generating $12.5 million or less in revenue annually; see 13 CFR 121.201, NAICS code 517510. Although a number of entities are licensed in the FSS, not all such licensees use FSS frequencies to provide subscription services. Two of the DBS licensees (EchoStar and DirecTV) have indicated interest in using FSS frequencies to broadcast signals to subscribers. It is possible that other entities could similarly use FSS frequencies, although we are not aware of any entities that might do so.

81. Cable and Other Program Distribution. Cable system operators fall within the SBA-recognized definition of Cable and Other Program Distribution, which includes all such companies generating $12.5 million or less in revenue annually; see 13 CFR 121.201, NAICS code 517510. According to the Census Bureau data for 1997, there were a total of 1,311 firms that operated for the entire year in the category of Cable and Other Program Distribution. Of this total, 1,180 firms had annual receipts of under $10 million and an additional 52 firms had receipts of $10 million or more, but less than $25 million. (U.S. Census Bureau, 1997. Economics and Statistics Administration, Bureau of Census, U.S. Department of Commerce, 1997 Economic Census, Subject Series—Establishment and Firm Size, Information Sector 51, Table 4 at 50 (2000). The amount of $10 million was used to estimate the number of small business firms because the relevant Census categories stopped at $9,999,999 and began at $10,000,000. No category for $12.5 million existed. Thus, the number is as accurate as it is possible to calculate with the available information.) In addition, limited preliminary census data for 2002 indicates that the total number of Cable and Other Program Distribution entities increased approximately 46 percent between 1997 and 2002. (U.S. Census Bureau, 2002 Economic Census, Industry Series: “Information,” Table 2, Comparative Statistics for the United States (1997 NAICS Basis): 2002 and 1997, NAICS code 513220 (issued Nov. 2004). The preliminary data indicate that the number of total “establishments” increased from 4,185 to 6,118. In this context, the number of establishments is a less helpful indicator of small business prevalence than is the number of “firms,” because the latter number takes into account the concept of common ownership or control. The more helpful 2002 census data on firms, including employment and receipts numbers, will be issued in late 2005.) The Commission estimates that the majority of providers in this category of Cable and Other Program Distribution are small businesses.

82. Cable System Operators (Rate Regulation Standard). The Commission has developed, with SBA's approval, its own definition of a small cable system operator for the purposes of rate regulation. Under the Commission's rules, a “small cable company” is one serving 400,000 or fewer subscribers nationwide; see 47 CFR 76.901(e). (The Commission developed this definition based on its determinations that a small cable system operator is one with annual revenues of $100 million or less. For “regulatory simplicity,” the Commission established the company size standard in terms of subscribers, rather than dollars; in the cable context, $100 million in annual regulated revenues equates to approximately 400,000 subscribers.) We last estimated that there were 1,439 cable operators that qualified as small cable companies at the end of 1995; see Paul Kagan Associates, Inc., Cable TV Investor, Feb. 29, 1996 (based on figures for Dec. 30, 1995). Since then, some of those companies may have grown to serve more than 400,000 subscribers, and others may have been involved in transactions that caused them to be combined with other cable operators. Consequently, we estimate that there are fewer than 1,439 small entity cable system operators that may be affected by the proposals contained in this NPRM.

83. Cable System Operators (Telecom Act Standard). The Communications Act of 1934, as amended, also contains a size standard for a “small cable operator,” which is “a cable operator that, directly or through an affiliate, serves in the aggregate fewer than one percent of all subscribers in the United States and is not affiliated with any entity or entities whose gross annual revenues in the aggregate exceed $250,000,000;” see 47 U.S.C. 543(m)(2). The Commission has determined that there are 67.7 million subscribers in the United States; see public notice, “FCC Announces New Subscriber Count for the Definition of Small Cable Operator,” 16 FCC Rcd 2225 (2001) (“2001 Subscriber Count PN”). (In this public notice, the Commission established the threshold for determining whether a cable operator meets the definition of small cable operator at 677,000 subscribers, and determined that this threshold will remain in effect until the Commission issues a superceding public notice. We recognize that the number of cable subscribers was recently estimated by the Commission to be almost 65.9 million, as of June 2003; see Annual Assessment of the Status of Competition in Markets for the Delivery of Video Programming, 19 FCC Rcd 1606 (2004) (“2004 Cable Competition Report”). However, because the Commission has not issued a public notice subsequent to the 2001 Subscriber Count PN, we propose to rely on the subscriber count threshold established by the 2001 Subscriber Count PN.) Therefore, an operator serving fewer than 677,000 subscribers shall be deemed a small operator, if its annual revenues, when combined with the total annual revenues of all of its affiliates, do not exceed $250 million in the aggregate; see 47 CFR 76.901(f). Based on available data, we estimate that the number of cable operators serving 677,000 subscribers or less totals approximately 1,450. The Commission neither requests nor collects information on whether cable system operators are affiliated with entities whose gross annual revenues exceed $250 million, and therefore is unable at this time to estimate more accurately the number of cable system operators that would qualify as small cable operators under the size standard contained in the Communications Act. (The Commission does receive such information on a case-by-case basis if a cable operator appeals a local franchise authority's finding that the operator does not qualify as a small cable operator pursuant to § 76.901(f) of the Commission's rules; see 47 U.S.C. 573.)

84. Television Broadcasting. The SBA defines a television broadcasting station as a small business if such station has no more than $12 million in annual receipts; see 13 CFR 121.201 (NAICS Code 515120 (adopted Oct. 2002)). Business concerns included in this industry are those “primarily engaged in broadcasting images together with sound;” see NAICS Code 515120. (This category description continues, “These establishments operate television broadcasting studios and facilities for the programming and transmission of programs to the public. These establishments also produce or transmit visual programming to affiliated broadcast television stations, which in turn broadcast the programs to the public on a predetermined schedule. Programming may originate in their own studios, from an affiliated network, or from external sources.” Separate census categories pertain to businesses primarily engaged in producing programming. See Motion Picture and Video Production, NAICS code 512110; Motion Picture and Video Distribution, NAICS Code 512120; Teleproduction and Other Post-Production Services, NAICS Code 512191; and Other Motion Picture and Video Industries, NAICS Code 512199). According to Commission staff review of the BIA Publications, Inc. Master Access Television Analyzer Database as of June 26, 2004, about 860 of the 1,270 commercial television stations in the United States have revenues of $12 million or less. We note, however, that, in assessing whether a business concern qualifies as small under the above definition, business (control) affiliations must be included; see 13 CFR 121.103(a)(1). (“[Business concerns] are affiliates of each other when one concern controls or has the power to control the other or a third party or parties controls or has to power to control both.”) Our estimate, therefore, likely overstates the number of small entities that might be affected by our action, because the revenue figure on which it is based does not include or aggregate revenues from affiliated companies. There are also 2,127 low power television (LPTV) stations. Given the nature of this service, we will presume that all LPTV licensees qualify as small entities under the SBA definition.

85. In addition, an element of the definition of “small business” is that the entity not be dominant in its field of operation. We are unable at this time to define or quantify the criteria that would establish whether a specific television station is dominant in its field of operation. Accordingly, the estimate of small businesses to which rules may apply do not exclude any television station from the definition of a small business on this basis and are therefore over-inclusive to that extent. Also as noted, an additional element of the definition of “small business” is that the entity must be independently owned and operated. We note that it is difficult at times to assess these criteria in the context of media entities and our estimates of small businesses to which they apply may be over-inclusive to this extent.

86. Private Cable Operators (PCOs) or Satellite Master Antenna Television (SMATV) Systems. PCOs, also known as SMATV systems or private communication operators, are video distribution facilities that use closed transmission paths without using any public right-of-way. PCOs acquire video programming and distribute it via terrestrial wiring in urban and suburban multiple dwelling units such as apartments and condominiums, and commercial multiple tenant units such as hotels and office buildings. The SBA definition of small entities for Cable and Other Program Distribution Services includes PCOs and, thus, small entities are defined as all such companies generating $12.5 million or less in annual receipts; see 13 CFR 121.201, NAICS code 517510. Currently, there are approximately 135 members in the Independent Multi-Family Communications Council (IMCC), the trade association that represents PCOs; see 2005 Cable Competition Report, FCC 05-13. (Previously, the Commission reported that IMCC had 250 members; see 2004 Cable Competition Report, 19 FCC Rcd at 1666. Individual PCOs often serve approximately 3,000-4,000 subscribers, but the larger operations serve as many as 15,000-55,000 subscribers. In total, PCOs currently serve approximately 1.1 million subscribers; see 2005 Cable Competition Report, FCC 05-13. Because these operators are not rate regulated, they are not required to file financial data with the Commission. Furthermore, we are not aware of any privately published financial information regarding these operators. Based on the estimated number of operators and the estimated number of units served by the largest ten PCOs or SMATVs, we believe that a substantial number of PCO or SMATV operators qualify as small entities.

2. Entities Not Directly Affected By Proposed Rules

87. Because the SHVERA authorizes carriage of significantly viewed stations only by “satellite carriers,” we do not believe that our proposed rules implementing the SHVERA will directly affect other multichannel video programming distributors (MVPDs), such as home satellite dish (HSD) services, multipoint distribution services (MDS)/multichannel multipoint distribution service (MMDS), Instructional Television Fixed Service (ITFS), local multipoint distribution service (LMDS) and open video systems (OVS). These other MVPDs were not included in the SHVERA and are therefore outside the scope of this IRFA. Nevertheless, although not required by the RFA, we invite comment from any small MVPDs which may be indirectly impacted from our proposed implementation of the SHVERA, but only to the extent that the impact on small entities can be minimized while fully implementing the SHVERA.

88. Other Program Distribution. The SBA-recognized definition of Cable and Other Program Distribution includes these other MVPDs, such as HSD, MDS/MMDS, ITFS, LMDS and OVS. This definition provides that a small entity is one with $12.5 million or less in annual receipts; see 13 CFR 121.201, NAICS code 517510. (This NAICS code applies to all services listed in this paragraph.) As previously noted, according to the Census Bureau data for 1997, there were a total of 1,311 firms that operated for the entire year in the category of Cable and Other Program Distribution. Of this total, 1,180 firms had annual receipts of under $10 million and an additional 52 firms had receipts of $10 million or more, but less than $25 million. (U.S. Census Bureau, 1997. Economics and Statistics Administration, Bureau of Census, U.S. Department of Commerce, 1997 Economic Census, Subject Series—Establishment and Firm Size, Information Sector 51, Table 4 at 50 (2000). The amount of $10 million was used to estimate the number of small business firms because the relevant Census categories stopped at $9,999,999 and began at $10,000,000. No category for $12.5 million existed. Thus, the number is as accurate as it is possible to calculate with the available information.) In addition, limited preliminary census data for 2002 indicates that the total number of Cable and Other Program Distribution entities increased approximately 46 percent between 1997 and 2002; see U.S. Census Bureau, 2002 Economic Census, Industry Series: “Information,” Table 2, Comparative Statistics for the United States (1997 NAICS Basis): 2002 and 1997, NAICS code 513220 (issued Nov. 2004). (The preliminary data indicate that the number of total “establishments” increased from 4,185 to 6,118. In this context, the number of establishments is a less helpful indicator of small business prevalence than is the number of “firms,” because the latter number takes into account the concept of common ownership or control. The more helpful 2002 census data on firms, including employment and receipts numbers, will be issued in late 2005.) The Commission estimates that the majority of providers in this category of Cable and Other Program Distribution are small businesses.

89. Home Satellite Dish (“HSD”) Service. Because HSD provides subscription services, HSD falls within the SBA-recognized definition of Cable and Other Program Distribution, which includes all such companies generating $12.5 million or less in revenue annually; see 13 CFR § 121.201, NAICS code 517510. HSD or the large dish segment of the satellite industry is the original satellite-to-home service offered to consumers, and involves the home reception of signals transmitted by satellites operating generally in the C-band frequency. Unlike DBS, which uses small dishes, HSD antennas are between four and eight feet in diameter and can receive a wide range of unscrambled (free) programming and scrambled programming purchased from program packagers that are licensed to facilitate subscribers' receipt of video programming. There are approximately 30 satellites operating in the C-band, which carry over 500 channels of programming combined; approximately 350 channels are available free of charge and 150 are scrambled and require a subscription. HSD is difficult to quantify in terms of annual revenue. HSD owners have access to program channels placed on C-band satellites by programmers for receipt and distribution by MVPDs. Commission data shows that, between June 2003, and June 2004, HSD subscribership fell from 502,191 subscribers to 335,766 subscribers, a decline of more than 33 percent; see 2005 Cable Competition Report, FCC 05-13. (HSD subscribership declined more than 28 percent between June 2002 and June 2003; see 2004 Cable Competition Report, 19 FCC Rcd at 1654-55.) The Commission has no information regarding the annual revenue of the four C-Band distributors.

90. Wireless Cable Systems. Wireless cable systems use the Multipoint Distribution Service (“MDS”) and Instructional Television Fixed Service (“ITFS”) frequencies in the 2 GHz band to transmit video programming and provide broadband services to subscribers. (MDS, also known as Multichannel Multipoint Distribution Service (“MMDS”), is regulated by part 21 of the Commission's rules; see 47 CFR part 21, subpart K; and has been renamed the Broadband Radio Service (BRS). ITFS systems are regulated by part 74 of the Commission's rules; see 47 CFR part 74, subpart I. ITFS, an educational service, has been renamed the Educational Broadband Service (EBS). ITFS licensees, however, are permitted to lease spectrum for MDS operation.) Local Multipoint Distribution Service (“LMDS”) is a fixed broadband point-to-multipoint microwave service that provides for two-way video telecommunications. As previously noted, the SBA definition of small entities for Cable and Other Program Distribution, which includes such companies generating $12.5 million in annual receipts, appears applicable to MDS, ITFS and LMDS. In addition, the Commission has defined small MDS and LMDS entities in the context of Commission license auctions.

91. In the 1996 MDS auction, the Commission defined a small business as an entity that had annual average gross revenues of less than $40 million in the previous three calendar years; see 47 CFR 21.961(b)(1). (MDS Auction No. 6 began on November 13, 1995, and closed on March 28, 1996.) This definition of a small entity in the context of MDS auctions has been approved by the SBA. In the MDS auction, 67 bidders won 493 licenses. Of the 67 auction winners, 61 claimed status as a small business. At this time, the Commission estimates that of the 61 small business MDS auction winners, 48 remain small business licensees. In addition to the 48 small businesses that hold BTA authorizations, there are approximately 392 incumbent MDS licensees that have gross revenues that are not more than $40 million and are thus considered small entities; see 47 U.S.C. 309(j). (Hundreds of stations were licensed to incumbent MDS licensees prior to implementation of Section 309(j) of the Communications Act of 1934, 47 U.S.C. 309(j). For these pre-auction licenses, the applicable standard is SBA's small business size standards for “other telecommunications” (annual receipts of $12.5 million or less); see 13 CFR 121.201, NAICS code 517910.) MDS licensees and wireless cable operators that did not participate in the MDS auction must rely on the SBA definition of small entities for Cable and Other Program Distribution. Information available to us indicates that there are approximately 850 of these licensees and operators that do not generate revenue in excess of $12.5 million annually. Therefore, we estimate that there are approximately 850 small MDS providers as defined by the SBA and the Commission's auction rules.

92. While SBA approval for a Commission-defined small business size standard applicable to ITFS is pending, educational institutions are included in this analysis as small entities. (In addition, the term “small entity” under SBREFA applies to small organizations (nonprofits) and to small governmental jurisdictions (cities, counties, towns, townships, villages, school districts, and special districts with populations of less than 50,000; see 5 U.S.C. 601(4)-(6). We do not collect annual revenue data on ITFS licensees.) There are currently 2,032 ITFS licensees, and all but 100 of these licenses are held by educational institutions. Thus, the Commission estimates that at least 1,932 ITFS licensees are small businesses.

93. In the 1998 and 1999 LMDS auctions, the Commission defined a small business as an entity that had annual average gross revenues of less than $40 million in the previous three calendar years. (The Commission has held two LMDS auctions: Auction Nos. 17 and 23. Auction No. 17, the first LMDS auction, began on February 18, 1998, and closed on March 25, 1998. Auction No. 23, the LMDS re-auction, began on April 27, 1999, and closed on May 12, 1999. Moreover, the Commission added an additional classification for a “very small business,” which was defined as an entity that had annual average gross revenues of less than $15 million in the previous three calendar years. These definitions of “small business” and “very small business” in the context of the LMDS auctions have been approved by the SBA; see Letter to Daniel Phythyon, Chief, Wireless Telecommunications Bureau (FCC) from A. Alvarez, Administrator, SBA (January 6, 1998). In the first LMDS auction, 104 bidders won 864 licenses. Of the 104 auction winners, 93 claimed status as small or very small businesses. In the LMDS re-auction, 40 bidders won 161 licenses. Based on this information, we believe that the number of small LMDS licenses will include the 93 winning bidders in the first auction and the 40 winning bidders in the re-auction, for a total of 133 small entity LMDS providers as defined by the SBA and the Commission's auction rules.

94. In sum, there are approximately a total of 2,000 MDS/MMDS/LMDS stations currently licensed. Of the approximate total of 2,000 stations, we estimate that there are 1,595 MDS/MMDS/LMDS providers that are small businesses as deemed by the SBA and the Commission's auction rules.

95. Open Video Systems (“OVS”). The OVS framework provides opportunities for the distribution of video programming other than through cable systems. Because OVS operators provide subscription services, OVS falls within the SBA-recognized definition of Cable and Other Program Distribution Services, which provides that a small entity is one with $ 12.5 million or less in annual receipts; see 47 U.S.C. 573, 13 CFR 121.201, NAICS code 517510. The Commission has certified 25 OVS operators with some now providing service. Broadband service providers (BSPs) are currently the only significant holders of OVS certifications or local OVS franchises, even though OVS is one of four statutorily-recognized options for local exchange carriers (LECs) to offer video programming services; see 2005 Cable Competition Report, FCC 05-13. As of June 2003, BSPs served approximately 1.4 million subscribers, representing 1.49 percent of all MVPD households; see 2004 Cable Competition Report. Among BSPs, however, those operating under the OVS framework are in the minority, with approximately eight percent operating with an OVS certification; see 2005 Cable Competition Report, FCC 05-13. Serving approximately 460,000 of these subscribers, Affiliates of Residential Communications Network, Inc. (“RCN”) is currently the largest BSP and 11th largest MVPD. (WideOpenWest is the second largest BSP and 15th largest MVPD, with cable systems serving about 288,000 subscribers as of September 2003. The third largest BSP is Knology, which currently serves approximately 174,957 subscribers as of June 2004; see 2005 Cable Competition Report, FCC 05-13.) RCN received approval to operate OVS systems in New York City, Boston, Washington, DC and other areas. The Commission does not have financial information regarding the entities authorized to provide OVS, some of which may not yet be operational. We thus believe that at least some of the OVS operators may qualify as small entities.

D. Description of Projected Reporting, Recordkeeping and Other Compliance Requirements

96. The SHVERA was enacted to permit satellite carriage of Commission-determined “significantly-viewed” signals of out-of-market broadcast stations to consumers. The SHVERA allows satellite carriers and broadcast stations to obtain “significantly-viewed” status for satellite carriage pursuant to Section 340 of the Act, 47 U.S.C. 340, and thus does not impose any mandatory reporting, recordkeeping and other compliance requirements, unless a satellite carrier and station choose to take advantage of the SHVERA's provisions. The proposed rule changes that we believe will directly affect reporting, recordkeeping and other compliance requirements are described below.

97. This NPRM proposes that satellite carriers and broadcast stations seeking a “significantly viewed” designation for a station and the community containing such station pursuant to Section 340 of the Act, 47 U.S.C. 340, will follow the same petition process now in place for cable operators (and broadcast stations), as required by §§ 76.5, 76.7 and 76.54 of the Commission's rules; see 47 CFR 76.5, 76.7, 76.54. Therefore, entities seeking a “significantly viewed” designation would file a petition pursuant to the pleading requirements in § 76.7(a)(1) and use the method described in § 76.54 to demonstrate that the station is significantly viewed as defined in § 76.5(i). Parties filing such petitions must also comply with the existing notification requirements of § 76.54(c), 47 CFR 76.54(c).

98. Furthermore, this NPRM proposes to (1) create a limited right for a station or distributor to assert nonduplication and exclusivity rights with respect to a station carried by a satellite carrier as significantly viewed; (2) allow that significantly viewed station to assert the significantly viewed exception, just as a station would with respect to cable carriage; and (3) allow the station or distributor asserting exclusivity to petition the Commission for a waiver from the exception. The assertion of these rights will require affected parties to file § 76.7 petitions.

99. This NPRM also proposes to rely on the Commission's existing § 76.7 petition process as the procedural framework for the filing of complaints filed pursuant to new Section 340 of the Act, 47 U.S.C. 340. Thus, we propose that interested parties that wish to report Section 340 violations may file a Petition for Special Relief under § 76.7; 47 CFR 76.7.

100. As required by Section 340(g)(1), this NPRM proposes a new rule, proposed § 76.54(e), to require satellite carriers seeking to retransmit significantly viewed signals pursuant to new Section 340 of the Act, 47 U.S.C. 340, to provide 60 days written notice to all stations located in the local market. As required by Section 340(g)(2), this NPRM also proposes a new rule, proposed § 76.54(f), to require satellite carriers retransmitting significantly viewed stations pursuant to new Section 340 of the Act, 47 U.S.C. 340, to publish a list of all such stations on their website. These proposed rules do not impose any burden on broadcast stations, but rather are intended to protect the rights of broadcast stations, including small stations.

E. Steps Taken To Minimize Significant Impact on Small Entities, and Significant Alternatives Considered

101. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities; see 5 U.S.C. 603(c)(1)-(c)(4).

102. With respect to the implementation of new Section 340, the SHVERA does not offer much flexibility with respect to minimizing its impact on small entities. In seeking regulatory parity with cable operators, Congress sought to apply to satellite carriers the existing regulatory framework concerning the distribution of significantly viewed signals; see 17 U.S.C. 119(a)(3). Accordingly, the SHVERA authorizes satellite carriage of significantly viewed stations using the same framework in place for the cable carriage context that has been in effect as of April 15, 1976; see 17 U.S.C. 119(a)(3). Therefore, the Commission does not have discretion to choose an alternate means of implementing the SHVERA.

103. Notably, the nature of new Section 340 of the Act, 47 U.S.C. 340, is permissive, meaning only satellite carriers that choose to carry significantly viewed stations would be impacted by our proposed implementation of the statute. Likewise, only television broadcast stations seeking carriage as significantly viewed would be impacted. The compliance requirements of cable operators with respect to carriage of significantly viewed stations are not changed.

104. The statute's compliance requirements primarily impact satellite carriers, such as DBS providers. As previously noted, there are now only four DBS licensees, none of which are small entities. Small businesses do not generally have the financial ability to become DBS licensees because of the high implementation costs associated with satellite services. Moreover, the statute confers a benefit to satellite carriers, enabling them to carry significantly viewed stations.

105. Nevertheless, to the extent they are affected, we urge small broadcast stations and small cable and satellite operators to provide data on the impact of the proposals and issues raised in the NPRM, including how we might tailor our proposals to address and minimize the impact on small businesses. We expect that, whichever alternatives are chosen, the Commission will seek to minimize any adverse effects on small entities, to the extent permitted by statute.

106. We believe that the SHVERA will benefit some number of small broadcast stations by offering them the opportunity to be a significantly viewed station that will be delivered to more viewers. We recognize, however, that there is also the possibility that small in-market stations will face a competitive impact from the entry of out-of-market significantly viewed stations. We do not believe it is possible to measure whether small stations are more or less likely to benefit in this regard, but invite comment on this question.

107. While the statute does not impose any requirements on small cable operators, it is possible that such small entities could face a competitive impact because of the benefit conferred to satellite carriers. In fact, the express intent of the statute was to level the competitive playing field between cable operators and satellite providers; see 17 U.S.C. 119(a)(3). Congress, however, recognized that the SHVERA may impact the competitiveness of small cable operators, and thus directed the Commission to conduct an inquiry in a separate proceeding on the impact of specific provisions of the Communications Act of 1934, as amended, the SHVERA provisions, and Commission rules on competition in the MVPD market; see Section 208 of SHVERA. The Commission is required to submit a report to Congress on the results of its inquiry no later than nine months after SHVERA's enactment date (i.e., September 8, 2005). Accordingly, the Commission has issued a public notice to initiate this inquiry; see public notice, “Media Bureau Seeks Comment For Inquiry Required By the on Rules Affecting Competition In the Television Marketplace,” MB Docket No. 05-28, DA 05-169 (rel. Jan. 25, 2005) (Comments are due March 1, 2005; replies are due March 16, 2005.).

1. Federal Rules Which Duplicate, Overlap, or Conflict With the Commission's Proposals

108. None.

2. Report to Congress

109. The Commission will send a copy of the NPRM, including this IRFA, in a report to be sent to Congress pursuant to the Small Business Regulatory Enforcement Fairness Act of 1996; see 5 U.S.C. 801(a)(1)(A). In addition, the Commission will send a copy of the NPRM, including the IRFA, to the Chief Counsel for Advocacy of the Small Business Administration. A copy of the NPRM and IRFA (or summaries thereof) will also be published in the Federal Register; see 5 U.S.C. 604(b).

VI. Ordering Clauses

110. Accordingly, it is ordered that pursuant to Sections 202 and 204 of the Satellite Home Viewer Extension and Reauthorization Act of 2004, and Sections 1, 4(i) and (j), and 340 of the Communications Act of 1934, as amended, 47 U.S.C. 151, 154(i) and (j), and 340, notice is hereby given of the proposals and tentative conclusions described in this Notice of Proposed Rulemaking.

111. It is further ordered that the Reference Information Center, Consumer Information Bureau, shall send a copy of this Notice of Proposed Rulemaking, including the Initial Regulatory Flexibility Analysis, to the Chief Counsel for Advocacy of the Small Business Administration.

List of Subjects in 47 CFR Part 76

Cable television, Multichannel video programming distribution, Satellite television.

Federal Communications Commission.
Marlene H. Dortch,
Secretary.

Proposed Rule Changes

For the reasons discussed in the preamble, the FCC proposes to amend 47 CFR part 76 as follows:

PART 76—MULTICHANNEL VIDEO AND CABLE TELEVISION SERVICE

1. The authority citation for part 76 is revised to read as follows:

Authority: 47 U.S.C. 151, 152, 153, 154, 301, 302a, 303, 303a, 307, 308, 309, 312, 317, 325, 338, 339, 340, 503, 521, 522, 531, 532, 533, 534, 535, 536, 537, 543, 544, 544a, 545, 548, 549, 552, 554, 556, 558, 560, 561, 571, 572, and 573.

2. Amend § 76.5 by revising paragraph (ee) and adding paragraph (gg) to read as follows:

§ 76.5 Definitions.

* * * * *

(ee) Subscribers. (1) Cable subscriber. A member of the general public who receives broadcast programming distributed by a cable television system and does not further distribute it.

(2) Satellite subscriber. A person who receives a secondary transmission service from a satellite carrier and pays a fee for the service, directly or indirectly, to the satellite carrier or to a distributor.

* * * * *

[OPTION ONE]

(gg) Satellite community. Comprised of one or more five-digit zip code areas in which one or more television broadcast stations are proposed or deemed to be significantly viewed pursuant to paragraph (i) of this section and § 76.54. Satellite communities apply only in areas in which there is no pre-existing cable community, as defined in paragraph (dd) of this section.

[OR,]

[OPTION TWO]

(gg) Satellite community. A separate and distinct community or municipal entity (including unincorporated communities within unincorporated areas and including single, discrete unincorporated areas). The boundaries of any such unincorporated community may be defined by one or more five-digit zip code areas. Satellite communities apply only in areas in which there is no pre-existing cable community, as defined in as defined in paragraph (dd) of this section.

* * * * *

3. Amend § 76.54 by revising paragraphs (a), (b) and (c), and adding paragraphs (e), (f), (g), (h) and (i), to read as follows:

§ 76.54 Significantly viewed signals; method to be followed for special showings.

(a) Signals that are significantly viewed in a county (and thus are deemed to be significantly viewed within all communities within the county) are those that are listed in Appendix B of the memorandum opinion and order on reconsideration of the Cable Television Report and Order (Docket 18397 et al.), FCC 72-530, and those listed in the Significantly Viewed List, Appendix B of the SHVERA Report and Order Implementing Section 340 of the Communications Act, _ FCC Rcd _ (2005).

(b) Significant viewing in a cable television or satellite community for signals not shown as significantly viewed under paragraphs (a) or (d) of this section may be demonstrated by an independent professional audience survey of non-cable television homes that covers at least two weekly periods separated by at least thirty (30) days but no more than one of which shall be a week between the months of April and September. If two surveys are taken, they shall include samples sufficient to assure that the combined surveys result in an average figure at least one standard error above the required viewing level. If surveys are taken for more than 2-weekly periods in any 12 months, all such surveys must result in an average figure at least one standard error above the required viewing level. If a cable television system serves more than one community, a single survey may be taken, provided that the sample includes non-cable television homes from each community that are proportional to the population.

(c) Notice of a survey to be made pursuant to paragraph (b) of this section shall be served on all licensees or permittees of television broadcast stations within whose predicted Grade B contour (and, with respect to a survey pertaining to a station broadcasting only a digital signal, the noise limited service contour, as defined in § 73.622(e) of this chapter) the cable or satellite community or communities are located, in whole or in part, and on all other system community units, franchisees, and franchise applicants in the cable community or communities at least (30) days prior to the initial survey period. Such notice shall include the name of the survey organization and a description of the procedures to be used. Objections to survey organizations or procedures shall be served on the party sponsoring the survey within twenty (20) days after receipt of such notice.

* * * * *

(e) Satellite carriers that intend to retransmit the signal of a significantly viewed television broadcast station to a subscriber located outside such station's local market, as defined by § 76.55(e), must provide written notice to all television broadcast stations that are assigned to the same local market as the intended subscriber at least 60 days before commencing retransmission of the significantly viewed station. Such written notice must be sent via certified mail, return receipt requested, to the address for such station(s) as listed in the consolidated database maintained by the Federal Communications Commission.

(f) Satellite carriers that retransmit the signal of a significantly viewed television broadcast station to a subscriber located outside such station's local market must list all such stations and the communities to which they are retransmitted on their Web site.

(g) Signals of significantly viewed television broadcast stations may not be retransmitted by satellite carriers to subscribers who do not subscribe to local-into-local service pursuant to § 76.66; except that a satellite carrier may retransmit a significantly viewed signal of a television broadcast station to a subscriber located in a local market in which:

(1) There is no station affiliated with the same television network as the station whose signal is significantly viewed; or

(2) The station affiliated with the same television network as the station whose signal is significantly viewed does not request carriage or does not grant retransmission consent pursuant to § 76.66.

(h) In addition to the requirement of paragraph (g) of this section, signals of significantly viewed network stations that originate as digital signals may not be retransmitted to subscribers unless the satellite carrier retransmits the digital signal of the local network station, which is affiliated with the same television network as the network station whose signal is significantly viewed, in either:

(1) At least the equivalent bandwidth of the significantly viewed station; or

(2) The entire bandwidth of the digital signal broadcast by such local station.

(i) For purposes of paragraphs (g) and (h) of this section, television network and network station are as defined in 47 U.S.C. 339(d).

4. Amend § 76.122 by revising paragraphs (a) and (j) to read as follows:

§ 76.122 Satellite network non-duplication.

(a) Upon receiving notification pursuant to paragraph (c) of this section, a satellite carrier shall not deliver, to subscribers within zip code areas located in whole or in part within the zone of protection of a commercial television station licensed by the Commission, a program carried on a nationally distributed superstation or on a station carried pursuant to § 76.54 when the network non-duplication rights to such program are held by the commercial television station providing notice, except as provided in paragraphs (j), (k) or (l) of this section.

* * * * *

(j) A satellite carrier is not required to delete the duplicating programming of any nationally distributed superstation that is carried by the satellite carrier as a local station with the station's retransmission consent pursuant to § 76.64 or as a significantly viewed station pursuant to § 76.54:

(1) Within the station's local market;

(2) If the station is “significantly viewed,” pursuant to § 76.54, in zip code areas included within the zone of protection unless a waiver of the significantly viewed exception is granted pursuant to § 76.7; or

(3) If the zone of protection falls, in whole or in part, within that signal's grade B contour.

* * * * *

5. Amend § 76.123 by revising paragraphs (a) and (k) to read as follows:

§ 76.123 Satellite syndicated program exclusivity.

(a) Upon receiving notification pursuant to paragraph (d) of this section, a satellite carrier shall not deliver, to subscribers located within zip code areas in whole or in part within the zone of protection of a commercial television station licensed by the Commission, a program carried on a nationally distributed superstation or on a station carried pursuant to § 76.54 when the syndicated program exclusivity rights to such program are held by the commercial television station providing notice, except as provided in paragraphs (k), (l) and (m) of this section.

* * * * *

(k) A satellite carrier is not required to delete the programming of any nationally distributed superstation that is carried by the satellite carrier as a local station with the station's retransmission consent pursuant to § 76.64 or as a significantly viewed station pursuant to § 76.54:

(1) Within the station's local market;

(2) If the station is “significantly viewed,” pursuant to § 76.54, in zip code areas included within the zone of protection unless a waiver of the significantly viewed exception is granted pursuant to § 76.7; or

(3) If the zone of protection falls, in whole or in part, within that signal's grade B contour.

* * * * *

Note: The following Appendix is not to be included in the Code of Federal Regulations.

Appendix ¹—Significantly Viewed List (as of December 7, 2004)

The stations listed below are “significantly viewed” in the relevant counties and/or communities as indicated. The stations are listed by state and subdivided by the county in which they are significantly viewed. Stations added on a community-by-community basis after 1972 are listed at the end of each state next to the community in which they obtained significantly viewed status. The station listing includes the current (and former) call signs, as well as the analog channel number and city of license. Stations with a plus sign (+) under individual counties are those stations added to the list after the publication of the Commission's original 1972 list. See Reconsideration of the Cable Television Report and Order, 36 FCC 2d 326 (1972). Stations listed with a pound sign (#) have been the subject of application of the Commission's exclusivity rules and are subject to programming deletions in the indicated communities.

¹ This list of significantly viewed stations will be published and maintained on the Commission's Internet website at http://www.fcc.gov/mb/. The Commission will update the list posted on the Internet within 10 business days after taking an action to modify the list.

ALABAMA

Autauga

+WAKA, 8, Selma, AL

WSFA, 12, Montgomery, AL

WCOV-TV, 20, Montgomery, AL

WNCF, 32, Montgomery, AL (formerly WKAB)

Baldwin

WEAR-TV, 3, Pensacola, FL

WKRG-TV, 5, Mobile, AL

WALA-TV, 10, Mobile, AL

+WPMI, 15, Mobile, AL

+WJTC, 44, Pensacola, FL

Barbour

WRBL, 3, Columbus, GA

WTVM, 9, Columbus, GA

+WXTX, 54, Columbus, GA

WTVY, 4, Dothan, AL

+WDFX-TV, 34, Ozark, AL (formerly WDAU)

WSFA, 12, Montgomery, AL

Bibb

WBRC, 6, Birmingham, AL

WVTM-TV, 13, Birmingham, AL (formerly WAPI)

+WTTO, 21, Birmingham, AL

+WDBB, 17, Bessemer, AL

WIAT, 42, Birmingham, AL (formerly WBMG)

Blount

WBRC, 6, Birmingham, AL

WVTM-TV, 13, Birmingham, AL (formerly WAPI)

+WTTO, 21, Birmingham, AL

WHNT-TV, 19, Huntsville, AL

+WZDX, 54, Huntsville, AL

Bullock

WSFA, 12, Montgomery, AL

WRBL, 3, Columbus, GA

WTVM, 9, Columbus, GA

Butler

+WAKA, 8, Selma, AL

WSFA, 12, Montgomery, AL

Calhoun

WBRC, 6, Birmingham, AL

WVTM-TV, 13, Birmingham, AL (formerly WAPI)

+WTTO, 21, Birmingham, AL

WJSU-TV, 40, Anniston, AL (formerly WHMA)

Chambers

WRBL, 3, Columbus, GA

WTVM, 9, Columbus, GA

+WXTX, 54, Columbus, GA

Cherokee

WSB-TV, 2, Atlanta, GA

WAGA, 5, Atlanta, GA

WXIA-TV, 11, Atlanta, GA (formerly WQXI)

WBRC, 6, Birmingham, AL

+WTTO, 21, Birmingham, AL

Chilton

WBRC, 6, Birmingham, AL

WVTM-TV, 13, Birmingham, AL (formerly WAPI)

+WTTO, 21, Birmingham, AL

WIAT, 42, Birmingham, AL (formerly WBMG)

+WAKA, 8, Selma, AL

WSFA, 12, Montgomery, AL

Choctaw

WTOK-TV, 11, Meridian, MS

Clarke

WEAR-TV, 3, Pensacola, FL

WKRG-TV, 5, Mobile, AL

WALA-TV, 10, Mobile, AL

+WPMI, 15, Mobile, AL

+WAKA, 8, Selma, AL

Clay

WBRC, 6, Birmingham, AL

WVTM-TV, 13, Birmingham, AL (formerly WAPI)

WRBL, 3, Columbus, GA

Cleburne

WSB-TV, 2, Atlanta, GA

WAGA, 5, Atlanta, GA

WXIA-TV, 11, Atlanta, GA (formerly WQXI)

WBRC, 6, Birmingham, AL

WVTM-TV, 13, Birmingham, AL (formerly WAPI)

Coffee

WTVY, 4, Dothan, AL

+WDFX-TV, 34, Ozark, AL (formerly WDAU)

WSFA, 12, Montgomery, AL

Colbert

WHDF, 15, Florence, AL (formerly WOWL)

WHNT-TV, 19, Huntsville, AL

WAAY-TV, 31, Huntsville, AL

WAFF, 48, Huntsville, AL (formerly WMSL & WYUR)

+WZDX, 54, Huntsville, AL

Conecuh

WEAR-TV, 3, Pensacola, FL

WKRG-TV, 5, Mobile, AL

WALA-TV, 10, Mobile, AL

+WPMI, 15, Mobile, AL

+WAKA, 8, Selma, AL

WSFA, 12, Montgomery, AL

Coosa

WBRC, 6, Birmingham, AL

WSFA, 12, Montgomery, AL

WVTM-TV, 13, Birmingham, AL (formerly WAPI)

Covington

+WAKA, 8, Selma, AL

WSFA, 12, Montgomery, AL

WTVY, 4, Dothan, AL

+WDFX-TV, 34, Ozark, AL (formerly WDAU)

Crenshaw

+WAKA, 8, Selma, AL

WSFA, 12, Montgomery, AL

WCOV-TV, 20, Montgomery, AL

WTVY, 4, Dothan, AL

Cullman

WBRC, 6, Birmingham, AL

WVTM-TV, 13, Birmingham, AL (formerly WAPI)

+WDBB, 17, Bessemer, AL

+WTTO, 21, Birmingham, AL

WHNT-TV, 19, Huntsville, AL

WAAY-TV, 31, Huntsville, AL

+WZDX, 54, Huntsville, AL

Dale

WTVY, 4, Dothan, AL

+WDFX-TV, 34, Ozark, AL

WRBL, 3, Columbus, GA

WTVM, 9, Columbus, GA

WSFA, 12, Montgomery, AL

Dallas

+WAKA, 8, Selma, AL

WSFA, 12, Montgomery, AL

WCOV-TV, 20, Montgomery, AL

WNCF, 32, Montgomery, AL (formerly WKAB)

WBRC, 6, Birmingham, AL

De Kalb

WRCB-TV, 3, Chattanooga, TN

WTVC, 9, Chattanooga, TN

WDEF-TV, 12, Chattanooga, TN

+WPXH, 44, Gadsden, AL (formerly WNAL)

+WZDX, 54, Huntsville, AL

Elmore

+WAKA, 8, Selma, AL

WSFA, 12, Montgomery, AL

WCOV-TV, 20, Montgomery, AL

WNCF, 32, Montgomery, AL (formerly WKAB)

Escambia

WEAR-TV, 3, Pensacola, FL

WKRG-TV, 5, Mobile, AL

WALA-TV, 10, Mobile, AL

+WPMI, 15, Mobile, AL

Etowah

WBRC, 6, Birmingham, AL

WVTM-TV, 13, Birmingham, AL (formerly WAPI)

+WTTO, 21, Birmingham, AL

+WZDX, 54, Huntsville, AL

WJSU-TV, 40, Anniston, AL (formerly WHMA)

Fayette

WBRC, 6, Birmingham, AL

WVTM-TV, 13, Birmingham, AL (formerly WAPI)

+WTTO, 21, Birmingham, AL

WCBI-TV, 4, Columbus, MS

+WTVA, 9, Tupelo, MS

Franklin

WBRC, 6, Birmingham, AL

+WTTO, 21, Birmingham, AL

WCBI-TV, 4, Columbus, MS

WTVA, 9, Tupelo, MS (formerly WTWV)

WHNT-TV, 19, Huntsville, AL

+WZDX, 54, Huntsville, AL

Geneva

WTVY, 4, Dothan, AL

WDHN, 18, Dothan, AL

+WDFX-TV, 34, Ozark, AL (formerly WDAU)

WJHG-TV, 7, Panama City, FL

+WMBB, 13, Panama City, FL

Greene

WBRC, 6, Birmingham, AL

WVTM-TV, 13, Birmingham, AL (formerly WAPI)

+WDBB, 17, Bessemer, AL

WCFT-TV, 33, Tuscaloosa, AL

WTOK-TV, 11, Meridian, MS

Hale

WBRC, 6, Birmingham, AL

WVTM-TV, 13, Birmingham, AL (formerly WAPI)

+WDBB, 17, Bessemer, AL

+WTTO, 21, Birmingham, AL

WCFT-TV, 33, Tuscaloosa, AL

WTOK-TV, 11, Meridian, MS

Henry

WRBL, 3, Columbus, GA

WTVM, 9, Columbus, GA

WTVY, 4, Dothan, AL

+WDFX-TV, 34, Ozark, AL

Houston

WTVY, 4, Dothan, AL

WDHN, 18, Dothan, AL

+WDFX-TV, 34, Ozark, AL (formerly WDAU)

WJHG-TV, 7, Panama City, FL

WMBB, 13, Panama City, FL

Jackson

WRCB-TV, 3, Chattanooga, TN

WTVC, 9, Chattanooga, TN

WDEF-TV, 12, Chattanooga, TN

+WDSI-TV, 61, Chattanooga, TN

+WZDX, 54, Huntsville, AL

Jefferson

WBRC, 6, Birmingham, AL

WVTM-TV, 13, Birmingham, AL (formerly WAPI)

+WDBB, 17, Bessemer, AL

+WTTO, 21, Birmingham, AL

WIAT, 42, Birmingham, AL (formerly WBMG)

Lamar

WCBI-TV, 4, Columbus, MS

+WTVA, 9, Tupelo, MS

WBRC, 6, Birmingham, AL

WVTM-TV, 13, Birmingham, AL (formerly WAPI)

+WDBB, 17, Bessemer, AL

Lauderdale

WHDF, 15, Florence, AL (formerly WOWL)

WHNT-TV, 19, Huntsville, AL

WAAY-TV, 31, Huntsville, AL

WAFF, 48, Huntsville, AL (formerly WMSL)

+WZDX, 54, Huntsville, AL

Lawrence

WHNT-TV, 19, Huntsville, AL

+WYLE, 26, Florence, AL (formerly WTRT)

WAAY-TV, 31, Huntsville, AL

WAFF, 48, Huntsville, AL (formerly WMSL)

+WZDX, 54, Huntsville, AL

WBRC, 6, Birmingham, AL

Lee

WRBL, 3, Columbus, GA

WTVM, 9, Columbus, GA

+WXTX, 54, Columbus, GA

WSFA, 12, Montgomery, AL

Limestone

WHNT-TV, 19, Huntsville, AL

WAAY-TV, 31, Huntsville, AL

WAFF, 48, Huntsville, AL (formerly WMSL)

+WZDX, 54, Huntsville, AL

Lowndes

WSFA, 12, Montgomery, AL

WCOV-TV, 20, Montgomery, AL

WNCF, 32, Montgomery, AL (formerly WKAB)

Macon

+WAKA, 8, Selma, AL

WSFA, 12, Montgomery, AL

WCOV-TV, 20, Montgomery, AL

WRBL, 3, Columbus, GA

WTVM, 9, Columbus, GA

+WXTX, 54, Columbus, GA

Madison

WHNT-TV, 19, Huntsville, AL

WAAY-TV, 31, Huntsville, AL

WAFF, 48, Huntsville, AL (formerly WMSL)

+WZDX, 54, Huntsville, AL

Marengo

WTOK-TV, 11, Meridian, MS

+WAKA, 8, Selma, AL

+WDBB, 17, Bessemer, AL

Marion

WBRC, 6, Birmingham, AL

WVTM-TV, 13, Birmingham, AL (formerly WAPI)

+WTTO, 21, Birmingham, AL

WCBI-TV, 4, Columbus, MS

+WTVA, 9, Tupelo, MS

Marshall

WHNT-TV, 19, Huntsville, AL

WAAY-TV, 31, Huntsville, AL

WAFF, 48, Huntsville, AL (formerly WMSL)

+WZDX, 54, Huntsville, AL

WBRC, 6, Birmingham, AL

WVTM-TV, 13, Birmingham, AL (formerly WAPI)

+WTTO, 21, Birmingham, AL

Mobile

WEAR-TV, 3, Pensacola, FL

WKRG-TV, 5, Mobile, AL

WALA-TV, 10, Mobile, AL

+WPMI, 15, Mobile, AL

+WJTC, 44, Pensacola, FL

Monroe

WEAR-TV, 3, Pensacola, FL

WKRG-TV, 5, Mobile, AL

WALA-TV, 10, Mobile, AL

+WPMI, 15, Mobile, AL

+WAKA, 8, Selma, AL

Montgomery

+WAKA, 8, Selma, AL

WSFA, 12, Montgomery, AL

WCOV-TV, 20, Montgomery, AL

WNCF, 32, Montgomery, AL (formerly WKAB)

Morgan

WHNT-TV, 19, Huntsville, AL

WAAY-TV, 31, Huntsville, AL

WAFF, 48, Huntsville, AL (formerly WMSL)

+WZDX, 54, Huntsville, AL

WBRC, 6, Birmingham, AL

+WTTO, 21, Birmingham, AL

Perry

WBRC, 6, Birmingham, AL

WVTM-TV, 13, Birmingham, AL (formerly WAPI)

+WAKA, 8, Selma, AL

WSFA, 12, Montgomery, AL

Pickens

WBRC, 6, Birmingham, AL

WVTM-TV, 13, Birmingham, AL (formerly WAPI)

+WDBB, 17, Bessemer, AL

+WTTO, 21, Birmingham, AL

WCBI-TV, 4, Columbus, MS

Pike

+WAKA, 8, Selma, AL

WSFA, 12, Montgomery, AL

WRBL, 3, Columbus, GA

WTVM, 9, Columbus, GA

WTVY, 4, Dothan, AL

+WDFX-TV, 34, Ozark, AL (formerly WDAU)

Randolph

WRBL, 3, Columbus, GA

WTVM, 9, Columbus, GA

+WXTX, 54, Columbus, GA

WSB-TV, 2, Atlanta, GA

WAGA, 5, Atlanta, GA

WXIA-TV, 11, Atlanta, GA (formerly WQXI)

Russell

WRBL, 3, Columbus, GA

WTVM, 9, Columbus, GA

WLTZ, 38, Columbus, GA (formerly WYEA)

+WXTX, 54, Columbus, GA

St. Clair

WBRC, 6, Birmingham, AL

WVTM-TV, 13, Birmingham, AL (formerly WAPI)

+WTTO, 21, Birmingham, AL

Shelby

WBRC, 6, Birmingham, AL

WVTM-TV, 13, Birmingham, AL (formerly WAPI)

+WDBB, 17, Bessemer, AL

+WTTO, 21, Birmingham, AL

WIAT, 42, Birmingham, AL (formerly WBMG)

Sumter

WTOK-TV, 11, Meridian, MS

Talladega

WBRC, 6, Birmingham, AL

WVTM-TV, 13, Birmingham, AL (formerly WAPI)

+WDBB, 17, Bessemer, AL

WIAT, 42, Birmingham, AL (formerly WBMG)

Tallapoosa

WBRC, 6, Birmingham, AL

WVTM-TV, 13, Birmingham, AL (formerly WAPI)

+WTTO, 21, Birmingham, AL

WRBL, 3, Columbus, GA

WTVM, 9, Columbus, GA

+WAKA, 8, Selma, AL

WSFA, 12, Montgomery, AL

Tuscaloosa

WBRC, 6, Birmingham, AL

WVTM-TV, 13, Birmingham, AL (formerly WAPI)

+WTTO, 21, Birmingham, AL

WCFT-TV, 33, Tuscaloosa, AL

Walker

WBRC, 6, Birmingham, AL

WVTM-TV, 13, Birmingham, AL (formerly WAPI)

+WDBB, 17, Bessemer, AL

WIAT, 42, Birmingham, AL (formerly WBMG)

Washington

WEAR-TV, 3, Pensacola, FL

WKRG-TV, 5, Mobile, AL

WALA-TV, 10, Mobile, AL

+WPMI, 15, Mobile, AL

Wilcox

+WAKA, 8, Selma, AL

WSFA, 12, Montgomery, AL

WEAR-TV, 3, Pensacola, FL

WKRG-TV, 5, Mobile, AL

Winston

WBRC, 6, Birmingham, AL

WVTM-TV, 13, Birmingham, AL (formerly WAPI)

+WTTO, 21, Birmingham, AL

WIAT, 42, Birmingham, AL (formerly WBMG)

WHNT-TV, 19, Huntsville, AL

Adamsburg—WHNT-TV, WAAY-TV, WAFF

Anniston—WTTO

Collbran—WHNT-TV, WAAY-TV, WAFF

Fort Payne—WHNT-TV, WAAY-TV, WAFF

Gadsden—WTTO

Glenco—WTTO

Henegar—WHNT-TV, WAAY-TV, WAFF

Ider—WHNT-TV, WAAY-TV, WAFF

Jacksonville—WTTO

Pine Ridge—WHNT-TV, WAAY-TV, WAFF

Pisgah—WHNT-TV, WAAY-TV, WAFF

Rainbow City—WTTO

Russellville—WAFF

Sylvania—WHNT-TV, WAAY-TV, WAFF

Valley Head—WHNT-TV, WAAY-TV, WAFF

White Hall—WHNT-TV, WAAY-TV, WAFF

Unincorporated portions of DeKalb County—WHNT-TV, WAAY-TV, WAFF

Unincorporated portions of Jackson County—WHNT-TV, WAAY-TV, WAFF

Unincorporated portions of Franklin County (north of Russellville)—WAFF

ARIZONA

Apache

KVOA, 4, Tucson, AZ

KGUN, 9, Tucson, AZ

KOLD-TV, 13, Tucson, AZ

KOB-TV, 4, Albuquerque, NM

KOAT-TV, 7, Albuquerque, NM

KRQE, 13, Albuquerque, NM (formerly KGGM)

Cochise

KVOA, 4, Tucson, AZ

KGUN, 9, Tucson, AZ

KOLD-TV, 13, Tucson, AZ

Coconino

KNAZ-TV, 2, Flagstaff, AZ (formerly KOAI)

KTVK, 3, Phoenix, AZ

KPHO-TV, 5, Phoenix, AZ

KSAZ-TV, 10, Phoenix, AZ (formerly KOOL)

KPNX, 12, Phoenix, AZ (formerly KTAR)

Gila

KTVK, 3, Phoenix, AZ

KPHO-TV, 5, Phoenix, AZ

KSAZ-TV, 10, Phoenix, AZ (formerly KOOL)

KPNX, 12, Phoenix, AZ (formerly KTAR)

Graham

KPNX, 12, Phoenix, AZ (formerly KTAR)

KVOA, 4, Tucson, AZ

KGUN, 9, Tucson, AZ

KOLD-TV, 13, Tucson, AZ

Greenlee

KVOA, 4, Tucson, AZ

KGUN, 9, Tucson, AZ

KOLD-TV, 13, Tucson, AZ

La Paz

+KPHO-TV, 5, Phoenix, AZ

+KECY-TV, 9, El Centro, CA

+KYMA, 11, Yuma, AZ

+KSWT, 13, Yuma, AZ (formerly KYEL)

Maricopa

KTVK, 3, Phoenix, AZ

KPHO-TV, 5, Phoenix, AZ

KSAZ-TV, 10, Phoenix, AZ (formerly KOOL)

KPNX, 12, Phoenix, AZ (formerly KTAR)

+KNXV-TV, 15, Phoenix, AZ

Mohave

KTVK, 3, Phoenix, AZ

KPHO-TV, 5, Phoenix, AZ

KSAZ-TV, 10, Phoenix, AZ (formerly KOOL)

KPNX, 12, Phoenix, AZ (formerly KTAR)

KVBC, 3, Las Vegas, NV (formerly KORK)

Navajo

KNAZ-TV, 2, Flagstaff, AZ (formerly KOAI)

KSAZ-TV, 10, Phoenix, AZ (formerly KOOL)

KVOA, 4, Tucson, AZ

KGUN, 9, Tucson, AZ

KOLD-TV, 13, Tucson, AZ

Pima East

KVOA, 4, Tucson, AZ

KGUN, 9, Tucson, AZ

KMSB-TV, 11, Tucson, AZ (formerly KZAZ)

KOLD-TV, 13, Tucson, AZ

+KTTU-TV, 18, Tucson, AZ

Pima West

KVOA, 4, Tucson, AZ

KGUN, 9, Tucson, AZ

KOLD-TV, 13, Tucson, AZ

+KTTU-TV, 18, Tucson, AZ

KPHO-TV, 5, Phoenix, AZ

Pinal

KTVK, 3, Phoenix, AZ

KPHO-TV, 5, Phoenix, AZ

KSAZ-TV, 10, Phoenix, AZ (formerly KOOL)

KPNX, 12, Phoenix, AZ (formerly KTAR)

+KNXV-TV, 15, Phoenix, AZ

KVOA, 4, Tucson, AZ

+KTTU-TV, 18, Tucson, AZ

Santa Cruz

KVOA, 4, Tucson, AZ

KGUN, 9, Tucson, AZ

KMSB-TV, 11, Tucson, AZ (formerly KZAZ)

KOLD-TV, 13, Tucson, AZ

+KTTU-TV, 18, Tucson, AZ

KPHO-TV, 5, Phoenix, AZ

XHFA, 2, Mexico

Yavapai

KTVK, 3, Phoenix, AZ

KPHO-TV, 5, Phoenix, AZ

KSAZ-TV, 10, Phoenix, AZ (formerly KSAZ)

KPNX, 12, Phoenix, AZ (formerly KTAR)

Yuma

KPHO-TV, 5, Phoenix, AZ

+KYMA, 11, Yuma, AZ

KSWT, 13, Yuma, AZ (formerly KBLU & KYEL)

KECY-TV, 9, El Centro, CA (formerly KECC)

ARKANSAS

Arkansas

KARK-TV, 4, Little Rock, AR

KATV, 7, Little Rock, AR

KTHV, 11, Little Rock, AR

KLRT, 16, Little Rock, AR

Ashley

KNOE-TV, 8, Monroe, LA

KTVE, 10, Monroe, LA

Baxter

KYTV, 3, Springfield, MO

KOLR, 10, Springfield, MO (formerly KTTS)

KDEB-TV, 27, Springfield, MO (formerly KMTC)

KSPR, 33, Springfield, MO

Benton

KOAM-TV, 7, Pittsburg, KS

KODE-TV, 12, Joplin, MO

KSNF, 16, Joplin, MO (formerly KUHI)

KFSM-TV, 5, Fort Smith, AR (formerly KFSA)

KOTV, 6, Tulsa, OK

KTUL, 8, Tulsa, OK

+KOLR, 10, Springfield, MO

Boone

KYTV, 3, Springfield, MO

KOLR, 10, Springfield, MO (formerly KTTS)

+KSPR, 33, Springfield, MO

Bradley

KARK-TV, 4, Little Rock, AR

KATV, 7, Little Rock, AR

KTHV, 11, Little Rock, AR

KTVE, 10, Monroe, LA

Calhoun

KARK-TV, 4, Little Rock, AR

KATV, 7, Little Rock, AR

KNOE-TV, 8, Monroe, LA

KTVE, 10, Monroe, LA

Carroll

KYTV, 3, Springfield, MO

KOLR, 10, Springfield, MO (formerly KTTS)

+KSPR, 33, Springfield, MO

Chicot

KNOE-TV, 8, Monroe, LA

KTVE, 10, Monroe, LA

WABG-TV, 6, Greenwood, MS

Clark

KARK-TV, 4, Little Rock, AR

KATV, 7, Little Rock, AR

KTHV, 11, Little Rock, AR

+KLRT, 16, Little Rock, AR

Clay

WREG-TV, 3, Memphis, TN (formerly WREC)

WMC-TV, 5, Memphis, TN

WHBQ-TV, 13, Memphis, TN

KAIT-TV, 8, Jonesboro, AR

Cleburne

KARK-TV, 4, Little Rock, AR

KATV, 7, Little Rock, AR

KTHV, 11, Little Rock, AR

+KLRT, 16, Little Rock, AR

Cleveland

KARK-TV, 4, Little Rock, AR

KATV, 7, Little Rock, AR

KTHV, 11, Little Rock, AR

Columbia

KTBS-TV, 3, Shreveport, LA

KTAL-TV, 6, Shreveport, LA

KSLA-TV, 12, Shreveport, LA

+KMSS-TV, 33, Shreveport, LA

Conway

KARK-TV, 4, Little Rock, AR

KATV, 7, Little Rock, AR

KTHV, 11, Little Rock, AR

+KLRT, 16, Little Rock, AR

Craighead

KAIT-TV, 8, Jonesboro, AR

WREG-TV, 3, Memphis, TN (formerly WREC)

WMC-TV, 5, Memphis, TN

WHBQ-TV, 13, Memphis, TN

+WPTY-TV, 24, Memphis, TN

Crawford

KFSM-TV, 5, Fort Smith, AR (formerly KFSA)

KTUL, 8, Tulsa, OK

Crittenden

WREG-TV, 3, Memphis, TN (formerly WREC)

WMC-TV, 5, Memphis, TN

WHBQ-TV, 13, Memphis, TN

+WLMT, 30, Memphis, TN

Cross

WREG-TV, 3, Memphis, TN (formerly WREC)

WMC-TV, 5, Memphis, TN

WHBQ-TV, 13, Memphis, TN

+WLMT, 30, Memphis, TN

+KAIT-TV, 8, Jonesboro, AR

Dallas

KARK-TV, 4, Little Rock, AR

KATV, 7, Little Rock, AR

KTHV, 11, Little Rock, AR

Desha

KARK-TV, 4, Little Rock, AR

KATV, 7, Little Rock, AR

KTHV, 11, Little Rock, AR

+KASN, 38, Pine Bluff, AR

KTVE, 10, Monroe, LA

Drew

KARK-TV, 4, Little Rock, AR

KATV, 7, Little Rock, AR

KTHV, 11, Little Rock, AR

KTVE, 10, Monroe, LA

Faulkner

KARK-TV, 4, Little Rock, AR

KATV, 7, Little Rock, AR

KTHV, 11, Little Rock, AR

+KLRT, 16, Little Rock, AR

+KASN, 38, Pine Bluff, AR

Franklin

KFSM-TV, 5, Fort Smith, AR (formerly KFSA)

KARK-TV, 4, Little Rock, AR

KTHV, 11, Little Rock, AR

Fulton

KYTV, 3, Springfield, MO

+KOLR, 10, Springfield, MO

KAIT-TV, 8, Jonesboro, AR

Garland

KARK-TV, 4, Little Rock, AR

KATV, 7, Little Rock, AR

KTHV, 11, Little Rock, AR

+KLRT, 16, Little Rock, AR

+KASN, 38, Pine Bluff, AR

Grant

KARK-TV, 4, Little Rock, AR

KATV, 7, Little Rock, AR

KTHV, 11, Little Rock, AR

+KLRT, 16, Little Rock, AR

Greene

WREG-TV, 3, Memphis, TN (formerly WREC)

WMC-TV, 5, Memphis, TN

WHBQ-TV, 13, Memphis, TN

+WPTY-TV, 24, Memphis, TN

KAIT-TV, 8, Jonesboro, AR

Hempstead

KTBS-TV, 3, Shreveport, LA

KTAL-TV, 6, Shreveport, LA

KSLA-TV, 12, Shreveport, LA

+KMSS-TV, 33, Shreveport, LA

Hot Springs

KARK-TV, 4, Little Rock, AR

KATV, 7, Little Rock, AR

KTHV, 11, Little Rock, AR

+KASN, 38, Pine Bluff, AR

Howard

KTBS-TV, 3, Shreveport, LA

KTAL-TV, 6, Shreveport, LA

Independence

KARK-TV, 4, Little Rock, AR

KATV, 7, Little Rock, AR

KTHV, 11, Little Rock, AR

+KAIT-TV, 8, Jonesboro, AR

Izard

KARK-TV, 4, Little Rock, AR

KTHV, 11, Little Rock, AR

KYTV, 3, Springfield, MO

+KOLR, 10, Springfield, MO

+KAIT-TV, 8, Jonesboro, AR

Jackson

KARK-TV, 4, Little Rock, AR

KTHV, 11, Little Rock, AR

KAIT-TV, 8, Jonesboro, AR

WREG-TV, 3, Memphis, TN (formerly WREC)

WMC-TV, 5, Memphis, TN

Jefferson

KARK-TV, 4, Little Rock, AR

KATV, 7, Little Rock, AR

KTHV, 11, Little Rock, AR

+KLRT, 16, Little Rock, AR

+KASN, 38, Pine Bluff, AR

Johnson

KARK-TV, 4, Little Rock, AR

KATV, 7, Little Rock, AR

KTHV, 11, Little Rock, AR

+KLRT, 16, Little Rock, AR

KFSM-TV, 5, Fort Smith, AR (formerly KFSA)

Lafayette

KTBS-TV, 3, Shreveport, LA

KTAL-TV, 6, Shreveport, LA

KSLA-TV, 12, Shreveport, LA

+KMSS-TV, 33, Shreveport, LA

Lawrence

KAIT-TV, 8, Jonesboro, AR

WREG-TV, 3, Memphis, TN (formerly WREC)

WMC-TV, 5, Memphis, TN

Lee

WREG-TV, 3, Memphis, TN (formerly WREC)

WMC-TV, 5, Memphis, TN

WHBQ-TV, 13, Memphis, TN

+WPTY-TV, 24, Memphis, TN

KATV, 7, Little Rock, AR

Lincoln

KARK-TV, 4, Little Rock, AR

KATV, 7, Little Rock, AR

KTHV, 11, Little Rock, AR

Little River

KTBS-TV, 3, Shreveport, LA

KTAL-TV, 6, Shreveport, LA

KSLA-TV, 12, Shreveport, LA

Logan

KFSM-TV, 5, Fort Smith, AR (formerly KFSA)

KARK-TV, 4, Little Rock, AR

KTHV, 11, Little Rock, AR

Lonoke

KARK-TV, 4, Little Rock, AR

KATV, 7, Little Rock, AR

KTHV, 11, Little Rock, AR

+KLRT, 16, Little Rock, AR

+KASN, 38, Pine Bluff, AR

Madison

KYTV, 3, Springfield, MO

+KOLR, 10, Springfield, MO

KFSM-TV, 5, Fort Smith, AR (formerly KFSA)

Marion

KYTV, 3, Springfield, MO

KOLR, 10, Springfield, MO (formerly KTTS)

KDEB-TV, 27, Springfield, MO (formerly KMTC)

+KSPR, 33, Springfield, MO

KARK-TV, 4, Little Rock, AR

KTHV, 11, Little Rock, AR

Miller

KTBS-TV, 3, Shreveport, LA

KTAL-TV, 6, Shreveport, LA

KSLA-TV, 12, Shreveport, LA

+KMSS-TV, 33, Shreveport, LA

Mississippi

WREG-TV, 3, Memphis, TN (formerly WREC)

WMC-TV, 5, Memphis, TN

WHBQ-TV, 13, Memphis, TN

+WPTY-TV, 24, Memphis, TN

+WLMT, 30, Memphis, TN

+KAIT-TV, 8, Jonesboro, AR

Monroe

KARK-TV, 4, Little Rock, AR

KATV, 7, Little Rock, AR

KTHV, 11, Little Rock, AR

+KLRT, 16, Little Rock, AR

Montgomery

KARK-TV, 4, Little Rock, AR

KATV, 7, Little Rock, AR

KTHV, 11, Little Rock, AR

Nevada

KARK-TV, 4, Little Rock, AR

KATV, 7, Little Rock, AR

KTHV, 11, Little Rock, AR

KTBS-TV, 3, Shreveport, LA

KTAL-TV, 6, Shreveport, LA

KSLA-TV, 12, Shreveport, LA

Newton

KYTV, 3, Springfield, MO

KARK-TV, 4, Little Rock, AR

KTHV, 11, Little Rock, AR

Ouachita

KARK-TV, 4, Little Rock, AR

KATV, 7, Little Rock, AR

KTHV, 11, Little Rock, AR

KTVE, 10, Monroe, LA

Perry

KARK-TV, 4, Little Rock, AR

KATV, 7, Little Rock, AR

KTHV, 11, Little Rock, AR

Phillips

WREG-TV, 3, Memphis, TN (formerly WREC)

WMC-TV, 5, Memphis, TN

WHBQ-TV, 13, Memphis, TN

KATV, 7, Little Rock, AR

Pike

KARK-TV, 4, Little Rock, AR

KATV, 7, Little Rock, AR

KTHV, 11, Little Rock, AR

KTBS-TV, 3, Shreveport, LA

KTAL-TV, 6, Shreveport, LA

Poinsett

WREG-TV, 3, Memphis, TN (formerly WREC)

WMC-TV, 5, Memphis, TN

WHBQ-TV, 13, Memphis, TN

+WLMT, 30, Memphis, TN

KAIT-TV, 8, Jonesboro, AR

Polk

KARK-TV, 4, Little Rock, AR

KATV, 7, Little Rock, AR

KTHV, 11, Little Rock, AR

KFSM-TV, 5, Fort Smith, AR (formerly KFSA)

KTAL-TV, 6 Shreveport, LA

Pope

KARK-TV, 4, Little Rock, AR

KATV, 7, Little Rock, AR

KTHV, 11, Little Rock, AR

+KLRT, 16, Little Rock, AR

Prairie

KARK-TV, 4, Little Rock, AR

KATV, 7, Little Rock, AR

KTHV, 11, Little Rock, AR

Pulaski

KARK-TV, 4, Little Rock, AR

KATV, 7, Little Rock, AR

KTHV, 11, Little Rock, AR

+KLRT, 16, Little Rock, AR

KASN, 38, Pine Bluff, AR (formerly KJTM)

Randolph

KAIT-TV, 8, Jonesboro, AR

WREG-TV, 3, Memphis, TN (formerly WREC)

WMC-TV, 5, Memphis, TN

St. Francis

WREG-TV, 3, Memphis, TN (formerly WREC)

WMC-TV, 5, Memphis, TN

WHBQ-TV, 13, Memphis, TN

+WPTY-TV, 24, Memphis, TN

+WLMT, 30, Memphis, TN

KATV, 7, Little Rock, AR

+KAIT-TV, 8, Jonesboro, AR

Saline

KARK-TV, 4, Little Rock, AR

KATV, 7, Little Rock, AR

KTHV, 11, Little Rock, AR

+KLRT, 16, Little Rock, AR

+KASN, 38, Pine Bluff, AR

Scott

KFSM-TV, 5, Fort Smith, AR (formerly KFSA)

KARK-TV, 4, Little Rock, AR

KTUL, 8, Tulsa, OK

Searcy

KARK-TV, 4, Little Rock, AR

KATV, 7, Little Rock, AR

KTHV, 11, Little Rock, AR

KYTV, 3, Springfield, MO

Sebastian

KFSM-TV, 5, Fort Smith, AR (formerly KFSA)

KTUL, 8, Tulsa, OK

Sevier

KTBS-TV, 3, Shreveport, LA

KTAL-TV, 6, Shreveport, LA

KSLA-TV, 12, Shreveport, LA

Sharp

KAIT-TV, 8, Jonesboro, AR

KARK-TV, 4, Little Rock, AR

WMC-TV, 5, Memphis, TN

Stone

KARK-TV, 4, Little Rock, AR

KATV, 7, Little Rock, AR

KTHV, 11, Little Rock, AR

Union

KNOE-TV, 8, Monroe, LA

KTVE, 10, Monroe, LA

KATV, 7, Little Rock, AR

KTBS-TV, 3, Shreveport, LA

KTAL-TV, 6, Shreveport, LA

Van Buren

KARK-TV, 4, Little Rock, AR

KATV, 7, Little Rock, AR

KTHV, 11, Little Rock, AR

+KLRT, 16, Little Rock, AR

Washington

KOTV, 6, Tulsa, OK

KTUL, 8, Tulsa, OK

KFSM-TV, 5, Fort Smith, AR (formerly KFSA)

KODE-TV, 12, Joplin, MO

+KOLR, 10, Springfield, MO

White

KARK-TV, 4, Little Rock, AR

KATV, 7, Little Rock, AR

KTHV, 11, Little Rock, AR

+KLRT, 16, Little Rock, AR

+KASN, 38, Pine Bluff, AR

Woodruff

KARK-TV, 4, Little Rock, AR

KATV, 7, Little Rock, AR

KTHV, 11, Little Rock, AR

Yell

KARK-TV, 4, Little Rock, AR

KATV, 7, Little Rock, AR

KTHV, 11, Little Rock, AR

KFSM-TV, 5, Fort Smith, AR (formerly KFSA)

CALIFORNIA

Alameda East

KTVU, 2, Oakland, CA

KRON-TV, 4, San Francisco, CA

KPIX-TV, 5, San Francisco, CA

KGO-TV, 7, San Francisco, CA

KICU-TV, 36, San Jose, CA (formerly KGSC)

Alameda West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Alpine

KTVN, 2, Reno, NV

KRNV, 4, Reno, NV (formerly KCRL)

KOLO-TV, 8, Reno, NV

Amador

KCRA-TV, 3, Sacramento, CA

KXTV, 10, Sacramento, CA

KOVR, 13, Stockton, CA

+KMAX-TV, 31, Sacramento, CA (formerly KRBK)

+KTXL, 40, Sacramento, CA

Butte

KRCR-TV, 7, Redding, CA

KHSL-TV, 12, Chico, CA

+KNVN, 24, Chico, CA (formerly KCPM)

KCRA-TV, 3, Sacramento, CA

KXTV, 10, Sacramento, CA

KOVR, 13, Stockton, CA

+KMAX-TV, 31, Sacramento, CA (formerly KRBK)

+KTXL, 40, Sacramento, CA

Calaveras

KCRA-TV, 3, Sacramento, CA

KXTV, 10, Sacramento, CA

KOVR, 13, Stockton, CA

+KTXL, 40, Sacramento, CA

Colusa

KCRA-TV, 3, Sacramento, CA

KXTV, 10, Sacramento, CA

KOVR, 13, Stockton, CA

+KTXL, 40, Sacramento, CA

KRCR-TV, 7, Redding, CA

KHSL-TV, 12, Chico, CA

Contra Costa East

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KTVU, 2, Oakland, CA

KPIX-TV, 5, San Francisco, CA

Contra Costa West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Del Norte

KIEM-TV, 3, Eureka, CA

KVIQ-TV, 6, Eureka, CA

El Dorado East

Over 90% cable penetration.

El Dorado West

KCRA-TV, 3, Sacramento, CA

KXTV, 10, Sacramento, CA

KOVR, 13, Stockton, CA

+KMAX-TV, 31, Sacramento, CA (formerly KRBK)

+KTXL, 40, Sacramento, CA

+KQCA, 58, Stockton, CA (formerly KSCH)

Fresno

KSEE, 24, Fresno, CA (formerly KMJ)

+KMPH, 26, Visalia, CA

KFSN-TV, 30, Fresno, CA (formerly KFRE)

KGPE, 47, Fresno, CA (formerly KJEO)

Glenn

KRCR-TV, 7, Redding, CA

KHSL-TV, 12, Chico, CA

+KNVN, 24, Chico, CA (formerly KCPM)

Humboldt

KIEM-TV, 3, Eureka, CA

KVIQ-TV, 6, Eureka, CA

Imperial

KECY-TV, 9, El Centro, CA (formerly KECC)

KCOP, 13, Los Angeles, CA

+KYMA, 11, Yuma, AZ

KSWT, 13, Yuma, AZ (formerly KBLU)

XHBC, 3, Mexico

Inyo

KCBS-TV, 2, Los Angeles, CA (formerly KNXT)

KNBC, 4, Los Angeles, CA

KTLA, 5, Los Angeles, CA

KABC-TV, 7, Los Angeles, CA

KOLO-TV, 8, Reno, NV

Kern East

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Kern West

KGET, 17, Bakersfield, CA (formerly KJTV)

KERO-TV, 23, Bakersfield, CA

KBAK-TV, 29, Bakersfield, CA

+KUVI, 45, Bakersfield, CA (formerly KUZZ)

+KMPH, 26, Visalia, CA

Kings

KSEE, 24, Fresno, CA (formerly KMJ)

KFSN-TV, 30, Fresno, CA (formerly KFRE)

KGPE, 47, Fresno, CA (formerly KJEO)

KERO-TV, 23, Bakersfield, CA

KBAK-TV, 29, Bakersfield, CA

+KUVI, 45, Bakersfield, CA (formerly KUZZ)

Lake

KCRA-TV, 3, Sacramento, CA

KOVR, 13, Stockton, CA

KTVU, 2, Oakland, CA

Lassen

KTVN, 2, Reno, NV

KRNV, 4, Reno, NV (formerly KCRL)

KOLO-TV, 8, Reno, NV

+KAME-TV, 21, Reno, NV

Los Angeles

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Madera

KSEE, 24, Fresno, CA (formerly KMJ)

+KMPH, 26, Visalia, CA

KFSN-TV, 30, Fresno, CA (formerly KFRE)

KGPE, 47, Fresno, CA (formerly KJEO)

Marin

KTVU, 2, Oakland, CA

KRON-TV, 4, San Francisco, CA

KPIX-TV, 5, San Francisco, CA

KGO-TV, 7, San Francisco, CA

Mariposa

KCRA-TV, 3, Sacramento, CA

KXTV, 10, Sacramento, CA

KOVR, 13, Stockton, CA

KSEE, 24, Fresno, CA (formerly KMJ)

KFSN-TV, 30, Fresno, CA (formerly KFRE)

KGPE, 47, Fresno, CA (formerly KJEO)

Mendocino

KTVU, 2, Oakland, CA

KRON-TV, 4 San Francisco, CA

KPIX-TV, 5, San Francisco, CA

KGO-TV, 7, San Francisco, CA

KIEM-TV, 3, Eureka, CA

Merced

KSEE, 24, Fresno, CA (formerly KMJ)

+KMPH, 26, Visalia, CA

KFSN-TV, 30, Fresno, CA (formerly KFRE)

KGPE, 47, Fresno, CA (formerly KJEO)

+KTXL, 40, Sacramento, CA

Modoc

KRCR-TV, 7, Redding, CA

KOTI, 2, Klamath Falls, OR

KTVL, 10, Medford, OR (formerly KMED)

KOLO-TV, 8, Reno, NV

Mono

KOLO-TV, 8, Reno, NV

KCRA-TV, 3, Sacramento, CA

KTVU, 2, Oakland, CA

KPIX-TV, 5, San Francisco, CA

KGO-TV, 7, San Francisco, CA

Monterey East

KSBW, 8, Salinas, CA

KNTV, 11, San Jose, CA

+KCBA, 35, Salinas, CA

KION, 46, Monterey, CA (formerly KMST)

#KTVU, 2, Oakland, CA ²

² Affected communities are Carmel-by-the-Sea, Del Rey Oaks, Marina, Monterey, unincorporated portions of Monterey County (including Carmel Valley Village), Pacific Grove, Pebble Beach (including Del Monte Forest), Salinas, Sand City, and Seaside, CA.

Monterey West

KSBW, 8, Salinas, CA

KNTV, 11, San Jose, CA

+KCBA, 35, Salinas, CA

KION, 46, Monterey, CA (formerly KMST)

#KTVU, 2, Oakland, CA ³

³ See footnote 1.

Napa North

KTVU, 2, Oakland, CA

KRON-TV, 4, San Francisco, CA

KPIX-TV, 5, San Francisco, CA

KGO-TV, 7, San Francisco, CA

+KMAX-TV, 31, Sacramento, CA (formerly KRBK)

Napa South

KTVU, 2, Oakland, CA

KRON-TV, 4, San Francisco, CA

KPIX-TV, 5, San Francisco, CA

KGO-TV, 7, San Francisco, CA

KBWB, 20, San Francisco, CA (formerly KEMO)

+KMAX-TV, 31, Sacramento, CA (formerly KRBK)

Nevada East

KCRA-TV, 3, Sacramento, CA

KXTV, 10, Sacramento, CA

KOVR, 13, Stockton, CA

+KMAX-TV, 31, Sacramento, CA (formerly KRBK)

+KTXL, 40, Sacramento, CA

KOLO-TV, 8, Reno, NV

KTVU, 2, Oakland, CA

Nevada West

KCRA-TV, 3, Sacramento, CA

KXTV, 10, Sacramento, CA

KOVR, 13, Stockton, CA

+KMAX-TV, 31, Sacramento, CA (formerly KRBK)

+KTXL, 40, Sacramento, CA

Orange North

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Orange South

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Placer East

KOLO-TV, 8, Reno, NV

Placer West

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Plumas

KCRA-TV, 3, Sacramento, CA

KTXL, 40, Sacramento, CA

KHSL-TV, 12, Chico, CA

Riverside East

KTVK, 3, Phoenix, AZ

KPHO-TV, 5, Phoenix, AZ

KSAZ-TV, 10, Phoenix, AZ (formerly KOOL)

KPNX, 12, Phoenix, AZ (formerly KTAR)

+KYMA, 11, Yuma, AZ

Riverside West

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Riverside Central

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Sacramento

KCRA-TV, 3, Sacramento, CA

KXTV, 10, Sacramento, CA

KOVR, 13, Stockton, CA

KTXL, 40, Sacramento, CA

+KQCA, 58, Stockton, CA (formerly KSCH)

San Benito

KTVU, 2, Oakland, CA

KRON-TV, 4, San Francisco, CA

KPIX-TV, 5, San Francisco, CA

KSBW, 8, Salinas, CA

KNTV, 11, San Jose, CA

+KCBA, 35, Salinas, CA

San Bernardino East

KTVK, 3, Phoenix, AZ

KPHO-TV, 5, Phoenix, AZ

KSAZ-TV, 10, Phoenix, AZ (formerly KOOL)

KPNX, 12, Phoenix, AZ (formerly KTAR)

San Bernardino West

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

San Diego

XETV, 6, San Diego, CA

KFMB-TV, 8, San Diego, CA

KGTV, 10, San Diego, CA (formerly KOGO)

+XEWT-TV, 12, San Diego, CA

KNSD, 39, San Diego, CA (formerly KCST)

+KUSI-TV, 51, San Diego, CA

+KSWB-TV, 69, San Diego, CA (formerly KTTY)

#KNBC, 4, Los Angeles, CA ⁴

⁴ Affected community is San Diego, CA.

#KCOP, 13, Los Angeles, CA ⁵

⁵ Affected communities are Bonsall, Camp Pendleton, Cardiff by the Sea, Encinitas, Escondido, Oceanside, Romona, Rancho Santa Fe, San Luis Rey, San Marcos, Solana Beach, Valley Center, and Vista, CA (served by Cox Communications North); Alpine, Bonita, Chula Vista, El Cajon, Imperial Beach, Jamul, La Mesa, Lakeside, Lemon Grove, National City, Pine Valley, Poway, San Diego, San Ysidro, Santee, and Spring Valley, CA (served by Cox Communications South); Del Mar, La Jolla, Poway, and San Diego, CA (served by Southwestern Cable).

San Francisco

KTVU, 2, Oakland, CA

KRON-TV, 4, San Francisco, CA

KPIX-TV, 5, San Francisco, CA

KGO-TV, 7, San Francisco, CA

KBWB, 20, San Francisco, CA (formerly KEMO)

San Joaquin

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

San Luis Obispo

KSBY, 6, San Luis Obispo, CA

KEYT-TV, 3, Santa Barbara, CA

KCOY-TV, 12, Santa Maria, CA

San Mateo

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

Santa Barbara North

KEYT-TV, 3, Santa Barbara, CA

KCOY-TV, 12, Santa Maria, CA

KSBY, 6, San Luis Obispo, CA

Santa Barbara South

KEYT-TV, 3, Santa Barbara, CA

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Santa Clara East

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

KSBW, 8, Salinas, CA

KNTV, 11, San Jose, CA

Santa Clara West

KTVU, 2, Oakland, CA

KRON-TV, 4, San Francisco, CA

KPIX-TV, 5, San Francisco, CA

KGO-TV, 7, San Francisco, CA

KBWB, 20, San Francisco, CA (formerly KEMO)

KBHK-TV, 44, San Francisco, CA

KNTV, 11, San Jose, CA

Santa Cruz

KSBW, 8, Salinas, CA

KNTV, 11, San Jose, CA

+KCBA, 35, Salinas, CA

KION, 46, Monterey, CA (formerly KMST)

#KTVU, 2, Oakland, CA ⁶

⁶ Affected communities are Santa Cruz, Scott's Valley, and unincorporated areas of Santa Cruz County (including the following communities: Aptos, Ben Lomond, Bonny Dune, Boulder Creek, Brookdale, Davenport, Felton, La Selva Beach, Live Oak, Lompico, Mt. Herman, Rio Del Mar, Soquel, and Zayante), CA.

Shasta

KRCR-TV, 7, Redding, CA

KHSL-TV, 12, Chico, CA

+KNVN, 24, Chico, CA (formerly KCPM)

Sierra

KRNV, 4, Reno, NV (formerly KCRL)

KCRA-TV, 3, Sacramento, CA

KXTV, 10, Sacramento, CA

KTVU, 2, Oakland, CA

KRON-TV, 4, San Francisco, CA

Siskiyou

KRCR-TV, 7, Redding, CA

KHSL-TV, 12, Chico, CA

KTVL, 10, Medford, OR (formerly KMED)

Solano East

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KTVU, 2, Oakland, CA

KRON-TV, 4, San Francisco, CA

KPIX-TV, 5, San Francisco, CA

KGO-TV, 7, San Francisco, CA

Solano West

KTVU, 2, Oakland, CA

KRON-TV, 4, San Francisco, CA

KPIX-TV, 5, San Francisco, CA

KGO-TV, 7, San Francisco, CA

Sonoma North

KTVU, 2, Oakland, CA

KRON-TV, 4, San Francisco, CA

KPIX-TV, 5, San Francisco, CA

KGO-TV, 7, San Francisco, CA

Sonoma South

KTVU, 2, Oakland, CA

KRON-TV, 4, San Francisco, CA

KPIX-TV, 5, San Francisco, CA

KGO-TV, 7, San Francisco, CA

Stanislaus

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Sutter

KCRA-TV, 3, Sacramento, CA

KXTV, 10, Sacramento, CA

KOVR, 13, Stockton, CA

+KMAX-TV, 31, Sacramento, CA (formerly KRBK)

+KTXL, 40, Sacramento, CA

+KQCA, 58, Stockton, CA (formerly KSCH)

KHSL-TV, 12, Chico, CA

KTVU, 2, Oakland, CA

Tehama

KRCR-TV, 7, Redding, CA

KHSL-TV, 12, Chico, CA

+KNVN, 24, Chico, CA (formerly KCPM)

Trinity

KRCR-TV, 7, Redding, CA

KHSL-TV, 12, Chico, CA

Tulare

KSEE, 24, Fresno, CA (formerly KMJ)

KFSN-TV, 30, Fresno, CA (formerly KFRE)

KGPE, 47, Fresno, CA (formerly KJEO)

KGET, 17, Bakersfield, CA (formerly KJTV)

KERO-TV, 23, Bakersfield, CA

KBAK-TV, 29, Bakersfield, CA

+KUVI, 45, Bakersfield, CA (formerly KUZZ)

Tuolumne

KCRA-TV, 3, Sacramento, CA

KXTV, 10, Sacramento, CA

KOVR, 13, Stockton, CA

+KMAX-TV, 31, Sacramento, CA (formerly KRBK)

+KTXL, 40, Sacramento, CA

KSBW, 8, Salinas, CA

KTVU, 2, Oakland, CA

KRON-TV, 4, San Francisco, CA

Ventura

KCBS-TV, 2, Los Angeles, CA (formerly KNXT)

KNBC, 4, Los Angeles, CA

KTLA, 5, Los Angeles, CA

KABC-TV, 7, Los Angeles, CA

KCAL-TV, 9, Los Angeles, CA (formerly KHJ)

KTTV, 11, Los Angeles, CA

KCOP, 13, Los Angeles, CA

Yolo

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

Yuba

KCRA-TV, 3, Sacramento, CA

KXTV, 10, Sacramento, CA

KOVR, 13, Stockton, CA

+KMAX-TV, 31, Sacramento, CA (formerly KRBK)

KTXL, 40, Sacramento, CA

+KQCA, 58, Stockton, CA (formerly KSCH)

KHSL-TV, 12, Chico, CA

Camp Pendleton (southern portion)—KTLA

Carlsbad—KTLA (including La Costa in unin. aeas of San Diego County)

Danville—KCRA-TV, KXTV, KRON-TV, KGO-TV

Del Mar—KTLA

Encinitas—KTLA

Encinitas—KTLA (portion including parts of Cardiff & Leucadio in unin. aeas of San Diego County)

Escondido —KTLA

Gustine—KSEE, KFSN-TV, KGPE, KCRA-TV, KOVR, KXTV,

KMPH,

Lafayette—KCRA-TV, KXTV, KRON-TV, KGO-TV

Lodi—KICU-TV

Los Banos—KSEE, KFSN-TV, KGPE, KCRA-TV, KOVR, KXTV, KMPH

Martinez—KCRA-TV, KXTV, KRON-TV, KGO-TV

Moraga—KCRA-TV, KXTV, KRON-TV, KGO-TV

Newman—KSEE, KFSN-TV, KGPE, KCRA-TV, KOVR, KXTV, KMPH

Oceanside—KTLA

Orinda—KCRA-TV, KXTV, KRON-TV, KGO-TV

Patterson—KSEE, KFSN-TV, KGPE, KCRA-TV, KOVR, KXTV, KMPH

Pleasant Hill—KCRA-TV, KXTV, KRON-TV, KGO-TV

Ramona—KTLA

San Marcos—KTLA

San Ramon (portions)—KCRA-TV, KXTV, KRON-TV, KGO-TV

Solana Beach (portions)—KTLA

Vista (portions)—KTLA

Walnut Creek (including Rossmoor)—KCRA-TV, KXTV, KRON-TV, KGO-TV

Unincorporated areas of Contra Costa County—KCRA-TV, KXTV, KRON-TV, KGO-TV

Unincorporation portions of San Diego County—KTLA (including Rancho Santa Fe, Whispering Palms & certain unnamed county areas)

Unincorporated areas of San Diego County—KTLA (including Fallbrook area, Lake San Marcos & others)

Unincorporated areas of San Joaquin County—KICU-TV

Unincorporated portions of Stanislaus County—KSEE, KFSN-TV, KGPE, KCRA-TV, KOVR, KXTV, KMPH

COLORADO

Adams

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Alamosa

KOB-TV, 4, Albuquerque, NM

KOAT-TV, 7, Albuquerque, NM

KRQE, 13, Albuquerque, NM (formerly KGGM)

KRDO-TV, 13, Colorado Springs, CO

Arapahoe

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Archuleta

KOB-TV, 4, Albuquerque, NM

KOAT-TV, 7, Albuquerque, NM

KRQE, 13, Albuquerque, NM (formerly KGGM)

Baca

KOAA-TV, 5, Pueblo, CO

KKTV, 11, Colorado Springs, CO

KRDO-TV, 13, Colorado Springs, CO

Bent

KOAA-TV, 5, Pueblo, CO

KKTV, 11, Colorado Springs, CO

KRDO-TV, 13, Colorado Springs, CO

Boulder

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Chaffee

KCNC-TV, 4, Denver, CO (formerly KOA)

KMGH-TV, 7, Denver, CO (formerly KLZ)

KUSA-TV, 9, Denver, CO (formerly KBTV)

KOAA-TV, 5, Pueblo, CO

Cheyenne

KBSH-TV, 7, Hays, KS (formerly KAYS)

KKTV, 11, Colorado Springs, CO

KRDO-TV, 13, Colorado Springs, CO

Clear Creek

KWGN-TV, 2, Denver, CO

KCNC-TV, 4, Denver, CO (formerly KOA)

KMGH-TV, 7, Denver, CO (formerly KLZ)

KUSA-TV, 9, Denver, CO (formerly KBTV)

Conejos

KOB-TV, 4, Albuquerque, NM

KOAT-TV, 7, Albuquerque, NM

KRQE, 13, Albuquerque, NM (formerly KGGM)

Costilla

KOB-TV, 4, Albuquerque, NM

KOAT-TV, 7, Albuquerque, NM

KRQE, 13, Albuquerque, NM (formerly KGGM)

Crowley

KOAA-TV, 5, Pueblo, CO

KKTV, 11, Colorado Springs, CO

KRDO-TV, 13, Colorado Springs, CO

Custer

KOAA-TV, 5, Pueblo, CO

KKTV, 11, Colorado Springs, CO

KRDO-TV, 13, Colorado Springs, CO

Delta

KREX-TV, 5, Grand Junction, CO

KREY-TV, 10, Montrose, CO

KUSA-TV, 9, Denver, CO (formerly KBTV)

Denver

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Dolores

KOB-TV, 4, Albuquerque, NM

KOAT-TV, 7, Albuquerque, NM

KRQE, 13, Albuquerque, NM (formerly KGGM)

Douglas

KWGN-TV, 2, Denver, CO

KCNC-TV, 4, Denver, CO (formerly KOA)

KMGH-TV, 7, Denver, CO (formerly KLZ)

KUSA-TV, 9, Denver, CO (formerly KBTV)

+KTVD, 20, Denver, CO

KRDO-TV, 13, Colorado Springs, CO

Eagle

KCNC-TV, 4, Denver, CO (formerly KOA)

KMGH-TV, 7, Denver, CO (formerly KLZ)

KUSA-TV, 9, Denver, CO (formerly KBTV)

Elbert

KWGN-TV, 2, Denver, CO

KCNC-TV, 4, Denver, CO (formerly KOA)

KMGH-TV, 7, Denver, CO (formerly KLZ)

KUSA-TV, 9, Denver, CO (formerly KBTV)

KKTV, 11, Colorado Springs, CO

KRDO-TV, 13, Colorado Springs, CO

El Paso

KOAA-TV, 5, Pueblo, CO

KKTV, 11, Colorado Springs, CO

KRDO-TV, 13, Colorado Springs, CO

+KXRM-TV, 21, Colorado Springs, CO

Fremont

KOAA-TV, 5, Pueblo, CO

KKTV, 11, Colorado Springs, CO

KRDO-TV, 13, Colorado Springs, CO

Garfield

KREX-TV, 5, Grand Junction, CO

+KJCT-TV, 8, Grand Junction, CO

KCNC-TV, 4, Denver, CO (formerly KOA)

Gilpin

KWGN-TV, 2, Denver, CO

KCNC-TV, 4, Denver, CO (formerly KOA)

KMGH-TV, 7, Denver, CO (formerly KLZ)

KUSA-TV, 9, Denver, CO (formerly KBTV)

Grand

KWGN-TV, 2, Denver, CO

KCNC-TV, 4, Denver, CO (formerly KOA)

KMGH-TV, 7, Denver, CO (formerly KLZ)

KUSA-TV, 9, Denver, CO (formerly KBTV)

Gunnison

KOAA-TV, 5, Pueblo, CO

KUSA-TV, 9, Denver, CO (formerly KBTV)

KREX-TV, 5, Grand Junction, CO

KREY-TV, 10, Montrose, CO

Hinsdale

KREX-TV, 5, Grand Junction, CO

KOAA-TV, 5, Pueblo, CO

Huerfano

KOAA-TV, 5, Pueblo, CO

KKTV, 11, Colorado Springs, CO

KRDO-TV, 13, Colorado Springs, CO

Jackson

KCNC-TV, 4, Denver, CO (formerly KOA)

KGWN-TV, 5, Cheyenne, WY (formerly KFBC)

-2>Jefferson

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Kiowa

KOAA-TV, 5, Pueblo, CO

KKTV, 11, Colorado Springs, CO

KRDO-TV, 13, Colorado Springs, CO

KBSH-TV, 7, Hays, KS (formerly KAYS)

Kit Carson

KBSH-TV, 7, Hays, KS (formerly KAYS)

Lake

KWGN-TV, 2, Denver, CO

KCNC-TV, 4, Denver, CO (formerly KOA)

KMGH-TV, 7, Denver, CO (formerly KLZ)

KUSA-TV, 9, Denver, CO (formerly KBTV)

La Plata

KOB-TV, 4, Albuquerque, NM

KOAT-TV, 7, Albuquerque, NM

KRQE, 13, Albuquerque, NM (formerly KGGM)

KREZ-TV, 6, Durango, CO

Larimer

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

KGWN-TV, 5, Cheyenne, WY (formerly KFBC)

Las Animas

KOAA-TV, 5, Pueblo, CO

KKTV, 11, Colorado Springs, CO

KRDO-TV, 13, Colorado Springs, CO

Lincoln

KOAA-TV, 5, Pueblo, CO

KKTV, 11, Colorado Springs, CO

KRDO-TV, 13, Colorado Springs, CO

KWGN-TV, 2, Denver, CO

KCNC-TV, 4, Denver, CO (formerly KOA)

Logan

KTVS, 3, Sterling, CO

Mesa

KREX-TV, 5, Grand Junction, CO

+KJCT-TV, 8, Grand Junction, CO

Mineral

KOAA-TV, 5, Pueblo, CO

KOAT-TV, 7, Albuquerque, NM

KRQE, 13, Albuquerque, NM (formerly KGGM)

Moffat

KCNC-TV, 4, Denver, CO (formerly KOA)

KMGH-TV, 7, Denver, CO (formerly KLZ)

KUSA-TV, 9, Denver, CO (formerly KBTV)

Montezuma

KOB-TV, 4, Albuquerque, NM

KOAT-TV, 7, Albuquerque, NM

KRQE, 13, Albuquerque, NM (formerly KGGM)

Montrose

+KJCT-TV, 8, Grand Junction, CO

KREY-TV, 10, Montrose, CO

KOAA-TV, 5, Pueblo, CO

KUSA-TV, 9, Denver, CO (formerly KBTV)

KUTV, 2, Salt Lake City, UT

Morgan

KWGN-TV, 2, Denver, CO

KCNC-TV, 4, Denver, CO (formerly KOA)

KMGH-TV, 7, Denver, CO (formerly KLZ)

KUSA-TV, 9, Denver, CO (formerly KBTV)

+KDVR, 31, Denver, CO

KTVS, 3, Sterling, CO

Otero

KOAA-TV, 5, Pueblo, CO

KKTV, 11, Colorado Springs, CO

KRDO-TV, 13, Colorado Springs, CO

+KXRM-TV, 21, Colorado Springs, CO

Ouray

KREX-TV, 5, Grand Junction, CO

Park

KWGN-TV, 2, Denver, CO

KCNC-TV, 4, Denver, CO (formerly KOA)

KMGH-TV, 7, Denver, CO (formerly KLZ)

KUSA-TV, 9, Denver, CO (formerly KBTV)

Phillips

KTVS, 3, Sterling, CO

KHGI-TV, 13, Kearney, NE (formerly KHOL)

Pitkin

Not available.

Prowers

KOAA-TV, 5, Pueblo, CO

KKTV, 11, Colorado Springs, CO

KRDO-TV, 13, Colorado Springs, CO

KSNG, 11, Garden City, KS (formerly KGLD)

Pueblo

KOAA-TV, 5, Pueblo, CO

KKTV, 11, Colorado Springs, CO

KRDO-TV, 13, Colorado Springs, CO

+KXRM-TV, 21, Colorado Springs, CO

Rio Blanco

KUTV, 2, Salt Lake City, UT

KTVX, 4, Salt Lake City, UT (formerly KCPX)

KSL-TV, 5, Salt Lake City, UT

Rio Grande

KOB-TV, 4, Albuquerque, NM

KOAT-TV, 7, Albuquerque, NM

KRQE 13, Albuquerque, NM (formerly KGGM)

Routt

KCNC-TV, 4, Denver, CO (formerly KOA)

KMGH-TV, 7, Denver, CO (formerly KLZ)

KUSA-TV, 9, Denver, CO (formerly KBTV)

Saguache

KOB-TV, 4, Albuquerque, NM

KOAT-TV, 7, Albuquerque, NM

KRQE, 13, Albuquerque, NM (formerly KGGM)

KOAA-TV, 5, Pueblo, CO

San Juan

KREX-TV, 5, Grand Junction, CO

San Miguel

KREX-TV, 5, Grand Junction, CO

Sedgwick

KTVS, 3, Sterling, CO

KHGI-TV, 13, Kearney, NE (formerly KHOL)

KNOP-TV, 2, North Platte, NE

Summit

KWGN-TV, 2, Denver, CO

KCNC-TV, 4, Denver, CO (formerly KOA)

KMGH-TV, 7, Denver, CO (formerly KLZ)

KUSA-TV, 9, Denver, CO (formerly KBTV)

Teller

KCNC-TV, 4, Denver, CO (formerly KOA)

KMGH-TV, 7, Denver, CO (formerly KLZ)

KUSA-TV, 9, Denver, CO (formerly KBTV)

KKTV, 11, Colorado Springs, CO

KRDO-TV, 13, Colorado Springs, CO

Washington

KWGN-TV, 2, Denver, CO

KCNC-TV, 4, Denver, CO (formerly KOA)

KMGH-TV, 7, Denver, CO (formerly KLZ)

KUSA-TV, 9, Denver, CO (formerly KBTV)

KTVS, 3, Sterling, CO

Weld

KWGN-TV, 2, Denver, CO

KCNC-TV, 4, Denver, CO (formerly KOA)

KMGH-TV, 7, Denver, CO (formerly KLZ)

KUSA-TV, 9, Denver, CO (formerly KBTV)

+KTVD, 20, Denver, CO

+KDVR, 31, Denver, CO

Yuma

KBSH-TV, 7, Hays, KS (formerly KAYS)

KSNK, 8, McCook, NE (formerly KOMC)

KTVS, 3, Sterling, CO

KHGI-TV, 13, Kearney, NE (formerly KHOL)

CONNECTICUT

Fairfield

WCBS-TV, 2, New York, NY

WNBC, 4, New York, NY

WNYW, 5, New York, NY (formerly WNEW)

WABC-TV, 7, New York, NY

WWOR-TV, 9, New York, NY (formerly WOR)

WPIX, 11, New York, NY

WTNH-TV, 8, New Haven, CT (formerly WNHC)

+WTXX, 20, Waterbury, CT

Hartford

WFSB, 3, Hartford, CT (formerly WTIC)

WTNH-TV, 8, New Haven, CT (formerly WNHC)

WUVN, 18, Hartford, CT (formerly WHCT)

+WTXX, 20, Waterbury, CT

WVIT, 30, New Britain, CT (formerly WHNB)

+WCTX, 59, New Haven, CT (formerly WBNE)

+WTIC-TV, 61, Hartford, CT

Litchfield

WFSB, 3, Hartford, CT (formerly WTIC)

WTNH-TV, 8, New Haven, CT (formerly WNHC)

+WTXX, 20, Waterbury,CT

WVIT, 30, New Britain, CT (formerly WHNB)

+WTIC-TV, 61, Hartford, CT

WCBS-TV, 2, New York, NY

WNBC, 4, New York, NY

WNYW, 5, New York, NY (formerly WNEW)

WPIX, 11, New York, NY

Middlesex

WFSB, 3, Hartford, CT (formerly WTIC)

WTNH-TV, 8, New Haven, CT (formerly WNHC)

+WTXX, 20, Waterbury, CT

WVIT, 30, New Britain, CT (formerly WHNB)

+WCTX, 59, New Haven, CT (formerly WBNE)

+WTIC-TV, 61, Hartford, CT

WNYW, 5, New York, NY (formerly WNEW)

+WHPX, 26, New London, CT (formerly WTWS)

New Haven

WFSB, 3, Hartford, CT (formerly WTIC)

WTNH-TV, 8, New Haven, CT (formerly WNHC)

+WTXX, 20, Waterbury, CT

+WVIT, 30, New Britain, CT

+WCTX, 59, New Haven, CT (formerly WBNE)

+WTIC-TV, 61, Hartford, CT

WCBS-TV, 2, New York, NY

WNBC, 4, New York, NY

WNYW, 5, New York, NY (formerly WNEW)

#WABC-TV, 7, New York, NY ⁷

⁷ Affected community is New Haven, CT.

#WWOR-TV, 9, New York, NY (formerly WOR) ⁸

⁸ Affected community is New Haven, CT.

WPIX, 11, New York, NY

New London

WTEV, 6, Providence, RI-New Bedford, MA (WLNE)

WJAR, 10, Providence, RI-New Bedford, MA

WPRI, 12, Providence, RI-New Bedford, MA

WCVB-TV, 5, Boston, MA (formerly WHDH)

WFSB, 3, Hartford, CT (formerly WTIC)

WTNH-TV, 8, New Haven, CT (formerly WNHC)

+WTXX, 20, Waterbury, CT

+WTIC-TV, 61, Hartford, CT

+WHPX, 26, New London, CT (formerly WTWS)

Tolland

WFSB, 3, Hartford, CT (formerly WTIC)

WTNH-TV, 8, New Haven, CT (formerly WNHC)

WVIT, 30, New Britain, CT (formerly WHNB)

+WCTX, 59, New Haven, CT (formerly WBNE)

+WTIC-TV, 61, Hartford, CT

WBZ-TV, 4, Boston, MA

WGGB-TV, 40, Springfield, MA (formerly WHYN)

+WHPX, 26, New London, CT (formerly WTWS)

Windham

WLNE-TV, 6, Providence, RI (formerly WTEV)

WJAR, 10, Providence, RI

WPRI-TV, 12, Providence, RI

WBZ-TV, 4, Boston, MA

WCVB-TV, 5, Boston, MA

WHDH-TV, 7, Boston, MA (formerly WNAC)

WFSB, 3, Hartford, CT (formerly WTIC)

WTNH-TV, 8, Hartford, CT (formerly WNHC)

+WTXX, 20, Waterbury, CT

+WTIC-TV, 61, Hartford, CT

+WHPX, 26, New London, CT (formerly WTWS)

Ashford—WVIT, WHPX, WBZ-TV, WCVB

Bridgewater—WABC-TV

Brooklyn—WVIT, WHPX, WBZ-TV, WCVB

Canterbury—WVIT, WHPX, WBZ-TV, WCVB

Chaplin—WVIT, WHPX, WBZ-TV, WCVB

Columbia—WVIT, WHPX, WBZ-TV, WCVB

Coventry—WVIT, WHPX, WBZ-TV, WCVB

Eastford—WVIT, WHPX, WBZ-TV, WCVB

Hampton—WVIT, WHPX, WBZ-TV, WCVB

Kent—WABC-TV

Lebanon—WVIT, WHPX, WBZ-TV, WCVB

Mansfield—WVIT, WHPX, WBZ-TV, WCVB

New Milford—WABC-TV

Pomfret—WVIT, WHPX, WBZ-TV, WCVB

Roxbury—WABC-TV

Scotland—WVIT, WHPX, WBZ-TV, WCVB

Thompson—WVIT, WHPX, WBZ-TV, WCVB

Washington—WABC-TV

Willingham—WVIT, WHPX, WBZ-TV, WCVB

Windham—WVIT, WHPX, WBZ-TV, WCVB

Woodstock—WVIT, WHPX, WBZ-TV, WCVB

DELAWARE

Kent

KYW-TV, 3, Philadelphia, PA

WPVI-TV, 6, Philadelphia, PA (formerly WFIL)

WCAU, 10, Philadelphia, PA

WPHL-TV, 17, Philadelphia, PA

WTXF-TV, 29, Philadelphia, PA ?

+WPSG, 57, Philadelphia, PA (formerly WGBS)

WMAR-TV, 2, Baltimore, MD

WBAL-TV, 11, Baltimore, MD

+WMDT, 47, Salisbury, MD

New Castle

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 47, Altoona, PA (formerly ch. 48)

+WPSG, 57, Philadelphia, PA (formerly WGBS)

Sussex

WBOC-TV, 16, Salisbury, MD

+WMDT, 47, Salisbury, MD

#WMAR-TV, 2, Baltimore, MD ⁹

⁹ Affected communities are Delmar and unincorporated areas of Sussex County, DE.

WBAL-TV, 11, Baltimore, MD

WJZ-TV, 13, Baltimore, MD

#WTTG, 5, Washington, DC ¹⁰

¹⁰ Affected communities are Delmar and unincorporated areas of Sussex County, DE.

Bowers Beach—WTTG, WJZ-TV, WBOC-TV, WMDT

Camden—WTXF-TV

Cheswold—WTXF-TV

Clayton—WTXF-TV

Dover—WTXF-TV

Farmington—WTTG, WJZ-TV, WBOC-TV, WMDT

Felton—WTTG, WJZ-TV, WBOC-TV, WMDT

Frederica—WTTG, WJZ-TV, WBOC-TV, WMDT

Harrington—WTTG, WJZ-TV, WBOC-TV, WMDT

Hartly—WTTG, WJZ-TV, WBOC-TV, WMDT

Houston—WTTG, WJZ-TV, WBOC-TV, WMDT

Kenton—WTTG, WJZ-TV, WBOC, WMDT

Leipsic—WTXF-TV, WTTG, WJZ-TV, WBOC-TV, WMDT

Little Creek—WTXF-TV, WTTG, WJZ-TV, WBOC-TV, WMDT

Magnolia—WTTG, WJZ-TV, WBOC-TV, WMDT

Smyrna—WTXF-TV

Viola—WTTG, WJZ-TV, WBOC-TV, WMDT

Woodside—WTXF-TV

Wyoming—WTXF-TV

Unincorporated areas of Kent County—WTXF-TV, WTTG, WJZ-TV, WBOC-TV, WMDT

DISTRICT OF COLUMBIA

WRC-TV, 4, Washington, DC

WTTG, 5, Washington, DC

WJLA-TV, 7, Washington, DC (formerly WMAL)

WUSA, 9, Washington, DC (formerly WTOP)

WDCA, 20, Washington, DC

FLORIDA

Alachua

WJXT, 4, Jacksonville, FL

WTLV, 12, Jacksonville, FL (formerly WFGA)

WESH, 2, Daytona Beach, FL

+WOGX, 51, Ocala, FL

Baker

WJXT, 4, Jacksonville, FL

WTLV, 12, Jacksonville, FL (formerly WFGA)

WJWB, 17, Jacksonville, FL (formerly WJKS)

Bay

WJHG-TV, 7, Panama City, FL

+WMBB, 13, Panama City, FL

+WPGX, 28, Panama City, FL

WTVY, 4, Dothan, AL

Bradford

WJXT, 4, Jacksonville, FL

WTLV, 12, Jacksonville, FL (formerly WFGA)

WJWB, 17, Jacksonville, FL (formerly WJKS)

Brevard

WESH, 2, Daytona Beach, FL

WKMG-TV, 6, Orlando, FL (formerly WDBO)

WFTV, 9, Orlando, FL

+WKCF, 18, Clermont, FL

+WOFL, 35, Orlando, FL

+WRBW, 65, Orlando, FL

Broward

WFOR-TV, 4, Miami, FL (formerly WTVJ)

WSVN, 7, Miami, FL (formerly WCKT)

WPLG, 10, Miami, FL

WLTV, 23, Miami, FL (formerly WAJA)

+WBFS-TV, 33, Miami, FL

+WBZL, 39, Miami, FL (formerly WDZL)

WPTV, 5, West Palm Beach, FL

WPEC, 12, West Palm Beach, FL (formerly WEAT)

+WFLX, 29, West Palm Beach, FL

Calhoun

WJHG-TV, 7, Panama City, FL

+WMBB, 13, Panama City, FL

+WPGX, 28, Panama City, FL

WTVY, 4, Dothan, AL

WCTV, 6, Tallahassee, FL

Charlotte

WFLA-TV, 8, Tampa, FL

WTVT, 13, Tampa, FL

+WFTS-TV, 28, Tampa, FL

+WVEA-TV, 62, Venice, FL (formerly WBSV)

WINK-TV, 11, Fort Myers, FL

+WFTX, 36, Cape Coral, FL

Citrus

WFLA-TV, 8, Tampa, FL

WTSP, 10, St. Petersburg, FL (formerly WLCY)

WTVT, 13, Tampa, FL

+WFTS, 28, Tampa, FL

WESH, 2, Daytona Beach, FL

WKMG-TV, 6, Orlando, FL (formerly WDBO)

WFTV, 9, Orlando, FL

+WOGX, 51, Ocala, FL

Clay

WJXT, 4, Jacksonville, FL

WTLV, 12, Jacksonville, FL (formerly WFGA)

WJWB, 17, Jacksonville, FL (formerly WJKS)

+WAWS-TV, 30, Jacksonville, FL

+WTEV-TV, 47, Jacksonville, FL

Collier

+WFTX, 36, Cape Coral, FL

+WTVK, 46, Naples, FL

Columbia

WJXT, 4, Jacksonville, FL

WTLV, 12, Jacksonville, FL (formerly WFGA)

Dade

WFOR-TV, 4, Miami, FL (formerly WTVJ)

WTVJ, 6, Miami, FL (formerly WCIX)

WSVN, 7, Miami, FL (formerly WCKT)

WPLG, 10, Miami, FL

WLTV, 23, Miami, FL (formerly WAJA)

+WBFS-TV, 33, Miami, FL

De Soto

WFLA-TV, 8, Tampa, FL

WTVT, 13, Tampa, FL

WTOG, 44, St. Petersburg, FL

WINK-TV, 11, Fort Myers, FL

+WFTX, 36, Cape Coral, FL

Dixie

WJXT, 4, Jacksonville, FL

WTLV, 12, Jacksonville, FL (formerly WFGA)

WESH, 2, Daytona Beach, FL

WCTV, 6, Tallahassee, FL

WTSP, 10, St. Petersburg, FL (formerly WLCY)

Duval

WJXT, 4, Jacksonville, FL

WTLV, 12, Jacksonville, FL (formerly WFGA)

WJWB, 17, Jacksonville, FL (formerly WJKS)

+WAWS-TV, 30, Jacksonville, FL

+WTEV-TV, 47, Jacksonville, FL

Escambia

WEAR-TV, 3, Pensacola, FL

WKRG-TV, 5, Mobile, AL

WALA-TV, 10, Mobile, AL

+WPMI, 15, Mobile, AL

+WJTC, 44, Pensacola, FL

Flagler

WESH, 2, Daytona Beach, FL

WKMG-TV, 6, Orlando, FL (formerly WDBO)

WFTV, 9, Orlando, FL

WJXT, 4, Jacksonville, FL

Franklin

WCTV, 6, Tallahassee, FL

WJHG-TV, 7, Panama City, FL

Gadsden

WCTV, 6, Tallahassee, FL

+WTLH, 49, Bainbridge, GA

WTVY, 4, Dothan, AL

WJHG-TV, 7, Panama City, FL

+WMBB, 13, Panama City, FL

Gilchrist

WJXT, 4, Jacksonville, FL

WTLV, 12, Jacksonville, FL (formerly WFGA)

WESH, 2, Daytona Beach, FL

Glades

WPTV, 5, West Palm Beach, FL

WPEC, 12, West Palm Beach, FL (formerly WEAT)

WINK-TV, 11, Fort Myers, FL

WFOR-TV, 4, Miami, FL (formerly WTVJ)

Gulf

WJHG-TV, 7, Panama City, FL

+WMBB, 13, Panama City, FL

+WPGX, 28, Panama City, FL

WTVY, 4, Dothan, AL

WCTV, 6, Tallahassee, FL

Hamilton

WJXT, 4, Jacksonville, FL

WCTV, 6, Tallahassee, FL

Hardee

WFLA-TV, 8, Tampa, FL

WTVT, 13, Tampa, FL

+WFTS-TV, 28, Tampa, FL

WTOG, 44, St. Petersburg, FL

Hendry

WINK-TV, 11, Fort Myers, FL

WBBH-TV, 20, Fort Myers, FL

+WFTX, 36, Cape Coral, FL

+WTVK, 46, Naples, FL

WPTV, 5, West Palm Beach, FL

WPEC, 12, West Palm Beach, FL (formerly WEAT)

+WFLX, 29, West Palm Beach, FL

Hernando

WFLA-TV, 8, Tampa, FL

WTSP, 10, St. Petersburg, FL (formerly WLCY)

WTVT, 13, Tampa, FL

+WFTS-TV, 28, Tampa, FL

WTOG, 44, St. Petersburg, FL

Highlands

WFLA-TV, 8, Tampa, FL

WTVT, 13, Tampa, FL

+WFTS-TV, 28, Tampa, FL

WINK-TV, 11, Fort Myers, FL

Hillsborough

WFLA-TV, 8, Tampa, FL

WTSP, 10, St. Petersburg, FL (formerly WLCY)

WTVT, 13, Tampa, FL

+WFTS-TV, 28, Tampa, FL

WTOG, 44, St. Petersburg, FL

Holmes

WTVY, 4, Dothan, AL

+WDFX-TV, 34, Ozark, AL (formerly WDAU)

WJHG-TV, 7, Panama City, FL

+WPGX, 28, Panama City, FL

Indian River

WPTV, 5, West Palm Beach, FL

WPEC, 12, West Palm Beach, FL (formerly WEAT)

+WFLX, 29, West Palm Beach, FL

WTVX, 34, Fort Pierce, FL

+WOFL, 35, Orlando, FL

Jackson

WTVY, 4, Dothan, AL

WJHG-TV, 7, Panama City, FL

+WMBB, 13, Panama City, FL

+WPGX, 28, Panama City, FL

WCTV, 6, Tallahassee, FL

Jefferson

WCTV, 6, Tallahassee, FL

+WTLH, 49, Bainbridge, GA

WALB-TV, 10, Albany, GA

Lafayette

WCTV, 6, Tallahassee, FL

Lake

WESH, 2, Daytona Beach, FL

WKMG-TV, 6, Orlando, FL (formerly WDBO)

WFTV, 9, Orlando, FL

+WOFL, 35, Orlando, FL

+WKCF, 18, Clermont, FL

+WFTS-TV, 28, Tampa, FL

Lee

WINK-TV, 11, Fort Myers, FL

WBBH-TV, 20, Fort Myers, FL

+WFTX, 36, Cape Coral, FL

+WTVK, 46, Naples, FL

Leon

WCTV, 6, Tallahassee, FL

+WTLH, 49, Bainbridge, GA

WALB-TV, 10, Albany, GA

WJHG-TV, 7, Panama City, FL

+WMBB, 13, Panama City, FL

Levy

WESH, 2, Daytona Beach, FL

WJXT, 4, Jacksonville, FL

WTSP, 10, St. Petersburg, FL (formerly WLCY)

WTVT, 13, Tampa, FL

+WOGX, 51, Ocala, FL

Liberty

WCTV, 6, Tallahassee, FL

WJHG-TV, 7, Panama City, FL

+WPGX, 28, Panama City, FL

Madison

WCTV, 6, Tallahassee, FL

WALB-TV, 10, Albany, GA

+WFXL, 31, Albany, GA

Manatee

WFLA-TV, 8, Tampa, FL

WTSP, 10, St. Petersburg, FL (formerly WLCY)

WTVT, 13, Tampa, FL

+WFTS-TV, 28, Tampa, FL

WTOG, 44, St. Petersburg, FL

Marion

WESH, 2, Daytona Beach, FL

WKMG-TV, 6, Orlando, FL (formerly WDBO)

WFTV, 9, Orlando, FL

+WOFL, 35, Orlando, FL

+WKCF, 18, Clermont, FL

+WOGX, 51, Ocala, FL

Martin

WPTV, 5, West Palm Beach, FL

WPEC, 12, West Palm Beach, FL (formerly WEAT)

+WFLX, 29, West Palm Beach. FL

WFOR-TV, 4, Miami, FL (formerly WTVJ)

Monroe

WFOR-TV, 4, Miami, FL (formerly WTVJ)

WTVJ, 6, Miami, FL (formerly WCIX)

WSVN, 7, Miami, FL (formerly WCKT)

WPLG, 10, Miami, FL

Nassau

WJXT, 4, Jacksonville, FL

WTLV, 12, Jacksonville, FL (formerly WFGA)

WJWB, 17, Jacksonville, FL (formerly WJKS)

+WAWS-TV, 30, Jacksonville, FL

+WTEV-TV, 47, Jacksonville, FL

Okaloosa

WEAR-TV, 3, Pensacola, FL

WKRG-TV, 5, Mobile, AL

WALA-TV, 10, Mobile, AL

+WPMI, 15, Mobile, AL

+WJTC, 44, Pensacola, FL

WJHG-TV, 7, Panama City, FL

Okeechobee

WPTV, 5, West Palm Beach, FL

WPEC, 12, West Palm Beach, FL (formerly WEAT)

+WFLX, 29, West Palm Beach, FL

Orange

WESH, 2, Daytona Beach, FL

WKMG-TV, 6, Orlando, FL (formerly WDBO)

WFTV, 9, Orlando, FL

+WRBW, 65, Orlando, FL

+WKCF, 18, Clermont, FL

Osceola

WESH, 2, Daytona Beach, FL

WKMG-TV, 6, Orlando, FL (formerly WDBO)

WFTV, 9, Orlando, FL

+WOFL, 35, Orlando, FL

+WRBW, 65, Orlando, FL

+WKCF, 18, Clermont, FL

Palm Beach

WPTV, 5, West Palm Beach, FL

WPEC, 12, West Palm Beach, FL (formerly WEAT)

+WFLX, 29, West Palm Beach, FL

WFOR-TV, 4, Miami, FL (formerly WTVJ)

WSVN, 7, Miami, FL (formerly WCKT)

WPLG, 10, Miami, FL

+WBFS-TV, 33, Miami, FL

Pasco

WFLA-TV, 8, Tampa, FL

WTSP, 10, St. Petersburg, FL (formerly WLCY)

WTVT, 13, Tampa, FL

+WFTS-TV, 28, Tampa, FL

WTOG, 44, St. Petersburg, FL

Pinellas

WFLA-TV, 8, Tampa, FL

WTSP, 10, St. Petersburg, FL (formerly WLCY)

WTVT, 13, Tampa, FL

+WFTS-TV, 28, Tampa, FL

WTOG, 44, St. Petersburg, FL

Polk

WFLA-TV, 8, Tampa, FL

WTSP, 10, St. Petersburg, FL (formerly WLCY)

WTVT, 13, Tampa, FL

+WFTS-TV, 28, Tampa, FL

WTOG, 44, St. Petersburg, FL

WKMG-TV, 6, Orlando, FL (formerly WDBO)

WFTV, 9, Orlando, FL

+WOFL, 35, Orlando, FL

Putnam

WJXT, 4, Jacksonville, FL

WTLV, 12, Jacksonville, FL (formerly WFGA)

WJWB, 17, Jacksonville, FL (formerly WJKS)

+WAWS-TV, 30, Jacksonville, FL

WESH, 2, Daytona Beach, FL

WKMG-TV, 6, Orlando, FL (formerly WDBO)

+WOGX, 51, Ocala, FL

St. Johns

WJXT, 4, Jacksonville, FL

WTLV, 12, Jacksonville, FL (formerly WFGA)

WJWB, 17, Jacksonville, FL (formerly WJKS)

+WAWS-TV, 30, Jacksonville, FL

+WTEV-TV, 47, Jacksonville, FL

St. Lucie

WPTV, 5, West Palm Beach, FL

WPEC, 12, West Palm Beach, FL (formerly WEAT)

+WFLX, 29, West Palm Beach, FL

WTVX, 34, Fort Pierce, FL

+WOPX, 56, Melbourne, FL (formerly WAYK)

Santa Rosa

WEAR-TV, 3, Pensacola, FL

WKRG-TV, 5, Mobile, AL

WALA-TV, 10, Mobile, AL

+WPMI, 15, Mobile, AL

+WJTC, 44, Pensacola, FL

Sarasota

WFLA-TV, 8, Tampa, FL

WTSP, 10, St. Petersburg, FL (formerly WLCY)

WTVT, 13, Tampa, FL

+WFTS-TV, 28, Tampa, FL

WTOG, 44, St. Petersburg, FL

+WVEA-TV, 62, Venice, FL (formerly WBSV)

+WFTX, 36, Cape Coral, FL

Seminole

WESH, 2, Daytona Beach, FL

WKMG-TV, 6, Orlando, FL (formerly WDBO)

WFTV, 9, Orlando, FL

+WRBW, 65, Orlando, FL

+WKCF, 18, Clermont, FL

Sumter

WESH, 2, Daytona Beach, FL

WKMG-TV, 6, Orlando, FL (formerly WDBO)

WFTV, 9, Orlando, FL

WFLA-TV, 8, Tampa, FL

WTVT, 13, Tampa, FL

+WFTS-TV, 28, Tampa, FL

Suwannee

WJXT, 4, Jacksonville, FL

WTLV, 12, Jacksonville, FL (formerly WFGA)

WCTV, 6, Tallahassee, FL

Taylor

WCTV, 6, Tallahassee, FL

+WTWC, 40, Tallahassee, FL

Union

WJXT, 4, Jacksonville, FL

WTLV, 12, Jacksonville, FL (formerly WFGA)

WJWB, 17, Jacksonville, FL (formerly WJKS)

Volusia

WESH, 2, Daytona Beach, FL

WKMG-TV, 6, Orlando, FL (formerly WDBO)

WFTV, 9, Orlando, FL

+WOFL, 35, Orlando, FL

+WRBW, 65, Orlando, FL

+WKCF, 18, Clermont, FL

Wakulla

WCTV, 6, Tallahassee, FL

+WTLH, 49, Bainbridge, GA

WJHG-TV, 7, Panama City, FL

Walton

WJHG-TV, 7, Panama City, FL

+WMBB, 13, Panama City, FL

+WPGX, 28, Panama City, FL

WTVY, 4, Dothan, AL

WEAR-TV, 3, Pensacola, FL

Washington

WTVY, 4, Dothan, AL

WJHG-TV, 7, Panama City, FL

+WMBB, 13, Panama City, FL

+WPGX, 28, Panama City, FL

Avon Park—WFTV

Boca Raton—WBFS-TV

Boynton Beach—WBFS-TV

Cooper City—WFLX

Dania—WFLX

Davie—WFLX

Delray Beach—WBFS-TV

Greenacres—WBFS-TV

Hallandale—WFLX

Hollywood—WFLX

Lake Clarke Shores—WBFS-TV

Lake Worth—WBFS-TV

Lantana—WBFS-TV

Port Charlotte—WZVN-TV (formerly WEVU)

Punta Gorda—WZVN-TV (formerly WEVU)

Sebring—WFTV

Unincorporated Boca Raton—WBFS-TV

Unincorporated Boynton Beach—WBFS-TV

Unincorporated Delray Beach—WBFS-TV

Unincorporated Lake Worth—WBFS-TV

Unincorporated West Palm Beach—WBFS-TV

GEORGIA

Appling

WSAV-TV, 3, Savannah, GA

WTOC-TV, 11, Savannah, GA

WJCL, 22, Savannah, GA

WJBF, 6, Augusta, GA

WJXT, 4, Jacksonville, FL

WCSC-TV, 5, Charleston, SC

Atkinson

WALB-TV, 10, Albany, GA

WCTV, 6, Tallahassee, FL

Bacon

WALB-TV, 10, Albany, GA

WJXT, 4, Jacksonville, FL

WSAV-TV, 3, Savannah, GA

Baker

WALB-TV, 10, Albany, GA

WRBL, 3, Columbus, GA

WTVM, 9, Columbus, GA

WTVY, 4, Dothan, AL

WCTV, 6, Tallahassee, FL

Baldwin

WMAZ-TV, 13, Macon, GA

+WGXA, 24, Macon, GA

+WPGA, 58, Perry, GA

WSB-TV, 2, Atlanta, GA

WAGA, 5, Atlanta, GA

Banks

WSB-TV, 2, Atlanta, GA

WAGA, 5, Atlanta, GA

WXIA-TV, 11, Atlanta, GA (formerly WQXI)

WYFF, 4, Greenville, SC (formerly WFBC)

WSPA-TV, 7, Greenville, SC

Barrow

WSB-TV, 2, Atlanta, GA

WAGA, 5, Atlanta, GA

WXIA-TV, 11, Atlanta, GA (formerly WQXI)

WTBS, 17, Atlanta, GA (formerly WTCG)

Bartow

WSB-TV, 2, Atlanta, GA

WAGA, 5, Atlanta, GA

WXIA-TV, 11, Atlanta, GA (formerly WQXI)

WATL, 36, Atlanta, GA

+WPXA, 14, Rome, GA (formerly WTLK)

Ben Hill

WALB-TV, 10, Albany, GA

+WFXL, 31, Albany, GA

+WSST-TV, 55, Cordele, GA

WMAZ-TV, 13, Macon, GA

Berrien

WALB-TV, 10, Albany, GA

+WFXL, 31, Albany, GA

WCTV, 6, Tallahassee, FL

Bibb

WMAZ-TV, 13, Macon, GA

+WGXA, 24, Macon, GA

WMGT, 41, Macon, GA (formerly WCWB)

+WPGA, 58, Perry, GA

#WSB-TV, 2, Atlanta, GA ¹¹

¹¹ Affected communities are Macon, Payne City and unincorporated Bibb County, GA.

WTVM, 9, Columbus, GA

Bleckley

WMAZ-TV, 13, Macon, GA

Brantley

WJXT, 4, Jacksonville, FL

WTLV, 12, Jacksonville, FL (formerly WFGA)

Brooks

WCTV, 6, Tallahassee, FL

WALB-TV, 10, Albany, GA

+WFXL, 31, Albany, GA

Bryan

WSAV-TV, 3, Savannah, GA

WTOC-TV, 11, Savannah, GA

WJCL, 22, Savannah, GA

Bulloch

WSAV-TV, 3, Savannah, GA

WTOC-TV, 11, Savanah, GA

WJBF, 6, Augusta, GA

WRDW-TV, 12, Augusta, GA

Burke

WJBF, 6, Augusta, GA

WRDW-TV, 12, Augusta, GA

+WFXG, 54, Augusta, GA

Butts

WSB-TV, 2, Atlanta, GA

WAGA, 5, Atlanta, GA

WXIA-TV, 11, Atlanta, GA (formerly WQXI)

WTBS, 17, Atlanta, GA (formerly WTCG)

WATL, 36, Atlanta, GA

Calhoun

WALB-TV, 10, Albany, GA

WRBL, 3, Columbus, GA

WTVM, 9, Columbus, GA

WTVY, 4, Dothan, AL

WCTV, 6, Tallahassee, FL

Camden

WJXT, 4, Jacksonville, FL

WTLV, 12, Jacksonville, FL (formerly WFGA)

WJWB, 17, Jacksonville, FL (formerly WJKS)

Candler

WJBF, 6, Augusta, GA

WRDW-TV, 12, Augusta, GA

WSAV-TV, 3, Savannah, GA

WTOC-TV, 11, Savannah, GA

Carroll

WSB-TV, 2, Atlanta, GA

WAGA, 5, Atlanta, GA

WXIA-TV, 11, Atlanta, GA (formerly WQXI)

Catoosa

WRCB-TV, 3, Chattanooga, TN

WTVC, 9, Chattanooga, TN

WDEF-TV, 12, Chattanooga, TN

Charlton

WJXT, 4, Jacksonville, FL

WTLV, 12, Jacksonville, FL (formerly WFGA)

WJWB, 17, Jacksonville, FL (formerly WJKS)

Chatham

WSAV-TV, 3, Savannah, GA

WTOC-TV, 11, Savannah, GA

WJCL, 22, Savannah, GA

Chattahoochee

WRBL, 3, Columbus, GA

WTVM, 9, Columbus, GA

Chattooga

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

+WPXA, 14, Rome, GA (formerly WTLK)

Cherokee

WSB-TV, 2, Atlanta, GA

WAGA, 5, Atlanta, GA

WXIA-TV, 11, Atlanta, GA (formerly WQXI)

WTBS, 17, Atlanta, GA (formerly WTCG)

WATL, 36, Atlanta, GA

Clarke

WSB-TV, 2, Atlanta, GA

WAGA, 5, Atlanta, GA

WXIA-TV, 11, Atlanta, GA (formerly WQXI)

WYFF, 4, Greenville, SC (formerly WFBC)

+WHNS, 21, Greenville, SC

Clay

WRBL, 3, Columbus, GA

WTVM, 9, Columbus, GA

WTVY, 4, Dothan, AL

Clayton

WSB-TV, 2, Atlanta, GA

WAGA, 5, Atlanta, GA

WXIA-TV, 11, Atlanta, GA (formerly WQXI)

WTBS, 17, Atlanta, GA (formerly WTCG)

WATL, 36, Atlanta, GA

Clinch

WJXT, 4, Jacksonville, FL

WTLV, 12, Jacksonville, FL (formerly WFGA)

WALB-TV, 10, Albany, GA

WCTV, 6, Tallahassee, FL

Cobb

WSB-TV, 2, Atlanta, GA

WAGA, 5, Atlanta, GA

WXIA-TV, 11, Atlanta, GA (formerly WQXI)

WTBS, 17, Atlanta, GA (formerly WTCG)

WATL, 36, Atlanta, GA

Coffee

WALB-TV, 10, Albany, GA

+WFXL, 31, Albany, GA

+WGVP, 44, Valdosta, GA (formerly WVGA)

Colquitt

WALB-TV, 10, Albany, GA

+WFXL, 31, Albany, GA

WCTV, 6, Tallahassee, FL

+WTXL-TV, 27, Tallahassee, FL

Columbia

WJBF, 6, Augusta, GA

WRDW-TV, 12, Augusta, GA

WAGT, 26, Augusta, GA (formerly WATU)

+WFXG, 54, Augusta, GA

Cook

WALB-TV, 10, Albany, GA

+WFXL, 31, Albany, GA

WCTV, 6, Tallahassee, FL

Coweta

WSB-TV, 2, Atlanta, GA

WAGA, 5, Atlanta, GA

WXIA-TV, 11, Atlanta, GA (formerly WQXI)

WATL, 36, Atlanta, GA

Crawford

WMAZ-TV, 13, Macon, GA

WRBL, 3, Columbus, GA

WTVM, 9, Columbus, GA

WSB-TV, 2, Atlanta, GA

Crisp

WRBL, 3, Columbus, GA

WTVM, 9, Columbus, GA

WALB-TV, 10, Albany, GA

+WFXL, 31, Albany, GA

WMAZ-TV, 13, Macon, GA

Dade

WRCB-TV, 3, Chattanooga, TN

WTVC, 9, Chattanooga, TN

WDEF-TV, 12, Chattanooga, TN

Dawson

WSB-TV, 2, Atlanta, GA

WAGA, 5, Atlanta, GA

WXIA-TV, 11, Atlanta, GA (formerly WQXI)

Decatur

WCTV, 6, Tallahassee, FL

+WTLH, 49, Bainbridge, GA

WALB-TV, 10, Albany, GA

+WFXL, 31, Albany, GA

WTVY, 4, Dothan, AL

+WMBB, 13, Panama City, FL

De Kalb

WSB-TV, 2, Atlanta, GA

WAGA, 5, Atlanta, GA

WXIA-TV, 11, Atlanta, GA (formerly WQXI)

WTBS, 17, Atlanta, GA (formerly WTCG)

WATL, 36, Atlanta, GA

Dodge

WMAZ-TV, 13, Macon, GA

+WGXA, 24, Macon, GA

+WPGA, 58, Perry, GA

WALB-TV, 10, Albany, GA

Dooly

WMAZ-TV, 13, Macon, GA

WALB-TV, 10, Albany, GA

WRBL, 3, Columbus, GA

WTVM, 9, Columbus, GA

Dougherty

WALB-TV, 10, Albany, GA

+WFXL, 31, Albany, GA

WRBL, 3, Columbus, GA

WTVM, 9, Columbus, GA

WCTV, 6, Tallahassee, FL

Douglas

WSB-TV, 2, Atlanta, GA

WAGA, 5, Atlanta, GA

WXIA-TV, 11, Atlanta, GA (formerly WQXI)

WTBS, 17, Atlanta, GA (formerly WTCG)

WATL, 36, Atlanta, GA

Early

WTVY, 4, Dothan, AL

+WDFX-TV, 34, Ozark, AL

WTVM, 9, Columbus, GA

WCTV, 6, Tallahassee, FL

WALB-TV, 10, Albany, GA

Echols

WCTV, 6, Tallahassee, FL

WALB-TV, 10, Albany, GA

Effingham

WSAV-TV, 3, Savannah, GA

WTOC-TV, 11, Savannah, GA

WJCL, 22, Savannah, GA

Elbert

WYFF, 4, Greenville, SC (formerly WFBC)

WSPA-TV, 7, Greenville, SC

WLOS, 13, Greenville, SC

WJBF, 6, Augusta, GA

Emanuel

WJBF, 6, Augusta, GA

WRDW-TV, 12, Augusta, GA

+WFXG, 54, Augusta, GA

Evans

WSAV-TV, 3, Savannah, GA

WTOC-TV, 11, Savannah, GA

WJBF, 6, Augusta, GA

Fannin

WRCB-TV, 3, Chattanooga, TN

WTVC, 9, Chattanooga, TN

WDEF-TV, 12, Chattanooga, TN

WSB-TV, 2, Atlanta, GA

WAGA, 5, Atlanta, GA

WATL, 36, Atlanta, GA

Fayette

WSB-TV, 2, Atlanta, GA

WAGA, 5, Atlanta, GA

WXIA-TV, 11, Atlanta, GA (formerly WQXI)

WATL, 36, Atlanta, GA

Floyd

WSB-TV, 2, Atlanta, GA

WAGA, 5, Atlanta, GA

WXIA-TV, 11, Atlanta, GA (formerly WQXI)

+WPXA, 14, Rome, GA (formerly WTLK)

WRCB-TV, 3, Chattanooga, TN

WTVC, 9, Chattanooga, TN

WDEF-TV, 12, Chattanooga,TN

Forsyth

WSB-TV, 2, Atlanta, GA

WAGA, 5, Atlanta, GA

WXIA-TV, 11, Atlanta, GA (formerly WQXI)

WTBS, 17, Atlanta, GA (formerly WTCG)

WATL, 36, Atlanta, GA

Franklin

WYFF, 4, Greenville, SC (formerly WFBC)

WSPA-TV, 7, Greenville, SC

WLOS, 13, Greenville, SC

Fulton

WSB-TV, 2, Atlanta, GA

WAGA, 5, Atlanta, GA

WXIA-TV, 11, Atlanta, GA (formerly WQXI)

WTBS, 17, Atlanta, GA (formerly WTCG)

WATL, 36, Atlanta, GA

Gilmer

WSB-TV, 2, Atlanta, GA

WAGA, 5, Atlanta, GA

WRCB-TV, 3, Chattanooga, TN

WTVC, 9, Chattanooga, TN

WDEF-TV, 12, Chattanooga, TN

Glascock

WJBF, 6, Augusta, GA

WRDW-TV, 12, Augusta, GA

+WFXG, 54, Augusta, GA

Glynn

WJXT, 4, Jacksonville, FL

WTLV, 12, Jacksonville, FL (formerly WFGA)

+WAWS-TV, 30, Jacksonville, FL

Gordon

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

WTBS, 17, Atlanta, GA (formerly WTCG)

+WPXA, 14, Rome, GA (formerly WTLK)

Grady

WCTV, 6, Tallahassee, FL

+WTLH, 49, Bainbridge, GA

WALB-TV, 10, Albany, GA

+WFXL, 31, Albany, GA

Greene

WSB-TV, 2, Atlanta, GA

WAGA, 5, Atlanta, GA

WXIA-TV, 11, Atlanta, GA (formerly WQXI)

WJBF, 6, Augusta, GA

Gwinnett

WSB-TV, 2, Atlanta, GA

WAGA, 5, Atlanta, GA

WXIA-TV, 11, Atlanta, GA (formerly WQXI)

WTBS, 17, Atlanta, GA (formerly WTCG)

WATL, 36, Atlanta, GA

Habersham

WSB-TV, 2, Atlanta, GA

WAGA, 5, Atlanta, GA

WXIA-TV, 11, Atlanta, GA (formerly WQXI)

WYFF, 4, Greenville, SC (formerly WFBC)

WSPA-TV, 7, Greenville, SC

Hall

WSB-TV, 2, Atlanta, GA

WAGA, 5, Atlanta, GA

WXIA-TV, 11, Atlanta, GA (formerly WQXI)

Hancock

WJBF, 6, Augusta, GA

WRDW-TV, 12, Augusta, GA

WMAZ-TV, 13, Macon, GA

Haralson

WSB-TV, 2, Atlanta, GA

WAGA, 5, Atlanta, GA

WXIA-TV, 11, Atlanta, GA (formerly WQXI)

WTBS, 17, Atlanta, GA (formerly WTCG)

WATL, 36, Atlanta, GA

Harris

WRBL, 3, Columbus, GA

WTVM, 9, Columbus, GA

WSB-TV, 2, Atlanta, GA

Hart

WYFF, 4, Greenville, SC (formerly WFBC)

WSPA-TV, 7, Greenville, SC

WLOS, 13, Greenville, SC

Heard

WSB-TV, 2, Atlanta, GA

WAGA, 5, Atlanta, GA

WXIA-TV, 11, Atlanta, GA (formerly WQXI)

Henry

WSB-TV, 2, Atlanta, GA

WAGA, 5, Atlanta, GA

WXIA-TV, 11, Atlanta, GA (formerly WQXI)

WATL, 36, Atlanta, GA

Houston

WMAZ-TV, 13, Macon, GA

+WGXA, 24, Macon, GA

WMGT, 41, Macon, GA (formerly WCWB)

+WPGA, 58, Perry, GA

WRBL, 3, Columbus, GA

WTVM, 9, Columbus, GA

Irwin

WALB-TV, 10, Albany, GA

WCTV, 6, Tallahassee, FL

Jackson

WSB-TV, 2, Atlanta, GA

WAGA, 5, Atlanta, GA

WXIA-TV, 11, Atlanta, GA (formerly WQXI)

WYFF, 4, Greenville, SC (formerly WFBC)

Jasper

WSB-TV, 2, Atlanta, GA

WAGA, 5, Atlanta, GA

WXIA-TV, 11, Atlanta, GA (formerly WQXI)

WTBS, 17, Atlanta, GA (formerly WTCG)

WATL, 36, Atlanta, GA

WMAZ-TV, 13, Macon, GA

Jeff Davis

WALB-TV, 10, Albany, GA

WJXT, 4, Jacksonville, FL

WSAV-TV, 3, Savannah, GA

WTOC-TV, 11, Savannah, GA

Jefferson

WJBF, 6, Augusta, GA

WRDW-TV, 12, Augusta, GA

+WFXG, 54, Augusta, GA

Jenkins

WJBF, 6, Augusta, GA

WRDW-TV, 12, Augusta, GA

+WFXG, 54, Augusta, GA

Johnson

WMAZ-TV, 13, Macon, GA

WJBF, 6, Augusta, GA

WRDW-TV, 12, Augusta, GA

+WFXG, 54, Augusta, GA

Jones

WMAZ-TV, 13, Macon, GA

WMGT, 41, Macon, GA (formerly WCWB)

+WPGA, 58, Macon, GA

WSB-TV, 2, Atlanta, GA

WAGA, 5, Atlanta, GA

WXIA-TV, 11, Atlanta, GA (formerly WQXI)

Lamar

WSB-TV, 2, Atlanta, GA

WAGA, 5, Atlanta, GA

WXIA-TV, 11, Atlanta, GA (formerly WQXI)

WMAZ-TV, 13, Macon, GA

Lanier

WALB-TV, 10, Albany, GA

WCTV, 6, Tallahassee, FL

Laurens

WMAZ-TV, 13, Macon, GA

+WGXA, 24, Macon, GA

WMGT, 41, Macon, GA (formerly WCWB)

Lee

WRBL, 3, Columbus, GA

WTVM, 9, Columbus, GA

WALB-TV, 10, Albany, GA

+WFXL, 31, Albany, GA

Liberty

WSAV-TV, 3, Savannah, GA

WTOC-TV, 11, Savannah, GA

WJCL, 22, Savannah, GA

Lincoln

WJBF, 6, Augusta, GA

WRDW-TV, 12, Augusta, GA

+WFXG, 54, Augusta, GA

WYFF, 4, Greenville, SC (formerly WFBC)

Long

WSAV-TV, 3, Savannah, GA

WTOC-TV, 11, Savannah, GA

WJCL, 22, Savannah, GA

Lowndes

WCTV, 6, Tallahassee, FL

WALB-TV, 10, Albany, GA

+WFXL, 31, Albany, GA

Lumpkin

WSB-TV, 2, Atlanta, GA

WAGA, 5, Atlanta, GA

WXIA-TV, 11, Atlanta, GA (formerly WQXI)

McDuffie

WJBF, 6, Augusta, GA

WRDW-TV, 12, Augusta, GA

+WFXG, 54, Augusta, GA

McIntosh

WSAV-TV, 3, Savannah, GA

WTOC-TV, 11, Savannah, GA

WJXT, 4, Jacksonville, FL

Macon

WRBL, 3, Columbus, GA

WTVM, 9, Columbus, GA

WALB-TV, 10, Albany, GA

WMAZ-TV, 13, Macon, GA

Madison

WYFF, 4, Greenville, SC (formerly WFBC)

WSPA-TV, 7, Greenville, SC

WLOS, 13, Greenville, SC

+WHNS, 21, Greenville, SC

WSB-TV, 2, Atlanta, GA

WAGA, 5, Atlanta, GA

WXIA-TV, 11, Atlanta, GA (formerly WQXI)

Marion

WRBL, 3, Columbus, GA

WTVM, 9, Columbus, GA

Meriwether

WSB-TV, 2, Atlanta, GA

WAGA, 5, Atlanta, GA

WXIA-TV, 11, Atlanta, GA (formerly WQXI)

WRBL, 3, Columbus, GA

WTVM, 9, Columbus, GA

Miller

WTVY, 4, Dothan, AL

WALB-TV, 10, Albany, GA

WCTV, 6, Tallahassee, FL

Mitchell

WALB-TV, 10, Albany, GA

+WFXL, 31, Albany, GA

WCTV, 6, Tallahassee, FL

Monroe

WSB-TV, 2, Atlanta, GA

WAGA, 5, Atlanta, GA

WXIA-TV, 11, Atlanta, GA (formerly WQXI)

WMAZ-TV, 13, Macon, GA

Montgomery

WMAZ-TV, 13, Macon, GA

WJBF, 6, Augusta, GA

WSAV-TV, 3, Savannah, GA

WTOC-TV, 11, Savannah, GA

Morgan

WSB-TV, 2, Atlanta, GA

WAGA, 5, Atlanta, GA

WXIA-TV, 11, Atlanta, GA (formerly WQXI)

Murray

WRCB-TV, 3, Chattanooga, TN

WTVC, 9, Chattanooga, TN

WDEF-TV, 12, Chattanooga, TN

WSB-TV, 2, Atlanta, GA

+WPXA, 14, Rome, GA (formerly WTLK)

Muscogee

WRBL, 3, Columbus, GA

WTVM, 9, Columbus, GA

WLTZ, 38, Columbus, GA (formerly WYEA)

+WXTX, 54, Columbus, GA

Newton

WSB-TV, 2, Atlanta, GA

WAGA, 5, Atlanta, GA

WXIA-TV, 11, Atlanta, GA (formerly WQXI)

WATL, 36, Atlanta, GA

Oconee

WSB-TV, 2, Atlanta, GA

WAGA, 5, Atlanta, GA

WXIA-TV, 11, Atlanta, GA (formerly WQXI)

Oglethorpe

WSB-TV, 2, Atlanta, GA

WAGA, 5, Atlanta, GA

WXIA-TV, 11, Atlanta, GA (formerly WQXI)

WJBF, 6, Augusta, GA

WYFF, 4, Greenville, SC (formerly WFBC)

WSPA-TV, 7, Greenville, SC

WLOS, 13, Greenville, SC

Paulding

WSB-TV, 2, Atlanta, GA

WAGA, 5, Atlanta, GA

WXIA-TV, 11, Atlanta, GA (formerly WQXI)

WATL, 36, Atlanta, GA

Peach

WMAZ-TV, 13, Macon, GA

+WGXA, 24, Macon, GA

WMGT, 41, Macon, GA (formerly WCWB)

+WPGA, 58, Macon, GA

WRBL, 3, Columbus, GA

WTVM, 9, Columbus, GA

Pickens

WSB-TV, 2, Atlanta, GA

WAGA, 5, Atlanta, GA

WXIA-TV, 11, Atlanta, GA (formerly WQXI)

WTBS, 17, Atlanta, GA (formerly WTCG)

WATL, 36, Atlanta, GA

Pierce

WJXT, 4, Jacksonville, FL

WTLV, 12, Jacksonville, FL (formerly WFGA)

Pike

WSB-TV, 2, Atlanta, GA

WAGA, 5, Atlanta, GA

WXIA-TV, 11, Atlanta, GA (formerly WQXI)

WTBS, 17, Atlanta, GA (formerly WTCG)

WATL, 36, Atlanta, GA

Polk

WSB-TV, 2, Atlanta, GA

WAGA, 5, Atlanta, GA

WXIA-TV, 11, Atlanta, GA (formerly WQXI)

+WPXA, 14, Rome, GA (formerly WTLK)

Pulaski

WMAZ-TV, 13, Macon, GA

+WPGA, 58, Macon, GA

WRBL, 3, Columbus, GA

Putnam

WSB-TV, 2, Atlanta, GA

WAGA, 5, Atlanta, GA

WXIA-TV, 11, Atlanta, GA (formerly WQXI)

WMAZ-TV, 13, Macon, GA

Quitman

WRBL, 3, Columbus, GA

WTVM, 9, Columbus, GA

WSFA, 12, Montgomery, AL

Rabun

WYFF, 4, Greenville, SC (formerly WFBC)

WSPA-TV, 7, Greenville, SC

WSB-TV, 2, Atlanta, GA

WAGA, 5, Atlanta, GA

WXIA-TV, 11, Atlanta, GA (formerly WQXI)

Randolph

WRBL, 3, Columbus, GA

WTVM, 9, Columbus, GA

WALB-TV, 10, Albany, GA

WTVY, 4, Dothan, AL

Richmond

WJBF, 6, Augusta, GA

WRDW-TV, 12, Augusta, GA

WAGT, 26, Augusta, GA (formerly WATU)

+WFXG, 54, Augusta, GA

Rockdale

WSB-TV, 2, Atlanta, GA

WAGA, 5, Atlanta, GA

WXIA-TV, 11, Atlanta, GA (formerly WQXI)

WTBS, 17, Atlanta, GA (formerly WTCG)

WATL, 36, Atlanta, GA

Schley

WRBL, 3, Columbus, GA

WTVM, 9, Columbus, GA

WALB-TV, 10, Albany, GA

Screven

WJBF, 6, Augusta, GA

WRDW-TV, 12, Augusta, GA

WSAV-TV, 3, Savannah, GA

WTOC-TV, 11, Savannah, GA

Seminole

WTVY, 4, Dothan, AL

WALB-TV, 10, Albany, GA

WCTV, 6, Tallahassee, FL

Spalding

WSB-TV, 2, Atlanta, GA

WAGA, 5, Atlanta, GA

WXIA-TV, 11, Atlanta, GA (formerly WQXI)

WATL, 36, Atlanta, GA

Stephens

WYFF, 4, Greenville, SC (formerly WFBC)

WSPA-TV, 7, Greenville, SC

WLOS, 13, Greenville, SC

+WHNS, 21, Greenville, SC

Stewart

WRBL, 3, Columbus, GA

WTVM, 9, Columbus, GA

Sumter

WRBL, 3, Columbus, GA

WTVM, 9, Columbus, GA

WALB-TV, 10, Albany, GA

+WFXL, 31, Albany, GA

+WSST-TV, 55, Cordele, GA

Talbot

WRBL, 3, Columbus, GA

WTVM, 9, Columbus, GA

WSB-TV, 2, Atlanta, GA

WAGA, 5, Atlanta, GA

WXIA-TV, 11, Atlanta, GA (formerly WQXI)

Taliaferro

WJBF, 6, Augusta, GA

WRDW-TV, 12, Augusta, GA

WAGA, 5, Atlanta, GA

Tattnall

WSAV-TV, 3, Savannah, GA

WTOC-TV, 11, Savannah, GA

Taylor

WRBL, 3, Columbus, GA

WTVM, 9, Columbus, GA

WMAZ-TV, 13, Macon, GA

Telfair

WALB-TV, 10, Albany, GA

+WFXL, 31, Albany, GA

WMAZ-TV, 13, Macon, GA

+WGXA, 24, Macon, GA

Terrell

WRBL, 3, Columbus, GA

WTVM, 9, Columbus, GA

WALB-TV, 10, Albany, GA

+WFXL, 31, Albany, GA

Thomas

WCTV, 6, Tallahassee, FL

WALB-TV, 10, Albany, GA

+WFXL, 31, Albany, GA

Tift

WALB-TV, 10, Albany, GA

+WFXL, 31, Albany, GA

WCTV, 6, Tallahassee, FL

Toombs

WSAV-TV, 3, Savannah, GA

WTOC-TV, 11, Savannah, GA

WJCL, 22, Savannah, GA

WJBF, 6, Augusta, GA

WRDW-TV, 12, Augusta, GA

Towns

WSB-TV, 2, Atlanta, GA

WAGA, 5, Atlanta, GA

WXIA-TV, 11, Atlanta, GA (formerly WQXI)

WRCB-TV, 3, Chattanooga, TN

Treutlen

WMAZ-TV, 13, Macon, GA

WJBF, 6, Augusta, GA

WRDW-TV, 12, Augusta, GA

Troup

WSB-TV, 2, Atlanta, GA

WAGA, 5, Atlanta, GA

WXIA-TV, 11, Atlanta, GA (formerly WQXI)

WRBL, 3, Columbus, GA

WTVM, 9, Columbus, GA

Turner

WALB-TV, 10, Albany, GA

WRBL, 3, Columbus, GA

WTVM, 9, Columbus, GA

WCTV, 6, Tallahassee, FL

Twiggs

WMAZ-TV, 13, Macon, GA

WMGT, 41, Macon, GA (formerly WCWB)

+WPGA, 58, Perry, GA

Union

WSB-TV, 2, Atlanta, GA

WAGA, 5, Atlanta, GA

WXIA-TV, 11, Atlanta, GA (formerly WQXI)

WRCB-TV, 3, Chattanooga, TN

Upson

WSB-TV, 2, Atlanta, GA

WAGA, 5, Atlanta, GA

WXIA-TV, 11, Atlanta, GA (formerly WQXI)

WRBL, 3, Columbus, GA

WTVM, 9, Columbus, GA

+WXTX, 54, Columbus, GA

WMAZ-TV, 13, Macon, GA

Walker

WRCB-TV, 3, Chattanooga, TN

WTVC, 9, Chattanooga, TN

WDEF-TV, 12, Chattanooga, TN

Walton

WSB-TV, 2, Atlanta, GA

WAGA, 5, Atlanta, GA

WXIA-TV, 11, Atlanta, GA (formerly WQXI)

WTBS, 17, Atlanta, GA (formerly WTCG)

WATL, 36, Atlanta, GA

Ware

WJXT, 4, Jacksonville, FL

WTLV, 12, Jacksonville, FL (formerly WFGA)

Warren

WJBF, 6, Augusta, GA

WRDW-TV, 12, Augusta, GA

WAGT, 26, Augusta, GA (formerly WATU)

+WFXG, 54, Augusta, GA

Washington

WJBF, 6, Augusta, GA

WRDW-TV, 12, Augusta, GA

+WFXG, 54, Augusta, GA

WMAZ-TV, 13, Macon, GA

+WGXA, 24, Macon, GA

+WPGA, 58, Perry, GA

Wayne

WSAV-TV, 3, Savannah, GA

WTOC-TV, 11, Savannah, GA

WJCL, 22, Savannah, GA

WJXT, 4, Jacksonville, FL

Webster

WRBL, 3, Columbus, GA

WTVM, 9, Columbus, GA

Wheeler

WMAZ-TV, 13, Macon, GA

WJBF, 6, Augusta, GA

White

WSB-TV, 2, Atlanta, GA

WAGA, 5, Atlanta, GA

WXIA-TV, 11, Atlanta, GA (formerly WQXI)

Whitfield

WRCB-TV, 3, Chattanooga, TN

WTVC, 9, Chattanooga, TN

WDEF-TV, 12, Chattanooga, TN

WSB-TV, 2, Atlanta, GA

WAGA, 5, Atlanta, GA

Wilcox

WMAZ-TV, 13, Macon, GA

WALB-TV, 10, Albany, GA

WRBL, 3, Columbus, GA

WTVM, 9, Columbus, GA

Wilkes

WJBF, 6, Augusta, GA

WRDW-TV, 12, Augusta, GA

WYFF, 4, Greenville, SC (formerly WFBC)

+WHNS, 21, Greenville, SC

Wilkinson

WMAZ-TV, 13, Macon, GA

WMGT, 41, Macon, GA (formerly WCWB)

+WPGA, 58, Perry, GA

Worth

WALB-TV, 10, Albany, GA

+WFXL, 31, Albany, GA

WRBL, 3, Columbus, GA

WTVM, 9, Columbus, GA

WCTV, 6, Tallahassee, FL

Athens—WTBS, WATL

Bishop—WTBS, WATL

Bogart—WTBS, WATL

Buford—WTBS, WATL, WGCL-TV

Flowery Branch—WTBS, WATL, WGCL-TV

Gainesville—WTBS, WATL, WGCL-TV

LaGrange—WTBS

North High Shoals—WTBS, WATL

Oakwood—WTBS, WATL, WGCL-TV

Portions of Gwinnett County—WTBS, WATL, WGCL-TV

Portions of Hall County—WTBS, WATL, WGCL-TV

Watkinsville—WTBS, WATL

Winterville—WTBS, WATL

Unincorporated areas of Clarke County—WTBS, WATL

Unincorporated areas of Oconee County—WTBS, WATL

Unincorporated areas of Troup County—WTBS

HAWAII

Hawaii 1

KHON-TV, 2, Honolulu, HI

KITV, 4, Honolulu, HI (formerly KHVH)

KGMB, 9, Honolulu, HI

Hawaii 2

KHON-TV, 2, Honolulu, HI

KITV, 4, Honolulu, HI (formerly KHVH)

KGMB, 9, Honolulu, HI

Hawaii 3

KHON-TV, 2, Honolulu, HI

KITV, 4, Honolulu, HI (formerly KHVH)

KGMB, 9, Honolulu, HI

Hawaii 4

KHON-TV, 2, Honolulu, HI

KITV, 4, Honolulu, HI (formerly KHVH)

KGMB, 9, Honolulu, HI

Hawaii 5

KITV, 4, Honolulu, HI (formerly KHVH)

Honolulu 1

KHON-TV, 2, Honolulu, HI

KITV, 4, Honolulu, HI (formerly KHVH)

KGMB, 9, Honolulu, HI

Honolulu 2

KHON-TV, 2, Honolulu, HI

KITV, 4, Honolulu, HI (formerly KHVH)

KGMB, 9, Honolulu, HI

KHNL, 13, Honolulu, HI (formerly KIKU)

Honolulu 3

KHON-TV, 2, Honolulu, HI

KITV, 4, Honolulu, HI (formerly KHVH)

KGMB, 9, Honolulu, HI

Honolulu 4

KHON-TV, 2, Honolulu, HI

KITV, 4, Honolulu, HI (formerly KHVH)

KGMB, 9, Honolulu, HI

KHNL, 13, Honolulu, HI (formerly KIKU)

Kauai

KHON-TV, 2, Honolulu, HI

KITV, 4, Honolulu, HI (formerly KHVH)

KGMB, 9, Honolulu, HI

Maui 1

KHON-TV, 2, Honolulu, HI

KITV, 4, Honolulu, HI (formerly KHVH)

KGMB, 9, Honolulu, HI

KHNL, 13, Honolulu, HI (formerly KIKU)

Maui 2

KHON-TV, 2, Honolulu, HI

KITV, 4, Honolulu, HI (formerly KHVH)

KGMB, 9, Honolulu, HI

Maui 3

KHON-TV, 2, Honolulu, HI

KITV, 4, Honolulu, HI (formerly KHVH)

KGMB, 9, Honolulu, HI

Maui 4

KHON-TV, 2, Honolulu, HI

KITV, 4, Honolulu, HI (formerly KHVH)

KGMB, 9, Honolulu, HI

IDAHO

Ada

KBCI-TV, 2, Boise, ID (formerly KBOI)

KTVB, 7, Boise, ID

Adams

KBCI-TV, 2, Boise, ID (formerly KBOI)

KTVB, 7, Boise, ID

Bannock

KIDK, 3, Idaho Falls, ID (formerly KID)

KPVI, 6, Pocatello, ID (formerly KTLE, KPTO)

KIFI-TV, 8, Idaho Falls, ID

Bear Lake

KUTV, 2, Salt Lake City, UT

KTVX, 4, Salt Lake City, UT (formerly KCPX)

KSL-TV, 5, Salt Lake City, UT

Benewah

KREM-TV, 2, Spokane, WA

KXLY-TV, 4, Spokane, WA

KHQ-TV, 6, Spokane, WA

Bingham

KIDK, 3, Idaho Falls, ID (formerly KID)

+KPVI, 6, Pocatello, ID

KIFI-TV, 8, Idaho Falls, ID

Blaine

KMVT, 11, Twin Falls, ID

KIDK, 3, Idaho Falls, ID (formerly KID)

Boise

KBCI-TV, 2, Boise, ID (formerly KBOI)

KTVB, 7, Boise, ID

Bonner

KREM-TV, 2, Spokane, WA

KXLY-TV, 4, Spokane, WA

KHQ-TV, 6, Spokane, WA

Bonneville

KIDK, 3, Idaho Falls, ID (formerly KID)

+KPVI, 6, Pocatello, ID

KIFI-TV, 8, Idaho Falls, ID

Boundary

KREM-TV, 2, Spokane, WA

KXLY-TV, 4, Spokane, WA

KHQ-TV, 6, Spokane, WA

Butte

KIDK, 3, Idaho Falls, ID (formerly KID)

KIFI-TV, 8, Idaho Falls, ID

Camas

KMVT, 11, Twin Falls, ID

Canyon

KBCI-TV, 2, Boise, ID (formerly KBOI)

KTVB, 7, Boise, ID

Caribou

KUTV, 2, Salt Lake City, UT

KTVX, 4, Salt Lake City, UT (formerly KCPX)

KSL-TV, 5, Salt Lake City, UT

KIDK, 3, Idaho Falls, ID (formerly KID)

KIFI-TV, 8, Idaho Falls, ID

Cassia

KMVT, 11, Twin Falls, ID

KIDK, 3, Idaho Falls, ID (formerly KID)

KPVI, 6, Pocatello, ID (formerly KTLE, KPTO)

KIFI-TV, 8, Idaho Falls, ID

Clark

KIDK, 3, Idaho Falls, ID (formerly KID)

KIFI-TV, 8, Idaho Falls, ID

Clearwater

KREM-TV, 2, Spokane, WA

KXLY-TV, 4, Spokane, WA

KHQ-TV, 6, Spokane, WA

KLEW-TV, 3, Lewiston, ID

Custer

KIDK, 3, Idaho Falls, ID (formerly KID)

KIFI-TV, 8, Idaho Falls, ID

Elmore

KBCI-TV, 2, Boise, ID (formerly KBOI)

KTVB, 7, Boise, ID

Franklin

KUTV, 2, Salt Lake City, UT

KTVX, 4, Salt Lake City, UT (formerly KCPX)

KSL-TV, 5, Salt Lake City, UT

Fremont

KIDK, 3, Idaho Falls, ID (formerly KID)

KIFI-TV, 8, Idaho Falls, ID

Gem

KBCI-TV, 2, Boise, ID (formerly KBOI)

KTVB, 7, Boise, ID

Gooding

KMVT, 11, Twin Falls, ID

+KKVI, 35, Twin Falls, ID

Idaho

KREM-TV, 2, Spokane, WA

KXLY-TV, 4, Spokane, WA

KHQ-TV, 6, Spokane, WA

KLEW-TV, 3, Lewiston, ID

Jefferson

KIDK, 3, Idaho Falls, ID (formerly KID)

KIFI-TV, 8, Idaho Falls, ID

Jerome

KMVT, 11, Twin Falls, ID

+KKVI, 35, Twin Falls, ID

Kootenai

KREM-TV, 2, Spokane, WA

KXLY-TV, 4, Spokane, WA

KHQ-TV, 6, Spokane, WA

+KAYU-TV, 28, Spokane, WA

Latah

KREM-TV, 2, Spokane, WA

KXLY-TV, 4, Spokane, WA

KHQ-TV, 6, Spokane, WA

+KAYU-TV, 28, Spokane, WA

KLEW-TV, 3, Lewiston, ID

Lemhi

KIDK, 3, Idaho Falls, ID (formerly KID)

KECI-TV, 13, Missoula, MT (formerly KGVO)

Lewis

KREM-TV, 2, Spokane, WA

KXLY-TV, 4, Spokane, WA

KHQ-TV, 6, Spokane, WA

Lincoln

KMVT, 11, Twin Falls, ID

Madison

KIDK, 3, Idaho Falls, ID (formerly KID)

+KPVI, 6, Pocatello, ID

KIFI-TV, 8, Idaho Falls, ID

Minidoka

KMVT, 11, Twin Falls, ID

KIDK, 3, Idaho Falls, ID (formerly KID)

+KPVI, 6, Pocatello, ID

KIFI-TV, 8, Idaho Falls, ID

Nez Perce

KLEW-TV, 3, Lewiston, ID

KREM-TV, 2, Spokane, WA

KXLY-TV, 4, Spokane, WA

KHQ-TV, 6, Spokane, WA

Oneida

KUTV, 2, Salt Lake City, UT

KTVX, 4, Salt Lake City, UT (formerly KCPX)

KSL-TV, 5, Salt Lake City, UT

Owyhee

KBCI-TV, 2, Boise, ID (formerly KBOI)

KTVB, 7, Boise, ID

Payette

KBCI-TV, 2, Boise, ID (formerly KBOI)

KTVB, 7, Boise, ID

Power

KIDK, 3, Idaho Falls, ID (formerly KID)

KPVI, 6, Pocatello, ID (formerly KTLE, KPTO)

KIFI-TV, 8, Idaho Falls, ID

Shoshone

KREM-TV, 2, Spokane, WA

KXLY-TV, 4, Spokane, WA

KHQ-TV, 6, Spokane, WA

Teton

KIDK, 3, Idaho Falls, ID (formerly KID)

KIFI-TV, 8, Idaho Falls, ID

Twin Falls

KMVT, 11, Twin Falls, ID

+KKVI, 35, Twin Falls, ID

KTVB, 7, Boise, ID

+KTRV, 12, Nampa, ID

Valley

KBCI-TV, 2, Boise, ID (formerly KBOI)

KTVB, 7, Boise, ID

+KTRV, 12, Nampa, ID

Washington

KBCI-TV, 2, Boise, ID (formerly KBOI)

KTVB, 7, Boise, ID

ILLINOIS

Adams

KHQA-TV, 7, Hannibal, MO

WGEM-TV, 10, Quincy, IL

+KTVO, 3, Ottumwa, IA

Alexander

WSIL-TV, 3, Harrisburg, IL

WPSD-TV, 6, Paducah, KY

KFVS-TV, 12, Cape Girardeau, MO

+KBSI, 23, Cape Girardeau, MO

Bond

KTVI, 2, St. Louis, MO

KMOV, 4, St. Louis, MO (formerly KMOX)

KSDK, 5, St. Louis, MO (formerly KSD)

KPLR-TV, 11, St. Louis, MO

Boone

WREX-TV, 13, Rockford, IL

WTVO, 17, Rockford, IL

WIFR, 23, Freeport, IL (formerly WCEE)

+WQRF-TV, 39, Rockford, IL

WGN-TV, 9, Chicago, IL

+WPWR-TV, 50, Chicago, IL

+WMSN-TV, 47, Madison, WI

Brown

KHQA-TV, 7, Hannibal, MO

WGEM-TV, 10, Quincy, IL

Bureau

WHBF-TV, 4, Rock Island, IL

KWQC-TV, 6, Davenport, IA (formerly WOC)

WQAD-TV, 8, Moline, IL

+KLJB-TV, 18, Davenport, IA

+WYZZ-TV, 43, Bloomington, IL

Calhoun

KTVI, 2, St. Louis, MO

KMOV, 4, St. Louis, MO (formerly KMOX)

KSDK, 5, St. Louis, MO (formerly KSD)

KPLR-TV, 11, St. Louis, MO

Carroll

WHBF-TV, 4, Rock Island, IL

KWQC-TV, 6, Davenport, IA (formerly WOC)

WQAD-TV, 8, Moline, IL

+KLJB-TV, 18, Davenport, IA

WREX-TV, 13, Rockford, IL

Cass

KHQA-TV, 7, Hannibal, MO

WGEM-TV, 10, Quincy, IL

WHOI, 19, Peoria, IL (formerly WIRL)

WMBD-TV, 31, Peoria, IL

WICS, 20, Springfield, IL

+WRSP-TV, 55, Springfield, IL

Champaign

WCIA, 3, Champaign, IL

WAND, 17, Decatur, IL

WICD, 15, Champaign, IL

Christian

WCIA, 3, Champaign, IL

WAND, 17, Decatur, IL

WICS, 20, Springfield, IL

+WRSP-TV, 55, Springfield, IL

Clark

WTWO, 2, Terre Haute, IN

WTHI-TV, 10, Terre Haute, IN

WTTV, 4, Bloomington, IN

Clay

WTWO, 2, Terre Haute, IN

WTHI-TV, 10, Terre Haute, IN

WTVW, 7, Evansville, IN

KMOV, 4, St. Louis, MO (formerly KMOX)

+WPXS 13, Mount Vernon, IL (formerly WCEE)

Clinton

KTVI, 2, St. Louis, MO

KMOV, 4, St. Louis, MO (formerly KMOX)

KSDK, 5, St. Louis, MO (formerly KSD)

KPLR-TV, 11, St. Louis, MO

+WPXS, 13, Mount Vernon, IL (formerly WCEE)

Coles

WCIA, 3, Champaign, IL

WICD, 15, Champaign, IL

WAND, 17, Decatur, IL

+WRSP-TV, 55, Springfield, IL

WTWO, 2, Terre Haute, IN

WTHI-TV, 10, Terre Haute, IN

Cook

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Crawford

WTWO, 2, Terre Haute, IN

WTHI-TV, 10, Terre Haute, IN

+WBAK-TV, 38, Terre Haute, IN

+WPXS, 13, Mount Vernon, IL (formerly WCEE)

Cumberland

WTWO, 2, Terre Haute, IN

WTHI-TV, 10, Terre Haute, IN

WCIA, 3, Champaign, IL

WAND, 17, Decatur, IL

WICS, 20, Springfield, IL

DeKalb

WBBM-TV, 2, Chicago, IL

WMAQ-TV, 5, Chicago, IL

WLS-TV, 7, Chicago, IL

WGN-TV, 9, Chicago, IL

+WPWR-TV, 50, Chicago, IL

+WGBO-TV, 66, Joliet, IL

WREX-TV, 13, Rockford, IL

WTVO, 17, Rockford, IL

WIFR-TV, 23, Freeport, IL (formerly WCEE)

+WQRF-TV, 39, Rockford, IL

De Witt

WCIA, 3, Champaign, IL

WAND, 17, Decatur, IL

WICS, 20, Springfield, IL

+WRSP-TV, 55, Springfield, IL

WEEK-TV, 25, Peoria, IL

+WYZZ-TV, 43, Bloomington, IL

Douglas

WCIA, 3, Champaign, IL

WICD, 15, Champaign, IL

WAND, 17, Decatur, IL

Du Page

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Edgar

WTWO, 2, Terre Haute, IN

WTHI-TV, 10, Terre Haute, IN

+WBAK-TV, 38, Terre Haute, IN

WTTV, 4, Bloomington, IN

WCIA, 3, Champaign, IL

Edwards

WTVW, 7, Evansville, IN

WFIE-TV, 14, Evansville, IN

WEHT, 25, Evansville, IN

+WEVV, 44, Evansville, IN

+WPXS, 13, Mount Vernon, IL (formerly WCEE)

Effingham

WCIA, 3, Champaign, IL

+WRSP-TV, 55, Springfield, IL

WTWO, 2, Terre Haute, IN

WTHI-TV, 10, Terre Haute, IN

+WPXS, 13, Mount Vernon, IL (formerly WCEE)

Fayette

KTVI, 2, St. Louis, MO

KMOV, 4, St. Louis, MO (formerly KMOX)

KSDK, 5, St. Louis, MO (formerly KSD)

KPLR-TV, 11, St. Louis, MO

+WPXS, 13, Mount Vernon, IL (formerly WCEE)

Ford

WCIA, 3, Champaign, IL

WICD, 15, Champaign, IL

WAND, 17, Decatur, IL

+WRSP-TV, 55, Springfield, IL

+WYZZ-TV, 43, Bloomington, IL

Franklin

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

Fulton

WHOI, 19, Peoria, IL (formerly WIRL)

WEEK-TV, 25, Peoria, IL

WMBD-TV, 31, Peoria, IL

+WYZZ-TV, 43, Bloomington, IL

Gallatin

WSIL-TV, 3, Harrisburg, IL

WPSD-TV, 6, Paducah, KY

KFVS-TV, 12, Cape Girardeau, MO

WTVW, 7, Evansville, IN

WFIE-TV, 14, Evansville, IN

WEHT, 25, Evansville, IN

+WEVV, 44, Evansville, IN

Greene

KTVI, 2, St. Louis, MO

KMOV, 4, St. Louis, MO (formerly KMOX)

KSDK, 5, St. Louis, MO (formerly KSD)

KPLR-TV, 11, St. Louis, MO

Grundy

WBBM-TV, 2, Chicago, IL

WMAQ-TV, 5, Chicago, IL

WLS-TV, 7, Chicago, IL

WGN-TV, 9, Chicago, IL

WFLD, 32, Chicago, IL

+WPWR-TV, 50, Chicago, IL

Hamilton

WSIL-TV, 3, Harrisburg, IL

WPSD-TV, 6, Paducah, KY

KFVS-TV, 12, Cape Girardeau, MO

WTVW, 7, Evansville, IN

+WEVV, 44, Evansville, IN

Hancock

KHQA-TV, 7, Hannibal, MO

WGEM-TV, 10, Quincy, IL

+KTVO, 3, Ottumwa, IA

Hardin

WSIL-TV, 3, Harrisburg, IL

WPSD-TV, 6, Paducah, KY

KFVS-TV, 12, Cape Girardeau, MO

Henderson

WHBF-TV, 4, Rock Island, IL

KWQC-TV, 6, Davenport, IA (formerly WOC)

WQAD-TV, 8, Moline, IL

Henry

WHBF-TV, 4, Rock Island, IL

KWQC-TV, 6, Davenport, IA (formerly WOC)

WQAD-TV, 8, Moline, IL

+KLJB-TV, 18, Davenport, IA

Iroquois

WCIA, 3, Champaign, IL

WICD, 15, Champaign, IL

WBBM-TV, 2, Chicago, IL

WMAQ-TV, 5, Chicago, IL

WLS-TV, 7, Chicago, IL

WGN-TV, 9, Chicago, IL

WFLD, 32, Chicago, IL

Jackson

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

KPLR-TV, 11, St. Louis, MO

Jasper

WTWO, 2, Terre Haute, IN

WTHI-TV, 10, Terre Haute, IN

+WBAK-TV, 38, Terre Haute, IN

+WPXS, 13, Mount Vernon, IL (formerly WCEE)

Jefferson

KTVI, 2, St. Louis, MO

KMOV, 4, St. Louis, MO (formerly KMOX)

KSDK, 5, St. Louis, MO (formerly KSD)

KPLR-TV, 11, St. Louis, MO

WSIL-TV, 3, Harrisburg, IL

WPSD-TV, 6, Paducah, KY

KFVS-TV, 12, Cape Girardeau, MO

+WPXS, 13, Mount Vernon, IL (formerly WCEE)

+KBSI, 23, Cape Girardeau, MO

Jersey

KTVI, 2, St. Louis, MO

KMOV, 4, St. Louis, MO (formerly KMOX)

KSDK, 5, St. Louis, MO (formerly KSD)

KPLR-TV, 11, St. Louis, MO

KDNL-TV, 30, St. Louis, MO

Jo Daviess

WHBF-TV, 4, Rock Island, IL

KWQC-TV, 6, Davenport, IA (formerly WOC)

WQAD-TV, 8, Moline, IL

WISC-TV, 3, Madison, WI

WREX-TV, 13, Rockford, IL

WTVO, 17, Rockford, IL

+WQRF-TV, 39, Rockford, IL

Johnson

WSIL-TV, 3, Harrisburg, IL

WPSD-TV, 6, Paducah, KY

KFVS-TV, 12, Cape Girardeau, MO

+KBSI, 23, Cape Girardeau, MO

Kane

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Kankakee

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Kendall

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Knox

WHBF-TV, 4, Rock Island, IL

KWQC-TV, 6, Davenport, IA (formerly WOC)

WQAD-TV, 8, Moline, IL

+KLJB-TV, 18, Davenport, IA

WHOI, 19, Peoria, IL (formerly WIRL)

WEEK-TV, 25, Peoria, IL

WMBD-TV, 31, Peoria, IL

Lake

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

La Salle

WBBM-TV, 2, Chicago, IL

WMAQ-TV, 5, Chicago, IL

WLS-TV, 7, Chicago, IL

WGN-TV, 9, Chicago, IL

+WPWR-TV, 50, Chicago, IL

WHBF-TV, 4, Rock Island, IL

WEEK-TV, 25, Peoria, IL

+WYZZ-TV, 43, Bloomington, IL

Lawrence

WTWO, 2, Terre Haute, IN

WTHI-TV, 10, Terre Haute, IN

WTVW, 7, Evansville, IN

+WPXS, 13, Mount Vernon, IL (formerly WCEE)

Lee

WHBF-TV, 4, Rock Island, IL

KWQC-TV, 6, Davenport, IA (formerly WOC)

WQAD-TV, 8, Moline, IL

WGN-TV, 9, Chicago, IL

WREX-TV, 13, Rockford, IL

WTVO, 17, Rockford, IL

WIFR, 23, Freeport, IL (formerly WCEE)

Livingston

WBBM-TV, 2, Chicago, IL

WMAQ-TV, 5, Chicago, IL

WLS-TV, 7, Chicago, IL

WGN-TV, 9, Chicago, IL

+WPWR-TV, 50, Chicago, IL

WHOI, 19, Peoria, IL (formerly WIRL)

WEEK-TV, 25, Peoria, IL

WMBD-TV, 31, Peoria, IL

WCIA, 3, Champaign, IL

Logan

WHOI, 19, Peoria, IL (formerly WIRL)

WEEK-TV, 25, Peoria, IL

WMBD-TV, 31, Peoria, IL

+WYZZ-TV, 43, Bloomington, IL

WCIA, 3, Champaign, IL

WAND, 17, Decatur, IL

WICS, 20, Springfield, IL

+WRSP-TV, 55, Springfield, IL

McDonough

KHQA-TV, 7, Hannibal, MO

WGEM-TV, 10, Quincy, IL

WHBF-TV, 4, Rock Island, IL

KWQC-TV, 6, Davenport, IA (formerly WOC)

WQAD-TV, 8, Moline, IL

+KLJB-TV, 18, Davenport, IA

McHenry

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

McLean

WHOI, 19, Peoria, IL (formerly WIRL)

WEEK-TV, 25, Peoria, IL

WMBD-TV, 31, Peoria, IL

+WYZZ-TV, 43, Bloomington, IL

WCIA, 3, Champaign, IL

WAND, 17, Decatur, IL

+WRSP-TV, 55, Springfield, IL

Macon

WCIA, 3, Champaign, IL

WAND, 17, Decatur, IL

WICS, 20, Springfield, IL

+WRSP-TV, 55, Springfield, IL

Macoupin

KTVI, 2, St. Louis, MO

KMOV, 4, St. Louis, MO (formerly KMOX)

KSDK, 5, St. Louis, MO (formerly KSD)

KPLR-TV, 11, St. Louis, MO

KDNL-TV, 30, St. Louis, MO

+WRSP-TV, 55, Springfield, IL

Madison

KTVI, 2, St. Louis, MO

KMOV, 4, St. Louis, MO (formerly KMOX)

KSDK, 5, St. Louis, MO (formerly KSD)

KPLR-TV, 11, St. Louis, MO

KDNL-TV, 30, St. Louis, MO

Marion

KTVI, 2, St. Louis, MO

KMOV, 4, St. Louis, MO (formerly KMOX)

KSDK, 5, St. Louis, MO (formerly KSD)

KPLR-TV, 11, St. Louis, MO

+WPXS, 13, Mount Vernon, IL (formerly WCEE)

Marshall

WHOI, 19, Peoria, IL (formerly WIRL)

WEEK-TV, 25, Peoria, IL

WMBD-TV, 31, Peoria, IL

+WYZZ-TV, 43, Bloomington, IL

+WTCT, 27, Marion, IL

Mason

WHOI, 19, Peoria, IL (formerly WIRL)

WEEK-TV, 25, Peoria, IL

WMBD-TV, 31, Peoria, IL

+WYZZ-TV, 43, Bloomington, IL

+WRSP-TV, 55, Springfield, IL

Massac

WSIL-TV, 3, Harrisburg, IL

WPSD-TV, 6, Paducah, KY

KFVS-TV, 12, Cape Girardeau, MO

+KBSI, 23, Cape Girardeau, MO

Menard

WHOI, 19, Peoria, IL (formerly WIRL)

WEEK-TV, 25, Peoria, IL

WMBD-TV, 31, Peoria, IL

WAND, 17, Decatur, IL

WICS, 20, Springfield, IL

Mercer

WHBF-TV, 4, Rock Island, IL

KWQC-TV, 6, Davenport, IA (formerly WOC)

WQAD-TV, 8, Moline, IL

+KLJB-TV, 18, Davenport, IA

Monroe

KTVI, 2, St. Louis, MO

KMOV, 4, St. Louis, MO (formerly KMOX)

KSDK, 5, St. Louis, MO (formerly KSD)

KPLR-TV, 11, St. Louis, MO

KDNL-TV, 30, St. Louis, MO

Montgomery

KTVI, 2, St. Louis, MO

KMOV, 4, St. Louis, MO (formerlyn KMOX)

KSDK, 5, St. Louis, MO (formerly KSD)

KPLR-TV, 11, St. Louis, MO

WICS, 20, Springfield, IL

+WRSP-TV, 55, Springfield, IL

Morgan

KHQA-TV, 7, Hannibal, MO

WGEM-TV, 10, Quincy, IL

KTVI, 2, St. Louis, MO

KPLR-TV, 11, St. Louis, MO

WICS, 20, Springfield, IL

+WRSP-TV, 55, Springfield, IL

Moultrie

WCIA, 3, Champaign, IL

WICD, 15, Champaign, IL

WAND, 17, Decatur, IL

WICS, 20, Springfield, IL

+WRSP-TV, 55, Springfield, IL

Ogle

WREX-TV, 13, Rockford, IL

WTVO, 17, Rockford, IL

WIFR, 23, Freeport, IL (formerly WCEE)

+WQRF-TV, 39, Rockford, IL

Peoria

WHOI, 19, Peoria, IL (formerly WIRL)

WEEK-TV, 25, Peoria, IL

WMBD-TV, 31, Peoria, IL

+WYZZ-TV, 43, Bloomington, IL

Perry

KTVI, 2, St. Louis, MO

KMOV, 4, St. Louis, MO (formerly KMOX)

KSDK, 5, St. Louis, MO (formerly KSD)

KPLR-TV, 11, St. Louis, MO

WSIL-TV, 3, Harrisburg, IL

KFVS-TV, 11, Cape Girardeau, MO

+WPXS, 13, Mount Vernon, IL (formerly WCEE)

Piatt

WCIA, 3, Champaign, IL

WICD, 15, Champaign, IL

WAND, 17, Decatur, IL

WICS, 20, Springfield, IL

+WRSP-TV, 55, Springfield, IL

Pike

KHQA-TV, 7, Hannibal, MO

WGEM-TV, 10, Quincy, IL

KTVI, 2, St. Louis, MO

KSDK, 5, St. Louis, MO (formerly KSD)

KPLR-TV, 11, St. Louis, MO

Pope

WSIL-TV, 3, Harrisburg, IL

WPSD-TV, 6, Paducah, KY

KFVS-TV, 12, Cape Girardeau, MO

Pulaski

WSIL-TV, 3, Harrisburg, IL

WPSD-TV, 6, Paducah, KY

KFVS-TV, 12, Cape Girardeau, MO

+KBSI, 23, Cape Girardeau, MO

Putnam

WHOI, 19, Peoria, IL (formerly WIRL)

WEEK-TV, 25, Peoria, IL

WMBD-TV, 31, Peoria, IL

WHBF-TV, 4, Rock Island, IL

KWQC-TV, 6, Davenport, IA (formerly WOC)

WQAD-TV, 8, Moline, IL

Randolph

KTVI, 2, St. Louis, MO

KMOV, 4, St. Louis, MO (formerly KMOX)

KSDK, 5, St. Louis, MO (formerly KSD)

KPLR-TV, 11, St. Louis, MO

KDNL-TV, 30, St. Louis, MO

+KBSI, 23, Cape Girardeau, MO

Richland

WTWO, 2, Terre Haute, IN

WTHI-TV, 10, Terre Haute, IN

WTVW, 7, Evansville, IN

+WPXS, 13, Mount Vernon, IL (formerly WCEE)

Rock Island

WHBF-TV, 4, Rock Island, IL

KWQC-TV, 6, Davenport, IA (formerly WOC)

WQAD-TV, 8, Moline, IL

+KLJB-TV, 18, Davenport, IA

St. Clair

KTVI, 2, St. Louis, MO

KMOV, 4, St. Louis, MO (formerly KMOX)

KSDK, 5, St. Louis, MO (formerly KSD)

KPLR-TV, 11, St. Louis, MO

KDNL-TV, 30, St. Louis, MO

Saline

WSIL-TV, 3, Harrisburg, IL

WPSD-TV, 6, Paducah, KY

KFVS-TV, 12, Cape Girardeau, MO

+KBSI, 23, Cape Girardeau, MO

+WTCT, 27, Marion, IL

+WEVV, 44, Evansville, IN

Sangamon

WCIA, 3, Champaign, IL

WAND, 17, Decatur, IL

WICS, 20, Springfield, IL

+WRSP-TV, 55, Springfield, IL

Schuyler

KHQA-TV, 7, Hannibal, MO

WGEM-TV, 10, Quincy, IL

Scott

KHQA-TV, 7, Hannibal, MO

WGEM-TV, 10, Quincy, IL

KTVI, 2, St. Louis, MO

KSDK, 5, St. Louis, MO (formerly KSD)

KPLR-TV, 11, St. Louis, MO

Shelby

WCIA, 3, Champaign, IL

WAND, 17, Decatur, IL

WICS, 20, Springfield, IL

Stark

WHBF-TV, 4, Rock Island, IL

KWQC-TV, 6, Davenport, IA (formerly WOC)

WQAD-TV, 8, Moline, IL

+KLJB-TV, 18, Davenport, IA

WHOI, 19, Peoria, IL (formerly WIRL)

WEEK-TV, 25, Peoria, IL

WMBD-TV, 31, Peoria, IL

Stephenson

WREX-TV, 13, Rockford, IL

WTVO, 17, Rockford, IL

WIFR, 23, Freeport, IL (formerly WCEE)

+WQRF-TV, 39, Rockford, IL

WISC-TV, 3, Madison, WI

+WMSN-TV, 47, Madison, WI

Tazewell

WHOI, 19, Peoria, IL (formerly WIRL)

WEEK-TV, 25, Peoria, IL

WMBD-TV, 31, Peoria, IL

+WYZZ-TV, 43, Bloomington, IL

+WRSP-TV, 55, Springfield, IL

Union

WSIL-TV, 3, Harrisburg, IL

WPSD-TV, 6, Paducah, KY

KFVS-TV, 12, Cape Girardeau, MO

+KBSI, 23, Cape Girardeau, MO

Vermilion

WCIA, 3, Champaign, IL

WICD, 15, Champaign, IL

WAND, 17, Decatur, IL

WTWO, 2, Terre Haute, IN

Wabash

WTVW, 7, Evansville, IN

WFIE-TV, 14, Evansville, IN

WEHT, 25, Evansville, IN

+WEVV, 44, Evansville, IN

Warren

WHBF-TV, 4, Rock Island, IL

KWQC-TV, 6, Davenport, IA (formerly WOC)

WQAD-TV, 8, Moline, IL

+KLJB-TV, 18, Davenport, IA

Washington

KTVI, 2, St. Louis, MO

KMOV, 4, St. Louis, MO (formerly KMOX)

KSDK, 5, St. Louis, MO (formerly KSD)

KPLR-TV, 11, St. Louis, MO

KDNL-TV, 30, St. Louis, MO

Wayne

WTVW, 7, Evansville, IN

WFIE-TV, 14, Evansville, IN

WEHT, 25, Evansville, IN

+WEVV, 44, Evansville, IN

WSIL-TV, 3, Harrisburg, IL

WPSD-TV, 6, Paducah, KY

KFVS-TV, 12, Cape Girardeau, MO

+WPXS, 13, Mount Vernon, IL (formerly WCEE)

White

WTVW, 7, Evansville, IN

WFIE-TV, 14, Evansville, IN

WEHT, 25, Evansville, IN

+WEVV, 44, Evansville, IN

WSIL-TV, 3, Harrisburg, IL

WPSD-TV, 6, Paducah, KY

+WPXS, 13, Mount Vernon, IL (formerly WCEE)

Whiteside

WHBF-TV, 4, Rock Island, IL

KWQC-TV, 6, Davenport, IA (formerly WOC)

WQAD-TV, 8, Moline, IL

+KLJB-TV, 18, Davenport, IA

+WQRF-TV, 39, Rockford, IL

Will

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Williamson

WSIL-TV, 3, Harrisburg, IL

WPSD-TV, 6, Paducah, KY

KFVS-TV, 12, Cape Girardeau, MO

+WPXS, 13, Mount Vernon, IL (formerly WCEE)

+KBSI, 23, Cape Girardeau, MO

+WTCT, 27, Marion, IL

Winnebago

WREX-TV, 13, Rockford, IL

WTVO, 17, Rockford, IL

WIFR, 23, Freeport, IL (formerly WCEE)

+WQRF-TV, 39, Rockford, IL

Woodford

WHOI, 19, Peoria, IL (formerly WIRL)

WEEK-TV, 25, Peoria, IL

WMBD-TV, 31, Peoria, IL

+WYZZ-TV, 43, Bloomington, IL

Rockton Village—WMSN-TV

South Beloit—WMSN-TV

INDIANA

Adams

WANE-TV, 15, Fort Wayne, IN

WPTA, 21, Fort Wayne, IN

WKJG-TV, 33, Fort Wayne, IN

+WFFT-TV, 55, Fort Wayne, IN

Allen

WANE-TV, 15, Fort Wayne, IN

WPTA, 21, Fort Wayne, IN

WKJG-TV, 33, Fort Wayne, IN

Bartholomew

WTTV, 4, Bloomington, IN

WRTV, 6, Indianapolis, IN (formerly WFBM)

WISH-TV, 8, Indianapolis, IN

WTHR, 13, Indianapolis, IN (formerly WLWI)

+WXIN, 59, Indianapolis, IN

Benton

WTTV, 4, Bloomington, IN

WRTV, 6, Indianapolis, IN (formerly WFBM)

WTHR, 13, Indianapolis, IN (formerly WLWI)

+WTTK, 29, Kokomo, IN

+WXIN, 59, Indianapolis, IN

WGN-TV, 9, Chicago, IL

WLFI-TV, 18, Lafayette, IN

WCIA, 3, Champaign, IL

WICD, 15, Champaign, IL

Blackford

WTTV, 4, Bloomington, IN

WRTV, 6, Indianapolis, IN (formerly WFBM)

WISH-TV, 8, Indianapolis, IN

WTHR, 13, Indianapolis, IN (formerly WLWI)

+WTTK, 29, Kokomo, IN

+WXIN, 59, Indianapolis, IN

WANE-TV, 15, Fort Wayne, IN

WPTA, 21, Fort Wayne, IN

WKJG-TV, 33, Fort Wayne, IN

+WFFT-TV, 55, Fort Wayne, IN

Boone

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Brown

WTTV, 4, Bloomington, IN

WRTV, 6, Indianapolis, IN (formerly WFBM)

WISH-TV, 8, Indianapolis, IN

WTHR, 13 Indianapolis, IN (formerly WLWI)

Carroll

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WLFI-TV, 18, Lafayette, IN

Cass

WRTV, 6, Indianapolis, IN (formerly WFBM)

WISH-TV, 8, Indianapolis, IN

WTHR, 13, Indianapolis, IN (formerly WLWI)

+WTTK, 29, Kokomo, IN

+WXIN, 59, Indianapolis, IN

WLFI-TV, 18, Lafayette, IN

Clark

WAVE, 3, Louisville, KY

WHAS-TV, 11, Louisville, KY

WLKY-TV, 32, Louisville, KY

+WDRB, 41, Louisville, KY

+WFTE, 58, Salem, IN

Clay

WTWO, 2, Terre Haute, IN

WTHI-TV, 10, Terre Haute, IN

+WBAK-TV, 38, Terre Haute, IN

WTTV, 4, Bloomington, IN

WRTV, 6, Indianapolis, IN (formerly WFBM)

WISH-TV, 8, Indianapolis, IN

WTHR, 13, Indianapolis, IN (formerly WLWI)

Clinton

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Crawford

WAVE, 3, Louisville, KY

WHAS-TV, 11, Louisville, KY

WLKY-TV, 32, Louisville, KY

+WDRB, 41, Louisville, KY

WTVW, 7, Evansville, IN

Daviess

WTWO, 2, Terre Haute, IN

WTHI-TV, 10, Terre Haute, IN

WTVW, 7, Evansville, IN

WTTV, 4, Bloomington, IN

Dearborn

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Decatur

WTTV, 4, Bloomington, IN

WRTV, 6, Indianapolis, IN (formerly WFBM)

WISH-TV, 8, Indianapolis, IN

WTHR, 13, Indianapolis, IN (formerly WLWI)

De Kalb

WANE-TV, 15, Fort Wayne, IN

WPTA, 21, Fort Wayne, IN

WKJG-TV, 33, Fort Wayne, IN

+WFFT-TV, 55, Fort Wayne, IN

Delaware

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Dubois

WTVW, 7, Evansville, IN

WFIE-TV, 14, Evansville, IN

WEHT, 25, Evansville, IN

+WEVV, 44, Evansville, IN

WTTV, 4, Bloomington, IN

WAVE, 3, Louisville, KY

WHAS-TV, 11, Louisville, KY

+WDRB, 41, Louisville, KY

WTWO, 2, Terre Haute, IN

WTHI-TV, 10, Terre Haute, IN

Elkhart

WNDU-TV, 16, South Bend, IN

WSBT-TV, 22, South Bend, IN

WSJV, 28, Elkhart, IN

+WHME-TV, 46, South Bend, IN

Fayette

WLWT, 5, Cincinnati, OH

WCPO-TV, 9, Cincinnati, OH

WKRC-TV, 12, Cincinnati, OH

+WSTR-TV, 64, Cincinnati, OH

WHIO-TV, 7, Dayton, OH

+WRGT-TV, 45, Dayton, OH

WTTV, 4, Bloomington, IN

WRTV, 6, Indianapolis, IN (formerly WFBM)

WISH-TV, 8, Indianapolis, IN

+WXIN, 59, Indianapolis, IN

Floyd

WAVE, 3, Louisville, KY

WHAS-TV, 11, Louisville, KY

WLKY-TV, 32, Louisville, KY

+WDRB, 41, Louisville, KY

+WFTE, 58, Salem, IN

Fountain

WTTV, 4, Bloomington, IN

WRTV, 6, Indianapolis, IN (formerly WFBM)

WTHR, 13, Indianapolis, IN (formerly WLWI)

WCIA, 3, Champaign, IL

WTWO, 2, Terre Haute, IN

WTHI-TV, 10, Terre Haute, IN

Franklin

WLWT, 5, Cincinnati, OH

WCPO-TV, 9, Cincinnati, OH

WKRC-TV, 12, Cincinnati, OH

+WSTR-TV, 64, Cincinnati, OH

WTTV, 4, Bloomington, IN

+WRGT-TV, 45, Dayton, OH

Fulton

WNDU-TV, 16, South Bend, IN

WSBT-TV, 22, South Bend, IN

WSJV, 28, Elkhart, IN

+WHME-TV, 46, South Bend, IN

+WTTK, 29, Kokomo, IN

Gibson

WTVW, 7, Evansville, IN

WFIE-TV, 14, Evansville, IN

WEHT, 25, Evansville, IN

Grant

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

+WFFT-TV, 55, Fort Wayne, IN

Greene

WTWO, 2, Terre Haute, IN

WTHI-TV, 10, Terre Haute, IN

+WBAK-TV, 38, Terre Haute, IN

WTVW, 7, Evansville, IN

WTTV, 4, Bloomington, IN

WRTV, 6, Indianapolis, IN (formerly WFBM)

WTHR, 13, Indianapolis, IN (formerly WLWI)

Hamilton

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Hancock

WTTV, 4, Bloomington, IN

WRTV, 6, Indianapolis, IN (formerly WFBM)

WISH-TV, 8, Indianapolis, IN

WTHR, 13, Indianapolis, IN (formerly WLWI)

+WNDY-TV, 23, Indianapolis, IN (formerly WMCC)

+WHMB-TV, 40, Indianapolis, IN

+WXIN, 59, Indianapolis, IN

Harrison

WAVE, 3, Louisville, KY

WHAS-TV, 11, Louisville, KY

WLKY-TV, 32, Louisville, KY

+WDRB, 41, Louisville, KY

+WFTE, 58, Salem, IN

Hendricks

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Henry

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WXIN, 59, Indianapolis, IN

Howard

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Huntington

WANE-TV, 15, Fort Wayne, IN

WPTA, 21, Fort Wayne, IN

WKJG-TV, 33, Fort Wayne, IN

Jackson

WAVE, 3, Louisville, KY

WHAS-TV, 11, Louisville, KY

WLKY-TV, 32, Louisville, KY

+WDRB, 41, Louisville, KY

+WFTE, 58, Salem, IN

WTTV, 4, Bloomington, IN

WRTV, 6, Indianapolis, IN (formerly WFBM)

WISH-TV, 8, Indianapolis, IN

WTHR, 13, Indianapolis, IN (formerly WLWI)

Jasper

WBBM-TV, 2, Chicago, IL

WMAQ-TV, 5, Chicago, IL

WLS-TV, 7, Chicago, IL

WGN-TV, 9, Chicago, IL

+WPWR-TV, 50, Chicago, IL

Jay

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

WANE-TV, 15, Fort Wayne, IN

WPTA, 21, Fort Wayne, IN

WKJG-TV, 33, Fort Wayne, IN

+WFFT-TV, 55, Fort Wayne, IN

+WRGT-TV, 45, Dayton, OH

Jefferson

WAVE, 3, Louisville, KY

WHAS-TV, 11, Louisville, KY

WLKY-TV, 32, Louisville, KY

+WDRB, 41, Louisville, KY

+WFTE, 58, Salem, IN

WLWT, 5, Cincinnati, OH

WCPO-TV, 9, Cincinnati, OH

WKRC-TV, 12, Cincinnati, OH

WTTV, 4, Bloomington, IN

Jennings

WTTV, 4, Bloomington, IN

WRTV, 6, Indianapolis, IN (formerly WFBM)

WISH-TV, 8, Indianapolis, IN

WTHR, 13, Indianapolis, IN (formerly WLWI)

WAVE, 3, Louisville, KY

WHAS-TV, 11, Louisville, KY

WLKY-TV, 32, Louisville, KY

+WDRB, 41, Louisville, KY

Johnson

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Knox

WTWO, 2, Terre Haute, IN

WTHI-TV, 10, Terre Haute, IN

+WBAK-TV, 38, Terre Haute, IN

WTVW, 7, Evansville, IN

Kosciusko

WNDU-TV, 16, South Bend, IN

WSBT-TV, 22, South Bend, IN

WSJV, 28, Elkhart, IN

+WFFT-TV, 55, Fort Wayne, IN

La Grange

WNDU-TV, 16, South Bend, IN

WSBT-TV, 22, South Bend, IN

WSJV, 28, Elkhart, IN

WANE-TV, 15, Fort Wayne, IN

WPTA, 21, Fort Wayne, IN

WKJG-TV, 33, Fort Wayne, IN

Lake

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

La Porte

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

WNDU-TV, 16, South Bend, IN

WSBT-TV, 22, South Bend, IN

Lawrence

WTTV, 4, Bloomington, IN

WRTV, 6, Indianapolis, IN (formerly WFBM)

WISH-TV, 8, Indianapolis, IN

WAVE, 3, Louisville, KY

WHAS-TV, 11, Louisville, KY

+WDRB, 41, Louisville, KY

WTWO, 2, Terre Haute, IN

WTHI-TV, 10, Terre Haute, IN

Madison

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WHMB-TV, 40, Indianapolis, IN

+WXIN, 59, Indianapolis, IN

Marion

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Marshall

WNDU-TV, 16, South Bend, IN

WSBT-TV, 22, South Bend, IN

WSJV, 28, Elkhart, IN

WGN-TV, 9, Chicago, IL

Martin

WTWO, 2, Terre Haute, IN

WTHI-TV, 10, Terre Haute, IN

WTVW, 7, Evansville, IN

WTTV, 4, Bloomington, IN

WAVE, 3, Louisville, KY

+WDRB, 41, Louisville, KY

Miami

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WNDU-TV, 16, South Bend, IN

Monroe

WTTV, 4, Bloomington, IN

WRTV, 6, Indianapolis, IN (formerly WFBM)

WISH-TV, 8, Indianapolis, IN

WTHR, 13, Indianapolis, IN (formerly WLWI)

+WXIN, 59, Indianapolis, IN

WTWO, 2, Terre Haute, IN

WTHI-TV, 10, Terre Haute, IN

Montgomery

WTTV, 4, Bloomington, IN

WRTV, 6, Indianapolis, IN (formerly WFBM)

WISH-TV, 8, Indianapolis, IN

WTHR, 13, Indianapolis, IN (formerly WLWI)

+WHMB-TV, 40, Indianapolis, IN

+WXIN, 59, Indianapolis, IN

Morgan

WTTV, 4, Bloomington, IN

WRTV, 6, Indianapolis, IN (formerly WFBM)

WISH-TV, 8, Indianapolis, IN

WTHR, 13, Indianapolis, IN (formerly WLWI)

+WXIN, 59, Indianapolis, IN

Newton

WBBM-TV, 2, Chicago, IL

WMAQ-TV, 5, Chicago, IL

WLS-TV, 7, Chicago, IL

WGN-TV, 9, Chicago, IL

+WGBO-TV, 66, Joliet, IL

Noble

WANE-TV, 15, Fort Wayne, IN

WPTA, 21, Fort Wayne, IN

WKJG-TV, 33, Fort Wayne, IN

+WFFT-TV, 55, Fort Wayne, IN

WNDU-TV, 16, South Bend, IN

WSBT-TV, 22, South Bend, IN

WSJV, 28, Elkhart, IN

+WHME-TV, 46, South Bend, IN

Ohio

WLWT, 5, Cincinnati, OH

WCPO-TV, 9, Cincinnati, OH

WKRC-TV, 12, Cincinnati, OH

WXIX-TV, 19, Cincinnati, OH

+WSTR-TV, 64, Cincinnati, OH

Orange

WAVE, 3, Louisville, KY

WHAS-TV, 11, Louisville, KY

WLKY-TV, 32, Louisville, KY

+WDRB, 41, Louisville, KY

WTTV, 4, Bloomington, IN

Owen

WTTV, 4, Bloomington, IN

WRTV, 6, Indianapolis, IN (formerly WFBM)

WISH-TV, 8, Indianapolis, IN

WTHR, 13, Indianapolis, IN (formerly WLWI)

WTWO, 2, Terre Haute, IN

WTHI-TV, 10, Terre Haute, IN

Parke

WTWO, 2, Terre Haute, IN

WTHI-TV, 10, Terre Haute, IN

WTTV, 4, Bloomington, IN

WRTV, 6, Indianapolis, IN (formerly WFBM)

WTHR, 13, Indianapolis, IN (formerly WLWI)

Perry

WTVW, 7, Evansville, IN

WFIE-TV, 14, Evansville, IN

WEHT, 25, Evansville, IN

+WEVV, 44, Evansville, IN

WAVE, 3, Louisville, KY

WHAS-TV, 11, Louisville, KY

+WDRB, 41, Louisville, KY

Pike

WTVW, 7, Evansville, IN

WFIE-TV, 14, Evansville, IN

WEHT, 25, Evansville, IN

+WEVV, 44, Evansville, IN

WTTV, 4, Bloomington, IN

WTWO, 2, Terre Haute, IN

WTHI-TV, 10, Terre Haute, IN

Porter

WBBM-TV, 2, Chicago, IL

WMAQ-TV, 5, Chicago, IL

WLS-TV, 7, Chicago, IL

WGN-TV, 9, Chicago, IL

WFLD, 32, Chicago, IL

+WPWR-TV, 50, Chicago, IL

+WGBO-TV, 66, Joliet, IL

Posey

WTVW, 7, Evansville, IN

WFIE-TV, 14, Evansville, IN

WEHT, 25, Evansville, IN

Pulaski

WNDU-TV, 16, South Bend, IN

WSBT-TV, 22, South Bend, IN

WSJV, 28, Elkhart, IN

WBBM-TV, 2, Chicago, IL

WMAQ-TV, 5, Chicago, IL

WLS-TV, 7, Chicago, IL

WGN-TV, 9, Chicago, IL

Putnam

WTTV, 4, Bloomington, IN

WRTV, 6, Indianapolis, IN (formerly WFBM)

WISH-TV, 8, Indianapolis, IN

WTHR, 13, Indianapolis, IN (formerly WLWI)

+WXIN, 59, Indianapolis, IN

WTWO, 2, Terre Haute, IN

WTHI-TV, 10, Terre Haute, IN

Randolph

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WTTK, 29, Kokomo, IN

+WXIN, 59, Indianapolis, IN

WDTN, 2, Dayton, OH (formerly WLWD)

WHIO-TV, 7, Dayton, OH

+WRGT-TV, 45, Dayton, OH

Ripley

WLWT, 5, Cincinnati, OH

WCPO-TV, 9, Cincinnati, OH

WKRC-TV, 12, Cincinnati, OH

WXIX-TV, 19, Cincinnati, OH

+WSTR-TV, 64, Cincinnati, OH

WTTV, 4, Bloomington, IN

Rush

WTTV, 4, Bloomington, IN

WRTV, 6, Indianapolis, IN (formerly WFBM)

WISH-TV, 8, Indianapolis, IN

WTHR, 13, Indianapolis, IN (formerly WLWI)

+WXIN, 59, Indianapolis, IN

St. Joseph

WNDU-TV, 16, South Bend, IN

WSBT-TV, 22, South Bend, IN

WSJV, 28, Elkhart, IN

WGN-TV, 9, Chicago, IL

Scott

WAVE, 3, Louisville, KY

WHAS-TV, 11, Louisville, KY

WLKY-TV, 32, Louisville, KY

+WDRB, 41, Louisville, KY

+WFTE, 58, Salem, IN

WTTV, 4, Bloomington, IN

Shelby

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Spencer

WTVW, 7, Evansville, IN

WFIE-TV, 14, Evansville, IN

WEHT, 25, Evansville, IN

Starke

WNDU-TV, 16, South Bend, IN

WSBT-TV, 22, South Bend, IN

WSJV, 28, Elkhart, IN

WBBM-TV, 2, Chicago, IL

WMAQ-TV, 5, Chicago, IL

WLS-TV, 7, Chicago, IL

WGN-TV, 9, Chicago, IL

Steuben

WANE-TV, 15, Fort Wayne, IN

WPTA, 21, Fort Wayne, IN

WKJG-TV, 33, Fort Wayne, IN

+WFFT-TV, 55, Fort Wayne, IN

WWMT, 3, Kalamazoo, MI (formerly WKZO)

+WSYM-TV, 47, Lansing, MI

Sullivan

WTWO, 2, Terre Haute, IN

WTHI-TV, 10, Terre Haute, IN

+WBAK-TV, 38, Terre Haute, IN

WTTV, 4, Bloomington, IN

Switzerland

WLWT, 5, Cincinnati, OH

WCPO-TV, 9, Cincinnati, OH

WKRC-TV, 12, Cincinnati, OH

WXIX-TV, 19, Cincinnati, OH

Tippecanoe

WLFI-TV, 18, Lafayette, IN

WTTV, 4, Bloomington, IN

WRTV, 6, Indianapolis, IN (formerly WFBM)

WISH-TV, 8, Indianapolis, IN

WTHR, 13, Indianapolis, IN (formerly WLWI)

+WNDY-TV, 23, Marion, IN (formerly WMCC)

+WHMB-TV, 40, Indianapolis, IN

+WXIN, 59, Indianapolis, IN

Tipton

WTTV, 4, Bloomington, IN

WRTV, 6, Indianapolis, IN (formerly WFBM)

WISH-TV, 8, Indianapolis, IN

WTHR, 13, Indianapolis, IN (formerly WLWI)

+WTTK, 29, Kokomo, IN

+WHMB-TV, 40, Indianapolis, IN

+WXIN, 59, Indianapolis, IN

Union

WLWT, 5, Cincinnati, OH

WCPO-TV, 9, Cincinnati, OH

WKRC-TV, 12, Cincinnati, OH

WXIX-TV, 19, Cincinnati, OH

WHIO-TV, 7, Dayton, OH

WPTD, 16, Dayton, OH (formerly WKTR)

WTTV, 4, Bloomington, IN

Vanderburg

WTVW, 7, Evansville, IN

WFIE-TV, 14, Evansville, IN

WEHT, 25, Evansville, IN

Vermillion

WTWO, 2, Terre Haute, IN

WTHI-TV, 10, Terre Haute, IN

+WBAK-TV, 38, Terre Haute, IN

WTTV, 4, Bloomington, IN

WRTV, 6, Indianapolis, IN (formerly WFBM)

WTHR, 13, Indianapolis, IN (formerly WLWI)

WCIA, 3, Champaign, IL

Vigo

WTWO, 2, Terre Haute, IN

WTHI-TV, 10, Terre Haute, IN

+WBAK-TV, 38, Terre Haute, IN

WTTV, 4, Bloomington, IN

Wabash

WRTV, 6, Indianapolis, IN (formerly WFBM)

WISH-TV, 8, Indianapolis, IN

WTHR, 13, Indianapolis, IN (formerly WLWI)

+WNDY-TV, 23, Indianapolis, IN (formerly WMCC)

+WTTK, 29, Kokomo, IN

WANE-TV, 15, Fort Wayne, IN

WPTA, 21, Fort Wayne, IN

WKJG-TV, 33, Fort Wayne, IN

+WFFT-TV, 55, Fort Wayne, IN

Warren

WTTV, 4, Bloomington, IN

WRTV, 6, Indianapolis, IN (formerly WFBM)

WTHR, 13, Indianapolis, IN (formerly WLWI)

WCIA, 3, Champaign, IL

WICD, 15, Champaign, IL

WTHI-TV, 10, Terre Haute, IN

Warrick

WTVW, 7, Evansville, IN

WFIE-TV, 14, Evansville, IN

WEHT, 25, Evansville, IN

Washington

WAVE, 3, Louisville, KY

WHAS-TV, 11, Louisville, KY

WLKY-TV, 32, Louisville, KY

WDRB, 41, Louisville, KY

WTTV, 4, Bloomington, IN

Wayne

WDTN, 2, Dayton, OH (formerly WLWD)

WHIO-TV, 7, Dayton, OH

+WRGT-TV, 45, Dayton, OH

WLWT, 5, Cincinnati, OH

WCPO-TV, 9, Cincinnati, OH

WKRC-TV, 12, Cincinnati, OH

WTTV, 4, Bloomington, IN

WRTV, 6, Indianapolis, IN (formerly WFBM)

WISH-TV, 8, Indianapolis, IN

WTHR, 13, Indianapolis, IN (formerly WLWI)

Wells

WANE-TV, 15, Fort Wayne, IN

WPTA, 21, Fort Wayne, IN

WKJG-TV, 33, Fort Wayne, IN

+WFFT-TV, 55, Fort Wayne, IN

White

WTTV, 4, Bloomington, IN

WRTV, 6, Indianapolis, IN (formerly WFBM)

WISH-TV, 8, Indianapolis, IN

WTHR, 13, Indianapolis, IN (formerly WLWI)

+WTTK, 29, Kokomo, IN

+WHMB-TV, 40, Indianapolis, IN

+WXIN, 59, Indianapolis, IN

WGN-TV, 9, Chicago, IL

WLFI-TV, 18, Lafayette, IN

Whitley

WANE-TV, 15, Fort Wayne, IN

WPTA, 21, Fort Wayne, IN

WKJG-TV, 33, Fort Wayne, IN

Battleground—WXIN

Bloomington—WYZZ-TV

Centerville—WXIX-TV

Dayton—WXIN

Lafayette—WXIN

Mishawaka—WGN-TV, WFLD

Osceola—WGN-TV, WFLD

Richmond—WXIX-TV

Roseland—WGN-TV, WFLD

South Bend—WGN-TV, WFLD

Spring Grove—WXIX-TV

West Lafayette—WXIN

Unincorporated areas os St. Joseph County—WGN-TV, WFLD

Unincorporated areas of Wayne County—WXIX-TV

IOWA

Adair

WOI-TV, 5, Ames, IA

KCCI, 8, Des Moines, IA (formerly KRNT)

WHO-TV, 13, Des Moines, IA

Adams

KMTV, 3, Omaha, NE

WOWT, 6, Omaha, NE (formerly WOW)

KETV, 7, Omaha, NE

Allamakee

KGAN, 2, Cedar Rapids, IA (formerly WMT)

KWWL, 7, Waterloo, IA

KCRG-TV, 9, Cedar Rapids, IA

WKBT, 8, La Crosse, WI

+WLAX, 25, La Crosse, WI

KTTC, 10, Rochester, MN (formerly KROC)

Appanoose

KTVO, 3, Ottumwa, IA

KCCI, 8, Des Moines, IA (formerly KRNT)

WHO-TV, 13, Des Moines, IA

+KDSM-TV, 17, Des Moines, IA

Audubon

KMTV, 3, Omaha, NE

WOWT, 6, Omaha, NE (formerly WOW)

KETV, 7, Omaha, NE

Benton

KGAN, 2, Cedar Rapids, IA (formerly WMT)

KWWL, 7, Waterloo, IA

KCRG-TV, 9, Cedar Rapids, IA

Black Hawk

KGAN, 2, Cedar Rapids, IA (formerly WMT)

KWWL, 7, Waterloo, IA

KCRG-TV, 9, Cedar Rapids, IA

Boone

WOI-TV, 5, Ames, IA

KCCI, 8, Des Moines, IA (formerly KRNT)

WHO-TV, 13, Des Moines, IA

+KDSM-TV, 17, Des Moines, IA

Bremer

KGAN, 2, Cedar Rapids, IA (formerly WMT)

KWWL, 7, Waterloo, IA

KCRG-TV, 9, Cedar Rapids, IA

Buchanan

KGAN, 2, Cedar Rapids, IA (formerly WMT)

KWWL, 7, Waterloo, IA

KCRG-TV, 9, Cedar Rapids, IA

Buena Vista

KTIV, 4, Sioux City, IA

KCAU-TV, 9, Sioux City, IA

KMEG, 14, Sioux City, IA

Butler

KGAN, 2, Cedar Rapids, IA (formerly WMT)

KWWL, 7, Waterloo, IA

KCRG-TV, 9, Cedar Rapids, IA

KIMT, 3, Mason City, IA (formerly KGLO)

Calhoun

WOI-TV, 5, Ames, IA

KCCI, 8, Des Moines, IA (formerly KRNT)

+KDSM-TV, 17, Des Moines, IA

KVFD, 21, Fort Dodge, IA

KTIV, 4, Sioux City, IA

KCAU-TV, 9, Sioux City, IA

Carroll

WOI-TV, 5, Ames, IA

KCCI, 8, Des Moines, IA (formerly KRNT)

WHO-TV, 13, Des Moines, IA

+KDSM-TV, 17, Des Moines, IA

WOWT, 6, Omaha, NE (formerly WOW)

Cass

KMTV, 3, Omaha, NE

WOWT, 6, Omaha, NE (formerly WOW)

KETV, 7, Omaha, NE

+KPTM, 42, Omaha, NE

Cedar

KGAN, 2, Cedar Rapids, IA (formerly WMT)

KWWL, 7, Waterloo, IA

KCRG-TV, 9, Cedar Rapids, IA

WHBF-TV, 4, Rock Island, IL

KWQC-TV, 6, Davenport, IA (formerly WOC)

WQAD-TV, 8, Moline, IL

+KLJB-TV, 18, Davenport, IA

Cerro Gordo

KIMT, 3, Mason City, IA (formerly KGLO)

KAAL, 6, Austin, MN (formerly KAUS)

KTTC, 10, Rochester, MN (formerly KROC)

Cherokee

KTIV, 4, Sioux City, IA

KCAU-TV, 9, Sioux City, IA

KMEG, 14, Sioux City, IA

KELO-TV, 11, Sioux Falls, SD

KSFY-TV, 13, Sioux Falls, SD (formerly KSOO)

Chickasaw

KGAN, 2, Cedar Rapids, IA (formerly WMT)

KWWL, 7, Waterloo, IA

KCRG-TV, 9, Cedar Rapids, IA

KIMT, 3, Mason City, IA (formerly KGLO)

KTTC, 10, Rochester, MN (formerly KROC)

Clarke

WOI-TV, 5, Ames, IA

KCCI, 8, Des Moines, IA (formerly KRNT)

WHO-TV, 13, Des Moines, IA

Clay

KTIV, 4, Sioux City, IA

KCAU-TV, 9, Sioux City, IA

KELO-TV, 11, Sioux Falls, SD

KSFY-TV, 13, Sioux Falls, SD (formerly KSOO)

Clayton

KGAN, 2, Cedar Rapids, IA (formerly WMT)

KWWL, 7, Waterloo, IA

KCRG-TV, 9, Cedar Rapids, IA

Clinton

WHBF-TV, 4, Rock Island, IL

KWQC-TV, 6, Davenport, IA (formerly WOC)

WQAD-TV, 8, Moline, IL

+KLJB-TV, 18, Davenport, IA

Crawford

KMTV, 3, Omaha, NE

WOWT, 6, Omaha, NE (formerly WOW)

KETV, 7, Omaha, NE

+KXVO, 15, Omaha, NE

+KPTM, 42, Omaha, NE

KTIV, 4, Sioux City, IA

KCAU-TV, 9, Sioux City, IA

Dallas

WOI-TV, 5, Ames, IA

KCCI, 8, Des Moines, IA (formerly KRNT)

WHO-TV, 13, Des Moines, IA

+KDSM-TV, 17, Des Moines, IA

Davis

KCCI, 8, Des Moines, IA (formerly KRNT)

WHO-TV, 13, Des Moines, IA

+KDSM-TV, 17, Des Moines, IA

KTVO, 3, Ottumwa, IA

+KYOU-TV, 15, Ottumwa, IA

KHQA-TV, 7, Hannibal, MO

WGEM-TV, 10, Quincy, IL

Decatur

KCCI, 8, Des Moines, IA (formerly KRNT)

WHO-TV, 13, Des Moines, IA

KTVO, 3, Ottumwa, IA

Delaware

KGAN, 2, Cedar Rapids, IA (formerly WMT)

KWWL, 7, Waterloo, IA

KCRG-TV, 9, Cedar Rapids, IA

Des Moines

WHBF-TV, 4, Rock Island, IL

KWQC-TV, 6, Davenport, IA (formerly WOC)

WQAD-TV, 8, Moline, IL

+KLJB-TV, 18, Davenport, IA

+KYOU-TV, 15, Ottumwa, IA

Dickinson

KTIV, 4, Sioux City, IA

KCAU-TV, 9, Sioux City, IA

KEYC-TV, 12, Mankato, MN

KELO-TV, 11, Sioux Falls, SD

KSFY-TV, 13, Sioux Falls, SD (formerly KSOO)

Dubuque

KGAN, 2, Cedar Rapids, IA (formerly WMT)

KWWL, 7, Waterloo, IA

KCRG-TV, 9, Cedar Rapids, IA

KFXB, 40, Dubuque, IA (formerly KDUB)

Emmet

KEYC-TV, 12, Mankato, MN

KAAL, 6, Austin, MN (formerly KAUS)

KCAU-TV, 9, Sioux City, IA

Fayette

KGAN, 2, Cedar Rapids, IA (formerly WMT)

KWWL, 7, Waterloo, IA

KCRG-TV, 9, Cedar Rapids, IA

Floyd

KIMT, 3, Mason City, IA (formerly KGLO)

KAAL, 6, Austin, MN (formerly KAUS)

KTTC, 10, Rochester, MN (formerly KROC)

KGAN, 2, Cedar Rapids, IA (formerly WMT)

KWWL, 7, Waterloo, IA

KCRG-TV, 9, Cedar Rapids, IA

Franklin

KIMT, 3, Mason City, IA (formerly KGLO)

KTTC, 10, Rochester, MN (formerly KROC)

KGAN, 2, Cedar Rapids, IA (formerly WMT)

KWWL, 7, Waterloo, IA

KCRG-TV, 9, Cedar Rapids, IA

WOI-TV, 5, Ames, IA

+KDSM-TV, 17, Des Moines, IA

Fremont

KMTV, 3, Omaha, NE

WOWT, 6, Omaha, NE (formerly WOW)

KETV, 7, Omaha, NE

+KPTM, 42, Omaha, NE

Greene

WOI-TV, 5, Ames, IA

KCCI, 8, Des Moines, IA (formerly KRNT)

WHO-TV, 13, Des Moines, IA

Grundy

KGAN, 2, Cedar Rapids, IA (formerly WMT)

KWWL, 7, Waterloo, IA

KCRG-TV, 9, Cedar Rapids, IA

+KDSM-TV, 17, Des Moines, IA

Guthrie

WOI-TV, 5, Ames, IA

KCCI, 8, Des Moines, IA (formerly KRNT)

WHO-TV, 13, Des Moines, IA

Hamilton

WOI-TV, 5, Ames, IA

KCCI, 8, Des Moines, IA (formerly KRNT)

WHO-TV, 13, Des Moines, IA

+KDSM-TV, 17, Des Moines, IA

Hancock

KIMT, 3, Mason City, IA (formerly KGLO)

KAAL, 6, Austin, MN (formerly KAUS)

KTTC, 10, Rochester, MN (formerly KROC)

Hardin

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

+KDSM-TV, 17, Des Moines, IA

Harrison

KMTV, 3, Omaha, NE

WOWT, 6, Omaha, NE (formerly WOW)

KETV, 7, Omaha, NE

+KXVO, 15, Omaha, NE

+KPTM, 42, Omaha, NE

Henry

WHBF-TV, 4, Rock Island, IL

KWQC-TV, 6, Davenport, IA (formerly WOC)

WQAD-TV, 8, Moline, IL

+KLJB-TV, 18, Davenport, IA

KTVO, 3, Ottumwa, IA

+KYOU-TV, 15, Ottumwa, IA

Howard

KIMT, 3, Mason City, IA (formerly KGLO)

KAAL, 6, Austin, MN (formerly KAUS)

KTTC, 10, Rochester, MN (formerly KROC)

KWWL, 7, Waterloo, IA

KCRG-TV, 9, Cedar Rapids, IA

Humboldt

WOI-TV, 5, Ames, IA

KCCI, 8, Des Moines, IA (formerly KRNT)

+KDSM-TV, 17, Des Moines, IA

KVFD, 21, Fort Dodge, IA

Ida

KTIV, 4, Sioux City, IA

KCAU-TV, 9, Sioux City, IA

KMEG, 14, Sioux City, IA

Iowa

KGAN, 2, Cedar Rapids, IA (formerly WMT)

KWWL, 7, Waterloo, IA

KCRG-TV, 9, Cedar Rapids, IA

+KYOU-TV, 15, Ottumwa, IA

Jackson

WHBF-TV, 4, Rock Island, IL

KWQC-TV, 6, Davenport, IA (formerly WOC)

WQAD-TV, 8, Moline, IL

+KLJB-TV, 18, Davenport, IA

KGAN, 2, Cedar Rapids, IA (formerly WMT)

KWWL, 7, Waterloo, IA

KCRG-TV, 9, Cedar Rapids, IA

Jasper

WOI-TV, 5, Ames, IA

KCCI, 8, Des Moines, IA (formerly KRNT)

WHO-TV, 13, Des Moines, IA

+KDSM-TV, 17, Des Moines, IA

Jefferson

KTVO, 3, Ottumwa, IA

+KYOU-TV, 15, Ottumwa, IA (formerly KOIA)

KGAN, 2, Cedar Rapids, IA (formerly WMT)

KCRG-TV, 9, Cedar Rapids, IA

KWQC-TV, 6, Davenport, IA (formerly WOC)

KHQA-TV, 7, Hannibal, MO

Johnson

KGAN, 2, Cedar Rapids, IA (formerly WMT)

KWWL, 7, Waterloo, IA

KCRG-TV, 9, Cedar Rapids, IA

WHBF-TV, 4, Rock Island, IL

KWQC-TV, 6, Davenport, IA (formerly WOC)

+KYOU-TV, 15, Ottumwa, IA

Jones

KGAN, 2, Cedar Rapids, IA (formerly WMT)

KWWL, 7, Waterloo, IA

KCRG-TV, 9, Cedar Rapids, IA

+KLJB-TV, 18, Davenport, IA

Keokuk

KGAN, 2, Cedar Rapids, IA (formerly WMT)

KWWL, 7, Waterloo, IA

KCRG-TV, 9, Cedar Rapids, IA

WHO-TV, 13, Des Moines, IA

KTVO, 3, Ottumwa, IA

Kossuth

KIMT, 3, Mason City, IA (formerly KGLO)

KAAL, 6, Austin, MN (formerly KAUS)

KVFD, 21, Fort Dodge, IA

KEYC-TV, 12, Mankato, MN

Lee

KHQA-TV, 7, Hannibal, MO

WGEM-TV, 10, Quincy, IL

KTVO, 3, Ottumwa, IA

+KYOU-TV, 15, Ottumwa, IA

Linn

KGAN, 2, Cedar Rapids, IA (formerly WMT)

KWWL, 7, Waterloo, IA

KCRG-TV, 9, Cedar Rapids, IA

Louisa

WHBF-TV, 4, Rock Island, IL

KWQC-TV, 6, Davenport, IA (formerly WOC)

WQAD-TV, 8, Moline, IL

+KLJB-TV, 18, Davenport, IA

Lucas

WOI-TV, 5, Ames, IA

KCCI, 8, Des Moines, IA (formerly KRNT)

WHO-TV, 13, Des Moines, IA

Lyon

KELO-TV, 11, Sioux Falls, SD

KSFY-TV, 13, Sioux Falls, SD (formerly KSOO)

KTIV, 4, Sioux City, IA

KCAU-TV, 9, Sioux City, IA

Madison

WOI-TV, 5, Ames, IA

KCCI, 8, Des Moines, IA (formerly KRNT)

WHO-TV, 13, Des Moines, IA

Mahaska

KCCI, 8, Des Moines, IA (formerly KRNT)

WHO-TV, 13, Des Moines, IA

+KDSM-TV, 17, Des Moines, IA

KGAN, 2, Cedar Rapids, IA (formerly WMT)

KWWL, 7, Waterloo, IA

KCRG-TV, 9, Cedar Rapids, IA

KTVO, 3, Ottumwa, IA

Marion

WOI-TV, 5, Ames, IA

KCCI, 8, Des Moines, IA (formerly KRNT)

WHO-TV, 13, Des Moines, IA

Marshall

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

+KDSM-TV, 17, Des Moines, IA

Mills

KMTV, 3, Omaha, NE

WOWT, 6, Omaha, NE (formerly WOW)

KETV, 7, Omaha, NE

+KXVO, 15, Omaha, NE

+KPTM, 42, Omaha, NE

Mitchell

KIMT, 3, Mason City, IA (formerly KGLO)

KAAL, 6, Austin, MN (formerly KAUS)

KTTC, 10, Rochester, MN (formerly KROC)

Monona

KMTV, 3, Omaha, NE

WOWT, 6, Omaha, NE (formerly WOW)

KETV, 7, Omaha, NE

+KPTM, 42, Omaha, NE

KTIV, 4, Sioux City, IA

KCAU-TV, 9, Sioux City, IA

Monroe

KCCI, 8, Des Moines, IA (formerly KRNT)

WHO-TV, 13, Des Moines, IA

KTVO, 3, Ottumwa, IA

+KYOU-TV, 15, Ottumwa, IA

Montgomery

KMTV, 3, Omaha, NE

WOWT, 6, Omaha, NE (formerly WOW)

KETV, 7, Omaha, NE

+KXVO, 15, Omaha, NE

+KPTM, 42, Omaha, NE

Muscatine

WHBF-TV, 4, Rock Island, IL

KWQC-TV, 6, Davenport, IA (formerly WOC)

WQAD-TV, 8, Moline, IL

+KLJB-TV, 18, Davenport, IA

O'Brien

KTIV, 4, Sioux City, IA

KCAU-TV, 9, Sioux City, IA

KELO-TV, 11, Sioux Falls, SD

KSFY-TV, 13, Sioux Falls, SD (formerly KSOO)

Oceola

KELO-TV, 11, Sioux Falls, SD

KSFY-TV, 13, Sioux Falls, SD (formerly KSOO)

KTIV, 4, Sioux City, IA

KCAU-TV, 9, Sioux City, IA

Page

KMTV, 3, Omaha, NE

WOWT, 6, Omaha, NE (formerly WOW)

KETV, 7, Omaha, NE

+KXVO, 15, Omaha, NE

+KPTM, 42, Omaha, NE

Palo Alto

KTIV, 4, Sioux City, IA

KCAU-TV, 9, Sioux City, IA

KVFD, 21, Fort Dodge, IA

KEYC-TV, 12, Mankato, MN

Plymouth

KTIV, 4, Sioux City, IA

KCAU-TV, 9, Sioux City, IA

KMEG, 14, Sioux City, IA

KELO-TV, 11, Sioux Falls, SD

Pocahontas

KTIV, 4, Sioux City, IA

KCAU-TV, 9, Sioux City, IA

KCCI, 8, Des Moines, IA (formerly KRNT)

KVFD, 21, Fort Dodge, IA

Polk

WOI-TV, 5, Ames, IA

KCCI, 8, Des Moines, IA (formerly KRNT)

WHO-TV, 13, Des Moines, IA

+KDSM-TV, 17, Des Moines, IA

Pottawattamie

KMTV, 3, Omaha, NE

WOWT, 6, Omaha, NE (formerly WOW)

KETV, 7, Omaha, NE

+KXVO, 15, Omaha, NE

+KPTM, 42, Omaha, NE

Poweshiek

KGAN, 2, Cedar Rapids, IA (formerly WMT)

KWWL, 7, Waterloo, IA

KCRG-TV, 9, Cedar Rapids, IA

WOI-TV, 5, Ames, IA

KCCI, 8, Des Moines, IA (formerly KRNT)

WHO-TV, 13, Des Moines, IA

Ringgold

WOI-TV, 5, Ames, IA

KCCI, 8, Des Moines, IA (formerly KRNT)

WHO-TV, 13, Des Moines, IA

WOWT, 6, Omaha, NE (formerly WOW)

KQTV, 2, St. Joseph, MO

Sac

KTIV, 4, Sioux City, IA

KCAU-TV, 9, Sioux City, IA

WOWT, 6, Omaha, NE (formerly WOW)

Scott

WHBF-TV, 4, Rock Island, IL

KWQC-TV, 6, Davenport, IA (formerly WOC)

WQAD-TV, 8, Moline, IL

+KLJB-TV, 18, Davenport, IA

Shelby

KMTV, 3, Omaha, NE

WOWT, 6, Omaha, NE (formerly WOW)

KETV, 7, Omaha, NE

+KXVO, 15, Omaha, NE

+KPTM, 42, Omaha, NE

Sioux

KTIV, 4, Sioux City, IA

KCAU-TV, 9, Sioux City, IA

KMEG, 14, Sioux City, IA

KELO-TV, 11, Sioux Falls, SD

KSFY-TV, 13, Sioux Falls, SD (formerly KSOO)

Story

WOI-TV, 5, Ames, IA

KCCI, 8, Des Moines, IA (formerly KRNT)

WHO-TV, 13, Des Moines, IA

+KDSM-TV, 17, Des Moines, IA

Tama

KGAN, 2, Cedar Rapids, IA (formerly WMT)

KWWL, 7, Waterloo, IA

KCRG-TV, 9, Cedar Rapids, IA

WHO-TV, 13, Des Moines, IA

+KDSM-TV, 17, Des Moines, IA

Taylor

KMTV, 3, Omaha, NE

WOWT, 6, Omaha, NE (formerly WOW)

KETV, 7, Omaha, NE

+KPTM, 42, Omaha, NE

Union

WOI-TV, 5, Ames, IA

KCCI, 8, Des Moines, IA (formerly KRNT)

WHO-TV, 13, Des Moines, IA

KETV, 7, Omaha, NE

Van Buren

KTVO, 3, Ottumwa, IA

+KYOU-TV, 15, Ottumwa, IA (formerly KOIA)

KHQA-TV, 7, Hannibal, MO

WGEM-TV, 10, Quincy, IL

Wapello

KCCI, 8, Des Moines, IA (formerly KRNT)

WHO-TV, 13, Des Moines, IA

+KDSM-TV, 17, Des Moines, IA

KTVO, 3, Ottumwa, IA

+KYOU-TV, 15, Ottumwa, IA (formerly KOIA)

Warren

WOI-TV, 5, Ames, IA

KCCI, 8, Des Moines, IA (formerly KRNT)

WHO-TV, 13, Des Moines, IA

+KDSM-TV, 17, Des Moines, IA

Washington

KGAN, 2, Cedar Rapids, IA (formerly WMT)

KWWL, 7, Waterloo, IA

KCRG-TV, 9, Cedar Rapids, IA

WHBF-TV, 4, Rock Island, IL

KWQC-TV, 6, Davenport, IA (formerly WOC)

+KLJB-TV, 18, Davenport, IA

Wayne

KCCI, 8, Des Moines, IA (formerly KRNT)

WHO-TV, 13, Des Moines, IA

KTVO, 3, Ottumwa, IA

Webster

WOI-TV, 5, Ames, IA

KCCI, 8, Des Moines, IA (formerly KRNT)

+KDSM-TV, 17, Des Moines, IA

KVFD, 21, Fort Dodge, IA

Winnebago

KIMT, 3, Mason City, IA (formerly KGLO)

KAAL, 6, Austin, MN (formerly KAUS)

KTTC, 10, Rochester, MN (formerly KROC)

KEYC-TV, 12, Mankato, MN

Winneshiek

KGAN, 2, Cedar Rapids, IA (formerly WMT)

KWWL, 7, Waterloo, IA

KCRG-TV, 9, Cedar Rapids, IA

WKBT, 8, La Crosse, WI

+WLAX, 25, La Crosse, WI

KIMT, 3, Mason City, IA (formerly KGLO)

KTTC, 10, Rochester, MN (formerly KROC)

Woodbury

KTIV, 4, Sioux City, IA

KCAU-TV, 9, Sioux City, IA

KMEG, 14, Sioux City, IA

Worth

KIMT, 3, Mason City, IA (formerly KGLO)

KAAL, 6, Austin, MN (formerly KAUS)

KTTC, 10, Rochester, MN (formerly KROC)

Wright

WOI-TV, 5, Ames, IA

+KDSM-TV, 17, Des Moines, IA

KVFD, 21, Fort Dodge, IA

KIMT, 3, Mason City, IA (formerly KGLO)

KANSAS

Allen

KOAM-TV, 7, Pittsburg, KS

KODE-TV, 12, Joplin, MO

Anderson

WDAF-TV, 4, Kansas City, MO

KCTV, 5, Kansas City, MO (formerly KCMO)

KMBC-TV, 9, Kansas City, MO

WIBW-TV, 13, Topeka, KS

Atchison

WDAF-TV, 4, Kansas City, MO

KCTV, 5, Kansas City, MO (formerly KCMO)

KMBC-TV, 9, Kansas City, MO

+KSMO-TV, 62, Kansas City, MO

KQTV, 2, St. Joseph, MO

KSNT, 27, Topeka, KS (formerly KTSB)

Barber

KSNW, 3, Wichita, KS (formerly KARD)

KAKE-TV, 10, Wichita, KS

KWCH-TV, 12, Hutchinson, KS (formerly KTVH)

KTEN, 10, Ada, OK

Barton

KSNC, 2, Great Bend, KS (formerly KCKT)

KAKE-TV, 10, Wichita, KS

KWCH-TV, 12, Hutchinson, KS (formerly KTVH)

Bourbon

KOAM-TV, 7, Pittsburg, KS

KODE-TV, 12, Joplin, MO

KCTV, 5, Kansas City, MO (formerly KCMO)

Brown

WDAF-TV, 4, Kansas City, MO

KCTV, 5, Kansas City, MO (formerly KCMO)

KMBC-TV, 9, Kansas City, MO

KQTV, 2, St. Joseph, MO

WIBW-TV, 13, Topeka, KS

+KTKA-TV, 49, Topeka, KS

Butler

KSNW, 3, Wichita, KS (formerly KARD)

KAKE-TV, 10, Wichita, KS

KWCH-TV, 12, Hutchinson, KS (formerly KTVH)

+KSAS-TV, 24, Wichita, KS

Chase

KSNW, 3, Wichita, KS (formerly KARD)

KAKE-TV, 10, Wichita, KS

KWCH-TV, 12, Hutchinson, KS (formerly KTVH)

WIBW-TV, 13, Topeka, KS

Chautauqua

KJRH, 2, Tulsa, OK (formerly KTEW)

KOTV, 6, Tulsa, OK

KTUL, 8, Tulsa, OK

Cherokee

KOAM-TV, 7, Pittsburg, KS

KODE-TV, 12, Joplin, MO

KSNF, 16, Joplin, MO (formerly KUHI)

Cheyenne

KBSH-TV, 7, Hays, KS (formerly KAYS)

KSNK, 8, McCook, NE (formerly KOMC)

KHGI-TV, 13, Kearney, NE (formerly KHOL)

Clark

KBSD-TV, 6, Ensign, KS (formerly KTVC)

KSNG, 11, Garden City, KS (formerly KGLD)

KUPK-TV, 13, Garden City, KS

Clay

WIBW-TV, 13, Topeka, KS

KSNB-TV, 4, Superior, NE (formerly KHTL)

Cloud

KSNB-TV, 4, Superior, NE (formerly KHTL)

KOLN, 10, Lincoln, NE

WIBW-TV, 13, Topeka, KS

KWCH-TV, 12, Hutchinson, KS (formerly KTVH)

Coffey

WIBW-TV, 13, Topeka, KS

+KTKA-TV, 49, Topeka, KS

KOAM-TV, 7, Pittsburg, KS

WDAF-TV, 4, Kansas City, MO

KCTV, 5, Kansas City, MO (formerly KCMO)

KMBC-TV, 9, Kansas City, MO

Comanche

KBSD-TV, 6, Ensign, KS (formerly KTVC)

KUPK-TV, 13, Garden City, KS

Cowley

KSNW, 3, Wichita, KS (formerly KARD)

KAKE-TV, 10, Wichita, KS

KWCH-TV, 12, Hutchinson, KS (formerly KTVH)

+KSAS-TV, 24, Wichita, KS

Crawford

KOAM-TV, 7, Pittsburg, KS

KODE-TV, 12, Joplin, MO

KSNF, 16, Joplin, MO (formerly KUHI)

Decatur

KSNK, 8, McCook, NE (formerly KOMC)

KHGI-TV, 13, Kearney, NE (formerly KHOL)

Dickinson

KSNW, 3, Wichita, KS (formerly KARD)

KAKE-TV, 10, Wichita, KS

KWCH-TV, 12, Hutchinson, KS (formerly KTVH)

WIBW-TV, 13, Topeka, KS

Doniphan

WDAF-TV, 4, Kansas City, MO

KCTV, 5, Kansas City, MO (formerly KCMO)

KMBC-TV, 9, Kansas City, MO

+KSMO-TV, 62, Kansas City, MO

KQTV, 2, St. Joseph, MO

Douglas

WDAF-TV, 4, Kansas City, MO

KCTV, 5, Kansas City, MO (formerly KCMO)

KMBC-TV, 9, Kansas City, MO

+KSMO-TV, 62, Kansas City, MO (formerly KZKC)

WIBW-TV, 13, Topeka, KS

Edwards

KSNC, 2, Great Bend, KS (formerly KCKT)

KBSD-TV, 6, Ensign, KS (formerly KTVC)

KBSH-TV, 7, Hays, KS (formerly KAYS)

KWCH-TV, 12, Hutchinson, KS (formerly KTVH)

Elk

KJRH, 2, Tulsa, OK (formerly KTEW)

KOTV, 6, Tulsa, OK

KTUL, 8, Tulsa, OK

KOAM-TV, 7, Pittsburg, KS

KSNW, 3, Wichita, KS (formerly KARD)

KAKE-TV, 10, Wichita, KS

Ellis

KSNC, 2, Great Bend, KS (formerly KCKT)

KBSH-TV, 7, Hays, KS (formerly KAYS)

Ellsworth

KSNC, 2, Great Bend, KS (formerly KCKT)

KAKE-TV, 10, Wichita, KS

KWCH-TV, 12, Hutchinson, KS (formerly KTVH)

Finney

KBSD-TV, 6, Ensign, KS (formerly KTVC)

KSNG, 11, Garden City, KS (formerly KGLD)

KUPK-TV, 13, Garden City, KS

Ford

KBSD-TV, 6, Ensign, KS (formerly KTVC)

KSNG, 11, Garden City, KS (formerly KGLD)

KUPK-TV, 13, Garden City, KS

Franklin

WDAF-TV, 4, Kansas City, MO

KCTV, 5, Kansas City, MO (formerly KCMO)

KMBC-TV, 9, Kansas City, MO

+KSMO-TV, 62, Kansas City, MO

WIBW-TV, 13, Topeka, KS

Geary

WIBW-TV, 13, Topeka, KS

+KTKA-TV, 49, Topeka, KS

KAKE-TV, 10, Wichita, KS

Gove

KBSH-TV, 7, Hays, KS (formerly KAYS)

KSNK, 8, McCook, NE (formerly KOMC)

Graham

KBSH-TV, 7, Hays, KS (formerly KAYS)

KSNK, 8, McCook, NE (formerly KOMC)

Grant

KBSD-TV, 6, Ensign, KS (formerly KTVC)

KSNG, 11, Garden City, KS (formerly KGLD)

KUPK-TV, 13, Garden City, KS

Gray

KBSD-TV, 6, Ensign, KS (formerly KTVC)

KSNG, 11, Garden City, KS (formerly KGLD)

KUPK-TV, 13, Garden City, KS

Greeley

KBSH-TV, 7, Hays, KS (formerly KAYS)

KSNG, 11, Garden City, KS (formerly KGLD)

Greenwood

KSNW, 3, Wichita, KS (formerly KARD)

KAKE-TV, 10, Wichita, KS

WIBW-TV, 13, Topeka, KS

Hamilton

KSNG, 11, Garden City, KS (formerly KGLD)

KUPK-TV, 13, Garden City, KS

Harper

KSNW, 3, Wichita, KS (formerly KARD)

KAKE-TV, 10, Wichita, KS

KWCH-TV, 12, Hutchinson, KS (formerly KTVH)

Harvey

KSNW, 3, Wichita, KS (formerly KARD)

KAKE-TV, 10, Wichita, KS

KWCH-TV, 12, Hutchinson, KS (formerly KTVH)

+KSAS-TV, 24, Wichita, KS

Haskell

KBSD-TV, 6, Ensign, KS (formerly KTVC)

KSNG, 11, Garden City, KS (formerly KGLD)

KUPK-TV, 13, Garden City, KS

Hodgeman

KSNC, 2, Great Bend, KS (formerly KCKT)

KBSD-TV, 6, Ensign, KS (formerly KTVC)

KBSH-TV, 7, Hays, KS (formerly KAYS)

KUPK-TV, 13, Garden City, KS

Jackson

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

+KSMO-TV, 62, Kansas City, MO (formerly KZKC)

KQTV, 2, St. Joseph, MO

Jefferson

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

+KSMO-TV, 62, Kansas City, MO

KQTV, 2, St. Joseph, MO

Jewell

KSNB-TV, 4, Superior, NE (formerly KHTL)

KHAS-TV, 5, Hastings, NE

KOLN, 10, Lincoln, NE

Johnson

WDAF-TV, 4, Kansas City, MO

KCTV, 5, Kansas City, MO (formerly KCMO)

KMBC-TV, 9, Kansas City, MO

KSHB-TV, 41, Kansas City, MO (formerly KBMA)

KCIT, 50, Kansas City, MO

+KSMO-TV, 62, Kansas City, MO (formerly KZKC)

Kearny

KBSD-TV, 6, Ensign, KS (formerly KTVC)

KSNG, 11, Garden City, KS (formerly KGLD)

KUPK-TV, 13, Garden City, KS

Kingman

KSNW, 3, Wichita, KS (formerly KARD)

KAKE-TV, 10, Wichita, KS

KWCH-TV, 12, Hutchinson, KS (formerly KTVH)

Kiowa

KSNC, 2, Great Bend, KS (formerly KCKT)

KBSD-TV, 6, Ensign, KS (formerly KTVC)

KAKE-TV, 10, Wichita, KS

KWCH-TV, 12, Hutchinson, KS (formerly KTVH)

Labette

KOAM-TV, 7, Pittsburg, KS

KODE-TV, 12, Joplin, MO

KSNF, 16, Joplin, MO (formerly KUHI)

Lane

KBSD-TV, 6, Ensign, KS (formerly KTVC)

KSNG, 11, Garden City, KS (formerly KGLD)

KUPK-TV, 13, Garden City, KS

Leavenworth

WDAF-TV, 4, Kansas City, MO

KCTV, 5, Kansas City, MO (formerly KCMO)

KMBC-TV, 9, Kansas City, MO

KSHB-TV, 41, Kansas City, MO (formerly KBMA)

KCIT, 50, Kansas City, MO

+KSMO-TV, 62, Kansas City, MO (formerly KZKC)

Lincoln

KSNC, 2, Great Bend, KS (formerly KCKT)

KBSH-TV, 7, Hays, KS (formerly KAYS)

KWCH-TV, 12, Hutchinson, KS (formerly KTVH)

Linn

WDAF-TV, 4, Kansas City, MO

KCTV, 5, Kansas City, MO (formerly KCMO)

KMBC-TV, 9, Kansas City, MO

KOAM-TV, 7, Pittsburg, KS

Logan

KBSH-TV, 7, Hays, KS (formerly KAYS)

KSNK, 8, McCook, NE (formerly KOMC)

Lyon

WIBW-TV, 13, Topeka, KS

KSNT, 27, Topeka, KS (formerly KTSB)

+KTKA-TV, 49, Topeka, KS

McPherson

KSNW, 3, Wichita, KS (formerly KARD)

KAKE-TV, 10, Wichita, KS

KWCH-TV, 12, Hutchinson, KS (formerly KTVH)

+KSAS-TV, 24, Wichita, KS

Marion

KSNW, 3, Wichita, KS (formerly KARD)

KAKE-TV, 10, Wichita, KS

KWCH-TV, 12, Hutchinson, KS (formerly KTVH)

Marshall

WIBW-TV, 13, Topeka, KS

+KTKA-TV, 49, Topeka, KS

KSNB, 4, Superior, NE (formerly KHTL)

KOLN, 10, Lincoln, NE

Meade

KBSD-TV 6, Ensign, KS (formerly KTVC)

KSNG, 11, Garden City, KS (formerly KGLD)

KUPK-TV, 13, Garden City, KS

Miami

WDAF-TV, 4, Kansas City, MO

KCTV, 5, Kansas City, MO (formerly KCMO)

KMBC-TV, 9, Kansas City, MO

KSHB-TV, 41, Kansas City, MO (formerly KBMA)

+KSMO-TV, 62, Kansas City, MO (formerly KZKC)

Mitchell

KSNC, 2, Great Bend, KS (formerly KCKT)

KBSH-TV, 7, Hays, KS (formerly KAYS)

KSNB-TV, 4, Superior, NE (formerly KHTL)

Montgomery

KJRH, 2, Tulsa, OK (formerly KTEW)

KOTV, 6, Tulsa, OK

KTUL, 8, Tulsa, OK

KOAM-TV, 7, Pittsburg, KS

KODE-TV, 12, Joplin, MO

Morris

WIBW-TV, 13, Topeka, KS

KSNT, 27, Topeka, KS (formerly KTSB)

+KTKA-TV, 49, Topeka, KS

KSNW, 3, Wichita, KS (formerly KARD)

KAKE-TV, 10, Wichita, KS

Morton

KSNG, 11, Garden City, KS (formerly KGLD)

KUPK-TV, 13, Garden City, KS

Nemaha

WIBW-TV, 13, Topeka, KS

+KTKA-TV, 49, Topeka, KS

WDAF-TV, 4, Kansas City, MO

KQTV, 2, St. Joseph, mO

Neosho

KOAM-TV 7, Pittsburg, KS

KODE-TV, 12, Joplin, MO

KSNF, 16, Joplin, MO (formerly KUHI)

Ness

KSNC, 2, Great Bend, KS (formerly KCKT)

KKBSH-TV, 7, Hutchinson, KS (formerly KAYS)

Norton

KBSH-TV, 7, Hutchinson, KS (formerly KAYS)

KSNK, 8, McCook, NE (formerly KOMC)

KOLN, 10, Lincoln, NE

KHGI-TV, 13, Kearney, NE (formerly KHOL)

Osage

WIBW-TV, 13, Topeka, KS

KSNT, 27, Topeka, KS (formerly KTSB)

+KTKA-TV, 49, Topeka, KS

WDAF-TV, 4, Kansas City, MO

KCTV, 5, Kansas City, MO (formerly KCMO)

KMBC-TV, 9, Kansas City, MO

Osborne

KSNC, 2,Great Bend, KS (formerly KCKT)

KBSH-TV, 7, Hays, KS (formerly KAYS)

KSNB, 4, Superior, NE (formerly KHTL)

Ottawa

KSNC, 2, Great Bend, KS (formerly KCKT)

KAKE-TV, 10, Wichita, KS

KWCH-TV, 12, Hutchinson, KS (formerly KTVH)

KSNB, 4, Superior, NE (formerly KHTL)

Pawnee

KSNC, 2, Great Bend, KS (formerly KCKT)

KBSH-TV, 7, Hays, KS (formerly KAYS)

KAKE-TV 10, Wichita, KS

KWCH-TV, 12, Hutchinson, KS (formerly KTVH)

Phillips

KHAS-TV, 5, Hastings, NE

KOLN, 10, Lincoln, NE

KHGI-TV, 13, Kearney, NE (formerly KHOL)

KBSH-TV, 7, Hays, KS (formerly KAYS)

Pottawatomie

WIBW-TV, 13, Topeka, KS

KSNT, 27, Topeka, KS (formerly KTSB)

+KTKA-TV, 49, Topeka, KS

Pratt

KSNW, 3, Wichita, KS (formerly KARD)

KAKE-TV, 10, Wichita, KS

KWCH-TV, 12, Hutchinson, KS (formerly KTVH)

Rawlins

KBSH-TV, 7, Hays, KS (formerly KAYS)

KSNK, 8, McCook, NE (formerly KOMC)

KHGI-TV, 13, Kearney, NE (formerly KHOL)

Reno

KSNW, 3, Wichita, KS (formerly KARD)

KAKE-TV, 10, Wichita, KS

KWCH-TV, 12, Hutchinson, KS (formerly KTVH)

+KSAS-TV, 24, Wichita, KS

Republic

KSNB-TV, 4, Superior, NE (formerly KHTL)

KHAS-TV, 5, Hastings, NE

KOLN, 10, Lincoln, NE

Rice

KSNC, 2, Great Bend, KS (formerly KCKT)

KSNW, 3, Wichita, KS (formerly KARD)

KAKE-TV, 10, Wichita, KS

KWCH-TV, 12, Hutchinson, KS (formerly KTVH)

+KSAS, 24, Wichita, KS

Riley

WIBW-TV, 13, Topeka, KS

KSNT, 27, Topeka, KS (formerly KTSB)

+KTKA-TV, 49, Topeka, KS

Rooks

KSNC, 2, Great Bend, KS (formerly KCKT)

KBSH-TV, 7, Hays, KS (formerly KAYS)

Rush

KSNC, 2, Great Bend, KS (formerly KCKT)

KBSH-TV, 7, Hays, KS (formerly KAYS)

Russell

KSNC, 2, Great Bend, KS (formerly KCKT)

KBSH-TV, 7, Hays, KS (formerly KAYS)

Saline

KSNW, 3, Wichita, KS (formerly KARD)

KAKE-TV, 10, Wichita, KS

KWCH-TV, 12, Hutchinson, KS (formerly KTVH)

Scott

KBSD-TV, 6, Ensign, KS (formerly KTVC)

KSNG, 11, Garden City, KS (formerly KGLD)

KUPK-TV, 13, Garden City, KS

Sedgwick

KSNW, 3, Wichita, KS (formerly KARD)

KAKE-TV, 11, Wichita, KS

KWCH-TV, 12, Hutchinson, KS (formerly KTVH)

+KSAS-TV, 24, Wichita, KS

Seward

KBSD-TV, 6, Ensign, KS (formerly KTVC)

KSNG, 11, Garden City, KS (formerly KGLD)

KUPK-TV, 13, Garden City, KS

Shawnee

WIBW-TV, 13, Topeka, KS

KSNT, 27, Topeka, KS (formerly KTSB)

+KTKA-TV, 49, Topeka, KS

WDAF-TV, 4, Kansas City, MO

#KCTV, 5, Kansas City, MO (formerly KCMO) ¹²

¹² Affected community is Topeka, KS.

#KMBC-TV, 9, Kansas City, MO ¹³

¹³ Affected communities are Topeka, Auburn and unincorporated portions of Shawnee County (including the areas known as Berryton and Tecumseh), KS.

Sheridan

KBSH-TV, 7, Hays, KS (formerly KAYS)

KSNK, 8, McCook, NE (formerly KOMC)

Sherman

KBSH-TV, 7, Hays, KS (formerly KAYS)

KSNK, 8, McCook, NE (formerly KOMC)

Smith

KSNB-TV, 4, Superior, NE (formerly KHTL)

KHAS-TV, 5, Hastings, NE

KOLN, 10, Lincoln, NE

KHGI-TV, 13, Kearney, NE (formerly KHOL)

Stafford

KSNC, 2, Great Bend, KS (formerly KCKT)

KAKE-TV, 10, Wichita, KS

KWCH-TV, 12, Hutchinson, KS (formerly KTVH)

Stanton

KBSD-TV, 6, Ensign, KS (formerly KTVC)

KSNG, 11, Garden City, KS (formerly KGLD)

KUPK-TV, 13, Garden City, KS

Stevens

KBSD-TV, 6, Ensign, KS (formerly KTVC)

KSNG, 11, Garden City, KS (formerly KGLD)

KUPK-TV, 13, Garden City, KS

Sumner

KSNW, 3, Wichita, KS (formerly KARD)

KAKE-TV, 10, Wichita, KS

KWCH-TV, 12, Hutchinson, KS (formerly KTVH)

+KSAS-TV, 24, Wichita, KS

Thomas

KBSH-TV, 7, Ensign, KS (formerly KAYS)

KSNK, 8, McCook, NE (formerly KOMC)

Trego

KSNC, 2, Great Bend, KS (formerly KCKT)

KBSH-TV, 7, Hays, KS (formerly KAYS)

Wabaunsee

WIBW-TV, 13, Topeka, KS

KSNT, 27, Topeka, KS (formerly KTSB)

+KTKA-TV, 49, Topeka, KS

KCTV, 5, Kansas City, MO (formerly KCMO)

KMBC-TV, 9, Kansas City, MO

Wallace

KBSH-TV, 7, Hays, KS (formerly KAYS)

Washington

KSNB-TV, 4, Superior, NE (formerly KHTL)

KOLN, 10, Lincoln, NE

WIBW-TV, 13, Topeka, KS

Wichita

KBSH-TV, 7, Hays, KS (formerly KAYS)

KSNG, 11, Garden City, KS (formerly KGLD)

KUPK-TV, 13, Garden City, KS

Wilson

KOAM-TV, 7, Pittsburg, KS

KODE-TV, 12, Joplin, MO

KOTV, 6, Tulsa, OK

Woodson

KOAM-TV, 7, Pittsburg, KS

KODE-TV, 12, Joplin, MO

WIBW-TV, 13, Topeka, KS

Wyandotte

WDAF-TV, 4, Kansas City, MO

KCTV, 5, Kansas City, MO (formerly KCMO)

KMBC-TV, 9, Kansas City, MO

KSHB-TV, 41, Kansas City, MO (formerly KBMA)

KCIT, 50, Kansas City, MO

+KSMO-TV, 62, Kansas City, MO (formerly KZKC)

KENTUCKY

Adair

WAVE, 3, Louisville, KY

WHAS-TV, 11, Louisville, KY

WTVF, 5, Nashville, TN (formerly WLAC)

Allen

WSMV, 4, Nashville, TN (formerly WSM)

WTVF, 5, Nashville, TN (formerly WLAC)

WKRN-TV, 2, Nashville, TN (formerly WSIX)

Anderson

WAVE, 3, Louisville, KY

WHAS-TV, 11, Louisville, KY

WLKY-TV, 32, Louisville, KY

+WDRB, 41, Louisville, KY

+WFTE, 58, Salem, IN

WLEX-TV, 18, Lexington, KY

WKYT-TV, 27, Lexington, KY

+WDKY-TV, 56, Danville, KY

WTVQ-TV, 36, Lexingto, KY (formerly WBLG)

Ballard

WSIL-TV, 3, Harrisburg, IL

WPSD-TV, 6, Paducah, KY

KFVS-TV, 12, Cape Girardeau, MO

+KBSI, 23, Cape Girardeau, MO

Barren

WSMV, 4, Nashville, TN (formerly WSM)

WTVF, 5, Nashville, TN (formerly WLAC)

WKRN-TV, 2, Nashville, TN (formerly WSIX)

+WUXP, 30, Nashville, TN

Bath

WLEX-TV, 18, Lexington, KY

WKYT-TV, 27, Lexington, KY

WTVQ-TV, 36, Lexington, KY (formerly WBLG)

WLWT, 5, Cincinnati, OH

WCPO-TV, 9, Cincinnati, OH

WKRC-TV, 12, Cincinnati, OH

Bell

WATE-TV, 6, Knoxville, TN

WBIR-TV, 10, Knoxville, TN

Boone

WLWT, 5, Cincinnat, OH

WCPO-TV, 9, Cincinnati, OH

WKRC-TV, 12, Cincinnati, OH

WXIX-TV, 19, Cincinnat, OH

+WSTR-TV, 64, Cincinnati, OH

+WRGT-TV, 45, Dayton, OH

Bourbon

WLEX-TV, 18, Lexington, KY

WKYT-TV, 27, Lexington, KY

+WDKY-TV, 56, Danville, KY

WTVQ-TV, 36, Lexington, KY (formerly WBLG)

WLWT, 5, Cincinnati, OH

WCPO-TV, 9, Cincinnati, OH

WKRC-TV, 12, Cincinnati, OH

Boyd

WSAZ-TV, 3, Huntington, WV

WCHS-TV, 8, Charleston, WV

WOWK-TV, 13, Huntington, WV (formerly WHTN)

+WVAH-TV, 11, Charleston, WV (formerly ch. 23)

Boyle

WLEX-TV, 18, Lexington, KY

WKYT-TV, 27, Lexington, KY

WTVQ-TV, 36, Lexington, KY (formerly WBLG)

+WDK-TV, 56, Danville, KY

WAVE, 3, Louisville, KY

WHAS-TV, 11, Louisville, KY

Bracken

WLWT, 5, Cincinnati, OH

WCPO-TV, 9, Cincinnati, OH

WKRC-TV, 12, Cincinnati, OH

WXIX-TV, 19, Cincinnati, OH

+WSTR-TV, 64, Cincinnati, OH

Breathitt

WSAZ-TV, 3, Huntington, WV

WLEX-TV, 18, Lexington, KY

WKYT-TV, 27, Lexington, KY

WTVQ-TV, 36, Lexington, KY (formerly WBLG)

Breckinridge

WAVE, 3, Louisville, KY

WHAS-TV, 11, Louisville, KY

WLKY-TV, 32, Louisville, KY

+WDRB, 41, Louisville, KY

WTVW, 7, Evansville, IN

Bullitt

WAVE, 3, Louisville, KY

WHAS-TV, 11, Louisville, KY

WLKY-TV, 32, Louisville, KY

+WDRB, 41, Louisville, KY

+WFTE, 58, Salem, IN

Butler

WSMV, 4, Nashville, TN (formerly WSM)

WTVF, 5, Nashville, TN (formerly WLAC)

WBKO, 13, Bowling Green, KY

WTVW, 7, Evansville, IN

+KSAS-TV, 24, Wichita, KS ?

Caldwell

WSIL-TV, 3, Harrisburg, IL

WPSD-TV, 6, Paducah, KY

KFVS-TV, 12, Cape Girardeau, MO

WSMV, 4, Nashville, TN (formerly WSM)

WTVF, 5, Nashville, TN (formerly WLAC)

Calloway

WSIL-TV, 3, Harrisburg, IL

WPSD-TV, 6, Paducah, KY

KFVS-TV, 12, Cape Girardeau, MO

+KBSI, 23, Cape Girardeau, MO

WSMV, 4, Nashville, TN (formerly WSM)

WTVF, 5, Nashville, TN (formerly WLAC)

WKRN-TV, 2, Nashville, TN (formerly WSIX)

Campbell

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Carlisle

WSIL-TV, 3, Harrisburg, IL

WPSD-TV, 6, Paducah, KY

KFVS-TV, 12, Cape Girardeau, MO

+KBSI, 23, Cape Girardeau, MO

Carroll

WLWT, 5, Cincinnati, OH

WCPO-TV, 9, Cincinnati, OH

WKRC-TV, 12, Cincinnati, OH

WXIX-TV, 19, Cincinnati, OH

WTTV, 4, Bloomington, IN

WAVE, 3, Louisville, KY

WHAS-TV, 11, Louisville, KY

WLKY-TV, 32, Louisville, KY

+WDRB, 41, Louisville, KY

Carter

WSAZ-TV, 3, Huntington, WV

WCHS-TV, 8, Charleston, WV

WOWK-TV, 13, Huntington, WV (formerly WHTN)

+WVAH-TV, 11, Charleston, WV

Casey

WLEX-TV, 18, Lexington, KY

WKYT-TV, 27, Lexington, KY

WAVE, 3, Louisville, KY

WHAS-TV, 11, Louisville, KY

Christian

WSMV, 4, Nashville, TN (formerly WSM)

WTVF, 5, Nashville, TN (formerly WLAC)

WKRN-TV, 2, Nashville, TN (formerly WSIX)

+WUXP, 30, Nashville, TN

Clark

WLEX-TV, 18, Lexington, KY

WKYT-TV, 27, Lexington, KY

WTVQ-TV, 62, Lexington, KY (formerly WBLG)

+WDKY-TV, 56, Danville, KY

Clay

WATE-TV, 6, Knoxville, TN

WBIR-TV, 10, Knoxville, TN

Clinton

WSMV 4, Nashville, TN (formerly WSM)

WTVF, 5, Nashville, TN (formerly WLAC)

WKRN-TV, 8, Nashville, TN (formerly WSIX)

Crittenden

WSIL-TV, 3, Harrisburg, IL

WPSD-TV, 6, Paducah, KY

KFVS-TV, 12, Cape Girardeau, MO

WTVW, 7, Evansville, IN

+WEVV, 44, Evansville, IN

Cumberland

WSMV, 4, Nashville, TN (formerly WSM)

WTVF, 5, Nashville, TN (formerly WLAC)

WKRN-TV, 2, Nashville, TN (formerly WSIX)

Daviess

WTVW, 7, Evansville, IN

WFIE-TV, 14, Evansville, IN

WEHT, 25, Evansville, IN

+WEVV, 44, Evansville, IN

Edmonson

WSMV 4, Nashville, TN (formerly WSM)

WTVF, 5, Nashville, TN (formerly WLAC)

WKRN-TV, 2, Nashville, TN (formerly WSIX)

WBKO, 13, Bowling Green, KY

Elliott

WSAZ-TV, 3, Huntington, WV

WCHS-TV, 8, Charleston, WV

WOWK-TV, 13, Charleston.WV (formerly WHTN)

Estill

WLEX-TV, 18, Lexington, KY

WKYT-TV, 27, Lexington, KY

WTVQ-TV, 36, Lexington, KY (formerly WBLG)

Fayette

WLEX-TV, 18, Lexington, KY

WKYT-TV, 27, Lexington, KY

WTVQ-TV, 36, Lexington, KY (formerly WBLG)

+WDKY-TV, 56, Danville, KY

Fleming

WLWT, 5, Cincinnati, OH

WCPO-TV, 9, Cincinnati, OH

WKRC-TV, 12, Cincinnati, OH

WLEX-TV, 18, Lexington, KY

+WDKY-TV, 56, Danville, KY

Floyd

WSAZ-TV, 3, Huntington, WV

WCHS-TV, 8, Charleston, WV

WOWK-TV, 13, Huntington, WV (formerly WHTN)

+WVAH-TV, 11, Charleston, WV (formerly ch. 23)

Franklin

WAVE, 3, Louisville, KY

WHAS-TV, 11, Louisville, KY

WLKY-TV, 32, Louisville, KY

+WDRB, 41, Louisville, KY

WKRC-TV, 12, Cincinnati, OH

WLEX-TV, 18, Lexington, OH

WKYT-TV, 27, Lexington, OH

WTVQ-TV, 36, Lexington, KY (formerly WBLG)

+WDKY-TV, 56, Danville, KY

Fulton

WSIL-TV, 3, Harrisburg, IL

WPSD-TV, 6, Paducah, KY

KFVS-TV, 12, Cape Girardeau, MO

+KBSI, 23, Cape Girardeau, MO

Gallatin

WLWT, 5, Cincinnati, OH

WCPO-TV, 9, Cincinnati, OH

WKRC-TV, 12, Cincinnati, OH

WXIX-TV, 19, Cincinnati, OH

+WSTR-TV, 64, Cincinnati, OH

Garrard

WLEX-TV, 18, Lexington, KY

WKYT-TV, 27, Lexington, KY

+WDKY-TV, 56, Danville, KY

WTVQ-TV, 36, Lexington, KY (formerly WBLG)

Grant

WLWT, 5, Cincinnati, OH

WCPO-TV, 9, Cincinnati, OH

WKRC-TV, 12, Cincinnati, OH

WXIX-TV, 19, Cincinnati, OH

+WSTR-TV, 64, Cincinnati, OH

Graves

WSIL-TV, 3, Harrisburg, IL

WPSD-TV, 6, Paducah, KY

KFVS-TV, 12, Cape Girardeau, MO

+KBSI, 23, Cape Girardeau, MO

Grayson

WAVE, 3, Louisville, KY

WHAS-TV, 11, Louisville, KY

+WDRB, 41, Louisville, KY

WBKO, 13, Bowling Green, KY

WTVW, 7, Evansville, IN

Green

WAVE, 3, Louisville, KY

WHAS-TV, 11, Louisville, KY

WLKY-TV, 32, Louisville, KY

+WDRB, 41, Louisville, KY

+WFTE, 58, Salem, IN

Greenup

WSAZ-TV, 3, Huntington, WV

WCHS-TV, 8, Charleston, WV

WOWK-TV, 13, Huntington, WV (formerly WHTN)

+WVAH-TV, 11, Charleston, WV (formerly ch. 23)

Hancock

WTVW, 7, Evansville, IN

WFIE-TV, 14, Evansville, IN

WEHT, 25, Evansville, IN

+WEVV, 44, Evansville, IN

WAVE, 3, Louisville, KY

WHAS-TV, 11, Louisville, KY

Hardin

WAVE, 3, Louisville, KY

WHAS-TV, 11, Louisville, KY

WLKY-TV, 32, Louisville, KY

+WDRB, 41, Louisville, KY

Harlan

WATE-TV 6, Knoxville, TN

WBIR-TV, 10, Knoxville, TN

WLOS, 13, Asheville, NC

Harrison

WLWT, 5, Cincinnati, OH

WCPO-TV, 9, Cincinnati, OH

WKRC-TV, 12, Cincinnati, OH

+WSTR-TV, 64, Cincinnati, OH

WLEX-TV, 18, Lexington, KY

+WDKY-TV, 56, Danville, KY

Hart

WSMV, 4, Nashville, TN (formerly WSM)

WTVF, 5, Nashville, TN (formerly WLAC)

WBKO, 13, Bowling Green, KY

WAVE, 3, Louisville, KY

WHAS-TV, 11, Louisville, KY

+WDRB, 41, Louisville, KY

Henderson

WTVW, 7, Evansville, IN

WFIE-TV, 14, Evansville, IN

WEHT, 25, Evansville, IN

Henry

WAVE, 3, Louisville, KY

WHAS-TV, 11, Louisville, KY

WLKY-TV, 32, Louisville, KY

+WDRB, 41, Louisville, KY

WLWT, 5, Cincinnati, OH

WCPO-TV, 9, Cincinnati, OH

WKRC-TV, 12, Cincinnati, OH

Hickman

WSIL-TV, 3, Harrisburg, IL

WPSD-TV, 6, Paducah, KY

KFVS-TV, 12, Cape Girardeau, MO

+KBSI, 23, Cape Girardeau, MO

Hopkins

WTVW, 7, Evansville, IN

+WFI-TV, 14, Evansville, IN

WEHT, 25, Evansville, IN

+WEVV, 44, Evansville, IN

WSMV, 4, Nashville, TN (formerly WSM)

WTVF 5, Nashville, TN (formerly WLAC)

WPSD-TV, 6, Paducah, KY

Jackson

WLEX-TV, 18, Lexington, KY

WKYT-TV, 27, Lexington, KY

+WDKY-TV, 56, Danville, KY

WTVQ-TV, 36, Lexington, KY (WBLG)

+WLJC-TV, 65, Beattyville, KY

WATE-TV, 6, Knoxville, TN

WBIR-TV, 10, Knoxville, TN

Jefferson

WAVE, 3, Louisville, KY

WHAS-TV, 11, Louisville, KY

WLKY-TV, 32, Louisville, KY

+WDRB, 41, Louisville, KY

+WFTE, 58, Salem, IN

Jessamine

WLEX-TV, 18, Lexington, KY

WKYT-TV, 27, Lexington, KY

+WDKY-TV, 56, Danville, KY

WTVQ-TV, 36, Lexington, KY (formerly WBLG)

Johnson

WSAZ-TV, 3, Huntington, WV

WCHS-TV, 8, Charleston, WV

WOWK-TV, 13, Huntington, WV (formerly WHTN )

Kenton

WLWT, 5, Cincinnati, OH

WCPO-TV, 9, Cincinnati, OH

WKRC-TV, 12, Cincinnati, OH

WXIX-TV, 19, Cincinnati, OH

+WSTR-TV, 64, Cincinnati, OH

Knott

WCYB-TV, 5, Bristol, VA

WJHL-TV, 11, Johnson City, TN

WSAZ-TV, 3, Huntington, WV

WLOS, 13, Greenville, SC

WLEX-TV, 18, Lexington, KY

Knox

WATE-TV, 6, Knoxville, TN

+WVLT-TV, 8, Knoxville, TN (formerly WKXT)

WBIR-TV, 10, Knoxville, TN

Larue

WAVE, 3, Louisville, KY

WHAS-TV, 11, Louisville, KY

WLKY-TV, 32, Louisville, KY

+WDRB, 41, Louisville, KY

Laurel

WATE-TV, 6, Knoxville, TN

WBIR-TV, 10, Knoxville, TN

Lawrence

WSAZ-TV, 3, Huntington, WV

WCHS-TV, 8, Charleston, WV

WOWK-TV, 13, Huntington, WV (formerly WHTN)

Lee

WLEX-TV, 18, Lexington, KY

WKYT-TV, 27, Lexington, KY

WCYB-TV, 5, Bristol, VA

Leslie

WCYB-TV, 5, Bristol, VA

WJHL-TV, 11, Johnson City, TN

WBIR-TV, 10, Knoxville, TN

Letcher

WOWK-TV, 13, Huntington, TN (formerly WHTN)

WCYB-TV, 5, Bristol, VA

Lewis

WSAZ-TV, 3, Huntington, WV

+WVAH-TV, 23, Charleston, WV (formerly ch. 23)

WLWT, 5, Cincinnati, OH

WCPO-TV, 9, Cincinnati, OH

WKRC-TV, 12, Cincinnati, OH

Lincoln

WLEX-TV, 18, Lexington, KY

WKYT-TV, 27, Lexington, KY

+WDKY-TV, 56, Danville, KY

WTVQ-TV, 36, Lexington, KY (formerly WBLG)

Livingston

WSIL-TV, 3, Harrisburg, IL

WPSD-TV, 6, Paducah, KY

KFVS-TV, 12, Cape Girardeau, MO

+KBSI, 23, Cape Girardeau, MO

Logan

WSMV, 4, Nashville, TN (formerly WSM)

WTVF, 5, Nashville, TN (formerly WLAC)

WKRN-TV, 2, Nashville, TN (formerly WSIX)

Lyon

WSIL-TV, 3, Harrisburg, IL

WPSD-TV, 6, Paducah, KY

KFVS-TV, 12, Cape Girardeau, MO

McCracken

WSIL-TV, 3, Harrisburg, IL

WPSD-TV, 6, Paducah, KY

KFVS-TV, 12, Cape Girardeau, MO

+KBSI, 23, Cape Girardeau, MO

McCreary

WATE-TV, 6, Knoxville, TN

+WVLT-TV, 8, Knoxville, TN (formerly WKXT)

WBIR-TV, 10, Knoxville, TN

McLean

WTVW, 7, Evansville, IN

WFIE-TV, 14, Evansville, IN

WEHT, 25, Evansville, IN

+WEVV, 44, Evansville, IN

WTVF, 5, Nashville, TN (formerly WLAC)

Madison

WLEX-TV, 18, Lexington, KY

WKYT-TV, 27, Lexington, KY

+WDKY-TV, 56, Danville, KY

WTVQ-TV, 36, Lexington, KY (formerly WBLG)

Magoffin

WSAZ-TV, 3, Huntington, WV

Marion

WAVE, 3, Louisville, KY

WHAS-TV, 11, Louisville, KY

WLKY-TV, 32, Louisville, KY

+WDRB, 41, Louisville, KY

+WFTE, 58, Salem, IN

Marshall

WSIL-TV, 3, Harrisburg, IL

WPSD-TV, 6, Paducah, KY

KFVS-TV, 12, Cape Girardeau, MO

+KBSI, 23, Cape Girardeau, MO

Martin

WSAZ-TV, 3, Huntington, WV

WCH-TVS, 8, Charleston, WV

WOWK-TV, 13, Huntington, WV (formerly WHTN)

Mason

WLWT, 5, Cincinnati, OH

WCPO-TV, 9, Cincinnati, OH

WKRC-TV, 12, Cincinnati, OH

+WSTR-TV, 64, Cincinnati, OH

Meade

WAVE, 3, Louisville, KY

WHAS-TV, 11, Louisville, KY

WLKY-TV, 32, Louisville, KY

+WDRB, 41, Louisville, KY

+WFTE, 58, Salem, IN

Menifee

WLEX-TV, 18, Lexington, KY

WKYT-TV, 27, Lexington, KY

WTVQ-TV, 36, Lexington, KY (formerly WBLG)

2>Mercer

WLEX-TV, 18, Lexington, KY

WKYT-TV, 27, Lexington, KY

+WDKY-TV, 56, Danville, KY

WTVQ-TV, 36, Lexington, KY (formerly WBLG)

WAVE, 3, Louisville, KY

WHAS-TV, 11, Louisville, KY

+WDRB, 41, Louisville, KY

Metcalfe

WSMV 4, Nashville, TN (formerly WSM)

WTVF, 5, Nashville, TN (formerly WLAC)

WKRN-TV, 2, Nashville, TN (formerly WSIX)

Monroe

WSMV, 4, Nashville, TN (formerly WSM)

WTVF, 5, Nashville, TN (formerly WLAC)

WKRN-TV, 2, Nashville, TN (formerly WSIX)

Montgomery

WLEX-TV, 18, Lexington, KY

WKYT-TV, 27, Lexington, KY

+WDKY-TV, 56, Danville, KY

WTVQ-TV, 36, Lexington, KY (formerly WBLG)

Morgan

WSAZ-TV, 3, Huntington, WV

WCHS-TV, 8, Charleston, WV

WOWK-TV, 13, Huntington, WV (formerly WHTN)

Muhlenberg

WSMV, 4, Nashville, TN (formerly WSM)

WTVF, 5, Nashville, TN (formerly WLAC)

WKRN-TV, 2, Nashville, TN (formerly WSIX)

+WUXP, 30, Nashville, TN

WBKO, 13, Bowling Green, KY

WTVW, 7, Evansville, IN

+WFIE-TV, 14, Evansville, IN

WEHT, 25, Evansville, IN

+WEVV, 44, Evansville, IN

Nelson

WAVE, 3, Louisville, KY

WHAS-TV, 11, Louisville, KY

WLKY-TV, 32, Louisville, KY

+WDRB, 41, Louisville, KY

+WFTE, 58, Salem, IN

Nicholas

WLEX-TV, 18, Lexington, KY

WKYT-TV, 27, Lexington, KY

WTVQ-TV, 36, Lexington, KY (formerly WBLG)

WLWT, 5, Cincinnati, OH

WCPO-TV, 9, Cincinnati, OH

WKRC-TV, 12, Cincinnati, OH

+WSTR-TV, 64, Cincinnati, OH

Ohio

WTVW, 7, Evansville, IN

+WFIE-TV, 14, Evansville, IN

WEHT, 25, Evansville, IN

+WEVV, 44, Evansville, IN

WBKO, 13, Bowling Green, KY

WSMV, 4, Nashville, TN (formerly WSM)

WTVF, 5, Nashville, TN (formerly WLAC)

Oldham

WAVE, 3, Louisville, KY

WHAS-TV, 11, Louisville, KY

WLKY-TV, 32, Louisville, KY

+WDRB, 41, Louisville, KY

+WFTE, 58, Salem, IN

Owen

WLWT, 5, Cincinnati, OH

WCPO-TV, 9, Cincinnati, OH

WKRC-TV, 12, Cincinnati, OH

+WSTR-TV, 64, Cincinnati, OH

WAVE, 3, Louisville, KY

WHAS-TV, 11, Louisville, KY

Owsley

WLEX-TV, 18, Lexington, KY

WKYT-TV, 27, Lexington, KY

WATE-TV, 6, Knoxville, TN

Pendleton

WLWT, 5, Cincinnati, OH

WCPO-TV, 9, Cincinnati, OH

WKRC-TV, 12, Cincinnati, OH

WXIX-TV, 19, Cincinnati, OH

+WSTR-TV, 64, Cincinnati, OH

Perry

WCYB-TV, 5, Bristol, VA

WJHL-TV, 11, Johnson City, TN

Pike

WSAZ-TV, 3, Huntington, WV

WCHS-TV, 8, Charleston, WV

WOWK-TV, 13, Huntington, WV (formerly WHTN)

+WVAH-TV, 11, Charleston, WV (formerly ch. 23)

WVVA, 6, Bluefield, WV (formerly WHIS)

Powell

WLEX-TV, 18, Lexington, KY

WKYT-TV, 27, Lexington, KY

WTVQ-TV, 36, Lexington, KY (formerly WBLG)

Pulaski

WATE-TV, 6, Knoxville, TN

WBIR-TV, 10, Knoxville, TN

WLEX-TV, 18, Lexington, KY

WKYT-TV, 27, Lexington, KY

+WDKY-TV, 56, Danville, KY

WTVQ-TV, 36, Lexington, KY (formerly WBLG)

Robertson

WLWT, 5, Cincinnati, OH

WCPO-TV, 9, Cincinnati, OH

WKRC-TV, 12, Cincinnati, OH

WLEX-TV, 18, Lexington, KY

Rockcastle

WLEX-TV, 18, Lexington, KY

WKYT-TV, 27, Lexington, KY

+WDKY-TV, 56, Danville, KY

WTVQ-TV, 36, Lexington, KY (formerly WBLG)

Rowan

WSAZ-TV, 3, Huntington, WV

+WVAH-TV, 11, Charleston, WV

Russell

WATE-TV, 6, Knoxville, TN

WBIR-TV, 10, Knoxville, TN

WHAS-TV, 11, Louisville, KY

WSMV, 4, Nashville, TN (formerly WSM)

WTVF, 5, Nashville, TN (formerly WLAC)

WKRN-TV, 2, Nashville, TN (formerly WSIX)

+WDKY-TV, 56, Danville, KY

Scott

WLEX-TV, 18, Lexington, KY

WKYT-TV, 27, Lexington, KY

+WDKY-TV, 56, Danville, KY

WTVQ-TV, 36, Lexington, KY (formerly WBLG)

WLWT, 5, Cincinnati, OH

WCPO-TV, 9, Cincinnati, OH

WKRC-TV, 12, Cincinnati, OH

Shelby

WAVE, 3, Louisville, KY

WHAS-TV, 11, Louisville, KY

WLKY-TV, 32, Louisville, KY

+WDRB, 41, Louisville, KY

+WFTE, 58, Salem, IN

Simpson

WSMV, 4, Nashville, TN (formerly WSM)

WTVF, 5, Nashville, TN (formerly WLAC)

WKRN-TV, 2, Nashville, TN (formerly WSIX)

Spencer

WAVE, 3, Louisville, KY

WHAS-TV, 11, Louisville, KY

WLKY-TV, 32, Louisville, KY

+WDRB, 41, Louisville, KY

Taylor

WAVE, 3, Louisville, KY

WHAS-TV, 11, Louisville, KY

+WDRB, 41, Louisville, KY

+WFTE, 58, Salem, IN

Todd

WSMV, 4, Nashville, TN (formerly WSM)

WTVF, 5, Nashville, TN (formerly WLAC)

WKRN-TV, 2, Nashville, TN (formerly WSIX)

Trigg

WSMV, 4, Nashville, TN (formerly WSM)

WTVF, 5, Nashville, TN (formerly WLAC)

WKRN-TV, 2, Nashville, TN (formerly WSIX)

WPSD-TV, 6, Paducah, KY

Trimble

WAVE, 3, Louisville, KY

WHAS-TV, 11, Louisville, KY

WLKY-TV, 32, Louisville, KY

+WDRB, 41, Louisville, KY

WLWT, 5, Cincinnati, OH

WCPO-TV, 9, Cincinnati, OH

WKRC-TV, 12, Cincinnati, OH

WXIX-TV, 19, Cincinnati, OH

WTTV, 4, Bloomington, IN

Union

WTVW, 7, Evansville, IN

WFIE-TV, 14, Evansville, IN

WEHT, 25, Evansville, IN

+WEVV, 44, Evansville, IN

WSIL-TV, 3, Harrisburg, IL

WPSD-TV, 6, Paducah, KY

Warren

WSMV, 4, Nashville, TN (formerly WSM)

WTVF, 5, Nashville, TN (formerly WLAC)

#WKRN-TV, 2, Nashville, TN (formerly WSIX) ¹⁴

¹⁴ Affected community is Bowling Green, KY.

+WZTV, 17, Nashville, TN

+WXMT, 30, Nashville, TN (formerly WCAY)

WBKO, 13, Bowling Green, KY

Washington

WAVE, 3, Louisville, KY

WHAS-TV, 11, Louisville, KY

WLKY-TV, 32, Louisville, KY

+WDRB, 41, Louisville, KY

Wayne

WATE-TV, 6, Knoxville, TN

WBIR-TV, 10, Knoxville, TN

Webster

WTVW, 7, Evansville, IN

WFIE-TV, 14, Evansville, IN

WEHT, 25, Evansville, IN

+WEVV, 44, Evansville, IN

Whitley

WATE-TV, 6, Knoxville, TN

WVLT-TV, 8, Knoxville, TN (formerly WKXT)

WBIR-TV, 10, Knoxville, TN

Wolfe

WSAZ-TV, 3, Huntington, WV

WCHS-TV, 8, Charleston, WV

WLEX-TV, 18, Lexington, KY

WKYT-TV, 27, Lexington, KY

Woodford

WLEX-TV, 18, Lexington, KY

WKYT-TV, 27, Lexington, KY

+WDKY-TV, 56, Danville, KY

WTVQ-TV, 36, Lexington, KY (formerly WBLG)

WAVE, 3, Louisville, KY

WHAS-TV, 11, Louisville, KY

LOUISIANA

Acadia

KATC, 3, Lafayette, LA

KLFY-TV, 10, Lafayette, LA

KADN, 15, Lafayette, LA (KADN) (formerly KLNI)

KALB-TV, 5, Alexandria, LA

Allen

KATC, 3, Lafayette, LA

KLF-TV, 10, Lafayette, LA

KALB-TV, 5, Alexandria, LA

KPLC-TV, 7, Lake Charles, LA

+KVHP, 29, Lake Charles, LA

Ascension

WBRZ, 2, Baton Rouge, LA

WAFB, 9, Baton Rouge, LA

+WVLA, 33, Baton Rouge, LA

+WGMB, 44, Baton Rouge, LA

WWL-TV, 4, New Orleans, LA

WDSU, 6, New Orleans, LA

WVUE, 8, New Orleans, LA

+WNOL-TV, 38, New Orleans, LA

Assumption

WBRZ, 2, Baton Rouge, LA

WAFB, 9, Baton Rouge, LA

+WVLA, 33, Baton Rouge, LA

WWL-TV, 4, New Orleans, LA

WDSU, 6, New Orleans, LA

WVUE, 8, New Orleans, LA

Avoyelles

KALB-TV, 5, Alexandria, LA

+KLAX-TV, 31, Alexandria, LA

WAFB, 9, Baton Rouge, LA

KATC, 3, Lafayette, LA

KLFY-TV, 10, Lafayette, LA

Beauregard

KJAC-TV, 4, Port Arthur, TX

KFDM-TV, 6, Beaumont, TX

KALB-TV, 5, Alexandria, LA

KATC, 3, Lafayette, LA

KLFY-TV, 10, Lafayette, LA

KPLC-TV, 7, Lake Charles, LA

+KVHP, 29, Lake Charles, LA

Bienville

KTBS-TV, 3, Shreveport, LA

KTAL-TV, 6, Texarkana, TX

KSLA-TV, 12, Shreveport, LA

KNOE-TV, 8, Monroe, LA

KTVE, 10, Monroe, LA

Bossier

KTBS-TV, 3, Shreveport, LA

KTAL-TV, 6, Texarkana, TX

KSLA-TV, 12, Shreveport, LA

+KMSS-TV, 33, Shreveport, LA

Caddo

KTBS-TV, 3, Shreveport, LA

KTAL-TV, 6, Texarkana, TX

KSLA-TV, 12, Shreveport, LA

+KMSS-TV, 33, Shreveport, LA

Calcasieu

KPLC-TV, 7, Lake Charles, LA

+KVHP, 29, Lake Charles, LA

KJAC-TV, 4, Port Arthur, TX

KFDM-TV, 6, Beaumont, TX

KBMT, 12, Beaumont, TX

KATC, 3, Lafayette, LA

KLFY-TV, 10, Lafayette, LA

Caldwell

KNOE-TV, 8, Monroe, LA

KTVE, 10, Monroe, LA

Cameron

KPLC-TV, 7, Lake Charles, LA

KJAC-TV, 4, Port Arthur, TX

KFDM-TV, 6, Beaumont, TX

KBMT, 12, Beaumont, TX

KATC, 3, Lafayette, LA

KLFY-TV, 10, Lafayette, LA

Catahoula

KNOE-TV, 8, Monroe, LA

KALB-TV, 5, Alexandria, LA

Claiborne

KTBS-TV, 3, Shreveport, LA

KTAL-TV, 6, Texarkana, TX

KSLA-TV, 12, Shreveport, LA

+KMSS-TV, 33, Shreveport, LA

KNOE-TV, 8, Monroe, LA

KTVE, 10, Monroe, LA

Concordia

KNOE-TV, 8, Monroe, LA

KALB-TV, 5, Alexandria, LA

DeSoto

KTBS-TV, 3, Shreveport, LA

KTAL-TV, 6, Texarkana, TX

KSLA-TV, 12, Shreveport, LA

+KMSS-TV, 33, Shreveport, LA

East Baton Rouge

WBRZ, 2, Baton Rouge, LA

WAFB, 9, Baton Rouge, LA

+WVLA, 33, Baton Rouge, LA

+WGMB, 44, Baton Rouge, LA

East Carroll

KNO-TV, 8, Monroe, LA

KTVE, 10, Monroe, LA

WABG-TV, 6, Greenwood, MS

WLBT-TV, 3, Jackson, MS

WJTV, 12, Jackson, MS

East Feliciana

WBRZ, 2, Baton Rouge, LA

WAFB, 9, Baton Rouge, LA

+WVLA, 33, Baton Rouge, LA

+WGMB, 44, Baton Rouge, LA

Evangeline

KATC, 3, Lafayette, LA

KLFY-TV, 10, Lafayette, LA

KALB-TV, 5, Alexandria, LA

Franklin

KNOE-TV, 8, Monroe, LA

KTVE, 10, Monroe, LA

Grant

KAL-TV, 5, Alexandria, LA

KNOE-TV, 8, Monroe, LA

Iberia

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

+WGMB, 44, Baton Rouge, LA

Iberville

WBRZ, 2, Baton Rouge, LA

WAFB, 9, Baton Rouge, LA

+WVLA, 33, Baton Rouge, LA

+WGMB, 44, Baton Rouge, LA

Jackson

KNOE-TV, 8, Monroe, LA

KTVE, 10, Monroe, LA

KTBS-TV, 3, Shreveport, LA

KSLA-TV, 12, Shreveport, LA

Jefferson

WWL-TV, 4, New Orleans, LA

WDSU, 6, New Orleans, LA

WVUE, 8, New Orleans, LA

+WGNO, 26, New Orleans, LA

+WNOL-TV, 38, New Orleans, LA

Jefferson Davis

KATC, 3, Lafayette, LA

KLFY-TV, 10, Lafayette, LA

KPLC-TV, 7, Lake Charles, LA

+KVHP, 29, Lake Charles, LA

Lafayette

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

Lafourche

WWL-TV, 4, New Orleans, LA

WDSU, 6, New Orleans, LA

WVUE, 8, New Orleans, LA

+WGNO, 26, New Orleans, LA

+WNOL-TV, 38, New Orleans, LA

WAFB, 9, Baton Rouge, LA

LaSalle

KNOE-TV, 8, Monroe, LA

KALB-TV, 5, Alexandria, LA

Lincoln

KNOE-TV, 8, Monroe, LA

KTVE, 10, Monroe, LA

KTBS-TV, 3, Shreveport, LA

Livingston

WBRZ, 2, Baton Rouge, LA

WAFB, 9, Baton Rouge, LA

+WVLA, 33, Baton Rouge, LA

+WGMB, 44, Baton Rouge, LA

WWL-TV, 4, New Orleans, LA

+WGNO, 26, New Orleans, LA

+WNOL-TV, 38, New Orleans, LA

Madison

WLBT-TV, 3, Jackson, MS

WJTV, 12, Jackson, MS

+WDBD, 40, Jackson, MS

KNOE-TV, 8, Monroe, LA

Morehouse

KNOE-TV, 8, Monroe, LA

KTVE, 10, Monroe, LA

Natchitoches

KTBS-TV, 3, Shreveport, LA

KSLA-TV, 12, Shreveport, LA

+KMSS-TV, 33, Shreveport, LA

KALB-TV, 5, Alexandria, LA

KNOE-TV, 8, Monroe, LA

Orleans

WWL-TV, 4, New Orleans, LA

WDSU, 6, New Orleans, LA

WVUE, 8, New Orleans, LA

WGNO, 26, New Orleans, LA (WGNO) (formerly WWOM)

+WNOL-TV, 38, New Orleans, LA

Ouachita

KNOE-TV, 8, Monroe, LA

KTVE, 10, Monroe, LA

Plaquemines

WWL-TV, 4, New Orleans, LA

WDSU, 6, New Orleans, LA

WVUE, 8, New Orleans, LA

+WGNO, 26, New Orleans, LA

+WNOL-TV, 38, New Orleans, LA

Pointe Coupee

WBRZ, 2, Baton Rouge, LA

WAFB, 9, Baton Rouge, LA

+WVLA, 33, Baton Rouge, LA

+WGMB, 44, Baton Rouge, LA

Rapides

KAL-TV, 5, Alexandria, LA

KLFY-TV, 10, Lafayette, LA

KNOE-TV, 8, Monroe, LA

Red River

KTBS-TV, 3, Shreveport, LA

KTAL-TV, 6, Texarkana, TX

KSLA-TV, 12, Shreveport, LA

+KMSS-TV, 33, Shreveport, LA

Richland

KNOE-TV, 8, Monroe, LA

KTVE, 10, Monroe, LA

WLBT-TV, 3, Jackson, MS

Sabine

KTBS-TV, 3, Shreveport, LA

KTAL-TV, 6, Texarkana, TX

KSLA-TV, 12, Shreveport, LA

+KMSS-TV, 33, Shreveport, LA

KALB-TV, 5, Alexandria, LA

St. Bernard

WWL-TV, 4, New Orleans, LA

WDSU, 6, New Orleans, LA

WVUE, 8, New Orleans, LA

+WGNO, 26, New Orleans, LA

+WNOL-TV, 38, New Orleans, LA

St. Charles

WWL-TV, 4, New Orleans, LA

WDSU, 6, New Orleans, LA

WVUE, 8, New Orleans, LA

+WGNO, 26, New Orleans, LA

+WNOL-TV, 38, New Orleans, LA

St. Helena

WBRZ, 2, Baton Rouge, LA

WAFB, 9, Baton Rouge, LA

+WVLA, 33, Baton Rouge, LA

St. James

WWL-TV, 4, New Orleans, LA

WDSU, 6, New Orleans, LA

WVUE, 8, New Orleans, LA

+WGNO, 26, New Orleans, LA

+WNOL-TV, 38, New Orleans, LA

WBRZ, 2, Baton Rouge, LA

WAFB, 9, Baton Rouge, LA

+WVLA, 33, Baton Rouge, LA

St. John the Baptist

WWL-TV, 4, New Orleans, LA

WDSU, 6, New Orleans, LA

WVUE, 8, New Orleans, LA

+WGNO, 26, New Orleans, LA

WAFB, 9, Baton Rouge, LA

St. Landry

KATC, 3, Lafayette, LA

KLFY-TV, 10, Lafayette, LA

KALB-TV, 5, Alexandria, LA

WBRZ, 2, Baton Rouge, LA

WAFB, 9, Baton Rouge, LA

St. Martin

KATC, 3, Lafayette, LA

KLFY-TV, 10, Lafayette, LA

KADN, 15, Lafayette, LA (formerly KLNI)

WBRZ, 2, Baton Rouge, LA

WAFB, 9, Baton Rouge, LA

+WVLA, 33, Baton Rouge, LA

+WGMB, 44, Baton Rouge, LA

St. Mary

WBRZ, 2, Baton Rouge, LA

WAFB, 9, Baton Rouge, LA

+WVLA, 33, Baton Rouge, LA

+WGMB, 44, Baton Rouge, LA

KATC, 3, Lafayette, LA

KLFY-TV, 10, Lafayette, LA

St. Tammany

WWL-TV, 4, New Orleans, LA

WDSU, 6, New Orleans, LA

WVUE, 8, New Orleans, LA

+WGNO, 26, New Orleans, LA

+WNOL-TV, 38, New Orleans, LA

Tangipahoa

WWL-TV, 4, New Orleans, LA

WDSU, 6, New Orleans, LA

WVUE, 8, New Orleans, LA

+WGNO, 26, New Orleans, LA

+WNOL-TV, 38, New Orleans, LA

WBRZ, 2, Baton Rouge, LA

WAFB, 9, Baton Rouge, LA

+WGMB, 44, Baton Rouge, LA

Tensas

WLBT-TV, 3, Jackson, MS

WJTV, 12, Jackson, MS

KNOE-TV, 8, Monroe, LA

Terrebonne

WWL-TV, 4, New Orleans, LA

WDSU, 6, New Orleans, LA

WVUE, 8, New Orleans, LA

+WGNO, 26, New Orleans, LA

+WNOL-TV, 38, New Orleans, LA

Union

KNOE-TV, 8, Monroe, LA

KTVE, 10, Monroe, LA

Vermilion

KATC, 3, Lafayette, LA

KLFY-TV, 10, Lafayette, LA

KADN, 15, Lafayette, LA (formerly KLNI)

Vernon

KALB-TV, 5, Alexandria, LA

KTBS-TV, 3, Shreveport, LA

+KVHP, 29, Lake Charles, LA

Washington

WWL-TV, 4, New Orleans, LA

WDSU, 6, New Orleans, LA

WVUE, 8, New Orleans, LA

+WGNO, 26, New Orleans, LA

+WNOL-TV, 38, New Orleans, LA

WLOX-TV, 13, Biloxi, MS

Webster

KTBS-TV, 3, Shreveport, LA

KTAL-TV, 6, Texarkana, TX

KSLA-TV, 12, Shreveport, LA

+KMSS-TV, 33, Shreveport, LA

West Baton Rouge

WBRZ, 2, Baton Rouge, LA

WAFB, 9, Baton Rouge, LA

+WVLA, 33, Baton Rouge, LA

+WGMB, 44, Baton Rouge, LA

West Carroll

KNOE-TV, 8, Monroe, LA

KTVE, 10, Monroe, LA

West Feliciana

WBRZ, 2, Baton Rouge, LA

WAFB, 9, Baton Rouge, LA

+WGMB, 44, Baton Rouge, LA

KATC, 3, Lafayette, LA

Winn

KNOE-TV, 8, Monroe, LA

KALB-TV, 5, Alexandria, LA

Broussard—KPLC-TV

Carencro—KPLC-TV

Duson—KPLC-TV

Lafayette—KPLC-TV

Lafayette Parish (including unincorporated area known as Milton)—KPLC-TV

Maurice—KPLC-TV

Scott—KPLC-TV

Youngsville—KPLC-TV

MAINE

Androscoggin

WCSH, 6, Portland, ME

WMTW-TV, 8, Portland, ME

WGME-TV, 13, Portland, ME (formerly WGAN)

+WPXT, 51, Portland, ME

Aroostook

WAGM-TV, 8, Presque Isle, ME

CHSJ, 4, Canada

Cumberland

WCSH, 6, Portland, ME

WMTW-TV, 8, Portland, ME

WGME-TV, 13, Portland, ME (formerly WGAN)

+WPXT, 51, Portland, ME

Franklin

WCSH, 6, Portland, ME

WMTW-TV, 8, Portland, ME

WGME-TV, 13, Portland, ME (formerly WGAN)

WABI-TV, 5, Bangor, ME

Hancock

WLBZ, 2, Bangor, ME

WABI-TV, 5, Bangor, ME

WVII-TV, 7, Bangor, ME (formerly WEMT)

Kennebec

WCSH, 6, Portland, ME

WMTW-TV, 8, Portland, ME

WGME-TV, 13, Portland, ME (formerly WGAN)

+WPXT, 51, Portland, ME

WLBZ, 2, Bangor, ME

WABI-TV, 5, Bangor, ME

Knox

WLBZ, 2, Bangor, ME

WABI-TV, 5, Bangor, ME

WVII-TV, 7, Bangor, ME (formerly WEMT)

WCSH, 6, Portland, ME

WMTW-TV, 8, Portland, ME

WGME-TV, 13, Portland, ME (formerly WGAN)

Lincoln

WCSH, 6, Portland, ME

WMTW-TV, 8, Portland, ME

WGME-TV, 13, Portland, ME (formerly WGAN)

+WPXT, 51, Portland, ME

Oxford

WCSH, 6, Portland, ME

WMTW-TV, 8, Portland, ME

WGME-TV, 13, Portland, ME (formerly WGAN)

+WPXT, 51, Portland, ME

WABI-TV, 5, Bangor, ME

Penobscot

WLBZ, 2, Bangor, ME

WABI-TV, 5, Bangor, ME

WVII-TV, 7, Bangor, ME (formerly WEMT)

Piscataquis

WLBZ, 2, Bangor, ME

WABI-TV, 5, Bangor, ME

WVII-TV, 7, Bangor, ME (formerly WEMT)

Sagadahoc

WCSH, 6, Portland, ME

WMTW-TV, 8, Portland, ME

WGME-TV, 13, Portland, ME (formerly WGAN)

+WPXT, 51, Portland, ME

Somerset

WLBZ, 2, Bangor, ME

WABI-TV, 5, Bangor, ME

WVII-TV, 7, Bangor, ME (formerly WEMT)

WCSH, 6, Portland, ME

WMTW-TV, 8, Portland, ME

WGME-TV, 13, Portland, ME (formerly WGAN)

Waldo

WLBZ, 2, Bangor, ME

WABI-TV, 5, Bangor, ME

WVII-TV, 7, Bangor, ME (formerly WEMT)

Washington

WLBZ, 2, Bangor, ME

WABI-TV, 5, Bangor, ME

WVII-TV, 7, Bangor, ME (formerlyWEMT)

CHSJ, 4, Canada

York

WCSH, 6, Portland, ME

WMTW-TV, 8, Portland, ME

WGME-TV, 13, Portland, ME (formerly WGAN)

+WPXT, 51, Portland, ME

WBZ-TV, 4, Boston, MA

WCVB-TV, 5, Boston, MA (formerly WHDH)

WHDH-TV, 7, Boston, MA (formerly WNAC)

Berwick—WCSH, WPXG, WMUR-TV, WFXT

Elliot—WCSH, WPXG, WMUR-TV, WFXT

Kittery—WCSH, WPXG, WMUR-TV, WFXT

South Berwick—WCSH, WPXG, WMUR-TV, WFXT

MARYLAND

Allegany

WTTG, 5, Washington, DC

WJLA-TV, 7, Washington, DC (formerly WMAL)

WUSA, 9, Washington, DC (formerly WTOP)

WJAC-TV, 6, Johnstown, PA

Anne Arundel

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Baltimore including Baltimore City

WMAR-TV, 2, Baltimore, MD

WBAL-TV, 11, Baltimore, MD

WJZ-TV, 13, Baltimore, MD

WTTG, 5, Washington, DC

+WDCA, 20, Washington, DC

Calvert

WRC-TV, 4, Washington, DC

WTTG, 5, Washington, DC

WJLA-TV, 7, Washington, DC (formerly WMAL)

WUSA, 9, Washington, DC (formerly WTOP)

+WDCA, 20, Washington, DC

WMAR-TV, 2, Baltimore, MD

Caroline

WMAR-TV, 2, Baltimore, MD

WBAL-TV, 11, Baltimore, MD

WJZ-TV, 13, Baltimore, MD

+WNUV, 54, Baltimore, MD

WTTG, 5, Washington, DC

Carroll

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Cecil

WMAR-TV, 2, Baltimore, MD

WBAL-TV, 11, Baltimore, MD

WJZ-TV, 13, Baltimore, MD

+WNUV, 54, Baltimore, MD

KYW-TV, 3, Philadelphia, PA

WPVI-TV, 6, Philadelphia, PA (formerly WFIL)

WCAU, 10, Philadelphia, PA

WGAL, 8, Lancaster, PA

Charles

WRC-TV, 4, Washington, DC

WTTG, 5, Washington, DC

WJLA-TV, 7, Washington, DC (formerly WMAL)

WUSA, 9, Washington, DC (formerly WTOP)

WDCA, 20, Washington, DC

Dorchester

WMAR-TV, 2, Baltimore, MD

WBAL-TV, 11, Baltimore, MD

WJZ-TV, 13, Baltimore, MD

+WNUV, 54, Baltimore, MD

WBOC-TV, 16, Salisbury, MD

+WMDT, 47, Salisbury, MD

WRC-TV, 4, Washington, DC

WTTG, 5, Washington, DC

WJLA-TV, 7, Washington, DC (formerly WMAL)

WUSA, 9, Washington, DC (formerly WTOP)

Frederick

WRC-TV, 4, Washington, DC

WTTG, 5, Washington, DC

WJLA-TV, 7, Washington, DC (formerly WMAL)

WUSA, 9, Washington, DC (formerly WTOP)

+WDCA, 20, Washington, DC

WMAR-TV, 2, Baltimore, MD

WBAL-TV, 11, Baltimore, MD

WJZ-TV, 13, Baltimore, MD

Garrett

KDKA-TV, 2, Pittsburgh, PA

WTAE-TV, 4, Pittsburgh, PA

WJAC-TV, 6, Johnstown, PA

+WWCP-TV, 8, Johnstown, PA

Harford

WMAR-TV, 2, Baltimore, MD

WBAL-TV, 11, Baltimore, MD

WJZ-TV, 13, Baltimore, MD

+WNUV, 54, Baltimore, MD

WTTG, 5, Washington, DC

Howard

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

WDCA, 20, Washington, DC

Kent

WMAR-TV, 2, Baltimore, MD

WBAL-TV, 11, Baltimore, MD

WJZ-TV, 13, Baltimore, MD

+WNUV, 54, Baltimore, MD

WRC-TV, 4, Washington, DC

WTTG, 5, Washington, DC

WUSA, 9, Washington, DC (formerly WTOP)

Montgomery

WRC-TV, 4, Washington, DC

WTTG, 5, Washington, DC

WJLA-TV, 7, Washington, DC (formerly WMAL)

WUSA, 9, Washington, DC (formerly WTOP)

WDCA, 20, Washington, DC

Prince Georges

WRC-TV, 4, Washington, DC

WTTG, 5, Washington, DC

WJLA-TV, 7, Washington, DC (formerly WMAL)

WUSA, 9, Washington, DC (formerly WTOP)

WDCA, 20, Washington, DC

Queen Annes

WMAR-TV, 2, Baltimore, MD

WBAL-TV, 11, Baltimore, MD

WJZ-TV, 13, Baltimore, MD

+WNUV, 54, Baltimore, MD

WTTG, 5, Washington, DC

St. Marys

WRC-TV, 4, Washington, DC

WTTG, 5, Washington, DC

WJLA, 7, Washington, DC (formerly WMAL)

WUSA, 9, Washington, DC (formerly WTOP)

+WDCA, 20, Washington, DC

WMAR-TV, 2, Baltimore, MD

Somerset

WBOC-TV, 16, Salisbury, MD

+WMDT, 47, Salisbury, MD

WTTG, 5, Washington, DC

Talbot

WMAR-TV, 2, Baltimore, MD

WBAL-TV, 11, Baltimore, MD

WJZ-TV, 13, Baltimore, MD

+WNUV, 54, Baltimore, MD

WRC-TV, 4, Washington, DC

WTTG, 5, Washington, DC

WJLA-TV, 7, Washington, DC (formerly WMAL)

WUSA, 9, Washington, DC (formerly WTOP)

Washington

WRC-TV, 4, Washington, DC

WTTG, 5, Washington, DC

WJLA-TV, 7, Washington, DC (formerly WMAL)

WUSA, 9, Washington, DC (formerly WTOP)

+WDCA, 20, Washington, DC

WHAG-TV, 25, Hagerstown, MD

WMAR-TV, 2, Baltimore, MD

Wicomico

WBOC-TV, 16, Salisbury, MD

+WMDT, 47, Salisbury, MD

#WMAR-TV, 2, Baltimore, MD ¹⁵

¹⁵ Affected communities are Salisbury, Delmar, Fruitland, Hebron and unincorporated areas of Wicomico County, MD.

WBAL-TV, 11, Baltimore, MD

WJZ-TV, 13, Baltimore, MD

WTTG, 5, Washington, DC

Worcester

WBOC-TV, 16, Salisbury, MD

WMDT, 47, Salisbury, MD

#WTTG, 5, Washington, DC ¹⁶

¹⁶ Affected communities are Salisbury, Delmar, Fruitland, Hebron and unincorporated areas of Wicomico County, MD.

Barclay—WJZ-TV, WBOC-TV, WMDT, WTTG

Betterton—WBFF

Brookview—WJZ-TV, WBOC-TV, WMDT, WTTG

Centreville—WBFF, WNUV

Chestertown—WBFF

Church Hill—WBFF, WNUV

Denton—WJZ-TV, WBOC-TV, WMDT, WTTG

East New Market—WJZ-TV, WBOC-TV, WMDT, WTTG

Eldorado—WJZ-TV, WBOC-TV, WMDT, WTTG

Federalsburg—WJZ-TV, WBOC-TV, WMDT, WTTG

Galena—WBFF

Galestown—WJZ-TV, WBOC-TV, WMDT, WTTG

Goldsboro—WJZ-TV, WBOC-TV, WMDT, WTTG

Greensboro—WJZ-TV, WBOC-TV, WMDT, WTTG

Henderson—WJZ-TV, WBOC-TV, WMDT, WTTG

Hillsboro—WJZ-TV, WBOC-TV, WMDT, WTTG

Hurlock—WJZ-TV, WBOC-TV, WMDT, WTTG

Mardela Springs—WJZ-TV, WBOC-TV, WMDT, WTTG

Marydel—WJZ-TV, WBOC-TV, WMDT, WTTG

Millington—WBFF, WNUV

Preston—WJZ-TV, WBOC-TV, WMDT, WTTG

Queen Anne—WJZ-TV, WBOC-TV, WMDT, WTTG

Ridgely—WJZ-TV, WBOC-TV, WMDT, WTTG

Secretary—WJZ-TV, WBOC-TV, WMDT, WTTG

Sharptown—WJZ-TV, WBOC-TV, WMDT, WTTG

Sudlersville—WBFF, WNUV

Templeville—WJZ-TV, WBOC-TV, WMDT, WTTG

Vienna—WJZ-TV, WBOC-TV, WMDT, WTTG

Unincorporated areas of Caroline County—WJZ-TV, WBOC-TV, WMDT, WTTG

Unincorporated areas of Dorchester County—WJZ-TV, WBOC-TV, WMDT, WTTG

Unincorporated areas of Kent County—WBFF

Unincorporated areas of Queen Annes County—WBFF, WNUV

MASSACHUSETTS

Barnstable

WBZ-TV, 4, Boston, MA

WCVB-TV, 5, Boston, MA (formerly WHDH)

WHDH-TV, 7, Boston, MA (formerly WNAC)

+WZBU, 58, Vineyard, MA (formerly WCVX)

WLNE-TV, 6, Providence, RI (formerly WTEV)

WJAR, 10, Providence, RI

WPRI-TV, 12, Providence, RI

Berkshire

WRGB, 6, Schenectady, NY

WTEN, 10, Albany, NY

WNYT, 13, Albany, NY (formerly WAST)

+WXXA-TV, 23, Albany, NY

WFSB, 3, Hartford, CT (formerly WTIC)

+WTIC-TV, 61, Hartford, CT

Bristol

WLNE-TV, 6, Providence, RI (formerly WTEV)

WJAR, 10, Providence, RI

WPRI-TV, 12, Providence, RI

+WNAC-TV, 64, Providence, RI

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

Dukes

WLNE-TV, 6, Providence, RI (formerly WTEV)

WJAR, 10, Providence, RI

WPRI-TV, 12, Providence, RI

WBZ-TV, 4, Boston, MA

WCVB-TV, 5, Boston, MA (formerly WHDH)

WHDH-TV, 7, Boston, MA (formerly WNAC)

Essex

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Franklin

WWLP, 22, Springfield, MA

WGGB-TV, 40, Springfieldm MA (formerly WHYN)

WBZ-TV, 4, Boston, MA

WCVB-TV, 5, Boston, MA (formerly WHDH)

WFSB, 3, Hartford, CT (formerly WTIC)

+WTXX, 20, Waterbury, CT

+WTIC-TV, 61, Hartford, CT

Hampden

WWLP, 22, Springfield, MA

WGGB-TV, 40, Springfield, MA (formerly WHYN)

WFSB, 3, Hartford, CT (formerly WTIC)

WTNH-TV, 8, Hartford, CT (formerly WNHC)

+WTXX, 20, Waterbury, CT

WVIT, 30, Hartford, CT (formerly WHNB)

+WTIC-TV, 61, Hartford, CT

Hampshire

WWLP, 22, Springfield, MA

WGGB-TV, 40, Springfield, MA (formerly WHYN)

WFSB, 3, Hartford, CT (formerly WTIC)

+WTXX, 20, Waterbury, CT

+WVIT, 30, Hartford, CT

+WTIC-TV, 61, Hartford, CT

Middlesex

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Nantucket

WLNE-TV, 6, Providence, RI (formerly WTEV)

WJAR, 10, Providence, RI

WPRI-TV, 12, Providence, RI

WBZ-TV, 4, Boston, MA

WCVB-TV, 5, Boston, MA (formerlyWHDH)

Norfolk

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Plymouth

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

WLNE-TV, 6, Providence, RI (formerly WTEV)

WJAR, 10, Providence, RI

WPRI-TV, 12, Providence, RI

Suffolk

WBZ-TV, 4, Boston, MA

WCVB-TV, 5, Boston, MA (formerly WHDH)

WHDH-TV, 7, Boston, MA (formerly WNAC)

WSBK-TV, 38, Boston, MA

WLVI-TV, 56, Boston, MA (formerly WKBG)

+WBPX, 68, Boston, MA (formerly WQTV)

Worcester

WBZ-TV, 4, Boston, MA

WCVB-TV, 5, Boston, MA (formerly WHDH)

WHDH-TV, 7, Boston, MA (formerly WNAC)

WSBK-TV, 38, Boston, MA

WLVI-TV, 56, Boston, MA (formerly WKBG)

WJAR, 10, Providence, RI

WPRI-TV, 12, Providence, RI

WHLL, 27, Worcester, MA (formerly WSMW)

Acushnet—WFXT

Barnstable—WFXT, WSBK-TV, WBZ-TV, WCVB-TV, WHDH-TV, WLVI-TV, WLNE-TV, WJAR

Bourne—WFXT, WSBK-TV

Brewster—WBZ-TV, WCVB-TV, WHDH-TV, WSBK-TV, WLNE-TV

Chatham—WFXT, WSBK-TV, WBZ-TV, WCVB-TV, WHDH-TV, WLVI-TV, WLNE-TV, WJAR

Dartmouth—WFXT

Dennis—WFXT, WSBK-TV, WBZ-TV, WCVB-TV, WHDH-TV, WLVI-TV, WLNE-TV, WJAR

Eastham—WBZ-TV, WCVB-TV, WHDH-TV, WSBK-TV, WLNE-TV

Fairhaven—WFXT

Fall River—WFXT

Falmouth—WSBK-TV, WLVI-TV, WBPX

Harwich—WFXT, WSBK-TV, WBZ-TV, WCVB-TV, WHDH-TV, WLVI-TV, WLNE-TV, WJAR

Marion—WFXT

Mattapoisett—WFXT

New Bedford—WFXT

Orleans—WBZ-TV, WCVB-TV, WHDH-TV, WSBK-TV, WLNE-TV

Provincetown—WBZ-TV, WCVB-TV, WHDH-TV, WSBK-TV, WLNE-TV

Rochester—WFXT

Sandwich—WFXT, WSBK-TV

Truro—WBZ-TV, WCVB-TV, WHDH-TV, WSBK-TV, WLNE-TV

Wareham—WFXT

Wellfleet—WBZ-TV, WCVB-TV, WHDH-TV, WSBK-TV, WLNE-TV

Yarmouth—WFXT, WSBK-TV, WBZ-TV, WCVB-TV, WHDH-TV, WLVI-TV, WLNE-TV, WJAR

MICHIGAN

Alcona

WNEM-TV, 5, Bay City, MI

WJRT-TV, 12, Flint, MI

Alger

WLUC-TV, 6, Marquette, MI

WFRV-TV, 5, Green Bay, WI

Allegany

WWMT, 3, Kalamazoo, MI (formerly WKZO)

WOOD-TV, 8, Grand Rapids, MI

WZZM-TV, 13, Grand Rapids, MI

Alpena

WPBN-TV, 7, Traverse City, MI

+WGTQ, 8, Sault Ste. Marie, MI

WWTV, 9, Cadillac, MI

Antrim

WPBN-TV, 7, Traverse City, MI

WWTV, 9, Cadillac, MI

+WFXV, 45, Vanderbilt, MI (formerly WGKU)

Arenac

WNEM-TV, 5, Bay City, MI

WJRT-TV, 12, Flint, MI

WWTV, 9, Cadillac, MI

Baraga

WLUC-TV, 6, Marquette, MI

Barry

WWMT, 3, Kalamazoo, MI (formerly WKZO)

WOOD-TV, 8, Grand Rapids, MI

WZZM-TV, 13, Grand Rapids, MI

WLNS-TV, 6, Lansing, MI (formerly WJIM)

Bay

WNEM-TV, 5, Bay City, MI

WJRT-TV, 12, Flint, MI

WEYI-TV, 25, Saginaw, MI (formerly WKNX)

+WSMH, 66, Flint, MI

Benzie

WPBN-TV, 7, Traverse City, MI

WWTV, 9, Cadillac, MI

Berrien

WBBM-TV, 2, Chicago, IL

WMAQ-TV, 5, Chicago, IL

WLS-TV, 7, Chicago, IL

WGN-TV, 9, Chicago, IL

WNDU-TV, 16, South Bend, IN

WSBT-TV, 22, South Bend, IN

WSJV, 28, Elkhart, IN

Branch

WWMT, 3, Kalamazoo, MI (formerly WKZO)

WOOD-TV, 8, Grand Rapids, MI

+WXMI, 17, Grand Rapids, MI

+WOTV, 41, Battle Creek, MI (formerly WUHQ)

WLNS-TV, 6, Lansing, MI (formerly WJIM)

WILX-TV, 10, Lansing, MI

+WSYM-TV, 47, Lansing, MI

Calhoun

WWMT, 3, Kalamazoo, MI (formerly WKZO)

WOOD-TV, 8, Grand Rapids, MI

+WXMI, 17, Grand Rapids, MI

+WOTV, 41, Battle Creek, MI (formerly WUHQ)

WLNS-TV, 6, Lansing, MI (formerly WJIM)

WILX-TV, 10, Lansing, MI

+WSYM-TV, 47, Lansing, MI

Cass

WNDU-TV, 16, South Bend, IN

WSBT-TV, 22, South Bend, IN

WSJV, 28, Elkhart, IN

WGN-TV, 9, Chicago, IL

WWMT, 3, Kalamazoo, MI (formerly WKZO)

WOOD-TV, 8, Grand Rapids, MI

+WXMI, 17, Grand Rapids, MI

Charlevoix

WPBN-TV, 7, Traverse City, MI

WWTV, 9, Cadillac, MI

+WGTU, 29, Traverse City, MI

+WFVX, 45, Vanderbilt, MI (formerly WGKU)

Cheboygan

WPBN-TV, 7, Traverse City, MI

WWTV, 9, Cadillac, MI

+WFVX, 45, Vanderbilt, MI (formerly WGKU)

Chippewa

WPBN-TV, 7, Traverse City, MI

+WGTQ, 8, Traverse City, MI

WWTV, 9, Cadillac, MI

CJIC, 2, Canada

Clare

WNEM-TV, 5, Bay City, MI

WJRT-TV, 12, Flint, MI

WPBN-TV, 7, Traverse City, MI

WWTV, 9, Cadillac, MI

+WFQX, 33, Cadillac, MI (formerly WGKI)

Clinton

WLNS-TV, 6, Lansing, MI (formerly WJIM)

WILX-TV, 10, Lansing, MI

+WSYM-TV, 47, Lansing, MI

+WLAJ, 53, Lansing, MI

WNEM-TV, 5, Bay City, MI

WJRT-TV, 12, Flint, MI

+WSMH, 66, Flint, MI

WOOD-TV, 8, Grand Rapids, MI

+WXMI, 17, Grand Rapids, MI

Crawford

WPBN-TV, 7, Traverse City, MI

WWTV, 9, Cadillac, MI

WFVX, 45, Vanderbilt, MI (formerly WGKU)

Delta

WFRV-TV, 5, Green Bay, WI

WLUK-TV, 11, Green Bay, WI

WLUC-TV, 6, Marquette, MI

Dickinson

WBAY-TV, 2, Green Bay, WI

WFRV-TV, 5, Green Bay, WI

WLUK-TV, 11, Green Bay, WI

WLUC-TV, 6, Marquette, MI

Eaton

WLNS-TV, 6, Lansing, MI (formerly WJIM)

WILX-TV, 10, Lansing, MI

+WSYM-TV, 47, Lansing, MI

+WLAJ, 53, Lansing, MI

WJRT-TV, 12, Flint, MI

WWMT, 3, Kalamazoo, MI (formerly WKZO)

WOOD-TV, 8, Grand Rapids, MI

+WXMI, 17, Grand Rapids, MI

Emmet

WPBN-TV, 7, Traverse City, MI

WWTV, 9, Cadillac, MI

+WGTU, 29, Traverse City, MI

+WFVX, 45, Vanderbilt, MI (formerly WGKU)

Genesee

WNEM-TV, 5, Bay City, MI

WJRT-TV, 12, Flint, MI

+WSMH, 66, Flint, MI

WJBK, 2, Detroit, MI

#WDIV, 4, Detroit, MI (formerly WWJ) ¹⁷

¹⁷ Affected community is Flint, MI.

WXYZ-TV, 7, Detroit, MI

WKBD-TV, 50, Detroit, MI

WLNS-TV, 6, Lansing, MI (formerly WJIM)

Gladwin

WNEM-TV, 5, Bay City, MI

WJRT-TV, 12, Flint, MI

WWTV, 9, Cadillac, MI

Gogebic

KDLH, 3, Duluth, MN (formerly KDAL)

KBJR-TV, 6, Duluth, MN (formerly WDSM)

WDIO-TV, 10, Duluth, MN

WJFW-TV, 12, Rhinelander, WI (formerly WAEO)

Grand Traverse

WPBN-TV, 7, Traverse City, MI

WWTV, 9, Cadillac, MI

+WGTU, 29, Traverse City, MI

Gratiot

WNEM-TV, 5, Bay City, MI

WJRT-TV, 12, Flint, MI

+WSMH, 66, Flint, MI

WOOD-TV, 8, Grand Rapids, MI

WLNS-TV, 6, Lansing, MI (formerly WJIM)

+WSYM-TV, 47, Lansing, MI

Hillsdale

WLNS-TV, 6, Lansing, MI (formerly WJIM)

WILX-TV, 10, Lansing, MI

+WSYM-TV, 47, Lansing, MI

+WLAJ, 53, Lansing, MI

WWMT, 3, Kalamazoo, MI (formerly WKZO)

WOOD-TV, 8, Grand Rapids, MI

+WXMI, 17, Grand Rapids, MI

WTOL-TV, 11, Toledo, OH

WTVG, 13, Toledo, OH (formerly WSPD)

+WUPW, 36, Toledo, OH

Houghton

WLUC-TV, 6, Marquette, MI

WFRV-TV, 5, Green Bay, WI

Huron

WNEM-TV, 5, Bay City, MI

WJRT-TV, 12, Flint, MI

+WSMH, 66, Flint, MI

Ingham

WLNS-TV, 6, Lansing, MI (formerly WJIM)

WILX-TV, 10, Lansing, MI

+WSYM-TV, 47, Lansing, MI

+WLAJ, 53, Lansing, MI

WJRT-TV, 12, Flint, MI

WWMT, 3, Kalamazoo, MI (formerly WKZO)

#WOOD-TV, 8, Grand Rapids, MI ¹⁸

¹⁸ Affected communities are Lansing and East Lansing, MI.

Ionia

WWMT, 3, Kalamazoo, MI (formerly WKZO)

WOOD-TV, 8, Grand Rapids, MI

WZZM-TV, 13, Grand Rapids, MI

+WXMI, 17, Grand Rapids, MI

WJRT-TV, 12, Flint, MI

WLNS-TV, 6, Lansing, MI (formerly WJIM)

+WSYM-TV, 47, Lansing, MI

Iosco

WNEM-TV, 5, Bay City, MI

WJRT-TV, 12, Flint, MI

+WBKB-TV, 11, Alpena, MI

Iron

WLUC-TV, 6, Marquette, MI

WFRV-TV, 5, Green Bay, WI

WJFW-TV, 12, Rhinelander, WI (formerly WAEO)

Isabella

WNEM-TV, 5, Bay City, MI

WJRT-TV, 12, Flint, MI

+WSMH, 66, Flint, MI

WLNS-TV, 6, Lansing, MI (formerly WJIM)

WWTV, 9, Cadillac, MI

+WFQX, 33, Cadillac, MI (formerly WGKI)

Jackson

WLNS-TV, 6, Lansing, MI (formerly WJIM)

WILX-TV, 10, Lansing, MI

WSYM-TV, 47, Lansing, MI

WLAJ, 53, Lansing, MI

WJBK, 2, Detroit, MI

WDIV, 4, Detroit, MI (formerly WWJ)

WXYZ-TV, 7, Detroit, MI

Kalamazoo

WWMT, 3, Kalamazoo, MI (formerly WKZO)

WOOD-TV, 8, Grand Rapids, MI

WZZM-TV, 13, Grand Rapids, MI

+WOTV, 41, Battle Creek, MI (formerly WUHQ)

Kalkaska

WPBN-TV, 7, Traverse City, MI

WWTV, 9, Cadillac, MI

+WFQX, 33, Cadillac, MI (formerly WGKI)

Kent

WWMT, 3, Kalamazoo, MI (formerly WKZO)

WOOD-TV, 8, Grand Rapids, MI

WZZM-TV, 13, Grand Rapids, MI

Keweenaw

WLUC-TV, 6, Marquette, MI

CKPR, 2, Canada

Lake

WPBN-TV, 7, Traverse City, MI

WWTV, 9, Cadillac, MI

WZZM-TV, 13, Grand Rapids, MI

Lapeer

WJBK, 2, Detroit, MI

WDIV, 4, Detroit, MI (formerly WWJ)

WXYZ-TV, 7, Detroit, MI

CBET, 9, Canada (formerly CKLW)

WNEM-TV, 5, Bay City, MI

WJRT-TV, 12, Flint, MI

+WSMH, 66, Flint, MI

WLNS-TV, 6, Lansing, MI (formerly WJIM)

Leelanau

WPBN-TV, 7, Traverse City, MI

WWTV, 9, Cadillac, MI

Lenawee

WJBK, 2, Detroit, MI

WDIV, 4, Detroit, MI (formerly WWJ)

WXYZ-TV, 7, Detroit, MI

CBET, 9, Canada (formerly CKLW)

WKBD-TV, 50, Detroit, MI

WTOL-TV, 11, Toledo, OH

WTVG, 13, Toledo, OH (formerly WSPD)

WNWO-TV, 24, Toledo, OH (formerly WDHO)

+WUPW, 36, Toledo, OH

Livingston

WJBK, 2, Detroit, MI

WDIV, 4, Detroit, MI (formerly WWJ)

WXYZ-TV, 7, Detroit, MI

CBET, 9, Canada (formerly CKLW)

WKBD-TV, 50, Detroit, MI

WJRT-TV, 12, Flint, MI

WLNS-TV, 6, Lansing, MI (formerly WJIM)

+WSYM-TV, 47, Lansing, MI

Luce

WPBN-TV, 7, Traverse City, MI

+WGTQ, 8, Sault Ste. Marie, MI

WWTV, 9, Cadillac, MI

WFRV-TV, 5, Green Bay, WI

WLUC-TV, 6, Marquette, MI

CJIC, 2, Canada

Mackinac

WPBN-TV, 7, Traverse City, MI

+WGTQ, 8, Sault Ste. Marie, MI

WWTV, 9, Cadillac, MI

WFRV-TV, 5, Green Bay, WI

CJIC, 2, Canada

Macomb

WJBK, 2, Detroit, MI

WDIV, 4, Detroit, MI (formerly WWJ)

WXYZ-TV, 7, Detroit, MI

CBET, 9, Canada (formerly CKLW)

WKBD-TV, 50, Detroit, MI

Manistee

WPBN-TV, 7, Traverse City, MI

WWTV, 9, Cadillac, MI

+WFQX, 33, Cadillac, MI (formerly WGKI)

WZZM-TV, 13, Grand Rapids, MI

WBAY-TV, 2, Green Bay, WI

WLUK-TV, 11, Green Bay, WI

Marquette

WLUC-TV, 6, Marquette, MI

WFRV-TV, 5, Green Bay, WI

WLUK-TV, 11, Green Bay, WI

Mason

WPBN-TV, 7, Traverse City, MI

WWTV, 9, Cadillac, MI

+WFQX, 33, Cadillac, MI (formerly WGKI)

WZZM-TV, 13, Grand Rapids, MI

WBAY-TV, 2, Green Bay, WI

WFRV-TV, 5, Green Bay, WI

WLUK-TV, 11, Green Bay, WI

Mecosta

WPBN-TV, 7, Traverse City, MI

WWTV, 9, Cadillac, MI

+WFQX, 33, Cadillac, MI (formerly WGKI)

WZZM-TV, 13, Grand Rapids, MI

+WXMI, 17, Grand Rapids, MI

Menominee

WBAY-TV, 2, Green Bay, WI

WFRV-TV, 5, Green Bay, WI

WLUK-TV, 11, Green Bay, WI

+WGBA, 26, Green Bay, WI

+WACY, 32, Appleton, WI (formerly WXGZ)

WLUC-TV, 6, Marquette, MI

Midland

WNEM-TV, 5, Bay City, MI

WJRT-TV, 12, Flint, MI

+WAQP, 49, Saginaw, MI

+WSMH, 66, Flint, MI

WWTV, 9, Cadillac, MI

Missaukee

WPBN-TV, 7, Traverse City, MI

WWTV, 9, Cadillac, MI

Monroe

WJBK, 2, Detroit, MI

WDIV, 4, Detroit, MI (formerly WWJ)

WXYZ-TV, 7, Detroit, MI

CBET, 9, Canada (formerly CKLW)

WKBD-TV, 50, Detroit, MI

WTOL-TV, 11 Toledo, OH

WTVG, 13, Toledo, OH (formerly WSPD)

WNWO-TV, 24, Toledo, OH (formerly WDHO)

+WUPW, 36, Toledo, OH

Montcalm

WWMT, 3, Kalamazoo, MI (formerly WKZO)

WOOD-TV, 8, Grand Rapids, MI

WZZM-TV, 13, Grand Rapids, MI

+WXMI, 17, Grand Rapids, MI

WJRT-TV, 12, Flint, MI

WLNS-TV, 6, Lansing, MI (formerly WJIM)

WWTV, 9, Cadillac, MI

Montmorency

WPBN-TV, 7, Traverse City, MI

WWTV, 9, Cadillac, MI

Muskegon

WWMT, 3, Kalamazoo, MI (formerly WKZO)

WOOD-TV, 8, Grand Rapids, MI

WZZM-TV, 13, Grand Rapids, MI

+WXMI, 17, Grand Rapids, MI

Newaygo

WWMT, 3, Kalamazoo, MI (formerly WKZO)

WOOD-TV, 8, Grand Rapids, MI

WZZM-TV, 13, Grand Rapids, MI

WPBN-TV, 7, Traverse City, MI

WWTV, 9, Cadillac, MI

Oakland

WJBK, 2, Detroit, MI

WDIV, 4, Detroit, MI (formerly WWJ)

WXYZ-TV, 7, Detroit, MI

CBET, 9, Canada (formerly CKLW)

+WXON, 20, Detroit, MI

WKBD-TV, 50, Detroit, MI

Oceana

WWMT, 3, Kalamazoo, MI (formerly WKZO)

WZZM-TV, 13, Grand Rapids, MI

WPBN-TV, 7, Traverse City, MI

WWTV, 9, Cadillac, MI

Ogemaw

WNEM-TV, 5, Bay City, MI

WJRT-TV, 12, Flint, MI

WWTV, 9, Cadillac, MI

Ontonagon

WLUC-TV, 6, Marquette, MI

KDLH, 3, Duluth, MN (formerly KDAL)

WJFW-TV, 12, Rhinelander, WI (formerly WAEO)

Osceola

WPBN-TV, 7, Traverse City, MI

WWTV, 9, Cadillac, MI

+WFQX, 33, Cadillac, MI (formerly WGKI)

WNEM-TV, 5, Bay City, MI

WZZM-TV, 13, Grand Rapids, MI

Oscoda

WPBN-TV, 7, Traverse City, MI

WWTV, 9, Cadillac, MI

WNEM-TV, 5, Bay City, MI

Otsego

WPBN-TV, 7, Traverse City, MI

WWTV, 9, Cadillac, MI

+WGTU, 29, Traverse City, MI

+WFVX, 45, Vanderbilt, MI (formerly WGKU)

Ottawa

WWMT, 3, Kalamazoo, MI (formerly WKZO)

WOOD-TV, 8, Grand Rapids, MI

WZZM-TV, 13, Grand Rapids, MI

Presque Isle

WPBN-TV, 7, Traverse City, MI

+WGTQ, 8, Sault Ste. Marie, MI

WWTV, 9, Cadillac, MI

+WBKB-TV, 11, Alpena, MI

Roscommon

WPBN-TV, 7, Traverse City, MI

WWTV, 9, Cadillac, MI

WNEM-TV, 5, Bay City, MI

Saginaw

WNEM-TV, 5, Bay City, MI

WJRT-TV, 12, Flint, MI

WEYI-TV, 25, Saginaw, MI (formerly WKNX)

+WSMH, 66, Flint, MI

St. Clair

WJBK, 2, Detroit, MI

WDIV, 4, Detroit, MI (formerly WWJ)

WXYZ-TV, 7, Detroit, MI

CBET, 9, Canada (formerly CKLW)

+WXON, 20, Detroit, MI

WKBD-TV, 50, Detroit, MI

St. Joseph

WWMT, 3, Kalamazoo, MI (formerly WKZO)

WOOD-TV, 8, Grand Rapids, MI

WNDU-TV, 16, South Bend, IN

WSBT-TV, 22, South Bend, IN

WSJV, 28, Elkhart, IN

+WHME-TV, 46, South Bend, IN

+WSYM-TV, 47, Lansing, MI

Sanilac

WJBK, 2, Detroit, MI

WDIV, 4, Detroit, MI (formerly WWJ)

WXYZ-TV, 7, Detroit, MI

WNEM-TV, 5, Bay City, MI

WJRT-TV, 12, Flint, MI

CFPL, 10, Canada

Schoolcraft

WLUC-TV, 6, Marquette, MI

WFRV-TV, 5, Green Bay, WI

Shiawassee

WNEM-TV, 5, Bay City, MI

WJRT-TV, 12, Flint, MI

+WSMH, 66, Flint, MI

WLNS-TV, 6, Lansing, MI (formerly WJIM)

WILX-TV, 10, Lansing, MI

+WSYM-TV, 47, Lansing, MI

Tuscola

WNEM-TV, 5, Bay City, MI

WJRT-TV, 12, Flint, MI

WEYI-TV, 25, Saginaw, MI (formerly WKNX)

+WAQP, 49, Saginaw, MI

+WSMH, 66, Flint, MI

Van Buren

WWMT, 3, Kalamazoo, MI (formerly WKZO)

WOOD-TV, 8, Grand Rapids, MI

WZZM-TV, 13, Grand Rapids, MI

Washtenaw

WJBK, 2, Detroit, MI

WDIV, 4, Detroit, MI (formerly WWJ)

WXYZ-TV, 7, Detroit, MI

CBET, 9, Canada (formerly CKLW)

WKBD-TV, 50, Detroit, MI

Wayne

WJBK, 2, Detroit, MI

WDIV, 4, Detroit, MI (formerly WWJ)

WXYZ-TV, 7, Detroit, MI

CBET, 9, Canada (formerly CKLW)

WKBD-TV, 50, Detroit, MI

Wexford

WPBN-TV, 7, Traverse City, MI

WWTV, 9, Cadillac, MI

+WGTU, 29, Traverse City, MI

+WFQX, 33, Cadillac, MI (formerly WGKI)

Ann Arbor—WXON

Ann Arbor Township—WXON

Barton Hills—WXON

Bennington Township—WEYI-TV

Brighton—WXON

Brighton Township—WXON

Caledonia Township—WEYI-TV

Corunna—WEYI-TV

Genoa Township—WXON

Green Oak Township—WXON

Howell—WXON

Oceola Township—WXON

Owosso—WEYI-TV

Owosso Township—WEYI-TV

Pittsfield Township—WXON

Rush Township (portions)—WEYI-TV

Scio Township—WXON

Superior Township—WXON

Van BurenTownship—WXON

Webster Township—WXON

Ypsilanti—WXON

Ypsilanti Township—WXON

MINNESOTA

Aitkin

KDLH, 3, Duluth, MN (formerly KDAL)

KBJR-TV, 6, Duluth, MN (formerly WDSM)

WDIO-TV, 10, Duluth, MN

KCCW-TV, 12, Walker, MN (formerly KNMT)

Anoka

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Becker

KXJB-TV, 4, Valley City, ND

WDAY-TV, 6, Fargo, ND

KVLY-TV, 11, Fargo, ND (formerly KTHI)

Beltrami

KCCW-TV, 12, Walker, MN (formerly KNMT)

KDLH, 3, Duluth, MN (formerly KDAL)

KBJR-TV, 6, Duluth, MN (formerly WDSM)

KVLY-TV, 11, Fargo, ND (formerly KTHI)

Benton

WCCO-TV, 4, Minneapolis, MN

KSTP-TV, 5, St. Paul, MN

KMSP-TV, 9, Minneapolis, MN

KARE, 11, Minneapolis, MN (formerly WTCN)

+KPXM, 41, St. Cloud, MN (formerly KXLI)

KCCO-TV, 7, Alexandria, MN (formerly KCMT)

Big Stone

KCCO-TV, 7, Alexandria, MN (formerly KCMT)

KELO-TV, 11, Sioux Falls, SD

Blue Earth

KEYC-TV, 12, Mankato, MN

WCCO-TV, 4, Minneapolis, MN

KSTP-TV, 5, St. Paul, MN

KMSP-TV, 9, Minneapolis, MN

KARE, 11, Minneapolis, MN (formerly WTCN)

+WFTC, 29, Minneapolis, MN (formerly KITN)

KAAL, 6, Austin, MN (formerly KAUS)

Brown

WCCO-TV, 4, Minneapolis, MN

KSTP-TV, 5, St. Paul, MN

KMSP-TV, 9, Minneapolis, MN

KARE, 11, Minneapolis, MN (formerly WTCN)

+WFTC, 29, Minneapolis, MN (formerly KITN)

KEYC-TV, 12, Mankato, MN

KAAL, 6, Austin, MN (formerly KAUS)

Carlton

KDLH, 3, Duluth, MN (formerly KDAL)

KBJR-TV, 6, Duluth, MN (formerly WDSM)

WDIO-TV, 10, Duluth, MN

Carver

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Cass

KCCO-TV, 7, Alexandria, MN (formerly KCMT)

KCCW-TV, 12, Walker, MN (formerly KNMT)

KDLH, 3, Duluth, MN (formerly KDAL)

WDIO-TV, 10, Duluth, MN

Chippewa

KCCO-TV, 7, Alexandria, MN (formerly KCMT)

+KSAX, 42, Alexandria, MN

WCCO-TV, 4, Minneapolis, MN

KMSP-TV, 9, Minneapolis, MN

KARE, 11, Minneapolis, MN (formerly WTCN)

Chisago

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Clay

KXJB-TV, 4, Valley City, ND

WDAY-TV, 6, Fargo, ND

KVLY-TV, 11, Fargo, ND (formerly KTHI)

Clearwater

KXJB-TV, 4, Valley City, ND

WDAY-TV, 6, Fargo, ND

KVLY-TV, 11, Fargo, ND (formerly KTHI)

Cook

KDLH, 3, Duluth, MN (formerly KDAL)

KBJR-TV, 6, Duluth, MN (formerly WDSM)

WDIO-TV, 10, Duluth, MN

CKPR, 2, Canada

Cottonwood

KEYC-TV, 12, Mankato, MN

KSTP-TV, 5, St. Paul, MN

KARE, 11, Minneapolis, MN (formerly WTCN)

KAAL, 6, Austin, MN (formerly KAUS)

Crow Wing

KCCO-TV, 7, Alexandria, MN (formerly KCMT)

KCCW-TV, 12, Walker, MN (formerly KNMT)

+KSAX, 42, Alexandria, MN

KDLH, 3, Duluth, MN (formerly KDAL)

+KPXM, 41, St. Cloud, MN (formerly KXLI)

Dakota

WCCO-TV, 4, Minneapolis, MN

KSTP-TV, 5, St. Paul, MN

KMSP-TV, 9, Minneapolis, MN

KARE, 11, Minneapolis, MN (formerly WTCN)

+KLGT, 23, Minneapolis (formerly KTMA)

+KPXM, 41, St. Cloud, MN (formerly KXLI)

Dodge

KIMT, 3, Mason City, IA (formerly KGLO)

KAAL, 6, Austin, MN (formerly KAUS)

KTTC, 10, Rochester, MN (formerly KROC)

WCCO-TV, 4, Minneapolis, MN

KSTP-TV, 5, St. Paul, MN

Douglas

KCCO-TV, 7, Alexandria, MN (formerly KCMT)

+KSAX, 42, Alexandria, MN

Faribault

KIMT, 3, Mason City, IA (formerly KGLO)

KAAL, 6, Austin, MN (formerly KAUS)

KTTC, 10, Rochester, MN (formerly KROC)

KEYC-TV, 12, Mankato, MN

Fillmore

KIMT, 3, Mason City, IA (formerly KGLO)

KAAL, 6, Austin, MN (formerly KAUS)

KTTC, 10, Rochester, MN (formerly KROC)

WKBT, 8, La Crosse, WI

+WLAX, 25, La Crosse, WI

Freeborn

KIMT, 3, Mason City, IA (formerly KGLO)

KAAL, 6, Austin, MN (formerly KAUS)

KTTC, 10, Rochester, MN (formerly KROC)

Goodhue

WCCO-TV, 4, Minneapolis, MN

KSTP-TV, 5, St. Paul, MN

KMSP-TV, 9, Minneapolis, MN

KARE, 11, Minneapolis, MN (formerly KARE)

+WFTC, 29, Minneapolis, MN (formerly KITN)

Grant

KCCO-TV, 7, Alexandria, MN (formerly KCMT)

Hennepin

WCCO-TV, 4, Minneapolis, MN

KSTP-TV, 5, St. Paul, MN

KMSP-TV, 9, Minneapolis, MN

KARE, 11, Minneapolis, MN (formerly WTCN)

KLGT, 23, Minneapolis, MN (formerly KTMA)

KPXM, 41, St.Cloud, MN (formerly KXLI)

Houston

WKBT, 8, La Crosse, WI

+WLAX, 25, La Crosse, WI

KTTC, 10, Rochester, MN (formerly KROC)

Hubbard

KCCW-TV, 12, Walker, MN (formerly KNMT)

Isanti

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Itasca

KDLH, 3, Duluth, MN (formerly KDAL)

KBJR-TV, 6, Duluth, MN (formerly WDSM)

WDIO-TV, 10, Duluth, MN

KCCW-TV, 12, Walker, MN (formerly KNMT)

Jackson

KEYC-TV, 12, Mankato, MN

KCAU-TV, 9, Sioux City, IA

KELO-TV, 11, Sioux Falls, SD

KSFY-TV, 13, Sioux Falls, SD (formerly KSOO)

Kanabec

WCCO-TV, 4, Minneapolis, MN

KSTP-TV, 5, St. Paul, MN

KMSP-TV, 9, Minneapolis, MN

KARE, 11, Minneapolis, MN (formerly WTCN)

+KPXM, 41, St. Cloud, MN (formerly KXLI)

Kandiyohi

WCCO-TV, 4, Minneapolis, MN

KSTP-TV, 5, St. Paul, MN

KMSP-TV, 9, Minneapolis, MN

KARE, 11, Minneapolis, MN (formerly WTCN)

+KPXM, 41, St. Cloud, MN (formerly KXLI)

KCCO-TV, 7, Alexandria, MN (formerly KCMT)

Kittson

KXJB-TV, 4, Valley City, ND

WDAZ-TV, 8, Devils Lake, ND

KNRR, 12, Pembina, ND (formerly KCND)

CBWT, 6, Canada

CKY, 7, Canada (formerly CJAY)

Koochiching

KDLH, 3, Duluth, MN (formerly KDAL)

KBJR-TV, 6, Duluth, MN (formerly WDSM)

WDIO-TV, 10, Duluth, MN

CBWT, 6, Canada

Lac Qui Parle

KCCO-TV, 7, Alexandria, MN (formerly KCMT)

+KSAX, 42, Alexandria, MN

KELO-TV, 11, Sioux Falls, SD

Lake

KDLH, 3, Duluth, MN (formerly KDAL)

KBJR-TV, 6, Duluth, MN (formerly WDSM)

WDIO-TV, 10, Duluth, MN

Lake of the Woods

CBWT, 6, Canada

Le Sueur

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KEYC-TV, 12, Mankato, MN

Lincoln

KDLV-TV, 5, Mitchell, SD (formerly KORN)

KELO-TV, 11, Sioux Falls, SD

KSFY-TV, 13, Sioux Falls, SD (formerly KSOO)

Lyon

KELO-TV, 11, Sioux Falls, SD

KSFY-TV, 13, Sioux Falls, SD (formerly KSOO)

KEYC-TV, 12, Mankato, MN

McLeod

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

Mahnomen

KXJB-TV, 4, Valley City, ND

WDAY-TV, 6, Fargo, ND

KVLY-TV, 11, Fargo, ND (formerly KTHI)

Marshall

KXJB-TV, 4, Valley City, ND

WDAZ-TV, 8, Devils Lake, ND

KVLY-TV, 11, Fargo, ND (formerly KTHI)

KNRR, 12, Pembina, ND (formerly KCND)

CBWT, 6, Canada

Martin

KEYC-TV, 12, Mankato, MN

KAAL, 6, Austin, MN (formerly KAUS)

KTTC, 10, Rochester, MN (formerly KROC)

Meeker

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KCCO-TV, 7, Alexandria, MN (formerly KCMT)

Mille Lacs

WCCO-TV, 4, Minneapolis, MN

KSTP-TV, 5, St. Paul, MN

KMSP-TV, 9, Minneapolis, MN

KARE, 11, Minneapolis, MN (formerly WTCN)

+KLGT, 23, Minneapolis, MN (formerly KTMA)

Morrison

KCCO-TV, 7, Alexandria, MN (formerly KCMT)

WCCO-TV, 4, Minneapolis, MN

KSTP-TV, 5, St. Paul, MN

KMSP-TV, 9, Minneapolis, MN

KARE, 11, Minneapolis, MN (formerly WTCN)

+KPXM, 41, St. Cloud, MN (formerly KXLI)

Mower

KIMT, 3, Mason City, IA (formerly KGLO)

KAAL, 6, Austin, MN (formerly KAUS)

KTTC, 10, Rochester, MN (formerly KROC)

Murray

KELO-TV, 11, Sioux Falls, SD

KSFY-TV, 13, Sioux Falls, SD (formerly KSOO)

Nicollet

WCCO-TV, 4, Minneapolis, MN

KSTP-TV, 5, St. Paul, MN

KMSP-TV, 9, Minneapolis, MN

KARE, 11, Minneapolis, MN (formerly WTCN)

KEYC-TV, 12, Mankato, MN

Nobles

KELO-TV, 11, Sioux Falls, SD

KSFY-TV, 13, Sioux Falls, SD (formerly KSOO)

KCAU-TV, 9, Sioux City, IA

Norman

KXJB-TV, 4, Valley City, ND

WDAY-TV, 6, Fargo, ND

KVLY-TV, 11, Fargo, ND (formerly KTHI)

Olmsted

KIMT, 3, Mason City, IA (formerly KGLO)

KAAL, 6, Austin, MN (formerly KAUS)

KTTC, 10, Rochester, MN (formerly KROC)

Otter Tail

KXJB-TV, 4, Valley City, ND

WDAY-TV, 6, Fargo, ND

KVLY-TV, 11, Fargo, ND (formerly KTHI)

KCCO-TV, 7, Alexandria, MN (formerly KCMT)

Pennington

KXJB-TV, 4, Valley City, ND

WDAY-TV, 6, Fargo, ND

WDAZ-TV, 8, Devils Lake, ND

KVLY-TV, 11, Fargo, ND (formerly KTHI)

Pine

KDLH, 3, Duluth, MN (formerly KDAL)

KBJR-TV, 6, Duluth, MN (formerly WDSM)

WDIO-TV, 10, Duluth, MN

WCCO-TV, 4, Minneapolis, MN

KSTP-TV, 5, St. Paul, MN

KMSP-TV, 9, Minneapolis, MN

KARE, 11, Minneapolis, MN (formerly WTCN)

Pipestone

KDLV-TV, 5, Mitchell, SD (formerly KORN)

KELO-TV, 11, Sioux Falls, SD

KSFY-TV, 13, Sioux Falls, SD (formerly KSOO)

Polk

KXJB-TV, 4, Valley City, ND

WDAY-TV, 6, Fargo, ND

KVLY-TV, 11, Fargo, ND (formerly KTHI)

Pope

KCCO-TV, 7, Alexandria, MN (formerly KCMT)

Ramsey

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Red Lake

KXJB-TV, 4, Valley City, ND

WDAY-TV, 6, Fargo, ND

WDAZ-TV, 8, Devils Lake, ND

KVLY-TV, 11, Fargo, ND (formerly KTHI)

Redwood

KEYC-TV, 12, Mankato, MN

WCCO-TV, 4, Minneapolis, MN

KSTP-TV, 5, St. Paul, MN

KMSP-TV, 9, Minneapolis, MN

KARE, 11, Minneapolis, MN (formerly WTCN)

Renville

WCCO-TV, 4, Minneapolis, MN

KSTP-TV, 5, St. Paul, MN

KMSP-TV, 9, Minneapolis, MN

KARE, 11, Minneapolis, MN (formerly WTCN)

KCCO-TV, 7, Alexandria, MN (formerly KCMT)

KEYC-TV, 12, Mankato, MN

Rice

WCCO-TV, 4, Minneapolis, MN

KSTP-TV, 5, St. Paul, MN

KMSP-TV, 9, Minneapolis, MN

KARE, 11, MinneapoliS-, MN (formerly WTCN)

+KLGT, 23, Minneapolis, MN (formerly KTMA)

+WFTC, 29, Minneapolis, MN (formerly KITN)

Rock

KELO-TV, 11, Sioux Falls, SD

KSFY-TV, 13, Sioux Falls, SD (formerly KSOO)

KCAU-TV, 9, Sioux City, IA

Roseau

KNRR, 12, Pembina, ND (formerly KCND)

WDAZ-TV, 8, Devils Lake, ND

CBWT, 6, Canada

CKY, 7, Canada (CKY) (formerly CJAY)

St. Louis

KDLH, 3, Duluth, MN (formerly KDAL)

KBJR-TV, 6, Duluth, MN (formerly WDSM)

WDIO-TV, 10, Duluth, MN

Scott

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Sherburne

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St.Cloud, MN (formerly KXLI)

Sibley

WCCO-TV, 4, Minneapolis, MN

KSTP-TV, 5, St. Paul, MN

KMSP-TV, 9, Minneapolis, MN

KARE, 11, Minneapolis, MN (formerly WTCN)

+WFTC, 29, Minneapolis, MN (formerly KITN)

KEYC-TV, 12, Mankato, MN

Stearns

WCCO-TV, 4, Minneapolis, MN

KSTP-TV, 5, St. Paul, MN

KMSP-TV, 9, Minneapolis, MN

KARE, 11, Minneapolis, MN (formerly WTCN)

+WFTC, 29, Minneapolis, MN (formerly KITN)

+KPXM, 41, St. Cloud, MN (formerly KXLI)

KCCO-TV, 7, Alexandria, MN (formerly KCMT)

Steele

KIMT, 3, Mason City, IA (formerly KGLO)

KAAL, 6, Austin, MN (formerly KAUS)

KTTC, 10, Rochester, MN (formerly KROC)

KEYC-TV, 12, Mankato, MN

WCCO-TV, 4, Minneapolis, MN

KSTP-TV, 5, St. Paul, MN

KMSP-TV, 9, Minneapolis, MN

KARE, 11, Minneapolis, MN (formerly WTCN)

Stevens

KCCO-TV, 7, Alexandria, MN (formerly KCMT)

KELO-TV, 11, Sioux Falls, SD

Swift

KCCO-TV, 7, Alexandria, MN (formerly KCMT)

Todd

KCCO-TV, 7, Alexandria, MN (formerly KCMT)

+KSAX, 42, Alexandria, MN

+KPXM, 41, St. Cloud, MN (formerly KXLI)

Traverse

KCCO-TV, 7, Alexandria, MN (formerly KCMT)

KXJB-TV, 4, Valley City, ND

KELO-TV, 11, Sioux Falls, SD

Wabasha

WCCO-TV, 4, Minneapolis, MN

KSTP-TV, 5, St. Paul, MN

KMSP-TV, 9, Minneapolis, MN

KARE, 11, Minneapolis, MN (formerly WTCN)

WKBT, 8, La Crosse, WI

WEAU-TV, 13, Eau Claire, WI

KAAL, 6, Austin, MN (formerly KAUS)

KTTC, 10, Rochester, MN (formerly KROC)

Wadena

KCCO-TV, 7, Alexandria, MN (formerly KCMT)

KCCW-TV, 12, Walker, MN (formerly KNMT)

+KSAX, 42, Alexandria, MN

Waseca

WCCO-TV, 4, Minneapolis, MN

KSTP-TV, 5, St. Paul, MN

KMSP-TV, 9, Minneapolis, MN

KARE, 11, Minneapolis, MN (formerly WTCN)

KEYC-TV, 12, Mankato, MN

KIMT, 3, Mason City, IA (formerly KGLO)

KAAL, 6, Austin, MN (formerly KAUS)

KTTC, 10, Rochester, MN (formerly KROC)

Washington

WCCO-TV, 4, Minneapolis, MN

KSTP-TV, 5, St. Paul, MN

KMSP-TV, 9, Minneapolis, MN

KARE, 11, Minneapolis, MN (formerly WTCN)

+KLGT, 23, Minneapolis, MN (formerly KTMA)

+KPXM, 41, St. Cloud, MN (formerly KXLI)

Watonwan

KEYC-TV, 12, Mankato, MN

WCCO-TV, 4, Minneapolis, MN

KSTP-TV, 5, St. Paul, MN

KARE, 11, Minneapolis, MN (formerly WTCN)

+WFTC, 29, Minneapolis, MN (formerly KITN)

KAAL, 6, Austin, MN (formerly KAUS)

Wilkin

KXJB-TV, 4, Valley City, ND

WDAY-TV, 6, Fargo, ND

KVLY-TV, 11, Fargo, ND (formerly KTHI)

Winona

WKBT, 8, La Crosse, WI

+WLAX, 25, La Crosse, WI

KAAL, 6, Austin, MN (formerly KAUS)

KTTC, 10, Rochester, MN (formerly KROC)

Wright

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

+KPXM, 41, St. Cloud, MN (formerly KXLI)

Yellow Medicine

WCCO-TV, 4, Minneapolis, MN

KMSP-TV, 9, Minneapolis, MN

KARE, 11, Minneapolis, MN (formerly WTCN)

KCCO-TV, 7, Alexandria, MN (formerly KCMT)

KELO-TV, 11, Sioux Falls, SD

Byron—#KSTP-TV,¹⁹ KMSP-TV, WCCO-TV, KARE

¹⁹ Affected communities are Byron, Eyota, Rochester and Stewartville, MN located in Olmsted County, MN.

Cascade—KSTP-TV, KMSP-TV, WCCO-TV

Eyota—#KSTP-TV, KMSP-TV, WCCO-TV, KARE

Haverhill—KSTP-TV, KMSP-TV, WCCO-TV

Kasson—KSTP-TV, KMSP-TV, WCCO-TV, KARE

Marion—KSTP-TV, KMSP-TV, WCCO-TV

Oronoco—KSTP-TV, KMSP-TV, WCCO-TV

Rochester—#KSTP-TV, KMSP-TV, WCCO-TV

Rochester Township—KSTP-TV, KMSP-TV, WCCO-TV

Stewartville—#KSTP-TV, KMSP-TV, WCCO-TV

MISSISSIPPI

Adams

KNOE-TV, 8, Monroe, LA

KALB-TV, 5, Alexandria, LA

WLBT-TV, 3, Jackson, MS

WJTV, 12, Jackson, MS

Alcorn

WREG-TV, 3, Memphis, TN (formerly WREC)

WMC-TV, 5, Memphis, TN

WHBQ-TV, 13, Memphis, TN

+WPTY-TV, 24, Memphis, TN

Amite

WBRZ, 2, Baton Rouge, LA

WAFB, 9, Baton Rouge, LA

WLBT-TV, 3, Jackson, MS

Attala

WLBT-TV, 3, Jackson, MS

WJTV, 12, Jackson, MS

WABG-TV, 6, Greenwood, MS

Benton

WREG-TV, 3, Memphis, TN (formerly WREC)

WMC-TV, 5, Memphis, TN

WHBQ-TV, 13, Memphis, TN

Bolivar

WABG-TV, 6, Greenwood, MS

WLBT-TV, 3, Jackson, MS

WREG-TV, 3, Memphis, TN (formerly WREC)

WMC-TV, 5, Memphis, TN

Calhoun

WREG-TV, 3, Memphis, TN (formerly WREC)

WMC-TV, 5, Memphis, TN

WCBI-TV, 4, Columbus, MS

WABG-TV, 6, Greenwood, MS

+WTVA, 9, Tupelo, MS

Carroll

WABG-TV, 6, Greenwood, MS

WLBT-TV, 3, Jackson, MS

WJTV, 12, Jackson, MS

+WTVA, 9, Tupelo, MS

Chickasaw

WCBI-TV, 4, Columbus, MS

WMC-TV, 5, Memphis, TN

WTVA, 9, Tupelo, MS (formerly WTWV)

Choctaw

WCBI-TV, 4, Columbus, MS

WABG-TV, 6, Greenwood, MS

WLBT-TV, 3, Jackson, MS

WJTV, 12, Jackson, MS

Claiborne

WLBT-TV, 3, Jackson, MS

WJTV, 12, Jackson, MS

Clarke

WTOK-TV, 11, Meridian, MS

WDAM-TV, 7, Laurel, MS

Clay

WCBI-TV, 4, Columbus, MS

+WTVA, 9, Tupelo, MS

Coahoma

WREG-TV, 3, Memphis, TN (formerly WREC)

WMC-TV, 5, Memphis, TN

WHBQ-TV, 13, Memphis, TN

Copiah

WLBT-TV, 3, Jackson, MS

WJTV, 12, Jackson, MS

WAPT, 16, Jackson, MS

+WDBD, 40, Jackson, MS

Covington

WDAM-TV, 7, Laurel, MS

+WHLT, 22, Hattiesburg, MS

WLOX-TV, 13, Biloxi, MS

+WXXV-TV, 25, Gulfport, MS

WLBT-TV, 3, Jackson, MS

WJTV, 12, Jackson, MS

De Soto

WREG-TV, 3, Memphis, TN (formerly WREC)

WMC-TV, 5, Memphis, TN

WHBQ-TV, 13, Memphis, TN

+WLMT, 30, Memphis, TN

Forrest

WDAM-TV, 7, Laurel, MS

+WHLT, 22, Hattiesburg, MS

WLOX-TV, 13, Biloxi, MS

+WXXV-TV, 25, Gulfport, MS

Franklin

WLBT-TV, 3, Jackson, MS

WJTV, 12, Jackson, MS

WBRZ, 2, Baton Rouge, LA

George

WEAR-TV, 3, Pensacola, FL

WKRG-TV, 5, Mobile, AL

WALA-TV, 10, Mobile, AL

+WPMI, 15, Mobile, AL

WLOX-TV, 13, Biloxi, MS

+WXXV-TV, 25, Gulfport, MS

Greene

WEAR-TV, 3, Pensacola, FL

WKRG-TV, 5, Mobile, AL

WALA-TV, 10, Mobile, AL

WLOX-TV, 13, Biloxi, MS

WDAM-TV, 7, Laurel, MS

Grenada

WABG-TV, 6, Greenwood, MS

WREG-TV, 3, Memphis, TN (formerly WREC)

WMC-TV, 5, Memphis, TN

+WTVA, 9, Tupelo, MS

Hancock

WWL-TV, 4, New Orleans, LA

WDSU, 6, New Orleans, LA

WVUE, 8, New Orleans, LA

+WGNO, 26, New Orleans, LA

+WNOL-TV, 38, New Orleans, LA

WLOX-TV, 13, Biloxi, MS

+WXXV-TV, 25, Gulfport, MS

Harrison

WLOX-TV, 13, Biloxi, MS

+WXXV-TV, 25, Gulfport, MS

WKRG-TV, 5, Mobile, AL

WWL-TV, 4, New Orleans, LA

WDSU, 6, New Orleans, LA

WVUE, 8, New Orleans, LA

+WGNO, 26, New Orleans, LA

+WNOL-TV, 38, New Orleans, LA

Hinds

WLBT-TV, 3, Jackson, MS

WJTV, 12, Jackson, MS

WAPT, 16, Jackson, MS

+WDBD, 40, Jackson, MS

Holmes

WLBT-TV, 3, Jackson, MS

WJTV, 12, Jackson, MS

+WDBD, 40, Jackson, MS

WABG-TV, 6, Greenwood, MS

Humphreys

WLBT-TV, 3, Jackson, MS

WJTV, 12, Jackson, MS

+WDBD, 40, Jackson, MS

WABG-TV, 6, Greenwood, MS

+WXVT, 15, Greenville, MS

Issaquena

WLBT-TV, 3, Jackson, MS

WJTV, 12, Jackson, MS

WABG-TV, 6, Greenwood, MS

KNOE-TV, 8, Monroe, LA

Itawamba

WTVA, 9, Tupelo, MS (formerly WTWV)

+WLOV-TV, 27, Tupelo, MS

WCBI-TV, 4, Columbus, MS

Jackson

WEAR-TV, 3, Pensacola, FL

WKRG-TV, 5, Mobile, AL

WALA-TV, 10, Mobile, AL

+WPMI, 15, Mobile, AL

WLOX-TV, 13, Biloxi, MS

+WXXV-TV, 25, Gulfport, MS

Jasper

WDAM-TV, 7, Laurel, MS

+WHLT, 22, Hattiesburg, MS

WLBT-TV, 3, Jackson, MS

WJTV, 12, Jackson, MS

WTOK-TV, 11, Meridian, MS

Jefferson

WLBT-TV, 3, Jackson, MS

WJTV, 12, Jackson, MS

KNOE-TV, 8, Monroe, LA

Jefferson Davis

WLBT-TV, 3, Jackson, MS

WJTV, 12, Jackson, MS

WDAM-TV, 7, Laurel, MS

Jones

WDAM-TV, 7, Laurel, MS

+WHLT, 22, Hattiesburg, MS

WLOX-TV, 13, Biloxi, MS

+WXXV-TV, 25, Gulfport, MS

WTOK-TV, 11, Meridian, MS

Kemper

WTOK-TV, 11, Meridian, MS

Lafayette

WREG-TV, 3, Memphis, TN (formerly WREC)

WMC-TV, 5, Memphis, TN

WHBQ-TV, 13, Memphis, TN

Lamar

WDAM-TV, 7, Laurel, MS

+WHLT, 22, Hattiesburg, MS

WLOX-TV, 13, Biloxi, MS

+WXXV-TV, 25, Gulfport, MS

Lauderdale

WTOK-TV, 11, Meridian, MS

Lawrence

WLBT-TV, 3, Jackson, MS

WJTV, 12, Jackson, MS

WAPT, 16, Jackson, MS

Leake

WLBT-TV, 3, Jackson, MS

WJTV, 12, Jackson, MS

+WDBD, 40, Jackson, MS

Lee

WTVA, 9, Tupelo, MS (formerly WTWV)

+WLOV-TV, 27, Tupelo, MS

WCBI-TV, 4, Columbus, MS

WREG-TV, 3, Memphis, TN (formerly WREC)

WMC-TV, 5, Memphis, TN

WHBQ-TV, 13, Memphis, TN

Leflore

WABG-TV, 6, Greenwood, MS

+WXVT, 15, Greenville, MS

WLBT-TV, 3, Jackson, MS

WJTV, 12, Jackson, MS

+WTVA, 9, Tupelo, MS

Lincoln

WLBT-TV, 3, Jackson, MS

WJTV, 12, Jackson, MS

+WDBD, 40, Jackson, MS

Lowndes

WCBI-TV, 4, Columbus, MS

+WTVA, 9, Tupelo, MS

+WLOV-TV, 27, Tupelo, MS

Madison

WLBT-TV, 3, Jackson, MS

WJTV, 12, Jackson, MS

WAPT, 16, Jackson, MS

+WDBD, 40, Jackson, MS

Marion

WLBT-TV, 3, Jackson, MS

WJTV, 12, Jackson, MS

WLOX-TV, 13, Biloxi, MS

+WXXV-TV, 25, Gulfport, MS

WDAM-TV, 7, Laurel, MS

Marshall

WREG-TV, 3, Memphis, TN (formerly WREC)

WMC-TV, 5, Memphis, TN

WHBQ-TV, 13, Memphis, TN

Monroe

WCBI-TV, 4, Columbus, MS

WTVA, 9, Tupelo, MS (formerly WTWV)

+WLOV-TV, 27, Tupelo, MS

Montgomery

WABG-TV, 6, Greenwood, MS

WCBI-TV, 4, Columbus, MS

+WTVA, 9, Tupelo, MS

WLBT-TV, 3, Jackson, MS

WJTV, 12, Jackson, MS

WMC-TV, 5, Memphis, TN

Neshoba

WTOK-TV, 11, Meridian, MS

WLBT-TV, 3, Jackson, MS

Newton

WTOK-TV, 11, Meridian, MS

WLBT-TV, 3, Jackson, MS

WJTV, 12, Jackson, MS

Noxubee

WTOK-TV, 11, Meridian, MS

WCBI-TV, 4, Columbus, MS

+WLOV-TV, 27, Tupelo, MS

Oktibbeha

WCBI-TV, 4, Columbus, MS

+WTVA, 9, Tupelo, MS

+WLOV-TV, 27, Tupelo, MS

+WDBB, 17, Bessemer, AL

Panola

WREG-TV, 3, Memphis, TN (formerly WREC)

WMC-TV, 5, Memphis, TN

WHBQ-TV, 13, Memphis, TN

+WLMT, 30, Memphis, TN

Pearl River

WWL-TV, 4, New Orleans, LA

WDSU, 6, New Orleans, LA

WVUE, 8, New Orleans, LA

+WGNO, 26, New Orleans, LA

+WNOL-TV, 38, New Orleans, LA

WLOX-TV, 13, Biloxi, MS

+WXXV-TV, 25, Gulfport, MS

Perry

WDAM-TV, 7, Laurel, MS

+WHLT, 22, Hattiesburg, MS

WLOX-TV, 13, Biloxi, MS

WKRG-TV, 5, Pensacola, FL

Pike

WLBT-TV, 3, Jackson, MS

WJTV, 12, Jackson, MS

WBRZ, 2, Baton Rouge, LA

WAFB, 9, Baton Rouge, LA

WWL-TV, 4, New Orleans, LA

Pontotoc

WREG-TV, 3, Memphis, TN (formerly WREC)

WMC-TV, 5, Memphis, TN

WHBQ-TV, 13, Memphis, TN

WTVA, 9, Tupelo, MS (formerly WTWV)

+WLOV-TV, 27, Tupelo, MS

Prentiss

WREG-TV, 3, Memphis, TN (formerly WREC)

WMC-TV, 5, Memphis, TN

WHBQ-TV, 13, Memphis, TN

WTVA, 9, Tupelo, MS (formerly WTWV)

Quitman

WREG-TV, 3, Memphis, TN (formerly WREC)

WMC-TV, 5, Memphis, TN

WHBQ-TV, 13, Memphis, TN

+WPTY, 24, Memphis, TN

Rankin

WLBT-TV, 3, Jackson, MS

WJTV, 12, Jackson, MS

WAPT, 16, Jackson, MS

+WDBD, 40, Jackson, MS

Scott

WLBT-TV, 3, Jackson, MS

WJTV, 12, Jackson, MS

+WDBD, 40, Jackson, MS

WTOK-TV, 11, Meridian, MS

Sharkey

WLBT-TV, 3, Jackson, MS

WJTV, 12, Jackson, MS

WABG-TV, 6, Greenwood, MS

Simpson

WLBT-TV, 3, Jackson, MS

WJTV, 12, Jackson, MS

WAPT, 16, Jackson, MS

+WDBD, 40, Jackson, MS

Smith

WLBT-TV, 3, Jackson, MS

WJTV, 12, Jackson, MS

WDAM-TV, 7, Laurel, MS

Stone

WLOX-TV, 13, Biloxi, MS

+WXXV-TV, 25, Gulfport, MS

WDAM-TV, 7, Laurel, MS

WKRG-TV, 5, Pensacola, FL

WWL-TV, 4, New Orleans, LA

WDSU, 6, New Orleans, LA

Sunflower

WABG-TV, 6, Greenwood, MS

+WXVT, 15, Greenville, MS

WLBT-TV, 3, Jackson, MS

WJTV, 12, Jackson, MS

Tallahatchie

WABG-TV, 6, Greenwood, MS

+WXVT, 15, Greenville, MS

WREG-TV, 3, Memphis, TN (formerly WREC)

WMC-TV, 5, Memphis, TN

WHBQ-TV, 13, Memphis, TN

Tate

WREG-TV, 3, Memphis, TN (formerly WREC)

WMC-TV, 5, Memphis, TN

WHBQ-TV, 13, Memphis, TN

Tippah

WREG-TV, 3, Memphis, TN (formerly WREC)

WMC-TV, 5, Memphis, TN

WHBQ-TV, 13, Memphis, TN

Tishomingo

WTVA, 9, Tupelo, MS (formerly WTWV)

WREG-TV, 3, Memphis, TN (formerly WREC)

WMC-TV, 5, Memphis, TN

WHBQ-TV, 13, Memphis, TN

Tunica

WREG-TV, 3, Memphis, TN (formerly WREC)

WMC-TV, 5, Memphis, TN

WHBQ-TV, 13, Memphis, TN

Union

WREG-TV, 3, Memphis, TN (formerly WREC)

WMC-TV, 5, Memphis,TN

WHBQ-TV, 13, Memphis, TN

+WTVA, 9, Tupelo, MS

+WLOV-TV, 27, Tupelo, MS

Walthall

WLBT-TV, 3, Jackson, MS

WJTV, 12, Jackson, MS

WLOX-TV, 13, Biloxi, MS

WDAM-TV, 7, Laurel, MS

WWL-TV, 4, New Orleans, LA

WDSU, 6, New Orleans, LA

Warren

WLBT-TV, 3, Jackson, MS

WJTV, 12, Jackson, MS

+WDBD, 40, Jackson, MS

KNOE-TV, 8, Monroe, LA

Washington

WLBT-TV, 3, Jackson, MS

WJTV, 12, Jackson, MS

KTVE, 10, Monroe, LA

WABG-TV, 6, Greenwood, MS

+WXVT, 15, Greenville, MS

Wayne

WDAM-TV, 7, Laurel, MS

+WHLT, 22, Hattiesburg, MS

WLOX-TV, 13, Biloxi, MS

+WXXV-TV, 25, Gulfport, MS

WTOK-TV, 11, Meridian, MS

WEAR-TV, 3, Mobile, AL

WKRG-TV, 5, Pensacola, FL

Webster

WCBI-TV, 4, Columbus, MS

WABG-TV, 6, Greenwood, MS

WLBT-TV, 3, Jackson, MS

+WTVA, 9, Tupelo, MS

Wilkinson

WBRZ, 2, Baton Rouge, LA

WAFB, 9, Baton Rouge, LA

+WGMB, 44, Baton Rouge, LA

Winston

WTOK-TV, 11, Meridian, MS

WCBI-TV, 4, Columbus, MS

+WTVA, 9, Tupelo, MS

WLBT-TV, 3, Jackson, MS

Yalobusha

WREG-TV, 3, Memphis, TN (formerly WREC)

WMC-TV, 5, Memphis, TN

WHBQ-TV, 13, Memphis, TN

WABG-TV, 6, Greenwood, MS

+WTVA, 9, Tupelo, MS

Yazoo

WLBT-TV, 3, Jackson, MS

WJTV, 12, Jackson, MS

+WDBD, 40, Jackson, MS

WABG-TV, 6, Greenwood, MS

MISSOURI

Adair

KTVO, 3, Ottumwa, IA

+KYOU-TV, 15, Ottumwa, IA

KHQA-TV, 7, Hannibal, MO

WGEM-TV, 10, Quincy, IL

Andrew

WDAF-TV, 4, Kansas City, MO

KCTV, 5, Kansas City, MO (formerly KCMO)

KMBC-TV, 9, Kansas City, MO

+KCWE, 29, Kansas City, MO

KQTV, 2, St. Joseph, MO

Atchison

KMTV, 3, Omaha, NE

WOWT, 6, Omaha, NE (formerly WOW)

KETV, 7, Omaha, NE

+KPTM, 42, Omaha, NE

KQTV, 2, St. Joseph, MO

Audrain

KOMU-TV, 8, Columbia, MO

KRCG, 13, Jefferson City, MO

KHQA-TV, 7, Hannibal, MO

WGEM-TV, 10, Quincy, IL

Barry

KYTV, 3, Springfield, MO

KOLR, 10, Springfield, MO (formerly KTTS)

+KSPR, 33, Springfield, MO

KOAM-TV, 7, Pittsburg, KS

KODE-TV, 12, Joplin, MO

Barton

KOAM-TV, 7, Pittsburg, KS

KODE-TV, 12, Joplin, MO

KSNF, 16, Joplin, MO (formerly KUHI)

Bates

WDAF-TV, 4, Kansas City, MO

KCTV, 5, Kansas City, MO (formerly KCMO)

KMBC-TV, 9, Kansas City, MO

Benton

KMOS-TV, 6, Sedalia, MO

KCTV, 5, Kansas City, MO (formerly KCMO)

KMBC-TV, 9, Kansas City, MO

KYTV, 3, Springfield, MO

+KOLR, 10, Springfield, MO

Bollinger

WPSD-TV, 6, Paducah, KY

KFVS-TV, 12, Cape Girardeau, MO

+KBSI, 23, Cape Girardeau, MO

Boone

KOMU-TV, 8, Columbia, MO

KRCG, 13, Jefferson City, MO

Buchanan

KQTV, 2, St. Joseph, MO

WDAF-TV, 4, Kansas City, MO

KCTV, 5, Kansas City, MO (formerly KCMO)

KMBC-TV, 9, Kansas City, MO

+KCWE, 29, Kansas City, MO

+KSMO-TV, 62, Kansas City, MO (formerly KZKC)

Butler

WSIL-TV, 3, Harrisburg, IL

WPSD-TV, 6, Paducah, KY

KFVS-TV, 12, Cape Girardeau, MO

+KBSI, 23, Cape Girardeau, MO

+KAIT-TV, 8, Jonesboro, AR

Caldwell

WDAF-TV, 4, Kansas City, MO

KCTV, 5, Kansas City, MO (formerly KCMO)

KMBC-TV, 9, Kansas City, MO

+KSMO-TV, 62, Kansas City, MO

KQTV, 2, St. Joseph, MO

Callaway

KOMU-TV, 8, Columbia, MO

KRCG, 13, Jefferson City, MO

Camden

KYTV, 3, Springfield, MO

KOLR, 10, Springfield, MO (formerly KTTS)

KDEB-TV, 27, Springfield, MO (formerly KMTC)

KOMU-TV, 8, Columbia, MO

KRCG, 13, Jefferson City, MO

Cape Girardeau

WSIL-TV, 3, Harrisburg, IL

WPSD-TV, 6, Paducah, KY

KFVS-TV, 12, Cape Girardeau, MO

+KBSI, 23, Cape Girardeau, MO

Carroll

WDAF-TV, 4, Kansas City, MO

KCTV, 5, Kansas City, MO (formerly KCMO)

KMBC-TV, 9, Kansas City, MO

+KSMO-TV, 62, Kansas City, MO (formerly KZKC)

Carter

WPSD-TV, 6, Paducah, KY

KFVS-TV, 12, Cape Girardeau, MO

KAIT-TV, 8, Jonesboro, AR

Cass

WDAF-TV, 4, Kansas City, MO

KCTV, 5, Kansas City, MO (formerly KCMO)

KMBC-TV, 9, Kansas City, MO

KCIT-TV, 50, Kansas City, MO

+KSMO-TV, 62, Kansas City, MO (formerly KZKC)

Cedar

KYTV, 3, Springfield, MO

KOLR, 10, Springfield, MO (formerly KTTS)

KOAM-TV, 7, Pittsburg, KS

KODE-TV, 12, Joplin, MO

Chariton

KOMU-TV, 8, Columbia, MO

KRCG, 13, Jefferson City, MO

WDAF-TV, 4 Kansas City, MO

KCTV, 5, Kansas City, MO (formerly KCMO)

KMBC-TV, 9, Kansas City, MO

Christian

KYTV, 3, Springfield, MO

KOLR, 10, Springfield, MO (formerly KTTS)

KDEB-TV, 27, Springfield, MO (formerly KMTC)

+KSPR, 33, Springfield, MO

Clark

KTVO, 3, Ottumwa, IA

+KYOU, 15, Ottumwa, IA

KHQA-TV, 7, Hannibal, MO

WGEM-TV, 10, Quincy, IL

Clay

WDAF-TV, 4, Kansas City, MO

KCTV, 5, Kansas City, MO (formerly KCMO)

KMBC-TV, 9, Kansas City, MO

KSHB-TV, 41, Kansas City, MO (formerly KBMA)

KCIT-TV, 50, Kansas City, MO

+KSMO-TV, 62, Kansas City, MO (formerly KZKC)

Clinton

WDAF-TV, 4, Kansas City, MO

KCTV, 5, Kansas City, MO (formerly KCMO)

KMBC-TV, 9, Kansas City, MO

KCIT-TV, 50, Kansas City, MO

+KSMO-TV, 62, Kansas City, MO (formerly KZKC)

KQTV, 2, St. Joseph, MO

Cole

KOMU-TV, 8, Columbia, MO

KRCG, 13, Jefferson City, MO

Cooper

KOMU-TV, 8, Columbia, MO

KRCG, 13, Jefferson City, MO

Crawford

KTVI, 2, St. Louis, MO

KMOV, 4, St. Louis, MO (formerly KMOX)

KSDK, 5, St. Louis, MO (formerly KSD)

KPLR-TV, 11, St. Louis, MO

KRCG, 13, Jefferson City, MO

Dade

KYTV, 3, Springfield, MO

KOLR, 10, Springfield, MO (formerly KTTS)

KOAM-TV, 7, Pittsburg, KS

KODE-TV, 12, Joplin, MO

Dallas

KYTV, 3, Springfield, MO

KOLR, 10, Springfield, MO (formerly KTTS)

KDEB-TV, 27, Springfield, MO (formerly KMTC)

Daviess

WDAF-TV, 4, Kansas City, MO

KCTV, 5, Kansas City, MO (formerly KCMO)

KMBC-TV, 9, Kansas City, MO

KQTV, 2, St. Joseph, MO

De Kalb

WDAF-TV, 4, Kansas City, MO

KCTV, 5, Kansas City, MO (formerly KCMO)

KMBC-TV, 9, Kansas City, MO

+KSMO-TV, 62, Kansas City, MO

KQTV, 2, St. Joseph, MO

Dent

KTVI, 2, St. Louis, MO

KMOV, 4, St. Louis, MO (formerly KMOX)

KSDK, 5, St. Louis, MO (formerly KSD)

KPLR-TV, 11, St. Louis, MO

KDNL-TV, 30, St. Louis, MO

KRCG, 13, Jefferson City, MO

KYTV, 3, Springfield, MO

+KSPR, 33, Springfield, MO

Douglas

KYTV, 3, Springfield, MO

KOLR, 10, Springfield, MO (formerly KTTS)

KDEB-TV, 27, Springfield, MO (formerly KMTC)

Dunklin

WREG-TV, 3, Memphis, TN (formerly WREC)

WMC-TV, 5, Memphis, TN

WHBQ-TV, 13, Memphis, TN

KAIT-TV, 8, Jonesboro, AR

WPSD-TV, 6, Paducah, KY

KFVS-TV, 12, Cape Girardeau, MO

+KBSI, 23, Cape Girardeau, MO

Franklin

KTVI, 2, St. Louis, MO

KMOV, 4, St. Louis, MO (formerly KMOX)

KSDK, 5, St. Louis, MO (formerly KSD)

KPLR-TV, 11, St. Louis, MO

KDNL-TV, 30, St. Louis, MO

Gasconade

KTVI, 2, St. Louis, MO

KMOV, 4, St. Louis, MO (formerly KMOX)

KSDK, 5, St. Louis, MO (formerly KSD)

KPLR-TV, 11, St. Louis, MO

KRCG, 13, Jefferson City, MO

Gentry

KQTV, 2, St. Joseph, MO

WDAF-TV, 4, Kansas City, MO

KCTV, 5, Kansas City, MO (formerly KCMO)

KMBC-TV, 9, Kansas City, MO

Greene

KYTV, 3, Springfield, MO

KOLR, 10, Springfield, MO (formerly KTTS)

KDEB-TV, 27, Springfield, MO (formerly KMTC)

+KSPR, 33, Springfield, MO

Grundy

WDAF-TV, 4, Kansas City, MO

KCTV, 5, Kansas City, MO (formerly KCMO)

KMBC-TV, 9, Kansas City, MO

KTVO, 3, Ottumwa, IA

KQTV, 2, St. Joseph, MO

Harrison

KQTV, 2, St. Joseph, MO

WDAF-TV, 4, Kansas City, MO

KCTV, 5, Kansas City, MO (formerly KCMO)

Henry

WDAF-TV, 4, Kansas City, MO

KCTV, 5, Kansas City, MO (formerly KCMO)

KMBC-TV, 9, Kansas City, MO

+KSMO-TV, 62, Kansas City, MO

Hickory

KYTV, 3, Springfield, MO

KOLR, 10, Springfield, MO (formerly KTTS)

KDEB-TV, 27, Springfield, MO (formerly KMTC)

Holt

KQTV, 2, St. Joseph, MO

WDAF-TV, 4, Kansas City, MO

KCTV, 5, Kansas City, MO (formerly KCMO)

KMBC-TV, 9, Kansas City, MO

Howard

KOMU-TV, 8, Columbia, MO

KRCG, 13, Jefferson City, MO

Howell

KYTV, 3, Springfield, MO

+KOLR, 10, Springfield, MO

KDEB-TV, 27, Springfield, MO (formerly KMTC)

+KSPR, 33, Springfield, MO

Iron

KTVI, 2, St. Louis, MO

KMOV, 4, St. Louis, MO (formerly KMOX)

KSDK, 5, St. Louis, MO (formerly KSD)

KPLR-TV, 11, St. Louis, MO

KFVS-TV, 12, Cape Girardeau, MO

Jackson

WDAF-TV, 4, Kansas City, MO

KCTV, 5, Kansas City, MO (formerly KCMO)

KMBC-TV, 9, Kansas City, MO

KSHB-TV, 41, Kansas City, MO (formerly KBMA)

KCIT-TV, 50, Kansas City, MO

+KSMO-TV, 62, Kansas City, MO (formerly KZKC)

Jasper

KOAM-TV, 7, Pittsburg, KS

KODE-TV, 12, Joplin, MO

KSNF, 16, Joplin, MO (formerly KUHI)

Jefferson

KTVI, 2, St. Louis, MO

KMOV, 4, St. Louis, MO (formerly KMOX)

KSDK, 5, St. Louis, MO (formerly KSD)

KPLR-TV, 11, St. Louis, MO

KDNL-TV, 30, St. Louis, MO

Johnson

WDAF-TV, 4, Kansas City, MO

KCTV, 5, Kansas City, MO (formerly KCMO)

KMBC-TV, 9, Kansas City, MO

+KSMO-TV, 62, Kansas City, MO (formerly KZKC)

Knox

KHQA-TV, 7, Hannibal, MO

WGEM-TV, 10, Quincy, IL

KTVO, 3, Ottumwa, IA

Laclede

KYTV, 3, Springfield, MO

KOLR, 10, Springfield, MO (formerly KTTS)

KDEB-TV, 27, Springfield, MO (formerly KMTC)

+KSPR, 33, Springfield, MO

Lafayette

WDAF-TV, 4, Kansas City, MO

KCTV, 5, Kansas City, MO (formerly KCMO)

KMBC-TV, 9, Kansas City, MO

KCIT-TV, 50, Kansas City, MO

+KSMO-TV, 62, Kansas City, MO (formerly KZKC)

Lawrence

KYTV, 3, Springfield, MO

KOLR, 10, Springfield, MO (formerly KTTS)

+KSPR, 33, Springfield, MO

KOAM-TV, 7, Pittsburg, KS

KODE-TV, 12, Joplin, MO

Lewis

KHQA-TV, 7, Hannibal, MO

WGEM-TV, 10, Quincy, IL

KTVO, 3, Ottumwa, IA

Lincoln

KTVI, 2, St. Louis, MO

KMOV, 4, St. Louis, MO (formerly KMOX)

KSDK, 5, St. Louis, MO (formerly KSD)

KPLR-TV, 11, St. Louis, MO

Linn

WDAF-TV, 4, Kansas City, MO

KCTV, 5, Kansas City, MO (formerly KCMO)

KMBC-TV, 9, Kansas City, MO

KTVO, 3, Ottumwa, IA

Livingston

WDAF-TV, 4, Kansas City, MO

KCTV, 5, Kansas City, MO (formerly KCMO)

KMBC-TV, 9, Kansas City, MO

KQTV, 2, St. Joseph, MO

McDonald

KOAM-TV, 7, Pittsburg, KS

KODE-TV, 12, Joplin, MO

KSNF, 16, Joplin, MO (formerly KUHI)

Macon

KHQA-TV, 7, Hannibal, MO

WGEM-TV, 10, Quincy, IL

KOMU-TV, 8, Columbia, MO

KTVO, 3, Ottumwa, IA

Madison

KTVI, 2, St. Louis, MO

KMOV, 4, St. Louis, MO (formerly KMOX)

KSDK, 5, St. Louis, MO (formerly KSD)

KPLR-TV, 11, St. Louis, MO

KFVS-TV, 12, Cape Girardeau, MO

Maries

KOMU-TV, 8, Columbia, MO

KRCG, 13, Jefferson City, MO

KTVI, 2, St. Louis, MO

KMOV, 4, St. Louis, MO (formerly KMOX)

KSDK, 5, St. Louis, MO (formerly KSD)

Marion

KHQA-TV, 7, Hannibal, MO

WGEM-TV, 10, Quincy, IL

WJJY-TV, 14, Jacksonville, IL

+KTVO, 3, Ottumwa, IA

Mercer

KTVO, 3, Ottumwa, IA

KCCI, 8, Des Moines, IA (formerly KRNT)

WDAF-TV, 4, Kansas City, MO

KCTV, 5, Kansas City, MO (formerly KCMO)

KQTV, 2, St. Joseph, MO

Miller

KOMU-TV, 8, Columbia, MO

KRCG, 13, Jefferson City, MO

Mississippi

WSIL-TV, 3, Harrisburg, IL

WPSD-TV, 6, Paducah, KY

KFVS-TV, 12, Cape Girardeau, MO

+KBSI, 23, Cape Girardeau, MO

Moniteau

KOMU-TV, 8, Columbia, MO

KRCG, 13, Jefferson City, MO

Monroe

KHQA-TV, 7, Hannibal, MO

WGEM-TV, 10, Quincy, IL

KOMU-TV, 8, Columbia, MO

KRCG, 13, Jefferson City, MO

Montgomery

KOMU-TV, 8, Columbia, MO

KRCG, 13, Jefferson City, MO

KTVI, 2, St. Louis, MO

KMOV, 4, St. Louis, MO (formerly KMOX)

KSDK, 5, St. Louis, MO (formerly KSD)

KPLR-TV, 11, St. Louis, MO

KDNL-TV, 30, St. Louis, MO

Morgan

KOMU-TV, 8, Columbia, MO

KRCG, 13, Jefferson City, MO

KYTV, 3, Springfield, MO

New Madrid

WPSD-TV, 6, Paducah, KY

KFVS-TV, 12, Cape Girardeau, MO

+KBSI, 23, Cape Girardeau, MO

+KAIT-TV, 8, Jonesboro, AR

Newton

KOAM-TV, 7, Pittsburg, KS

KODE-TV, 12, Joplin, MO

KSNF, 16, Joplin, MO (formerly KUHI)

Nodaway

KQTV, 2, St. Joseph, MO

WDAF-TV, 4, Kansas City, MO

KCTV, 5, Kansas City, MO (formerly KCMO)

KMTV, 3, Omaha, NE

WOWT, 6, Omaha, NE (formerly WOW)

+KPTM, 42 Omaha, NE

Oregon

KYTV, 3, Springfield, MO

+KOLR, 10, Springfield, MO

KAIT-TV, 8, Jonesboro, AR

Osage

KOMU-TV, 8, Columbia, MO

KRCG, 13, Jefferson City, MO

KTVI, 2, St. Louis, MO

Ozark

KYTV, 3, Springfield, MO

KOLR, 10, Springfield, MO (formerly KTTS)

Pemiscot

WREG-TV, 3, Memphis, TN (formerly WREC)

WMC-TV, 5, Memphis, TN

WHBQ-TV, 13, Memphis, TN

+WPTY-TV, 24, Memphis, TN

KFVS-TV, 12, Cape Girardeau, MO

+KBSI, 23, Cape Girardeau, MO

+KAIT-TV, 8, Jonesboro, AR

Perry

KTVI, 2, St. Louis, MO

KMOV, 4, St. Louis, MO (formerly KMOX)

KSDK, 5, St. Louis, MO (formerly KSD)

KPLR, 11, St. Louis, MO

KFVS-TV, 12, Cape Girardeau, MO

+KBSI, 23, Cape Girardeau, MO

Pettis

KMOS-TV, 6, Sedalia, MO

KOMU-TV, 8, Columbia, MO

WDAF-TV, 4, Kansas City, MO

KCTV, 5, Kansas City, MO (formerly KCMO)

KMBC-TV, 9, Kansas City, MO

Phelps

KOMU-TV, 8, Columbia, MO

KRCG, 13, Jefferson City, MO

KTVI, 2, St. Louis, MO

+KOLR, 10, Springfield, MO

Pike

KHQA-TV, 7, Hannibal, MO

WGEM-TV, 10, Quincy, IL

KTVI, 2, St. Louis, MO

KMOV, 4, St. Louis, MO (formerly KMOX)

KSDK, 5, St. Louis, MO (formerly KSD)

KPLR-TV, 11, St. Louis, MO

Platte

WDAF-TV, 4, Kansas City, MO

KCTV, 5, Kansas City, MO (formerly KCMO)

KMBC-TV, 9, Kansas City, MO

KSHB-TV, 41, Kansas City, MO (formerly KBMA)

KCIT-TV, 50, Kansas City, MO

+KSMO-TV, 62, Kansas City, MO (formerly KZKC)

KQTV, 2, St. Joseph, MO

Polk

KYTV, 3, Springfield, MO

KOLR, 10, Springfield, MO (formerly KTTS)

KDEB-TV, 27, Springfield, MO (formerly KMTC)

Pulaski

KYTV, 3, Springfield, MO

+KOLR, 10, Springfield, MO

+KSPR-TV, 33, Springfield, MO

KOMU-TV, 8, Columbia, MO

KRCG, 13, Jefferson City, MO

Putnam

KTVO, 3, Ottumwa, IA

Ralls

KHQA-TV, 7, Hannibal, MO

WGEM-TV, 10, Quincy, IL

WJJY-TV, 14, Jacksonville, IL

Randolph

KOMU-TV, 8, Columbia, MO

KRCG, 13, Jefferson City, MO

Ray

WDAF-TV, 4, Kansas City, MO

KCTV, 5, Kansas City, MO (formerly KCMO)

KMBC-TV, 9, Kansas City, MO

KCIT-TV, 50, Kansas City, MO

Reynolds

KFVS-TV, 12, Cape Girardeau, MO

KTVI, 2, St. Louis, MO

KMOV, 4, St. Louis, MO (formerly KMOX)

KSDK, 5, St. Louis, MO (formerly KSD)

Ripley

WPSD-TV, 6, Paducah, KY

KFVS-TV, 12, Cape Girardeau, MO

KAIT-TV, 8, Jonesboro, AR

St. Charles

KTVI, 2, St. Louis, MO

KMOV, 4, St. Louis, MO (formerly KMOX)

KSDK, 5, St. Louis, MO (formerly KSD)

KPLR-TV, 11, St. Louis, MO

KDNL-TV, 30, St. Louis, MO

St. Clair

WDAF-TV, 4, Kansas City, MO

KCTV, 5, Kansas City, MO (formerly KCMO)

KMBC-TV, 9, Kansas City, MO

KYTV, 3, Springfield, MO

KOLR, 10, Springfield, MO (formerly KTTS)

St. Francois

KTVI, 2, St. Louis, MO

KMOV, 4, St. Louis, MO (formerly KMOX)

KSDK, 5, St. Louis, MO (formerly KSD)

KPLR-TV, 11, St. Louis, MO

St. Louis including city of St. Louis

KTVI, 2, St. Louis, MO

KMOV, 4, St. Louis, MO (formerly KMOX)

KSDK, 5, St. Louis, MO (formerly KSD)

KPLR-TV, 11, St. Louis, MO

KDNL-TV, 30, St. Louis, MO

Ste. Genevieve

KTVI, 2, St. Louis, MO

KMOV, 4, St. Louis, MO (formerly KMOX)

KSDK, 5, St. Louis, MO (formerly KSD)

KPLR-TV, 11, St. Louis, MO

KDNL-TV, 30, St. Louis, MO

Saline

WDAF-TV, 4, Kansas City, MO

KCTV, 5, Kansas City, MO (formerly KCMO)

KMBC-TV, 9, Kansas City, MO

KMOS-TV, 6, Sedalia, MO

KOMU-TV, 8, Columbia, MO

KRCG, 13, Jefferson City, MO

Schuyler

KTVO, 3, Ottumwa, IA

+KYOU-TV, 15, Ottumwa, IA (formerly KOIA)

KHQA-TV, 7, Hannibal, MO

WGEM-TV, 10, Quincy, IL

Scotland

KHQA-TV, 7, Hannibal, MO

WGEM-TV, 10, Quincy, IL

KTVO, 3, Ottumwa, IA

Scott

WSIL-TV, 3, Harrisburg, IL

WPSD-TV, 6, Paducah, KY

KFVS-TV, 12, Cape Girardeau, MO

+KBSI, 23, Cape Girardeau, MO

Shannon

KYTV, 3, Springfield, MO

Shelby

KHQA-TV, 7, Hannibal, MO

WGEM-TV, 10, Quincy, IL

KTVO, 3, Ottumwa, IA

Stoddard

WPSD-TV, 6, Paducah, KY

KFVS-TV, 12, Cape Girardeau, MO

+KBSI, 23, Cape Girardeau, MO

Stone

KYTV, 3, Springfield, MO

KOLR, 10, Springfield, MO (formerly KTTS)

KDEB-TV, 27, Springfield, MO (formerly KMTC)

+KSPR, 33, Springfield, MO

Sullivan

KTVO, 3, Ottumwa, IA

WGEM-TV, 10, Quincy, IL

Taney

KYTV, 3, Springfield, MO

KOLR, 10, Springfield, MO (formerly KTTS)

KDEB-TV, 27, Springfield, MO (formerly KMTC)

+KSPR, 33, Springfield, MO

Texas

KYTV, 3, Springfield, MO

KOLR, 10, Springfield, MO (formerly KTTS)

KDEB-TV, 27, Springfield, MO (formerly KMTC)

Vernon

KOAM-TV, 7, Pittsburg, KS

KODE-TV, 12, Joplin, MO

KSNF, 16, Joplin, MO (formerly KUHI)

KCTV, 5, Kansas City, MO (KCTV)

+KOLR, 10, Springfield, MO

Warren

KTVI, 2, St. Louis, MO

KMOV, 4, St. Louis, MO (formerly KMOX)

KSDK, 5, St. Louis, MO (formerly KSD)

KPLR-TV, 11, St. Louis, MO

Washington

KTVI, 2, St. Louis, MO

KMOV, 4, St. Louis, MO (formerly KMOX)

KSDK, 5, St. Louis, MO (formerly KSD)

KPLR-TV, 11, St. Louis, MO

Wayne

WPSD-TV, 6, Paducah, KY

KFVS-TV, 12, Cape Girardeau, MO

+KBSI, 23, Cape Girardeau, MO

Webster

KYTV, 3, Springfield, MO

KOLR, 10, Springfield, MO (formerly KTTS)

KDEB-TV, 27, Springfield, MO (formerly KMTC)

Worth

KQTV, 2, St. Joseph, MO

WDAF-TV, 4, Kansas City, MO

KCTV, 5, Kansas City, MO (formerly KCMO)

Wright

KYTV, 3, Springfield, MO

KOLR, 10, Springfield, MO (formerly KTTS)

KDEB-TV, 27, Springfield, MO (formerly KMTC)

Agency—KSHB-TV, KSMO-TV

Country Club—KSHB-TV, KSMO-TV

St. Joseph—KSHB-TV, KSMO-TV

Savannah—KSHB-TV, KSMO-TV

Union Star—KSHB-TV, KSMO-TV

MONTANA

Beaverhead

KXLF-TV, 4, Butte, MT

KECI-TV, 13, Missoula, MT (formerly KGVO)

Big Horn

KTVQ, 2, Billings, MT (formerly KOOK)

KULR-TV, 8, Billings, MT

Blaine

KRTV, 3, Great Falls, MT

KFBB-TV, 5, Great Falls, MT

CJOC, 7, Canada (formerly CJLH)

Broadwater

KXLF-TV, 4, Butte, MT

KRTV, 3, Great Falls, MT

KFBB-TV, 5, Great Falls, MT

Carbon

KTVQ, 2, Billings, MT (formerly KOOK)

KULR-TV, 8, Billings, MT

Carter

KOTA-TV, 3, Rapid City, SD

KXGN-TV, 5, Glendive, MT

Cascade

KRTV, 3, Great Falls, MT

KFBB-TV, 5, Great Falls, MT

Chouteau

KRTV, 3, Great Falls, MT

KFBB-TV, 5, Great Falls, MT

Custer

KTVQ, 2, Billings, MT (formerly KOOK)

KULR-TV, 8, Billings, MT

KYUS-TV, 3, Miles City, MT

Daniels

KUMV-TV, 8, Williston, ND

KXMD-TV, 11, Williston, ND

CKTV, 2, Canada (formerly CKCK)

Dawson

KXGN-TV, 5, Glendive, MT

KUMV-TV, 8, Williston, ND

Deer Lodge

KXLF-TV, 4, Butte, MT

KECI-TV, 13, Missoula, MT (formerly KGVO)

Fallon

KXMA-TV, 2, Dickinson, ND (formerly KDIX)

KXGN-TV, 5, Glendive, MT

Fergus

KTVQ, 2, Billings, MT (formerly KOOK)

KULR-TV, 8, Billings, MT

KFBB-TV, 5, Great Falls, MT

Flathead

KCFW, 9, Kalispell, MT

KREM-TV, 2, Spokane, WA

#KXLY-TV, 4, Spokane, WA ²⁰

²⁰ Affected community is Kalispell, MT.

Gallatin

KXLF-TV, 4, Butte, MT

KECI-TV, 13, Missoula, MT (formerly KGVO)

Garfield

KTVQ, 2, Billings, MT (formerly KOOK)

KULR-TV, 8, Billings, MT

Glacier

KRTV, 3, Great Falls, MT

KFBB-TV, 5, Great Falls, MT

CJOC, 7, Canada (formerly CJLH)

Golden Valley

KTVQ, 2, Billings, MT (formerly KOOK)

KULR-TV, 8, Billings, MT

Granite

KXLF-TV, 4, Butte, MT

KECI-TV, 13, Missoula, MT (formerly KGVO)

Hill

KRTV, 3, Great Falls, MT

KFBB-TV, 5, Great Falls, MT

CFCN, 4, Canada

CJOC, 7, Canada (formerly CJLH)

Jefferson

KXLF-TV, 4, Butte, MT

KFBB-TV, 5, Great Falls, MT

KECI-TV, 13, Missoula, MT (formerly KGVO)

Judith Basin

KTVQ, 2, Billings, MT (formerly KOOK)

KULR-TV, 8, Billings, MT

KRTV, 3, Great Falls, MT

KFBB-TV, 5, Great Falls, MT

Lake

KECI-TV, 13, Missoula, MT (formerly KGVO)

KXLF-TV, 4, Butte, MT

KXLY-TV, 4, Spokane, WA

Lewis & Clark

KTVH, 12, Helena, MT (formerly KBLL)

KXLF-TV, 4, Butte, MT

KFBB-TV, 5, Great Falls, MT

Liberty

KRTV, 3, Great Falls, MT

KFBB-TV, 5, Great Falls, MT

CFCN, 4, Canada

CJOC, 7, Canada (formerly CJLH)

Lincoln

KREM-TV, 2, Spokane, WA

KXLY-TV, 4, Spokane, WA

KHQ-TV, 6, Spokane, WA

KCFW-TV, 9, Kalispell, MT

McCone

KUMV-TV, 8, Williston, ND

KXGN-TV, 5, Glendive, MT

Madison

KXLF-TV, 4, Butte, MT

KECI-TV, 13, Missoula, MT (formerly KGVO)

Meagher

KRTV, 3, Great Falls, MT

KFBB-TV, 5, Great Falls, MT

KXLF-TV, 4, Butte, MT

Mineral

KXLY-TV, 4, Spokane, WA

KXLF-TV, 4, Butte, MT

KECI-TV, 13, Missoula, MT (formerly KGVO)

Missoula

KECI-TV, 13, Missoula, MT (formerly KGVO)

KXLF-TV, 4, Butte, MT

Musselshell

KTVQ, 2, Billings, MT (formerly KOOK)

KULR-TV, 8, Billings, MT

Park

KTVQ, 2, Billings, MT (formerly KOOK)

KULR-TV, 8, Billings, MT

KXLF-TV, 4, Butte, MT

Petroleum

KTVQ, 2, Billings, MT (formerly KOOK)

KULR-TV, 8, Billings, MT

Phillips

KRTV, 3, Great Falls, MT

KFBB-TV, 5, Great Falls, MT

KTVQ, 2, Billings, MT (formerly KOOK)

Pondera

KRTV, 3, Great Falls, MT

KFBB-TV, 5, Great Falls, MT

CJOC, 7, Canada (formerly CJLH)

Powder River

KTVQ, 2, Billings, MT (formerly KOOK)

KULR-TV, 8, Billings, MT

KOTA-TV, 3, Rapid City, SD

Powell

KXLF-TV, 4, Butte, MT

KECI-TV, 13, Missoula, MT (formerly KGVO)

Prairie

KXGN-TV, 5, Glendive, MT

KYUS-TV, 3, Miles City, MT

Ravalli

KECI-TV, 13, Missoula, MT (formerly KGVO)

KXLF-TV, 4, Butte, MT

Richland

KUMV-TV, 8, Williston, ND

KXMD-TV, 11, Williston, ND

KXGN-TV, 5, Glendive, MT

Roosevelt

KUMV-TV, 8, Williston, ND

KXMD-TV, 11, Williston, ND

CKTV, 2, Canada (formerly CKCK)

Rosebud

KTVQ, 2, Billings, MT (formerly KOOK)

KULR-TV, 8, Billings, MT

KYUS-TV, 3, Miles City, MT

Sanders

KREM-TV, 2, Spokane, WA

KXLY-TV, 4, Spokane, WA

KHQ-TV, 6, Spokane, WA

KECI-TV, 13, Missoula, MT (formerly KGVO)

Sheridan

KUMV-TV, 8, Williston, ND

KXMD-TV, 11, Williston, ND

CKTV, 2, Canada (formerly CKCK)

Silver Bow

KXLF-TV, 4, Butte, MT

KECI-TV, 13, Missoula, MT (formerly KGVO)

Stillwater

KTVQ, 2, Billings, MT (formerly KOOK)

KULR-TV, 8, Billings, MT

Sweet Grass

KTVQ, 2, Billings, MT (formerly KOOK)

KULR-TV, 8, Billings, MT

Teton

KRTV, 3, Great Falls, MT

KFBB-TV, 5, Great Falls, MT

Toole

KRTV, 3, Great Falls, MT

KFBB-TV, 5, Great Falls, MT

CFCN, 4, Canada

CJOC, 7, Canada (formerly CJLH)

Treasure

KTVQ, 2, Billings, MT (formerly KOOK)

KULR-TV, 8, Billings, MT

Valley

KUMV-TV, 8, Williston, ND

KXMD-TV, 11, Williston, ND

CKTV, 2, Canada (formerly CKCK)

Wheatland

KTVQ, 2, Billings, MT (formerly KOOK)

KULR-TV, 8, Billings, MT

Wibaux

KXMA-TV, 2, Dickinson, ND (formerly KDIX)

KXGN-TV, 5, Glendive, MT

KUMV-TV, 8, Williston, ND

Yellowstone

KTVQ, 2, Billings, MT (formerly KOOK)

KULR-TV, 8, Billings, MT

NEBRASKA

Adams

KHAS-TV, 5, Hastings, NE

KOLN, 10, Lincoln, NE

KHGI-TV, 13, Kearney, NE (formerly KHOL)

Antelope

KLKN, 8, Lincoln, NE (formerly KHQL)

KOLN, 10, Lincoln, NE

KTIV, 4, Sioux City, IA

KCAU-TV, 9, Sioux City, IA

Arthur

KNOP-TV, 2, North Platte, NE

KHGI-TV, 13, Kearney, NE (formerly KHOL)

Banner

KSTF, 10, Scottsbluff, NE

KDUH-TV, 4, Scottsbluff, NE

Blaine

KNOP-TV, 2, North Platte, NE

Boone

KHAS-TV, 5, Hastings, NE

KLKN, 8, Lincoln, NE (formerly KHQL)

KOLN, 10, Lincoln, NE

Box Butte

KSTF, 10, Scottsbluff, NE

KDUH-TV, 4, Scottsbluff, NE

Boyd

KDLV-TV, 5, Mitchell, SD (formerly KORN)

KELO-TV, 11, Sioux Falls, SD

Brown

KELO-TV, 11, Sioux Falls, SD

Buffalo

KHAS-TV, 5, Lincoln & HastingS-Kearney

KOLN, 10, Lincoln, NE

KHGI-TV, 13, Kearney, NE (formerly KHOL)

Burt

KMTV, 3, Omaha, NE

WOWT, 6, Omaha, NE (formerly WOW)

KETV, 7, Omaha, NE

+KXVO, 15, Omaha, NE

+KPTM, 42, Omaha, NE

Butler

KMTV, 3, Omaha, NE

WOWT, 6, Omaha, NE (formerly WOW)

KETV, 7, Omaha, NE

+KXVO, 15, Omaha, NE

+KPTM, 42, Omaha, NE

KOLN, 10, Lincoln, NE

Cass

KMTV, 3, Omaha, NE

WOW, 6, Omaha, NE (formerly WOW)

KETV, 7, Omaha, NE

+KXVO, 15, Omaha, NE

+KPTM, 42, Omaha, NE

KOLN, 10, Lincoln, NE

Cedar

KTIV, 4, Sioux City, IA

KCAU-TV, 9, Sioux City, IA

KMEG, 14, Sioux City, IA

KELO-TV, 11, Sioux Falls, SD

Chase

KHGI-TV, 13, Kearney, NE (formerly KHOL)

KSNK, 8, McCook, NE (formerly KOMC)

Cherry

KELO-TV, 11, Sioux Falls, SD

KNOP-TV, 2, North Platte, NE

KDUH-TV, 4, Scottsbluff, NE

Cheyenne

KTVS, 3, Sterling, CO

KSTF, 10, Scottsbluff, NE

KDUH-TV, 4, Scottsbluff, NE

Clay

KSNB-TV, 4, Superior, NE (formerly KHTL)

KHAS-TV, 5, Hastings, NE

KOLN, 10, Lincoln, NE

KHGI-TV, 13, Kearney, NE (formerly KHOL)

Colfax

KMTV, 3, Omaha, NE

WOWT, 6, Omaha, NE (formerly WOW)

KETV, 7, Omaha, NE

+KXVO, 15, Omaha, NE

+KPTM, 42, Omaha, NE

KOLN, 10, Lincoln, NE

Cuming

KMTV, 3, Omaha, NE

WOWT, 6, Omaha, NE (formerly WOW)

KETV, 7, Omaha, NE

+KXVO, 15, Omaha, NE

+KPTM, 42, Omaha, NE

KTIV, 4, Sioux City, IA

KCAU-TV, 9, Sioux City, IA

Custer

KHAS-TV, 5, Hastings, NE

KOLN, 10, Lincoln, NE

KHGI-TV, 13, Kearney, NE (formerly KHOL)

KNOP-TV, 2, North Platte, NE

Dakota

KTIV, 4, Sioux City, IA

KCAU-TV, 9, Sioux City, IA

KMEG, 14, Sioux City, IA

Dawes

KDUH-TV, 4, Scottsbluff, NE

KSTF, 10, Scottsbluff, NE

Dawson

KOLN, 10, Lincoln, NE

KHGI-TV, 13, Kearney, NE (formerly KHOL)

KNOP-TV, 2, North Platte, NE

Deuel

KTVS, 3, Sterling, CO

KHGI-TV, 13, Kearney, NE (formerly KHOL)

KNOP-TV, 2, North Platte, NE

Dixon

KTIV, 4, Sioux City, IA

KCAU-TV, 9, Sioux City, IA

KMEG, 14, Sioux City, IA

Dodge

KMTV, 3, Omaha, NE

WOWT, 6, Omaha, NE (formerly WOW)

KETV, 7, Omaha, NE

+KXVO, 15, Omaha, NE

+KPTM, 42, Omaha, NE

Douglas

KMTV, 3, Omaha, NE

WOWT, 6, Omaha, NE (formerly WOW)

KETV, 7, Omaha, NE

+KXVO, 15, Omaha, NE

+KPTM, 42, Omaha, NE

Dundy

KBSH-TV, 7, Hays, KS (formerly KAYS)

KSNK, 8, McCook, NE (formerly KOMC)

KHGI-TV, 13, Kearney, NE (formerly KHOL)

Fillmore

KSNB-TV, 4, Superior, NE (formerly KHTL)

KHAS-TV, 5, Hastings, NE

KOLN, 10, Lincoln, NE

KHGI-TV, 13, Kearney, NE (formerly KHOL)

Franklin

KHAS-TV, 5, Hastings, NE

KOLN, 10, Lincoln, NE

KHGI-TV, 13, Kearney, NE (formerly KHOL)

Frontier

KOLN, 10, Lincoln, NE

KHGI-TV, 13, Kearney, NE (formerly KHOL)

KNOP-TV, 2, North Platte, NE

KSNK, 8, McCook, NE (formerly KOMC)

Furnas

KOLN, 10, Lincoln, NE

KHGI-TV, 13, Kearney, NE (formerly KHOL)

KSNK, 8, McCook, NE (formerly KOMC)

Gage

KOLN, 10, Lincoln, NE

KMTV, 3, Omaha, NE

KETV, 7, Omaha, NE

+KXVO, 15, Omaha, NE

+KPTM, 42, Omaha, NE

Garden

KTVS, 3, Sterling, CO

KSTF, 10, Scottsbluff, NE

KHGI-TV, 13, Kearney, NE (formerly KHOL)

KNOP-TV, 2, North Platte, NE

KDUH-TV, 4, Scottsbluff, NE

Garfield

KHAS-TV, 5, Hastings, NE

KLKN, 8, Lincoln, NE (formerly KHQL)

KOLN, 10, Lincoln, NE

Gosper

KHAS-TV, 5, Hastings, NE

KOLN, 10, Lincoln, NE

KHGI-TV, 13, Kearney, NE (formerly KHOL)

Grant

KDUH-TV, 4, Scottsbluff, NE

KHGI-TV, 13, Kearney, NE (formerly KHOL)

KNOP-TV, 2, North Platte, NE

Greeley

KHAS-TV, 5, Hastings, NE

KLKN, 8, Lincoln, NE (formerly KHQL)

KOLN, 10, Lincoln, NE

KHGI-TV, 13, Kearney, NE (formerly KHOL)

Hall

KHAS-TV, 5, Hastings, NE

+KLKE, 24, Albion, NE (formerly KCAN)

KOLN, 10, Lincoln, NE

KHGI-TV, 13, Kearney, NE (formerly KHOL)

Hamilton

KHAS-TV, 5, Hastings, NE

KOLN, 10, Lincoln, NE

KHGI-TV, 13, Kearney, NE (formerly KHOL)

Harlan

KHAS-TV, 5, Hastings, NE

KOLN, 10, Lincoln, NE

KHGI-TV, 13, Kearney, NE (formerly KHOL)

Hayes

KHGI-TV, 13, Kearney, NE (formerly KHOL)

KNOP-TV, 2, North Platte, NE

KSNK, 8, McCook, NE (formerly KOMC)

Hitchcock

KBSH-TV, 7, Hays, KS (formerly KAYS)

KSNK, 8, McCook, NE (formerly KOMC)

KHGI-TV, 13, Kearney, NE (formerly KHOL)

Holt

KLKN, 8, Lincoln, NE (formerly KHQL)

KOLN, 10, Lincoln, NE

KTIV, 4, Sioux City, IA

KCAU, 9, Sioux City, IA

KELO-TV, 11, Sioux Falls, SD

HookeR-

KNOP-TV, 2, North Platte, NE

KDUH-TV, 4, Scottsbluff, NE

Howard

KHAS-TV, 5, Hastings, NE

KOLN, 10, Lincoln, NE

KHGI-TV, 13, Kearney, NE (formerly KHOL)

Jefferson

KSNB-TV, 4, Superior, NE (formerly KHTL)

KHAS-TV, 5, Hastings, NE

KOLN, 10, Lincoln, NE

+KXVO, 15, Omaha, NE

+KPTM, 42, Omaha, NE

Johnson

KMTV, 3, Omaha, NE

WOWT, 6, Omaha, NE (formerly WOW)

KETV, 7, Omaha, NE

+KXVO, 15, Omaha, NE

+KPTM, 42, Omaha, NE

KOLN, 10, Lincoln, NE

Kearney

KHAS-TV, 5, Hastings, NE

KOLN, 10, Lincoln, NE

KHGI-TV, 13, Kearney, NE (formerly KHOL)

Keith

KNOP-TV, 2, North Platte, NE

KHGI-TV, 13, Kearney, NE (formerly KHOL)

Keya Paha

KELO-TV, 11, Sioux Falls, SD

Kimball

KTVS, 3, Sterling, CO

KGWN-TV, 5, Cheyenne, WY (formerly KFBC)

KSTF, 10, Scottsbluff, NE

KDUH-TV, 4, Scottsbluff, NE

Knox

KTIV, 4, Sioux City, IA

KCAU-TV, 9, Sioux City, IA

KLKN, 8, Lincoln, NE (formerly KHQL)

KDLV-TV, 5, Mitchell, SD (formerly KORN)

KELO-TV, 11, Sioux Falls, SD

KSFY-TV, 13, Sioux Falls, SD (formerly KSOO)

Lancaster

+KLKE, 24, Albion, NE (formerly KBGT)

KOLN, 10, Lincoln, NE

KMTV, 3, Omaha, NE

WOWT, 6, Omaha, NE (formerly WOW)

KETV, 7, Omaha, NE

+KXVO, 15, Omaha, NE

+KPTM, 42, Omaha, NE

Lincoln

KNOP-TV, 2, North Platte, NE

KOLN, 10, Lincoln, NE

KHGI-TV, 13, Kearney, NE (formerly KHOL)

Logan

KNOP-TV, 2, North Platte, NE

KHGI-TV, 13, Kearney, NE (formerly KHOL)

Loup

KHAS-TV, 5, Hastings, NE

KLKN, 8, Lincoln, NE (formerly KHQL)

KOLN, 10, Lincoln, NE

McPherson

KNOP-TV, 2, North Platte, NE

KHGI-TV, 13, Kearney, NE (formerly KHOL)

Madison

KTIV, 4, Sioux City, IA

KCAU-TV, 9, Sioux City, IA

KLKN, 8, Lincoln, NE (formerly KHQL)

KOLN, 10, Lincoln, NE

WOWT, 6, Omaha, NE (formerly WOW)

Merrick

KHAS-TV, 5, Hastings, NE

KLKN, 8, Lincoln, NE (formerly KHQL)

KOLN, 10, Lincoln, NE

KHGI-TV, 13, Kearney, NE (formerly KHOL)

Morrill

KSTF, 10, Scottsbluff, NE

KDUH-TV 4, Scottsbluff, NE

Nance

KHAS-TV, 5, Hastings, NE

KLKN, 8, Lincoln, NE (formerly KHQL)

KOLN, 10, Lincoln, NE

KMTV, 3, Omaha, NE

Nemaha

KMTV, 3, Omaha, NE

WOWT, 6, Omaha, NE (formerly WOW)

KETV, 7, Omaha, NE

+KPTM, 42, Omaha, NE

Nuckolls

KSNB-TV, 4, Superior, NE (formerly KHTL)

KHAS-TV, 5, Hastings, NE

KOLN, 10, Lincoln, NE

KHGI-TV, 13, Kearney, NE (formerly KHOL)

Otoe

KMTV, 3, Omaha, NE

WOWT, 6, Omaha, NE (formerly WOW)

KETV, 7, Omaha, NE

+KXVO, 15, Omaha, NE

+KPTM, 42, Omaha, NE

KOLN, 10, Lincoln, NE

Pawnee

KMTV, 3, Omaha, NE

WOWT, 6, Omaha, NE (formerly WOW)

KETV, 7, Omaha, NE

KOLN, 10, Lincoln, NE

Perkins

KHGI-TV, 13, Kearney, NE (formerly KHOL)

KTVS, 3, Sterling, CO

KNOP-TV, 2, North Platte, NE

Phelps

KHAS-TV, 5, Hastings, NE

KOLN, 10, Lincoln, NE

KHGI-TV, 13, Kearney, NE (formerly KHOL)

Pierce

KTIV, 4, Sioux City, IA

KCAU-TV, 9, Sioux City, IA

KLKN, 8, Lincoln, NE (formerly KHQL)

KELO-TV, 11, Sioux Falls, SD

Platte

KLKN, 8, Lincoln, NE (formerly KHQL)

KOLN, 10, Lincoln, NE

KMTV, 3, Omaha, NE

WOWT, 6, Omaha, NE (formerly WOW)

KETV, 7, Omaha, NE

+KPTM, 42, Omaha, NE

Polk

KHAS-TV, 5, Hastings, NE

KLKN, 8, Lincoln, NE (formerly KHQL)

KOLN, 10, Lincoln, NE

KMTV, 3, Omaha, NE

KETV, 7, Omaha, NE

+KPTM, 42, Omaha, NE

Red Willow

KSNK, 8, McCook, NE (formerly KOMC)

KOLN, 10, Lincoln, NE

KHGI-TV, 13, Kearney, NE (formerly KHOL)

Richardson

KMTV, 3, Omaha, NE

WOWT, 6, Omaha, NE (formerly WOW)

KETV, 7, Omaha, NE

+KPTM, 42, Omaha, NE

KCTV, 5, Kansas City, MO (formerly KCMO)

KOLN, 10, Lincoln, NE

KQTV, 2, St. Joseph, MO

Rock

KELO-TV, 11, Sioux Falls, SD

Saline

KSNB-TV, 4, Superior, NE (formerly KHTL)

KOLN, 10, Lincoln, NE

KMTV, 3, Omaha, NE

KETV, 7, Omaha, NE

+KXVO, 15, Omaha, NE

+KPTM, 42, Omaha, NE

Sarpy

KMTV, 3, Omaha, NE

WOWT, 6, Omaha, NE(formerly WOW)

KETV, 7, Omaha, NE

+KXVO, 15, Omaha, NE

+KPTM, 42, Omaha, NE

Saunders

KMTV, 3, Omaha, NE

WOWT, 6, Omaha, NE (formerly WOW)

KETV, 7, Omaha, NE

+KXVO, 15, Omaha, NE

+KPTM, 42, Omaha, NE

KOLN, 10, Lincoln, NE

Scotts Bluff

KSTF, 10, Scottsbluff, NE

KDUH-TV, 4, Scottsbluff, NE

Seward

KOLN, 10, Lincoln, NE

KMTV, 3, Omaha, NE

WOWT, 6, Omaha, NE (formerly WOW)

KETV, 7, Omaha, NE

+KXVO, 15, Omaha, NE

+KPTM, 42, Omaha, NE

Sheridan

KDUH-TV, 4, Scottsbluff, NE

Sherman

KHAS-TV, 5, Hastings, NE

KOLN, 10, Lincoln, NE

KHGI-TV, 13, Kearney, NE (formerly KHOL)

Sioux

KSTF, 10, Scottsbluff, NE

KDUH-TV, 4, Scottsbluff, NE

Stanton

KTIV, 4, Sioux City, IA

KCAU-TV, 9, Sioux City, IA

KLKN, 8, Lincoln, NE (formerly KHQL)

KOLN, 10, Lincoln, NE

KMTV, 3, Omaha, NE

WOWT, 6, Omaha, NE (formerly WOW)

KETV, 7, Omaha, NE

Thayer

KSNB-TV, 4, Superior, NE (formerly KHTL)

KHAS-TV, 5, Hastings, NE

KOLN, 10, Lincoln, NE

KHGI-TV, 13, Kearney, NE (formerly KHOL)

Thomas

KNOP-TV, 2, North Platte, NE

Thurston

KTIV, 4, Sioux City, IA

KCAU-TV, 9, Sioux City, IA

KMEG, 14, Sioux City, IA

KMTV, 3, Omaha, NE

WOWT, 6, Omaha, NE (formerly WOW)

KETV, 7, Omaha, NE

Valley

KHAS-TV, 5, Hastings, NE

KLKN, 8, Lincoln, NE (formerly KHQL)

KOLN, 10, Lincoln, NE

KHGI-TV, 13, Kearney, NE (formerly KHOL)

Washington

KMTV, 3, Omaha, NE

WOWT, 6, Omaha, NE (formerly WOW)

KETV, 7, Omaha, NE

+KXVO, 15, Omaha, NE

+KPTM, 42, Omaha, NE

Wayne

KTIV, 4, Sioux City, IA

KCAU-TV, 9, Sioux City, IA

KMEG, 14, Sioux City, IA

Webster

KHAS-TV, 5, Hastings, NE

KOLN, 10, Lincoln, NE

KHGI-TV, 13, Kearney, NE (formerly KHOL)

Wheeler

KHAS-TV, 5, Hastings, NE

KLKN, 8, Lincoln, NE (formerly KHQL)

KOLN, 10, Lincoln, NE

York

KSNB-TV, 4, Superior, NE (formerly KHTL)

KHAS-TV, 5, Hastings, NE

KOLN, 10, Lincoln, NE

+KPTM, 42, Omaha, NE

Imperial—KNOP-TV

NEVADA

Carson City

+KAME-TV, 21, Reno, NV

Churchill

KRNV, 4, Reno, NV (formerly KCRL)

KOLO-TV, 8, Reno, NV

+KAME-TV, 21, Reno, NV

Clark

KVBC, 3, Las Vegas, NV (formerly KORK)

KVVU-TV, 5, Henderson, NV (formerly KHBV)

KLAS-TV, 8, Las Vegas, NV

KTNV, 13, Las Vegas, NV (formerly KSHO)

Douglas

KTVN, 2, Reno, NV

KRNV, 4, Reno, NV (formerly KCRL)

KOLO-TV, 8, Reno, NV

+KAME-TV, 21, Reno, NV

KTVU, 2, Oakland, CA

Elko

KSL-TV, 5, Salt Lake City, UT

KBCI-TV, 2, Boise, ID (formerly KBOI)

KTVB, 7, Boise, ID

KOLO-TV, 8, Reno, NV

Esmeralda

KOLO-TV, 8, Reno, NV

Eureka

KUTV, 2, Salt Lake City, UT

KTVX, 4, Salt Lake City, UT (formerly KCPX)

KSL-TV, 5, Salt Lake City, UT

Humboldt

KOLO-TV, 8, Reno, NV

KBCI-TV, 2, Boise, ID (formerly KBOI)

KTVB, 7, Boise, ID

Lander

KTVN, 2, Reno, NV

KOLO-TV, 8, Reno, NV

Lincoln

KVBC, 3, Las Vegas, NV (formerly KORK)

KLAS-TV, 8, Las Vegas, NV

KTVX, 4, Salt Lake City, NV (formerly KCPX)

Lyon

KTVN, 2, Reno, NV

KRNV, 4, Reno, NV (formerly KCRL)

KOLO-TV, 8, Reno, NV

+KAME-TV, 21, Reno, NV

Mineral

KTVN, 2, Reno, NV

KRNV, 4, Reno, NV (formerly KCRL)

KOLO-TV, 8, Reno, NV

Nye

KTVN, 2, Reno, NV

KRNV, 4, Reno, NV (formerly KCRL)

KOLO-TV, 8, Reno, NV

KVBC, 3, Las Vegas, NV (formerly KORK)

Ormsby

KTVN, 2, Reno, NV

KRNV, 4, Reno, NV (formerly KCRL)

KOLO-TV, 8, Reno, NV

Pershing

KTVN, 2, Reno, NV

KRNV, 4, Reno, NV (formerly KCRL)

KOLO-TV, 8, Reno, NV

Storey

KTVN, 2, Reno, NV

KRNV, 4, Reno, NV (formerly KCRL)

KOLO-TV, 8, Reno, NV

Washoe

KTVN, 2, Reno, NV

KRNV, 4, Reno, NV (formerly KCRL)

KOLO-TV, 8, Reno, NV

+KAME-TV, 21, Reno, NV

White Pine

KUTV, 2, Salt Lake City, UT

KTVX, 4, Salt Lake City, UT (formerly KCPX)

KSL-TV, 5, Salt Lake City, UT

NEW HAMPSHIRE

Belknap

WCSH, 6, Portland, ME

WMTW-TV, 8, Portland, ME

WGME-TV, 13, Portland, ME (formerly WGAN)

WBZ-TV, 4, Boston, MA

WCVB-TV, 5, Boston, MA (formerly WHDH)

WMUR-TV, 9, Manchester, NH

+WNBU, 21, Concord, NH (formerly WNHT)

Carroll

WCSH, 6, Portland, ME

WMTW-TV, 8, Portland, ME

WGME-TV, 13, Portland, ME (formerly WGAN)

Cheshire

WBZ-TV, 4, Boston, MA

WCVB-TV, 5, Boston, MA (formerly WHDH)

WHDH-TV, 7, Boston, MA (formerly WNAC)

WFSB, 3, Hartford, CT (formerly WTIC)

WMUR-TV, 9, Manchester, NH

WWLP, 22, Springfield, MA

Coos

WCSH, 6, Portland, ME

WMTW-TV, 8, Portland, ME

WGME-TV, 13, Portland, ME (formerly WGAN)

WCAX-TV, 3, Burlington, VT

Grafton

WMTW-TV, 8, Portland, ME

WCAX-TV, 3, Burlington, VT

Hillsborough

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

WMUR-TV, 9, Manchester, NH

+WNDS, 50, Derry, NH

Merrimack

WBZ-TV, 4, Boston, MA

WCVB-TV, 5, Boston, MA (formerly WHDH)

WHDH-TV, 7, Boston, MA (formerly WNAC)

WMUR-TV, 9, Manchester, NH

WCSH, 6, Portland, ME

WMTW-TV, 8, Portland, ME

+WNBU, 21, Concord, NH (formerly WNHT)

Rockingham

WBZ-TV, 4, Boston, MA

WCVB-TV, 5, Boston, MA (formerly WHDH)

WHDH-TV, 7, Boston, MA (formerly WNAC)

WSBK-TV, 38, Boston, MA

WLVI-TV, 56, Cambridge, MA (formerly WKBG)

WMUR-TV, 9, Manchester, NH

+WNDS, 50, Derry, NH

Strafford

WBZ-TV, 4, Boston, MA

WCVB-TV, 5, Boston, MA (formerly WHDH)

WHDH-TV, 7, Boston, MA (formerly WNAC)

WMUR-TV, 9, Manchester, NH

WCSH, 6, Portland, ME

WMTW-TV, 8, Portland, ME

WGME-TV, 13, Portland, ME (formerly WGAN)

+WNBU, 21, Concord, NH (formerly WNHT)

Sullivan

WBZ-TV, 4, Boston, MA

WCVB-TV, 5, Boston, MA (formerly WHDH)

WCAX-TV, 3, Burlington, VT

WMUR-TV, 9, Manchester, NH

WWLP, 22, Springfield, MA

Alton—WHDH-TV

Auburn—WFXT

Barnstead—WHDH-TV

Bedford—WFXT

Belmont—WHDH-TV

Brentwood—WFXT, WCSH

Candia—WFXT

Center Harbor, NH

Chester—WFXT, WCSH, WNBU, WMUR-TV

Dover—WFXT, WCSH, WNBU, WMUR-TV

Durham—WFXT, WCSH, WNBU, WMUR-TV

East Kingston—WFXT, WCSH

Epping—WFXT, WCSH, WNBU, WMUR-TV

Exeter—WFXT, WCSH, WNBU, WMUR-TV

Fremont—WFXT, WCSH, WNBU, WMUR-TV

Gilford—WHDH-TV

Goffstown—WFXT

Greenland—WFXT, WCSH, WNBU, WMUR-TV

Hampton—WFXT, WCSH, WNBU, WMUR-TV

Hampton Falls—WFXT, WCSH, WNBU, WMUR-TV

Hooksett—WFXT

Kensington—WFXT, WCSH

Laconia—WHDH-TV

Lee—WFXT, WCSH

Madbury—WFXT, WCSH, WNBU, WMUR-TV

Manchester—WFXT

Meredith—WHDH-TV

New Castle—WFXT, WCSH, WNBU, WMUR-TV

New Durham—WHDH-TV

Newfield—WFXT, WCSH, WNBU, WMUR-TV

Newington—WFXT, WCSH, WNBU, WMUR-TV

New Market—WFXT, WCSH, WNBU, WMUR-TV

Northfield—WHDH-TV

North Hampton—WFXT, WCSH, WNBU, WMUR-TV

Nottingham—WFXT, WCSH

Portsmouth—WFXT, WCSH, WNBU, WMUR-TV

Raymond—WFXT, WCSH, WNBU, WMUR-TV

Rollingsford—WFXT, WCSH, WNBU, WMUR-TV

Rye—WFXT, WCSH, WNBU, WMUR-TV

Seabrook—WFXT, WCSH, WNBU, WMUR-TV

Somersworth—WFXT, WCSH, WNBU, WMUR-TV

Stratham—WFXT, WCSH, WNBU, WMUR-TV

Wolfesboro—WHDH-TV

NEW JERSEY

Atlantic

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Bergen

WCBS-TV, 2, New York, NY

WNBC, 4, New York, NY

WNYW, 5, New York, NY (formerly WNEW)

WABC-TV, 7, New York, NY

WWOR-TV, 9, New York, NY (formerly WOR)

WPIX, 11, New York, NY

Burlington

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Camden

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Cape May

KYW-TV, 3, Philadelphia, PA

WPVI-TV, 6, Philadelphia, PA (formerly WFIL)

WCAU, 10, Philadelphia, PA

WPHL-TV, 17, Philadelphia, PA

WKBS-TV, 48, Altoona, PA

+WPSG, 57, Philadelphia, PA (formerly WGBS)

Cumberland

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Essex

WCBS-TV, 2, New York, NY

WNBC, 4, New York, NY

WNYW, 5, New York, NY (formerly WNEW)

WABC-TV, 7, New York, NY

WWOR-TV, 9, New York, NY (formerly WWOR)

WPIX, 11, New York, NY

Gloucester

KYW-TV, 3, Philadelphia, PA

WPVI-TV, 6, Philadelphia, PA (formerly WFIL)

WCAU, 10, Philadelphia, PA

WPHL-TV, 17, Philadelphia, PA

WKBS-TV, 48, Altoona, PA

+WPSG, 57, Philadelphia, PA (formerly WGBS)

Hudson

WCBS-TV, 2, New York, NY

WNBC, 4, New York, NY

WNYW, 5, New York, NY (formerly WNEW)

WABC-TV, 7, New York, NY

WWOR-TV, 9, New York, NY (formerly WOR)

WPIX, 11, New York, NY

Hunterdon

WCBS-TV, 2, New York, NY

WNBC, 4, New York, NY

WNYW, 5, New York, NY (formerly WNEW)

WABC-TV, 7, New York, NY

WWOR-TV, 9, New York, NY (formerly WOR)

WPIX, 11, New York, NY

KYW-TV, 3, Philadelphia, PA

WPVI-TV, 6, Philadelphia, PA (formerly WFIL)

WCAU, 10, Philadelphia, PA

WTXF-TV, 29, Philadelphia, PA (formerly WTAF)

+WPSG, 57, Philadelphia, PA (formerly WGBS)

Mercer

KYW-TV, 3, Philadelphia, PA

WPVI-TV, 6, Philadelphia, PA (formerly WFIL)

WCAU, 10, Philadelphia, PA

WPHL-TV, 17, Philadelphia, PA

WKBS-TV, 48, Altoona, PA

+WPSG, 57, Philadelphia, PA (formerly WGBS)

WCBS-TV, 2, New York, NY

WNBC, 4, New York, NY

WNYW, 5, New York, NY (formerly WNEW)

WABC-TV, 7, New York, NY

WWOR-TV, 9, New York, NY (formerly WOR)

WPIX, 11, New York, NY

Middlesex

WCBS-TV, 2, New York, NY

WNBC, 4, New York, NY

WNYW, 5, New York, NY (formerly WNEW)

WABC-TV, 7, New York, NY

WWOR-TV, 9, New York, NY (formerly WOR)

WPIX, 11, New York, NY

Monmouth

WCBS-TV, 2, New York, NY

WNBC, 4, New York, NY

WNYW, 5, New York, NY (formerly WNEW)

WABC-TV, 7, New York, NY

WWOR-TV, 9, New York, NY (formerly WOR)

WPIX, 11, New York, NY

Morris

WCBS-TV, 2, New York, NY

WNBC, 4, New York, NY

WNYW, 5, New York, NY (formerly WNEW)

WABC-TV, 7, New York, NY

WWOR-TV, 9, New York, NY (formerly WOR)

WPIX, 11, New York, NY

Ocean

WCBS-TV, 2, New York, NY

WNBC, 4, New York, NY

WNYW, 5, New York, NY (formerly WNEW)

WABC-TV, 7, New York, NY

WWOR-TV, 9, New York, NY (formerly WOR)

WPIX, 11, New York, NY

WPVI-TV, 6, Philadelphia, PA (formerly WFIL)

Passaic

WCBS-TV, 2, New York, NY

WNBC, 4, New York, NY

WNYW, 5, New York, NY (formerly WNEW)

WABC-TV, 7, New York, NY

WWOR-TV, 9, New York, NY (formerly WOR)

WPIX, 11, New York, NY

Salem

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Somerset

WCBS-TV, 2, New York, NY

WNBC, 4, New York, NY

WNYW, 5, New York, NY (formerly WNEW)

WABC-TV, 7, New York, NY

WWOR-TV, 9, New York, NY (formerlyWOR)

WPIX, 11, New York, NY

Sussex

WCBS-TV, 2, New York, NY

WNBC, 4, New York, NY

WNYW, 5, New York, NY (formerly WNEW)

WABC-TV, 7, New York, NY

WWOR-TV, 9, New York, NY (formerly WOR)

WPIX, 11, New York, NY

Union

WCBS-TV, 2, New York, NY

WNBC, 4, New York, NY

WNYW, 5, New York, NY (formerly WNEW)

WABC-TV, 7, New York, NY

WWOR-TV, 9, New York, NY (formerly WOR)

WPIX, 11, New York, NY

Warren

KYW-TV, 3, Philadelphia, PA

WPVI-TV, 6, Philadelphia, PA (formerly WFIL)

WCAU, 10, Philadelphia, PA

WCBS-TV, 2, New York, NY

WNBC, 4, New York, NY

WNYW, 5, New York, NY (formerly WNEW)

WABC-TV, 7, New York, NY

WPIX, 11, New York, NY

+WFMZ-TV, 69, Allentown, PA

NEW MEXICO

Bernalillo

KOB-TV, 4, Albuquerque, NM

KOAT-TV, 7, Albuquerque, NM

KRQE, 13, Albuquerque, NM (formerly KGGM)

+KASA-TV, 2, Santa Fe, NM (formerly KNMZ, KKTO)

Catron

KOB-TV, 4, Albuquerque, NM

KOAT-TV, 7, Albuquerque, NM

KVOA, 4, Tucson, AZ

KGUN, 9, Tucson, AZ

KOLD-TV, 13, Tucson, AZ

Chaves

KBIM-TV, 10, Roswell, NM

KCBD-TV, 11, Lubbock, TX

Cibola

+KGSW-TV, 14, Albuquerque, NM

Colfax

KOB-TV, 4, Albuquerque, NM

KOAT-TV, 7, Albuquerque, NM

KRQE, 13, Albuquerque, NM (formerly KGGM)

KRDO-TV, 13, Colorado Springs, CO

Curry

KVII-TV, 7, Amarillo, TX

KFDA-TV, 10, Amarillo, TX

KCBD-TV, 11, Lubbock, TX

De Baca

KCBD-TV, 11, Lubbock, TX

KOAT-TV, 7, Albuquerque, NM

KBIM-TV, 10, Roswell, NM

Dona Ana

KDBC-TV, 4, El Paso, TX (formerly KROD)

KTSM-TV, 9, El Paso, TX

KVIA-TV, 7, El Paso, TX (formerly KELP)

+KFOX-TV, 14, El Paso, TX

Eddy

KBIM-TV, 10, Roswell, NM

KVIA-TV, 13, El Paso, TX (formerly KELP)

KCBD-TV, 11, Lubbock, TX

Grant

KDBC-TV, 4, El Paso, TX (formerly KROD)

KTSM-TV, 9, El Paso, TX

KOAT-TV, 7, Albuquerque, NM

Guadalupe

KOB-TV, 4, Albuquerque, NM

KOAT-TV, 7, Albuquerque, NM

KRQE, 13, Albuquerque, NM (formerly KGGM)

Harding

KOB-TV, 4, Albuquerque, NM

KOAT-TV, 7, Albuquerque, NM

KRQE, 13, Albuquerque, NM (formerly KGGM)

Hidalgo

KTVK, 3, Phoenix, AZ

KSAZ-TV, 10, Phoenix, AZ (formerly KOOL)

KPNX, 12, Phoenix, AZ (formerly KTAR)

KVOA, 4, Tucson, AZ

KGUN, 9, Tucson, AZ

KOLD-TV, 13, Tucson, AZ

Lea North

KBIM-TV, 10, Roswell, NM

KCBD-TV, 11, Lubbock, TX

Lea South

KMID, 2, Midland, TX

KOSA-TV, 7, Odessa, TX

KWES-TV, 9, Odessa, TX (formerly KMOM)

KCBD-TV, 11, Lubbock, TX

KBIM-TV, 10, Roswell, NM

Lincoln

KOB-TV, 4, Albuquerque, NM

KCBD-TV, 11, Lubbock, TX

KBIM-TV, 10, Roswell, NM

Los Alamos

KOB-TV, 4, Albuquerque, NM

KOAT-TV, 7, Albuquerque, NM

KRQE, 13, Albuquerque, NM (formerly KGGM)

+KGSW-TV, 14, Albuquerque, NM

Luna

KBDC-TV, 4, El Paso, TX (formerly KROD)

KTSM-TV, 9, El Paso, TX

KELP-TV, 13, El Paso, TX (formerly KELP)

McKinley

KOB-TV, 4, Albuquerque, NM

KOAT-TV, 7, Albuquerque, NM

KRQE, 13, Albuquerque, NM (formerly KGGM)

Mora

KOB-TV, 4, Albuquerque, NM

KOAT-TV, 7, Albuquerque, NM

KRQE, 13, Albuquerque, NM (formerly KGGM)

Otero

KDBC-TV, 4, El Paso, TX (formerly KROD)

KTSM-TV, 9, El Paso, TX

+KFOX-TV, 14, El Paso, TX

KOAT-TV, 7, Albuquerque, NM

Quay

KAMR-TV, 4, Amarillo, TX (formerly KGNC)

KVII-TV, 7, Amarillo, TX

KFDA-TV, 10, Amarillo, TX

KOAT-TV, 7, Albuquerque, NM

KCBD-TV, 11, Lubbock, TX

Rio Arriba

KOB-TV, 4, Albuquerque, NM

KOAT-TV, 7, Albuquerque, NM

KRQE, 13, Albuquerque, NM (formerly KGGM)

+KGSW-TV, 14, Albuquerque, NM

Roosevelt

KFDA-TV, 10, Amarillo, TX

KCBD-TV, 11, Lubbock, TX

Sandoval

KOB-TV, 4, Albuquerque, NM

KOAT-TV, 7, Albuquerque, NM

KRQE, 13, Albuquerque, NM (formerly KGGM)

+KASA-TV, 2, Santa Fe, NM (formerly KNMZ)

San Juan

KOB-TV, 4, Albuquerque, NM

KOAT-TV, 7, Albuquerque, NM

KRQE, 13, Albuquerque, NM (formerly KGGM)

San Miguel

KOB-TV, 4, Albuquerque, NM

KOAT-TV, 7, Albuquerque, NM

KRQE, 13, Albuquerque, NM (formerly KGGM)

Santa Fe

KOB-TV, 4, Albuquerque, NM

KOAT-TV, 7, Albuquerque, NM

KRQE, 13, Albuquerque, NM (formerly KGGM)

+KGSW-TV, 14, Albuquerque, NM

Sierra

KOB-TV, 4, Albuquerque, NM

KOAT-TV, 7, Albuquerque, NM

KRQE, 13, Albuquerque, NM (formerly KGGM)

Socorro

KOB-TV, 4, Albuquerque, NM

KOAT-TV, 7, Albuquerque, NM

KRQE, 13, Albuquerque, NM (formerly KGGM)

+KGSW-TV, 14, Albuquerque, NM

Taos

KOB-TV, 4, Albuquerque, NM

KOAT-TV, 7, Albuquerque, NM

KRQE, 13, Albuquerque, NM (formerly KGGM)

Torrance

KOB-TV, 4, Albuquerque, NM

KOAT-TV, 7, Albuquerque, NM

KRQE, 13, Albuquerque, NM (formerly KGGM)

Union

KAMR-TV, 4, Amarillo, TX (formerly KGNC)

KVII-TV, 7, Amarillo, TX

KFDA-TV, 10, Amarillo, TX

KKTV, 11, Colorado Springs, CO

KRDO-TV, 13, Colorado Springs, CO

Valencia

KOB-TV, 4, Albuquerque, NM

KOAT-TV, 7, Albuquerque, NM

KRQE, 13, Albuquerque, NM (formerly KGGM)

+KASA-TV, 2, Santa Fe, NM (formerly KNMZ)

Albuquerque—KASA-TV

Corrales—KASA-TV

Kirkland AFB—KASA-TV

Paradise Hills—KASA-TV

NEW YORK

Albany

WRGB, 6, Schenectady, NY

WTEN, 10, Albany, NY

WNYT, 13, Albany, NY (formerly WAST)

+WXXA-TV, 23, Albany, NY

Alleghany

WGRZ-TV, 2, Buffalo, NY (formerly WGR)

WIVB-TV, 4, Buffalo, NY (formerly WBEN)

WKBW-TV, 7, Buffalo, NY

Bronx

WCBS-TV, 2, New York, NY

WNBC, 4, New York, NY

WNYW, 5, New York, NY (formerly WNEW)

WABC-TV, 7, New York, NY

WWOR-TV, 9, New York, NY (formerly WOR)

WPIX, 11, New York, NY

Broome

WBNG-TV, 12, Binghamton, NY (formerly WNBF)

WIVT, 34, Binghamton, NY (formerly WBJA)

WICZ-TV, 40, Binghamton, NY (formerly WINR)

Cattaraugus

WGRZ-TV, 2, Buffalo, NY (formerly WGR)

WIVB-TV, 4, Buffalo, NY (formerly WBEN)

WKBW-TV, 7, Buffalo, NY

+WNYO-TV, 49, Buffalo, NY (formerly WNYB)

Cayuga

WSTM-TV, 3, Syracuse, NY (formerly WSYR)

WTVH, 5, Syracuse, NY (formerly WHEN)

WIXT, 9, Syracuse, NY (formerly WNYS)

+WSYT, 68, Syracuse, NY

WHEC-TV, 10, Rochester, NY

WOKR, 13, Rochester, NY

Chautauqua

WGRZ-TV, 2, Buffalo, NY (formerly WGR)

WIVB-TV, 4, Buffalo, NY (formerly WBEN)

WKBW-TV, 7, Buffalo, NY

Chemung

WETM-TV, 18, Elmira, NY (formerly WSYE)

WENY-TV, 36, Elmira, NY

WBNG-TV, 12, Binghamton, NY (formerly WNBF)

WNYW, 5, New York, NY (formerly WNEW)

Chenango

WSTM-TV, 3, Syracuse, NY (formerly WSYR)

WTVH, 5, Syracuse, NY (formerly WHEN)

WIXT, 9, Syracuse, NY (formerly WNYS)

WBNG-TV, 12, Binghamton, NY (formerly WNBF)

WICZ-TV, 40, Binghamton, NY (formerly WINR)

Clinton

WCAX-TV 3, Burlington, VT

WPTZ, 5, Plattsburgh, NY

WVNY, 22, Burlington, VT

CBMT, 6, Canada

CFCF, 12, Canada

Columbia

WRGB, 6, Schenectady, NY

WTEN, 10, Albany, NY

WNYT, 13, Albany, NY (formerly WAST)

+WXXA-TV, 23, Albany, NY

+WRNN-TV, 62, Kingston, NY (formerly WTZA)

Cortland

WSTM-TV, 3, Syracuse, NY (formerly WSYR)

WTVH, 5, Syracuse, NY (formerly WHEN)

WIXT, 9, Syracuse, NY (formerly WNYS)

+WSYT, 68, Syracuse, NY

Delaware

WBNG-TV, 12, Binghamton, NY (formerly WNBF)

WRGB, 6, Schenectady, NY

WTEN, 10, Albany, NY

WKTV, 2, Utica, NY

Dutchess

WCBS-TV, 2, New York, NY

WNBC, 4, New York, NY

WNYW, 5, New York, NY (formerly WNEW)

WABC-TV, 7, New York, NY

WWOR-TV, 9, New York, NY (formerly WOR)

WPIX, 11, New York, NY

WTEN, 10, Albany, NY

+WXXA-TV, 23, Albany, NY

+WRNN-TV, 62, Kingston, NY (formerly WTZA)

Erie

WGRZ-TV, 2, Buffalo, NY (formerly WGR)

WIVB-TV, 4, Buffalo, NY (formerly WBEN)

WKBW-TV, 7, Buffalo, NY

WUTV, 29, Buffalo, NY

+WNYO-TV, 49, Buffalo, NY (formerly WNYB)

Essex

WCAX-TV, 3, Burlington, VT

WPTZ, 5, Plattsburgh, NY

Franklin

WCAX-TV, 3, Burlington, VT

WPTZ, 5, Plattsburgh, NY

CBOT, 4, Canada

CBMT, 6, Canada

CJOH, 8, Canada (formerly CJSS)

CFCF, 12, Canada

Fulton

WRGB, 6, Schenectady, NY

WTEN, 10, Albany, NY

WNYT, 13, Albany, NY (formerly WAST)

+WXXA-TV, 23, Albany, NY

Genesee

WGRZ-TV, 2, Buffalo, NY (formerly WGR)

WIVB-TV, 4, Buffalo, NY (formerly WBEN)

WKBW-TV, 7, Buffalo, NY

+WNYO-TV, 49, Buffalo, NY (formerly WNYB)

WROC-TV, 8, Rochester, NY

WHEC-TV, 10, Rochester, NY

WOKR, 13, Rochester, NY

Greene

WRGB, 6, Schenectady, NY

WTEN, 10, Albany, NY

WNYT, 13, Albany, NY (formerly WAST)

+WXXA-TV, 23, Albany, NY

+WRNN-TV, 62, Kingston, NY (formerly WTZA)

Hamilton

WRGB, 6, Schenectady, NY

WTEN, 10, Albany, NY

Herkimer

WKTV, 2, Utica, NY

+WFXV, 33, Utica, NY

WRGB, 6, Schenectady, NY

WTEN, 10, Albany, NY

+WXXA-TV, 23, Albany, NY

WTVH, 5, Syracuse, NY (formerly WHEN)

WIXT, 9, Syracuse, NY (formerly WNYS)

Jefferson

WWNY-TV, 7, Carthage, NY

+WWTI, 50, Watertown, NY

WSTM-TV, 3, Syracuse, NY (formerly WSYR)

WTVH, 5, Syracuse, NY (formerly WHEN)

CKWS, 11, Canada

Kings

WCBS-TV, 2, New York, NY

WNBC, 4, New York, NY

WNYW, 5, New York, NY (formerly WNEW)

WABC-TV, 7, New York, NY

WWOR-TV, 9, New York, NY (formerly WOR)

WPIX, 11, New York, NY

Lewis

WWNY-TV, 7, Carthage, NY

+WWTI, 50, Watertown, NY

WSTM-TV, 3, Syracuse, NY (formerly WSYR)

WTVH, 5, Syracuse, NY (formerly WHEN)

WKTV, 2, Utica, NY

Livingston

WROC-TV, 8, Rochester, NY

WHEC-TV, 10, Rochester, NY

WOKR, 13, Rochester, NY

+WUHF, 31, Rochester, NY

WGRZ-TV, 2, Buffalo, NY (formerly WGR)

Madison

WSTM-TV, 3, Syracuse, NY (formerly WSYR)

WTVH, 5, Syracuse, NY (formerly WHEN)

WIXT, 9, Syracuse, NY (formerly WNYS)

+WSYT, 68, Syracuse, NY

WKTV, 2, Utica, NY

Monroe

WROC-TV, 8, Rochester, NY

WHEC-TV, 10, Rochester, NY

WOKR, 13, Rochester, NY

+WUHF, 31, Rochester, NY

Montgomery

WRGB, 6, Schenectady, NY

WTEN, 10, Albany, NY

WNYT, 13, Albany, NY (formerly WAST)

+WXXA-TV, 23, Albany, NY

WKTV, 2, Utica, NY

Nassau

WCBS-TV, 2, New York, NY

WNBC, 4, New York, NY

WNYW, 5, New York, NY (formerly WNEW)

WABC-TV, 7, New York, NY

WWOR-TV, 9, New York, NY (formerly WOR)

WPIX, 11, New York, NY

New York

WCBS-TV, 2, New York, NY

WNBC, 4, New York, NY

WNYW, 5, New York, NY (formerly WNEW)

WABC-TV, 7, New York, NY

WWOR-TV, 9, New York, NY (formerly WOR)

WPIX, 11, New York, NY

Niagara

WGRZ-TV, 2, Buffalo, NY (formerly WGR)

WIVB-TV, 4, Buffalo, NY (formerly WBEN)

WKBW-TV, 7, Buffalo, NY

WUTV, 29, Buffalo, NY

+WNYO-TV, 49, Buffalo, NY (formerly WNYB)

CBLT, 6, Canada

CFTO, 9, Canada

CHCH, 11, Canada

Oneida East

WKTV, 2, Utica, NY

WUTR, 20, Utica, NY

+WFXV, 33, Utica, NY

WSTM-TV, 3, Syracuse, NY (formerly WSYR)

WTVH, 5, Syracuse, NY (formerly WHEN)

WIXT, 9, Syracuse, NY (formerly WNYS)

+WSYT, 68, Syracuse, NY

Oneida West

WSTM-TV, 3, Syracuse, NY (formerly WSYR)

WTVH, 5, Syracuse, NY (formerly WHEN)

WIXT, 9, Syracuse, NY (formerly WNYS)

+WSYT, 68, Syracuse, NY

WKTV, 2, Utica, NY

+WFXV, 33, Utica, NY

Onondaga

WSTM-TV, 3, Syracuse, NY (formerly WSYR)

WTVH, 5, Syracuse, NY (formerly WHEN)

WIXT, 9, Syracuse, NY (formerly WNYS)

Ontario

WROC-TV, 8, Rochester, NY

WHEC-TV, 10, Rochester, NY

WOKR, 13, Rochester, NY

+WUHF, 31, Rochester, NY

WSTM-TV, 3, Syracuse, NY (formerly WSYR)

WTVH, 5, Syracuse, NY (formerly WHEN)

WIXT, 9, Syracuse, NY (formerly WNYS)

+WSYT, 68, Syracuse, NY

Orange

WCBS-TV, 2, New York, NY

WNBC, 4, New York, NY

WNYW, 5, New York, NY (formerly WNEW)

WABC-TV, 7, New York, NY

WWOR-TV, 9, New York, NY (formerly WOR)

WPIX, 11, New York, NY

Orlean

WGRZ-TV, 2, Buffalo, NY (formerly WGR)

WIVB-TV, 4, Buffalo, NY (formerly WBEN)

WKBW-TV, 7, Buffalo, NY

WUTV, 29, Buffalo, NY

WROC-TV, 8, Rochester, NY

WHEC-TV, 10, Rochester, NY

WOKR, 13, Rochester, NY

Oswego

WSTM-TV, 3, Syracuse, NY (formerly WSYR)

WTVH, 5, Syracuse, NY (formerly WHEN)

WNYS, 9, Syracuse, NY (formerly WNYS)

+WSYT, 68, Syracuse, NY

Otsego

WKTV, 2, Utica, NY

WRGB, 6, Schenectady, NY

WBNG-TV, 12, Binghamton, NY (formerly WNBF)

WTVH, 5, Syracuse, NY (formerly WHEN)

WIXT, 9, Syracuse, NY (formerly WNYS)

Putnam

WCBS-TV, 2, New York, NY

WNBC, 4, New York, NY

WNYW, 5, New York, NY (formerly WNEW)

WABC-TV, 7, New York, NY

WWOR-TV, 9, New York, NY (formerly WOR)

WPIX, 11, New York, NY

Queens

WCBS-TV, 2, New York, NY

WNBC, 4, New York, NY

WNYW, 5, New York, NY (formerly WNEW)

WABC-TV, 7, New York, NY

WWOR-TV, 9, New York, NY (formerly WOR)

WPIX, 11, New York, NY

Rensselaer

WRGB, 6, Schenectady, NY

WTEN, 10, Albany, NY

WNYT, 13, Albany, NY (formerly WAST)

+WXXA-TV, 23, Albany, NY

Richmond

WCBS-TV, 2, New York, NY

WNBC, 4, New York, NY

WNYW, 5, New York, NY (formerly WNEW)

WABC-TV, 7, New York, NY

WWOR-TV, 9, New York, NY (formerly WOR)

WPIX, 11, New York, NY

Rockland

WCBS-TV, 2, New York, NY

WNBC, 4, New York, NY

WNYW, 5, New York, NY (formerly WNEW)

WABC-TV, 7, New York, NY

WWOR-TV, 9, New York, NY (formerly WOR)

WPIX, 11, New York, NY

St. Lawrence

WWNY-TV, 7, Carthage, NY

+WWTI, 50, Watertown, NY

WPTZ, 5, Plattsburgh, NY

CBOT, 4, Canada

CJOH, 8, Canada (formerly CJSS)

CKWS, 11, Canada

Saratoga

WRGB, 6, Schenectady, NY

WTEN, 10, Albany, NY

WNYT, 13, Albany, NY (formerly WAST)

+WXXA-TV, 23, Albany, NY

Schenectady

WRGB, 6, Schenectady, NY

WTEN, 10, Albany, NY

WNYT, 13, Albany, NY (formerly WAST)

+WXXA-TV, 23, Albany, NY

Schoharie

WRGB, 6, Schenectady, NY

WTEN, 10, Albany, NY

WNYT, 13, Albany, NY (formerly WAST)

+WXXA-TV, 23, Albany, NY

Schuyler

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

Seneca

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

WOKR, 13, Rochester, NY

Steuben

WSTM-TV, 3, Syracuse, NY (formerly WSYR)

WTVH, 5, Syracuse, NY (formerly WHEN)

WIXT, 9, Syracuse, NY (formerly WNYS)

WBNG-TV, 12, Binghamton, NY (formerly WNBF)

WIVB-TV, 4, Buffalo, NY (formerly WBEN)

WKBW-TV, 7, Buffalo, NY

WETM-TV, 18, Elmira, NY (formerly WSYE)

Suffolk East

WCBS-TV, 2, New York, NY

WNBC, 4, New York, NY

WNYW, 5, New York, NY (formerly WNEW)

WABC-TV, 7, New York, NY

WWOR-TV, 9, New York, NY (formerly WOR)

WPIX, 11, New York, NY

WFSB, 3, Hartford, CT (formerly WTIC)

WTNH-TV, 8, New Haven, CT (formerly WNHC)

Suffolk West

WCBS-TV, 2, New York, NY

WNBC, 4, New York, NY

WNYW, 5, New York, NY (formerly WNEW)

WABC-TV, 7, New York, NY

WWOR-TV, 9, New York, NY (formerly WOR)

WPIX, 11, New York, NY

Sullivan

WCBS-TV, 2, New York, NY

WNBC, 4, New York, NY

WNYW, 5, New York, NY (formerly WNEW)

WABC-TV, 7, New York, NY

WWOR-TV, 9, New York, NY (formerly WOR)

WPIX, 11, New York, NY

Tioga

WBNG-TV, 12, Binghamton, NY (formerly WNBF)

WIVT, 34, Binghamton, NY (formerly WBJA)

WICZ-TV, 40, Binghamton, NY (formerly WINR)

Tompkins

WSTM-TV, 3, Syracuse, NY (formerly WSYR)

WTVH, 5, Syracuse, NY (formerly WHEN)

WIXT, 9, Syracuse, NY (formerly WNYS)

+WSYT, 68, Syracuse, NY

WBNG-TV, 12, Binghamton, NY (formerly WNBF)

Ulster

WCBS-TV, 2, New York, NY

WNBC, 4, New York, NY

WNYW, 5, New York, NY (formerly WNEW)

WABC-TV, 7, New York, NY

WWOR-TV, 9, New York, NY (formerly WOR)

WPIX, 11, New York, NY

WRGB, 6, Schenectady, NY

WTEN, 10, Albany, NY

+WXXA-TV, 23, Albany, NY

+WRNN-TV, 62, Kingston, NY (formerly WTZA)

Warren

WRGB, 6, Schenectady, NY

WTEN, 10, Albany, NY

WNYT, 13, Albany, NY (formerly WAST)

+WXXA-TV, 23, Albany, NY

Washington

WRGB, 6, Schenectady, NY

WTEN, 10, Albany, NY

WNYT, 13, Albany, NY (formerly WAST)

+WXXA-TV, 23, Albany, NY

Wayne

WROC-TV, 8, Rochester, NY

WHEC-TV, 10, Rochester, NY

WOKR, 13, Rochester, NY

+WUHF, 31, Rochester, NY

WSTM-TV, 3, Syracuse, NY (formerly WSYR)

WTVH, 5, Syracuse, NY (formerly WHEN)

WIXT, 9, Syracuse, NY (formerly WNYS)

+WSYT, 68, Syracuse, NY

Westchester

WCBS-TV, 2, New York, NY

WNBC, 4, New York, NY

WNYW, 5, New York, NY (formerly WNEW)

WABC-TV, 7, New York, NY

WWOR-TV, 9, New York, NY (formerly WOR)

WPIX, 11, New York, NY

Wyoming

WGRZ-TV, 2, Buffalo, NY (formerly WGR)

WIVB-TV, 4, Buffalo, NY (formerly WBEN)

WKBW-TV, 7, Buffalo, NY

+WNYO-TV, 49, Buffalo, NY (formerly WNYB)

WROC-TV, 8, Rochester, NY

WHEC-TV, 10, Rochester, NY

WOKR, 13, Rochester, NY

+WUHF, 31, Rochester, NY

Yates

WSTM-TV, 3, Syracuse, NY (formerly WSYR)

WTVH, 5, Syracuse, NY (formerly WHEN)

WIXT, 9, Syracuse, NY (formerly WNYS)

+WSYT, 68, Syracuse, NY

WROC-TV, 8, Rochester, NY

WHEC-TV, 10, Rochester, NY

Amherst—CBLT, CFTO

Bethel—WCBS-TV, WNBC, WNYW, WYOU-TV

Blasdell—CBLT, CFTO

Callicoon—WCBS-TV, WNBC, WNYW, WABC-TV, WWOR-TV, WPIX, WOLF-TV, WNEP-TV, WYOU-TV

Cheektowaga—CBLT, CFTO

Cochecton—WCBS-TV, WNBC, WNYW, WABC-TV, WWOR-TV, WPIX, WOLF-TV, WNEP-TV, WYOU-TV

Colchester—WCBS-TV, WNBC, WNYW, WABC-TV, WWOR-TV, WPIX, WOLF-TV, WNEP-TV, WYOU-TV

Delaware—WCBS-TV, WNBC, WNYW, WABC-TV, WWOR-TV, WPIX, WOLF-TV, WNEP-TV, WYOU-TV

Denning—WCBS-TV, WNBC, WNYW, WABC-TV, WWOR-TV, WPIX, WOLF-TV, WNEP-TV, WYOU-TV

Ellenville—WCBS-TV, WNBC, WNYW, WWOR-TV

Ellenville Vilage—WCBS-TV, WWOR-TV

Fallsburg Village—WWOR-TV

Forestburgh—WCBS-TV, WNBC, WNYW, WYOU-TV

Fremont—WCBS-TV, WNBC, WNYW, WABC-TV, WWOR-TV, WPIX, WOLF-TV, WNEP-TV, WYOU-TV

Gardiner—WRNN-TV, WCBS-TV, WNBC, WNYW, WABC-TV

Greenport—WVIT, WTXX

Hamburg—CBLT, CFTO

Jeffersonville—WCBS-TV, WNBC, WNYW, WABC-TV, WWOR-TV, WPIX, WOLF-TV, WNEP-TV, WYOU-TV

Kenmore Village—CBLT, CFTO

Lackawanna—CBLT, CFTO

Lloyd—WRNN-TV, WCBS-TV, WNBC, WNYW, WABC-TV

Lumberland—WCBS-TV, WNBC, WNYW, WABC-TV, WWOR-TV, WPIX, WOLF-TV, WNEP-TV, WYOU-TV

Mamakating—WCBS-TV, WNBC, WNYW, WABC-TV, WWOR-TV

Neversink—WCBS-TV, WNBC, WNYW, WABC-TV, WWOR-TV, WPIX, WOLF-TV, WNEP-TV, WYOU-TV

Quoque—WVIT, WTXX

Riverhead—WVIT, WTXX

Rochester—WCBS-TV, WNBC, WNYW, WABC-TV, WWOR-TV

Rockland—WCBS-TV, WNBC, WNYW, WABC-TV, WWOR-TV, WPIX, WOLF-TV, WNEP-TV, WYOU-TV

Sag Harbor—WVIT, WTXX

Sloan—CBLT, CFTO

Southampton—WVIT, WTXX

Southampton Village, WVIT, WTXX

Southold—WVIT, WTXX

Tonawanda—CBLT, CFTO

Tusten—WCBS-TV, WNBC, WNYW, WABC-TV, WWOR-TV, WPIX, WOLF-TV, WNEP-TV, WYOU-TV

Wawarsing—WCBS-TV, WNBC, WNYW, WABC-TV, WWOR-TV

Westhampton—WVIT, WTXX

West Seneca—CBLT, CFTO

Williamsville—CBLT, CFTO

Woodridge Village—WCBS-TV, WNBC, WNYW, WABC-TV, WWOR-TV

NORTH CAROLINA

Alamance

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WRAL-TV, 5, Raleigh, NC

WTVD, 11, Durham, NC

+WLFL, 22, Raleigh, NC

Alexander

WBTV, 3, Charlotte, NC

WSOC-TV, 9, Charlotte, NC

WCNC-TV, 36, Charlotte, NC (formerly WRET)

+WJZY, 46, Belmont, NC

WGHP, 8, Greensboro, NC

WXII, 12, Greensboro, NC (formerly WSJS)

Alleghany

WFMY-TV, 2, Greensboro, NC

WGHP, 8, Greensboro, NC

WXII, 12, Greensboro, NC (formerly WSJS)

WBTV, 3, Charlotte, NC

WSOC-TV, 9, Charlotte, NC

WDBJ, 7, Roanoke, VA

WSLS-TV, 10, Roanoke, VA

Anson

WBTV, 3, Charlotte, NC

WSOC-TV, 9, Charlotte, NC

WCCB, 18, Charlotte, NC

WCNC-TV, 36, Charlotte, NC (formerly WRET)

+WJZY, 46, Belmont, NC

WBTW, 13, Florence, SC

+WWMB, 21, Florence, SC

WGHP, 8, Greensboro, NC

Ashe

WBTV, 3, Charlotte, NC

WCYB-TV, 5, Bristol, VA

+WFMY-TV, 2, Greensboro, NC

WGHP, 8, Greensboro, NC

Avery

WBTV, 3, Charlotte, NC

WSOC-TV, 9, Charlotte, NC

WCYB-TV, 5, Bristol, VA

Beaufort

WITN-TV, 7, Washington, NC

WNCT-TV, 9, Greenville, NC

WCTI, 12, New Bern, NC

Bertie

WITN-TV, 7, Washington, NC

WNCT-TV, 9, Greenville, NC

WTKR, 3, Norfolk, VA (formerly WTAR)

WAVY-TV, 10, Portsmouth, VA

WVEC-TV, 13, Hampton, VA

Bladen

WWAY, 3, Wilmington, NC

WECT, 6, Wilmington, NC

+WWMB, 21, Florence, SC

+WKFT, 40, Fayetteville, NC

Brunswick

WWAY, 3, Wilmington, NC

WECT, 6, Wilmington, NC

+WSFX-TV, 26, Wilmington, NC

Buncombe

WYFF, 4, Greenville, SC (formerly WFBC)

WSPA-TV, 7, Greenville, SC

WLOS, 13, Greenville, SC

+WHNS, 21, Greenville, SC

Burke

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Cabarrus

WBTV, 3, Charlotte, NC

WSOC-TV, 9, Charlotte, NC

WCCB, 18, Charlotte, NC

WCNC-TV, 36, Charlotte, NC (formerly WRET)

+WJZY, 46, Belmont, NC

Caldwell

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Camden

WTKR, 3, Norfolk, VA (formerly WTAR)

WAVY-TV, 10, Portsmouth, VA

WVEC-TV, 13, Hampton, VA

-Carteret

WITN-TV, 7, Washington, NC

WNCT-TV, 9, Greenville, NC

WCTI, 12, New Bern, NC

Caswell

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WRAL-TV, 5, Raleigh, NC

WDBJ, 7, Roanoke, VA

WSLS-TV, 10, Roanoke, VA

WSET-TV, 13, Lynchburg, VA (formerly WLVA)

Catawba

WBTV, 3, Charlotte, NC

WSOC-TV, 9, Charlotte, NC

WCCB, 18, Charlotte, NC

+WCNC-TV, 36, Charlotte, NC

+WJZY, 46, Belmont, NC

WSPA-TV, 7, Greenville, SC

WLOS, 13, Greenville, SC

+WHNS, 21, Greenville, SC

Chatham

WFMY-TV, 2, Greensboro, NC

WGHP, 8, Greensboro, NC

WRAL-TV, 5, Raleigh, NC

WTVD, 11, Durham, NC

+WLFL, 22, Raleigh, NC

WRDC, 28, Durham, NC (formerly WRDU)

+WKFT, 40, Fayetteville, NC

Cherokee

WRCB-TV, 3, Chattanooga, TN

WTVC, 9, Chattanooga, TN

WDEF-TV, 12, Chattanooga, TN

WYFF, 4, Greenville, SC (formerly WFBC)

WLOS-TV, 13, Greenville, SC

Chowan

WTKR, 3, Norfolk, VA (formerly WTAR)

WAVY-TV, 10, Portsmouth, VA

WVEC-TV, 13, Hampton, VA

WITN-TV, 7, Washington, NC

WNCT-TV, 9, Greenville, NC

Clay

WRCB-TV, 3, Chattanooga, TN

WTVC, 9, Chattanooga, TN

WDEF-TV, 12, Chattanooga, TN

WSB-TV, 2, Atlanta, GA

WAGA, 5, Atlanta, GA

WXIA-TV, 11, Atlanta, GA (formerly WQXI)

Cleveland

WBTV, 3, Charlotte, NC

WSOC-TV, 9, Charlotte, NC

+WCNC-TV, 36, Charlotte, NC

+WJZY, 46, Belmont, NC

WYFF, 4, Greenville, SC (formerly WFBC)

WSPA-TV, 7, Greenville, SC

WLOS, 13, Greenville, SC

+WHNS, 21, Greenville, SC

Columbus

WWAY, 3, Wilmington, NC

WECT, 6, Wilmington, NC

+WSFX-TV, 26, Wilmington, NC

WBTW, 13, Florence, SC

+WWMB, 21, Florence, SC

+WFXB, 43, Myrtle Beach, SC

Craven

WITN-TV, 7, Washington, NC

WNCT-TV, 9, Greenville, NC

WCTI, 12, New Bern, NC

Cumberland

WRAL-TV, 5, Raleigh, NC

WTVD, 11, Durham, NC

+WLFL, 22, Raleigh, NC

+WKFT, 40, Fayetteville, NC

WECT, 6, Wilmington, NC

+WBTW, 13, Florence, SC

Currituck

WTKR, 3, Norfolk, VA (formerly WTAR)

WAVY-TV, 10, Portsmouth, VA

WVEC-TV, 13, Hampton, VA

Dare

WTKR, 3, Norfolk, VA (formerly WTAR)

WAVY-TV, 10, Portsmouth, VA

WVEC-TV, 13, Hampton, VA

WITN-TV, 7, Washington, NC

Davidson

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

WBTV, 3, Charlotte, NC

WSOC-TV, 9, Charlotte, NC

+WJZY, 46, Belmont, NC

Davie

WFMY-TV, 2, Greensboro, NC

WGHP, 8, Greensboro, NC

WXII, 12, Greensboro, NC (formerly WSJS)

WBTV, 3, Charlotte, NC

WSOC-TV, 9, Charlotte, NC

Duplin

WITN-TV, 7, Washington, NC

WNCT-TV, 9, Greenville, NC

WRAL-TV, 5, Raleigh, NC

WTVD, 11, Durham, NC

+WLFL, 22, Raleigh, NC

WWAY, 3, Wilmington, NC

WECT, 6, Wilmington, NC

Durham

WRAL-TV, 5, Raleigh, NC

WTVD, 11, Durham, NC

+WLFL, 22, Raleigh, NC

WRDC, 28, Durham, NC (formerly WRDU)

+WKFT, 40, Fayetteville, NC

WFMY-TV, 2, Greensboro, NC

Edgecombe

WITN-TV, 7, Washington, NC

WNCT-TV, 9, Greenville, NC

WRAL-TV, 5, Raleigh, NC

WTVD, 11, Durham, NC

+WLFL, 22, Raleigh, NC

Forsyth

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

+WLXI-TV, 61, Greensboro, NC

+WJZY, 46, Belmont, NC

Franklin

WRAL-TV, 5, Raleigh, NC

WTVD, 11, Durham, NC

+WLFL, 22, Raleigh, NC

+WRDC, 28, Durham, NC (formerly WPTF, WRDU)

+WKFT, 40, Fayetteville, NC

WNCT-TV, 9, Greenville, NC

Gaston

WBTV, 3, Charlotte, NC

WSOC-TV, 9, Charlotte, NC

WCCB, 18, Charlotte, NC

WCNC-TV, 36, Charlotte, NC (formerly WRET)

WLOS, 13, Greenville, SC

Gates

WTKR, 3, Norfolk, VA (formerlyWTAR)

WAVY-TV, 10, Portsmouth, VA

WVEC-TV, 13, Hampton, VA

Graham

WATE-TV, 6, Knoxville, TN

WBIR-TV, 10, Knoxville, TN

WYFF, 4, Greenville, SC (formerly WFBC)

WLOS, 13, Greenville, SC

Granville

WRAL-TV, 5, Raleigh, NC

WTVD, 11, Durham, NC

+WLFL, 22, Raleigh, NC

WRDC, 28, Durham, NC (formerly WRDU)

+WKFT, 40, Fayetteville, NC

Greene

WITN-TV, 7, Washington, NC

WNCT-TV, 9, Greenville, NC

WRAL-TV, 5, Raleigh, NC

WTVD, 11, Durham, NC

+WLFL, 22, Raleigh, NC

Guilford

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

+WLXI-TV, 61, Greensboro, NC

Halifax

WITN-TV, 7, Washington, NC

WNCT-TV, 9, Greenville, NC

WRAL-TV, 5, Raleigh, NC

WTVD, 11, Durham, NC

+WLFL, 22, Raleigh, NC

Harnett

WRAL-TV, 5, Raleigh, NC

WTVD, 11, Durham, NC

+WLFL, 22, Raleigh, NC

+WRDC, 28, Durham, NC (formerly WPTF, WRDU)

+WKFT, 40, Fayetteville, NC

WECT, 6, Wilmington, NC

Haywood

WYFF, 4, Greenville, SC (formerly WFBC)

WSPA-TV, 7, Greenville, SC

WLOS, 13, Greenville, SC

Henderson

WYFF, 4, Greenville, SC (formerly WFBC)

WSPA-TV, 7, Greenville, SC

WLOS, 13, Greenville, SC

+WHNS, 21, Greenville, SC

Hertford

WTKR, 3, Norfolk, VA (formerly WTAR)

WAVY-TV, 10, Portsmouth, VA

WVEC-TV, 13, Hampton, VA

Hoke

WRAL-TV, 5, Raleigh, NC

WTVD, 11, Durham, NC

+WLFL, 22, Raleigh, NC

+WKFT, 40, Fayetteville, NC

WBTW, 13, Florence, SC

+WFXB, 43, Myrtle Beach, SC

WGHP, 8, Greensboro, NC

WECT, 6, Wilmington, NC

Hyde

WITN-TV, 7, Washington, NC

WNCT-TV, 9, Greenville, NC

WCTI, 12, New Bern, NC

Iredell

WBTV, 3, Charlotte, NC

WSOC-TV, 9, Charlotte, NC

WCCB, 18, Charlotte, NC

WCNC-TV, 36, Charlotte, NC (formerly WRET)

+WJZY, 46, Belmont, NC

+WFMY-TV, 2, Greensboro, NC

WGHP, 8, Greensboro, NC

WXII, 12, Greensboro, NC (formerly WSJS)

+WUPN-TV, 48, Greensboro, NC (formerly WGGT)

Jackson

WYFF, 4, Greenville, SC (formerly WFBC)

WSPA-TV, 7, Greenville, SC

WLOS, 13, Greenville, SC

+WHNS, 21, Greenville, SC

Johnston

WRAL-TV, 5, Raleigh, NC

WTVD, 11, Durham, NC

+WLFL, 22, Raleigh, NC

+WRDC, 28, Durham, NC (formerly WPTF, WRDU)

+WKFT, 40, Fayetteville, NC

WITN-TV, 7, Washington, NC

WNCT-TV, 9, Greenville, NC

Jones

WITN-TV, 7, Washington, NC

WNCT-TV, 9, Greenville, NC

WCTI, 12, New Bern, NC

Lee

WRAL-TV, 5, Raleigh, NC

WTVD, 11, Durham, NC

+WLFL, 22, Raleigh, NC

WRDC, 28, Durham, NC (formerly WRDU)

+WKFT, 40, Fayetteville, NC

WFMY-TV, 2, Greensboro, NC

WGHP, 8, Greensboro, NC

Lenoir

WITN-TV, 7, Washington, NC

WNCT-TV, 9, Greenville, NC

WCTI, 12, New Bern, NC

WRAL-TV, 5, Raleigh, NC

Lincoln

WBTV, 3, Charlotte, NC

WSOC-TV, 9, Charlotte, NC

WCCB, 18, Charlotte, NC

WCNC-TV, 36, Charlotte, NC (formerly WRET)

WSPA-TV, 7, Greenville, SC

WLOS, 13, Greenville, SC

McDowell

WYFF, 4, Greenville, SC (formerly WFBC)

WSPA-TV, 7, Greenville, SC

WLOS, 13, Greenville, SC

WBTV, 3, Charlotte, NC

+WJZY, 46, Belmont, NC

Macon

WYFF, 4, Greenville, SC (formerly WFBC)

WSPA-TV, 7, Greenville, SC

WLOS, 13, Greenville, SC

WSB-TV, 2, Atlanta, GA

Madison

WYFF, 4, Greenville, SC (formerly WFBC)

WLOS, 13, Greenville, SC

Martin

WITN-TV, 7, Washington, NC

WNCT-TV, 9, Greenville, NC

WCTI, 12, New Bern, NC

Mecklenburg

WBTV, 3, Charlotte, NC

WSOC-TV, 9, Charlotte, NC

WCCB, 18, Charlotte, NC

WCNC-TV, 36, Charlotte, NC (formerly WRET)

Mitchell

WBTV, 3, Charlotte, NC

WCYB-TV, 5, Bristol, VA

WYFF, 4, Greenville, SC (formerly WFBC)

WSPA-TV, 7, Greenville, SC

WLOS, 13, Greenville, SC

Montgomery

WFMY-TV, 2, Greensboro, NC

WGHP, 8, Greensboro, NC

WBTV, 3, Charlotte, NC

WSOC-TV, 9, Charlotte, NC

+WKFT, 40, Fayetteville, NC

Moore

WFMY-TV, 2, Greensboro, NC

WGHP, 8, Greensboro, NC

+WUPN-TV, 48, Greensboro, NC (formerly WGGT)

WRAL-TV, 5, Raleigh, NC

WTVD, 11, Durham, NC

+WLFL, 22, Raleigh, NC

+WRDC, 28, Durham (formerly WPTF, WRDU)

+WKFT, 40, Fayetteville, NC

WECT, 6, Wilmington, NC

Nash

WITN-TV, 7, Washington, NC

WNCT-TV, 9, Greenville, NC

WRAL-TV, 5, Raleigh, NC

WTVD, 11, Durham, NC

+WLFL, 22, Raleigh, NC

+WRDC, 28, Durham, NC (formerly WPTF, WRDU)

New Hanover

WWAY, 3, Wilmington, NC

WECT, 6, Wilmington, NC

+WSFX-TV, 26, Wilmington, NC

Northampton

WTKR, 3, Norfolk, VA (formerly WTAR)

WAVY-TV, 10, Portsmouth, VA

WVEC-TV, 13, Hampton, VA

WITN-TV, 7, Washington, NC

WNCT-TV, 9, Greenville, NC

Onslow

WITN-TV, 7, Washington, NC

WNCT-TV, 9, Greenville, NC

WCTI, 12, New Bern, NC

WWAY, 3, Wilmington, NC

WECT, 6, Wilmington, NC

Orange

WRAL-TV, 5, Raleigh, NC

WTVD, 11, Durham, NC

+WLFL, 22, Raleigh, NC

WRDC, 28, Durham, NC (formerly WRDU)

+WKFT, 40, Fayetteville, NC

WFMY-TV, 2, Greensboro, NC

WGHP, 8, Greensboro, NC

Pamlico

WITN-TV, 7, Washington, NC

WNCT-TV, 9, Greenville, NC

WCTI, 12, New Bern, NC

Pasquotank

WTKR, 3, Norfolk, VA (formerly WTAR)

WAVY-TV, 10, Portsmouth, VA

WVEC-TV, 13, Hampton, VA

WGNT, 27, Portsmouth, VA (formerly WYAH)

+WTVZ, 33, Norfolk, VA

Pender

WWAY, 3, Wilmington, NC

WECT, 6, Wilmington, NC

+WSFX-TV, 26, Wilmington, NC

Perquimans

WTKR, 3, Norfolk, VA (formerly WTAR)

WAVY-TV, 10, Portsmouth, VA

WVEC-TV, 13, Hampton, VA

Person

WRAL-TV, 5, Raleigh, NC

WTVD, 11, Durham, NC

+WLFL, 22, Raleigh, NC

WRDC, 28, Durham, NC (formerly WRDU)

WFMY-TV, 2, Greensboro, NC

WDBJ, 7, Roanoke, VA

WSLS-TV, 10, Roanoke, VA

WSET-TV, 13, Lynchburg, VA (formerly WLVA)

Pitt

WITN-TV, 7, Washington, NC

WNCT-TV, 9, Greenville, NC

WCTI, 12, New Bern, NC

WRAL-TV, 5, Raleigh, NC

Polk

WYFF, 4, Greenville, SC (formerly WFBC)

WSPA-TV, 7, Greenville, SC

WLOS, 13, Greenville, SC

WBTV, 3, Charlotte, NC

Randolph

WFMY-TV, 2, Greensboro, NC

WGHP, 8, Greensboro, NC

WXII, 12, Greensboro, NC (formerly WSJS)

Richmond

WBTV, 3, Charlotte, NC

WSOC-TV, 9, Charlotte, NC

WBTW, 13, Florence, SC

+WPDE-TV, 15, Florence, SC

WGHP, 8, Greensboro, NC

+WLFL, 22, Raleigh, NC

+WKFT, 40, Fayetteville, NC

Robeson

WWAY, 3, Wilmington, NC

WECT, 6, Wilmington, NC

WBTW, 13, Florence, SC

+WPDE-TV, 15, Florence, SC

+WWMB, 21, Florence, SC

+WFXB, 43, Myrtle Beach, SC

WRAL-TV, 5, Raleigh, NC

WTVD, 11, Durham, NC

+WKFT, 40, Fayetteville, NC

Rockingham

WFMY-TV, 2, Greensboro, NC

WGHP, 8, Greensboro, NC

WXII, 12, Greensboro, NC (formerly WSJS)

WDBJ, 7, Roanoke, VA

WSLS-TV, 10, Roanoke, VA

Rowan

WBTV, 3, Charlotte, NC

WSOC-TV, 9, Charlotte, NC

WCCB, 18, Charlotte, NC

WCNC-TV, 36, Charlotte, NC (formerly WRET)

+WJZY, 46, Belmont, NC

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Rutherford

WYFF, 4, Greenville, SC (formerly WFBC)

WSPA-TV, 7, Greenville, SC

WLOS, 13, Greenville, SC

+WHNS, 21, Greenville, SC

WBTV, 3, Charlotte, NC

WSOC-TV, 9, Charlotte, NC

+WJZY, 46, Belmont, NC

Sampson

WRAL-TV, 5, Raleigh, NC

WTVD, 11, Durham, NC

+WLFL, 22, Raleigh, NC

WITN-TV, 7, Washington, NC

WNCT-TV, 9, Greenville, NC

WWAY, 3, Wilmington, NC

WECT, 6, Wilmington, NC

Scotland

WBTW, 13, Florence, SC

+WPDE-TV, 15, Florence, SC

+WWMB, 21, Florence, NC

WGHP, 8, Greensboro, NC

WRAL-TV, 5, Raleigh, NC

WTVD, 11, Durham, NC

+WKFT, 40, Raleigh.NC

WECT, 6, Wilmington, NC

Stanly

WBTV, 3, Charlotte, NC

WSOC-TV, 9, Charlotte, NC

+WCNC-TV, 36, Charlotte, NC

+WJZY, 46, Belmont, NC

WGHP, 8, Greensboro, NC

Stokes

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Surry

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Swain

WYFF, 4, Greenville, SC (formerly WFBC)

WSPA-TV, 7, Greenville, SC

WLOS, 13, Greenville, SC

Transylvania

WYFF, 4, Greenville, SC (formerly WFBC)

WSPA-TV, 7, Greenville, SC

WLOS, 13, Greenville, SC

+WHNS, 21, Greenville, SC

Tyrrell

WTKR, 3, Norfolk, VA (formerly WTAR)

WAVY-TV, 10, Portsmouth, VA

WVEC-TV, 13, Hampton, VA

WITN-TV, 7, Washington, NC

WNCT-TV, 9, Greenville, NC

Union

WBTV, 3, Charlotte, NC

WSOC-TV, 9, Charlotte, NC

WCCB, 18, Charlotte, NC

WSNC-TV, 36, Charlotte, NC (formerly WRET)

+WJZY, 46, Belmont, NC

Vance

WRAL-TV, 5, Raleigh, NC

WTVD, 11, Durham, NC

+WLFL, 22, Raleigh, NC

+WRDC, 28, Durham, NC (formerly WPTF, WRDU)

+WKFT, 40, Fayetteville, NC

Wake

WRAL-TV, 5, Raleigh, NC

WTVD, 11, Durham, NC

+WLFL, 22, Raleigh, NC

+WRDC, 28, Durham, NC (formerly WPTF, WRDU)

+WKFT, 40, Fayetteville, NC

Warren

WRAL-TV, 5, Raleigh, NC

WTVD, 11, Durham, NC

+WLFL, 22, Raleigh, NC

+WRDC, 28, Durham, NC (formerly WPTF, WRDU)

WITN-TV, 7, Washington, NC

WNCT-TV, 9, Greenville, NC

Washington

WITN-TV, 7, Washington, NC

WNCT-TV, 9, Greenville, NC

WCTI, 12, New Bern, NC

Watauga

WBTV, 3, Charlotte, NC

+WJZY, 46, Charlotte, NC

WCYB-TV, 5, Bristol, VA

WGHP, 8, Greensboro, NC

Wayne

WITN-TV, 7, Washington, NC

WNCT-TV, 9, Greenville, NC

WRAL-TV, 5, Raleigh, NC

WTVD, 11, Durham, NC

+WLFL, 22, Raleigh, NC

+WKFT, 40, Fayetteville, NC

Wilkes

+WFMY-TV, 2, Greensboro, NC

WGHP, 8, Greensboro, NC

WXII, 12, Greensboro, NC (formerly WSJS)

+WXLV-TV, 45, Winston-Salem, NC (formerly WNRW)

WBTV, 3, Charlotte, NC

WSOC-TV, 9, Charlotte, NC

+WJZY, 46, Belmont, NC

Wilson

WITN-TV, 7, Washington, NC

WNCT-TV, 9, Greenville, NC

WRAL-TV, 5, Raleigh, NC

+WLFL, 22, Raleigh, NC

+WRDC, 28, Durham, NC (formerly WPTF, WRDU)

WTVD, 11, Durham, NC

Yadkin

WFMY-TV, 2, Greensboro, NC

WGHP, 8, Greensboro, NC

WXII, 12, Greensboro, NC (formerly WSJS)

WBTV, 3, Charlotte, NC

WSOC-TV, 9, Charlotte, NC

+WJZY, 46, Belmont, NC

Yancey

WYFF, 4, Greenville, SC (formerly WFBC)

WSPA-TV, 7, Greenville, SC

WLOS, 13, Greenville, SC

WCYB-TV, 5, Bristol, VA

Connelly Springs—WCCB

Drexel—WCCB

Fayetteville—WLFL, WRDC

Fort Bragg—WLFL, WRDC

Glen Alpine—WCCB

Hope Mills—WLFL, WRDC

Kill Devil Hills—WVEC-TV, WTKR, WAVY-TV

Kitty Hawk—WVEC-TV, WTKR, WAVY-TV

Manteo—WVEC-TV, WTKR, WAVY-TV

Nags Head—WVEC-TV, WTKR, WAVY-TV

Raleigh—WNCN

Rutherford College—WCCB

Southern Shores—WVEC-TV, WTKR, WAVY-TV

Spring Lake—WLFL, WRDC

Valdese—WCCB

Unincorporated areas of Burke County—WCCB

Unincorporated surrounding areas of Cumberland County—WLFL, WRDC

Unincorporated areas of Dare County—WVEC-TV, WTKR, WAVY-TV

Unincorporated areas of Wake County—WNCN

NORTH DAKOTA

Adams

KXMA-TV, 2, Dickinson, ND (formerly KDIX)

KFYR-TV, 5, Bismarck, ND

Barnes

KXJB-TV, 4, Valley City, ND

WDAY-TV, 6, Fargo, ND

KVLY-TV, 11, Fargo, ND (formerly KTHI)

Benson

KXJB-TV, 4, Valley City, ND

WDAZ-TV, 8, Devils Lake, ND

KVLY-TV, 11, Fargo, ND (formerly KTHI)

KXMC-TV, 13, Minot, ND

Billings

KXMA-TV, 2, Dickinson, ND (formerly KDIX)

KFYR-TV, 5, Bismarck, ND

Bottineau

KMOT, 10, Minot, ND

KXMC-TV, 13, Minot, ND

Bowman

KSMA-TV, 2, Dickinson, ND (formerly KDIX)

KFYR-TV, 5, Bismarck, ND

KOTA-TV, 3, Rapid City, SD

Burke

KUMV-TV, 8, Williston, ND

KMOT, 10, Minot, ND

KXMC-TV, 13, Minot, ND

CKOS, 3, Canada

Burleigh

KFYR-TV, 5, Bismarck, ND

KXMB-TV, 12, Bismarck, ND

Cass

KXJB-TV, 4, Valley City, ND

WDAY-TV, 6, Fargo, ND

KVLY-TV, 11, Fargo, ND (formerly KTHI)

Cavalier

WDAZ-TV, 8, Devils Lake, ND

KCND, 12, Pembina, ND

CKY, 7, Canada (formerly CJAY)

Dickey

KXJB-TV, 4, Valley City, ND

WDAY-TV, 6, Fargo, ND

KVLY-TV, 11, Fargo, ND (formerly KTHI)

KELO-TV, 11, Sioux Falls, SD

KSFY-TV, 13, Sioux Falls, SD (formerly KSOO)

Divide

KUMV-TV, 8, Williston, ND

KXMD-TV, 11, Williston, ND

CKTV, 2, Canada (formerly CKCK)

Dunn

KXMA-TV, 2, Dickinson, ND (formerly KDIX)

KFYR-TV, 5, Bismarck, ND

KUMV-TV, 8, Williston, ND

Eddy

KXJB-TV, 4, Valley City, ND

WDAZ-TV, 8, Devils Lake, ND

KVLY-TV, 11, Fargo, ND (formerly KTHI)

Emmons

KFYR-TV, 5, Bismarck, ND

KXMB-TV, 12, Bismarck, ND

Foster

KXJB-TV, 4, Valley City, ND

WDAY-TV, 6, Fargo, ND

WDAZ-TV, 8, Devils Lake, ND

KVLY-TV, 11, Fargo, ND (formerly KTHI)

Golden Valley

KUMV-TV, 8, Williston, ND

KXMA-TV, 2, Dickinson, ND (formerly KDIX)

Grand Forks

KXJB-TV, 4, Valley City, ND

WDAY-TV, 6, Fargo, ND

WDAZ-TV, 8, Devils Lake, ND

KVLY-TV, 11, Fargo, ND (formerly KTHI)

Grant

KFYR-TV, 5, Bismarck, ND

KXMB-TV, 12, Bismarck, ND

Griggs

KXJB-TV, 4, Valley City, ND

WDAY-TV, 6, Fargo, ND

WDAZ-TV, 8, Devils Lake, ND

KVLY-TV, 11, Fargo, ND (formerly KTHI)

Hettinger

KFYR-TV, 5, Bismarck, ND

KXMA-TV, 2, Dickinson, ND (formerly KDIX)

Kidder

KFYR-TV, 5, Bismarck, ND

KXMB-TV, 12, Bismarck, ND

La Moure

KXJB-TV, 4, Valley City, ND

WDAY-TV, 6, Fargo, ND

KVLY-TV, 11, Fargo, ND (formerly KTHI)

Logan

KFYR-TV, 5, Bismarck, ND

KXMB-TV, 12, Bismarck, ND

McHenry

KMOT, 10, Minot, ND

KXMC-TV, 13, Minot, ND

McIntosh

KFYR-TV, 5, Bismarck, ND

KXMB-TV, 12, Bismarck, ND

McKenzie

KUMV-TV, 8, Williston, ND

KXMD-TV, 11, Williston, ND

McLean

KFYR-TV 5, Bismarck, ND

KXMB-TV, 12, Bismarck, ND

KXMC-TV, 13, Minot, ND

Mercer

KFYR-TV, 5, Bismarck, ND

KXMC-TV, 13, Minot, ND

Morton East

KFYR-TV, 5, Bismarck, ND

KXMB-TV, 12, Bismarck, ND

Morton West

KFYR-TV, 5, Bismarck, ND

KXMB-TV, 12, Bismarck, ND

Mountrail

KUMV-TV, 8, Williston, ND

KMOT, 10, Minot, ND

KXMC-TV, 13, Minot, ND

Nelson

KXJB-TV, 4, Valley City, ND

WDAY-TV, 6, Fargo, ND

WDAZ-TV, 8, Devils Lake, ND

KVLY-TV, 11, Fargo, ND (formerly KTHI)

Oliver

KFYR-TV, 5, Bismarck, ND

KXMB-TV, 12, Bismarck, ND

Pembina

KCND, 12, Pembina, ND

KXJB-TV, 4, Valley City, ND

WDAZ-TV, 8, Devils Lake, ND

CBWT, 6, Canada

CKY, 7, Canada (formerly CJAY)

Pierce

KMOT, 10, Minot, ND

KXMC-TV, 13, Minot, ND

Ramsey

KXJB-TV, 4, Valley City, ND

WDAZ-TV, 8, Devils Lake, ND

KVLY-TV, 11, Fargo, ND (formerly KTHI)

Ransom

KXJB-TV, 4, Valley City, ND

WDAY-TV, 6, Fargo, ND

KVLY-TV, 11, Fargo, ND (formerly KTHI)

Renville

KMOT, 10, Minot, ND

KXMC-TV, 13, Minot, ND

Richland

KXJB-TV, 4, Valley City, ND

WDAY-TV, 6, Fargo, ND

KVLY-TV, 11, Fargo, ND (formerly KTHI)

Rolette

KMOT, 10, Minot, ND

KXMC-TV, 13, Minot, ND

CKX, 5, Canada

Sargent

KXJB-TV, 4, Valley City, ND

WDAY-TV, 6, Fargo, ND

KVLY-TV, 11, Fargo, ND (formerly KTHI)

Sheridan

KFYR-TV, 5, Bismarck, ND

KXMC-TV, 13, Minot, ND

Sioux

KFYR-TV, 5, Bismarck, ND

KXMB-TV, 12, Bismarck, ND

Slope

KXMA-TV, 2, Dickinson, ND (formerly KDIX)

Stark

KXMA-TV, 2, Dickinson, ND (formerly KDIX)

KFYR-TV, 5, Bismarck, ND

Steele

KXJB-TV, 4, Valley City, ND

WDAY-TV, 6, Fargo, ND

KVLY-TV, 11, Fargo, ND (formerly KTHI)

Stutsman

KXJB-TV, 4, Valley City, ND

WDAY-TV, 6, Fargo, ND

KVLY-TV, 11, Fargo, ND (formerly KTHI)

KFYR-TV, 5, Bismarck, ND

Towner

KXJB-TV, 4, Valley City, ND

WDAZ-TV, 8, Devils Lake, ND

Traill

KXJB-TV, 4, Valley City, ND

WDAY-TV, 6, Fargo, ND

KVLY-TV, 11, Fargo, ND (formerly KTHI)

Walsh

KXJB-TV, 4, Valley City, ND

WDAZ-TV, 8, Devils Lake, ND

KVLY-TV, 11, Fargo, ND (formerly KTHI)

KCND, 12, Pembina, ND

Ward

KMOT, 10, Minot, ND

KXMC-TV, 13, Minot, ND

Wells

KFYR-TV, 5, Bismarck, ND

KXMC-TV, 13, Minot, ND

KXJB-TV, 4, Valley City, ND

WDAZ-TV, 8, Devils Lake, ND

KVLY-TV, 11, Fargo, ND (formerly KTHI)

Williams

KUMV-TV, 8, Williston, ND

KXMD-TV, 11, Williston, ND

OHIO

Adams

WLWT, 5, Cincinnati, OH

WCPO-TV, 9, Cincinnati, OH

WKRC-TV, 12, Cincinnati, OH

+WSTR-TV, 64, Cincinnati, OH

Allen

WLIO, 35, Lima, OH (formerly WIMA)

+WTLW, 44, Lima, OH

WHIO-TV, 7, Dayton, OH

WANE-TV, 15, Fort Wayne, IN

+WFFT-TV, 55, Fort Wayne, IN

WTOL-TV, 11, Toledo, OH

WTVG, 13, Toledo, OH (formerly WSPD)

WNWO-TV, 24, Toledo, OH (formerly WDHO)

+WUPW, 36, Toledo, OH

Ashland

WKYC-TV, 3, Cleveland, OH

WEWS-TV, 5, Cleveland, OH

WJW, 8, Cleveland, OH

+WOIO, 19, Shaker Heights, OH

WUAB, 43, Lorain, OH

WKBF-TV, 61, Cleveland, OH

Ashtabula

WKYC-TV, 3, Cleveland, OH

WEWS-TV, 5, Cleveland, OH

WJW, 8, Cleveland, OH

+WOIO, 19, Shaker Heights, OH

WICU-TV, 12, Erie, PA

WJET-TV, 24, Erie, PA

WSEE, 35, Erie, PA

Athens

WSAZ-TV, 3, Huntington, WV

WCHS-TV, 8, Charleston, WV

WOWK-TV, 13, Huntington, WV (formerly WHTN)

+WVAH-TV, 11, Charleston, WV (formerly ch. 23)

WCMH-TV, 4, Columbus, OH (formerly WLWC)

Auglaize

WDTN, 2, Dayton, OH (formerly WLWD)

WHIO-TV, 7, Dayton, OH

+WRGT-TV, 45, Dayton, OH

WLIO, 35, Lima, OH (formerly WIMA)

+WTLW, 44, Lima, OH

+WFFT-TV, 55, Fort Wayne, IN

Belmont

WTRF-TV, 7, Wheeling, WV

WTOV-TV, 9, Steubenville, OH (formerly WSTV)

KDKA-TV, 2, Pittsburgh, PA

WTAE-TV, 4, Pittsburgh, PA

+WPGH-TV, 53, Pittsburgh, PA

Brown

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Butler

WLWT, 5, Cincinnati, OH

WCPO-TV, 9, Cincinnati, OH

WKRC-TV, 12, Cincinnati, OH

WXIX-TV, 19, Cincinnati, OH

+WSTR-TV, 64, Cincinnati, OH

WDTN, 2, Dayton, OH (formerly WLWD)

WHIO-TV, 7, Dayton, OH

+WKEF, 22, Dayton, OH

+WRGT-TV, 45, Dayton, OH

Carroll

WTRF-TV, 7, Wheeling, WV

WTOV-TV, 9, Steubenville, OH (formerly WSTV)

WKYC-TV, 3, Cleveland, OH

WEWS-TV, 5, Cleveland, OH

WJW, 8, Cleveland, OH

+WOIO, 19, Shaker Heights, OH

KDKA-TV, 2, Pittsburgh, PA

WTAE-TV, 4, Pittsburgh, PA

WPXI, 11, Pittsburgh, PA (formerly WIIC)

Champaign

WDTN, 2, Dayton, OH (formerly WLWD)

WHIO-TV, 7, Dayton, OH

+WRGT-TV, 45, Dayton, OH

WCMH-TV, 4, Columbus, OH (formerly WLWC)

WSYX, 6, Columbus, OH (formerly WTVN)

WBNS-TV, 10, Columbus, OH

+WTTE, 28, Columbus, OH

Clark

WDTN, 2, Dayton, OH (formerly WLWD)

WHIO-TV, 7, Dayton, OH

WKEF, 22, Dayton, OH

+WRGT-TV, 45, Dayton, OH

WCMH-TV, 4, Columbus, OH (formerly WLWC)

WSYX, 6, Columbus, OH (formerly WTVN)

WBNS-TV, 10, Columbus, OH

Clermont

WLWT, 5, Cincinnati, OH

WCPO-TV, 9, Cincinnati, OH

WKRC-TV, 12, Cincinnati, OH

WXIX-TV, 19, Cincinnati, OH

+WSTR-TV, 64, Cincinnati, OH

+WRGT-TV, 45, Dayton, OH

Clinton

WLWT, 5, Cincinnati, OH

WCPO-TV, 9, Cincinnati, OH

WKRC-TV, 12, Cincinnati, OH

+WSTR-TV, 64, Cincinnati, OH

WDTN, 2, Dayton, OH (formerly WLWD)

WHIO-TV, 7, Dayton, OH

WKEF, 22, Dayton, OH

+WRGT-TV, 45, Dayton, OH

Columbiana

KDKA-TV, 2, Pittsburgh, PA

WTAE-TV, 4, Pittsburgh, PA

WPXI, 11, Pittsburgh, PA (formerly WIIC)

+WPGH-TV, 53, Pittsburgh, PA

WKYC-TV, 3, Cleveland, OH

WEWS-TV, 5, Cleveland, OH

WJW, 8, Cleveland, OH

WTRF-TV, 7, Wheeling, WV

WTOV-TV, 9, Steubenville, OH (formerly WSTV)

WFMJ-TV, 21, Youngstown, OH

WKBN-TV, 27, Youngstown, OH

WYTV, 33, Youngstown, OH

Coshocton

WCMH-TV, 4, Columbus, OH (formerly WLWC)

WSYX, 6, Columbus, OH (formerly WTVN)

WBNS-TV, 10, Columbus, OH

+WTTE, 28, Columbus, OH

WTRF-TV, 7, Wheeling, WV

WTOV-TV, 9, Steubenville, OH (formerly WSTV)

WHIZ-TV, 18, Zanesville, OH

Crawford

WCMH-TV, 4, Columbus, OH (formerly WLWC)

WSYX, 6, Columbus, OH (formerly WTVN)

WBNS-TV, 10, Columbus, OH

+WTTE, 28, Columbus, OH

WKYC-TV, 3, Cleveland, OH

WEWS-TV, 5, Cleveland, OH

WJW, 8, Cleveland, OH

WTOL-TV, 11, Toledo, OH

WTVG, 13, Toledo, OH (formerly WSPD)

+WUPW, 36, Toledo, OH

Cuyahoga

WKYC-TV, 3, Cleveland, OH

WEWS-TV, 5, Cleveland, OH

WJW, 8, Cleveland, OH

+WOIO, 19, Shaker Heights, OH

WUAB, 43, Lorain, OH

WKBF-TV, 61, Cleveland, OH

Darke

WDTN, 2, Dayton, OH (formerly WLWD)

WHIO-TV, 7, Dayton, OH

WKEF, 22, Dayton, OH

+WRGT-TV, 45, Dayton, OH

WCPO-TV, 9, Cincinnati, OH

+WSTR-TV, 64, Cincinnati, OH

Defiance

WTOL-TV, 11, Toledo, OH

WTVG, 13, Toledo, OH (formerly WSPD)

WNWO-TV, 24, Toledo, OH (formerly WDHO)

+WUPW, 36, Toledo, OH

WANE-TV, 15, Fort Wayne, IN

WPTA, 21, Fort Wayne, IN

WKJG-TV, 33, Fort Wayne, IN

+WFFT-TV, 55, Fort Wayne, IN

Delaware

WCMH-TV, 4, Columbus, OH (formerly WLWC)

WSYX, 6, Columbus, OH (formerly WTVN)

WBNS-TV, 10, Columbus, OH

+WTTE, 28, Columbus, OH

Erie

WKYC-TV, 3, Cleveland, OH

WEWS-TV, 5, Cleveland, OH

WJW, 8, Cleveland, OH

+WOIO, 19, Shaker Heights, OH

WUAB, 43, Lorain, OH

WKBF-TV, 61, Cleveland, OH

WTOL-TV, 11, Toledo, OH

WTVG, 13, Toledo, OH (formerly WSPD)

+WUPW, 36, Toledo, OH

Fairfield

WCMH-TV, 4, Columbus, OH (formerly WLWC)

WSYX, 6, Columbus, OH (formerly WTVN)

WBNS-TV, 10, Columbus, OH

+WTTE, 28, Columbus, OH

Fayette

WCMH-TV, 4, Columbus, OH (formerly WLWC)

WSYX, 6, Columbus, OH (formerly WTVN)

WBNS-TV, 10, Columbus, OH

+WTTE, 28, Columbus, OH

WHIO-TV, 7, Dayton, OH

+WRGT-TV, 45, Dayton, OH

Franklin

WCMH-TV, 4, Columbus, OH (formerly WLWC)

WSYX, 6, Columbus, OH (formerly WTVN)

WBNS-TV, 10, Columbus, OH

+WTTE, 28, Columbus, OH

Fulton

WTOL-TV, 11, Toledo, OH

WTVG, 13, Toledo, OH (formerly WSPD)

WNWO-TV, 24, Toledo, OH (formerly WDHO)

+WUPW, 36, Toledo, OH

Gallia

WSAZ-TV, 3, Huntington, WV

WCHS-TV, 8, Charleston, WV

WOWK-TV, 13, Huntington, WV (formerly WHTN)

+WVAH-TV, 11, Charleston, WV (formerly ch. 23)

Geauga

WKYC-TV, 3, Cleveland, OH

WEWS-TV, 5, Cleveland, OH

WJW, 8, Cleveland, OH

+WOIO, 19, Shaker Heights, OH

WUAB, 43, Lorain, OH

WKBF-TV, 61, Cleveland, OH

Greene

WDTN, 2, Dayton, OH (formerly WLWD)

WHIO-TV, 7, Dayton, OH

WKEF, 22, Dayton, OH

+WRGT-TV, 45, Dayton, OH

WCPO-TV, 9, Cincinnati, OH

WKRC-TV, 12, Cincinnati, OH

Guernsey

WTRF-TV, 7, Wheeling, WV

WTOV-TV, 9, Steubenville, OH (formerly WSTV)

+WTTE, 28, Columbus, OH

Hamilton

WLWT, 5, Cincinnati, OH

WCPO-TV 9, Cincinnati, OH

WKRC-TV, 12, Cincinnati, OH

WXIX-TV, 19, Cincinnati, OH

+WSTR-TV, 64, Cincinnati, OH

+WRGT-TV, 45, Dayton, OH

Hancock

WTOL-TV, 11, Toledo, OH

WTVG, 13, Toledo, OH (formerly WSPD)

WNWO-TV, 24, Toledo, OH (formerly WDHO)

+WUPW, 36, Toledo, OH

Hardin

WCMH-TV, 4, Columbus, OH (formerly WLWC)

WSYX, 6, Columbus, OH (formerly WTVN)

WBNS-TV, 10, Columbus, OH

+WTTE, 28, Columbus, OH

WTOL-TV, 11, Toledo, OH

WTVG, 13, Toledo, OH (formerly WSPD)

+WUPW, 36, Toledo, OH

+WTLW, 44, Lima, OH

Harrison

WTR-TV, 7, Wheeling, WV

WTOV-TV, 9, Steubenville, OH (formerly WSTV)

KDKA-TV, 2, Pittsburgh, PA

WTAE-TV, 4, Pittsburgh, PA

WPXI, 11, Pittsburgh, PA (formerly WIIC)

Henry

WTOL-TV, 11, Toledo, OH

WTVG, 13, Toledo, OH (formerly WSPD)

WNWO-TV, 24, Toledo, OH (formerly WDHO)

+WUPW, 36, Toledo, OH

Highland

WLWT, 5, Cincinnati, OH

WCPO-TV, 9, Cincinnati, OH

WKRC-TV, 12, Cincinnati, OH

WXIX-TV, 19, Cincinnati, OH

+WSTR-TV, 64, Cincinnati, OH

WCMH-TV, 4, Columbus, OH (formerly WLWC)

WSYX, 6, Columbus, OH (formerly WTVN)

WBNS-TV, 10, Columbus, OH

WHIO-TV, 7, Dayton, OH

+WRGT-TV, 45, Dayton, OH

Hocking

WCMH-TV, 4, Columbus, OH (formerly WLWC)

WSYX, 6, Columbus, OH (formerly WTVN)

WBNS-TV, 10, Columbus, OH

+WTTE, 28, Columbus, OH

Holmes

WKYC-TV, 3, Cleveland, OH

WEWS-TV, 5, Cleveland, OH

WJW, 8, Cleveland, OH

+WOIO, 19, Shaker Heights, OH

+WTTE, 28, Columbus, OH

Huron

WKYC-TV, 3, Cleveland, OH

WEWS-TV, 5, Cleveland, OH

WJW, 8, Cleveland, OH

+WOIO, 19, Shaker Heights, OH

WUAB, 43, Lorain, OH

WKBF-TV, 61, Cleveland, OH

WTOL-TV, 11, Toledo, OH

WTVG, 13, Toledo, OH (formerly WSPD)

+WUPW, 36, Toledo, OH

Jackson

WSAZ-TV, 3, Huntington, WV

WCHS-TV, 8, Charleston, WV

WOWK-TV, 13, Huntington, WV (formerly WHTN)

+WVAH-TV, 11, Charleston, WV (formerly ch. 23)

Jefferson

WTRF-TV, 7, Wheeling, WV

WTOV-TV, 9, Steubenville, OH (formerly WSTV)

KDKA-TV, 2, Pittsburgh, OH

WTAE-TV, 4, Pittsburgh, OH

WPXI, 11, Pittsburgh, OH (formerly WIIC)

+WPGH-TV, 53, Pittsburgh, OH

Knox

WCMH-TV, 4, Columbus, OH (formerly WLWC)

WSYX, 6, Columbus, OH (formerly WTVN)

WBNS-TV, 10, Columbus, OH

+WTTE, 28, Columbus, OH

Lake

WKYC-TV, 3, Cleveland, OH

WEWS-TV, 5, Cleveland, OH

WJW, 8, Cleveland, OH

+WOIO, 19, Shaker Heights, OH

WUAB, 43, Lorain, OH

WKBF-TV, 61, Cleveland, OH

Lawrence

WSAZ-TV, 3, Huntington, WV

WCHS-TV, 8, Charleston, WV

WOWK-TV, 13, Huntington, WV (formerly WHTN)

+WVAH-TV, 11, Charleston, WV (formerly ch. 23)

Licking

WCMH-TV, 4, Columbus, OH (formerly WLWC)

WSYX, 6, Columbus, OH (formerly WTVN)

WBNS-TV, 10, Columbus, OH

+WTTE, 28, Columbus, OH

Logan

WCMH-TV, 4, Columbus, OH (formerly WLWC)

WSYX, 6, Columbus, OH (formerly WTVN)

WBNS-TV, 10, Columbus, OH

+WTTE, 28, Columbus, OH

WDTN, 2, Dayton, OH (formerly WLWD)

WHIO-TV, 7, Dayton, OH

+WRGT-TV, 45, Dayton, OH

Lorain

WKYC-TV, 3, Cleveland, OH

WEWS-TV, 5, Cleveland, OH

WJW, 8, Cleveland, OH

+WOIO, 19, Shaker Heights, OH

WUAB, 43, Lorain, OH

WKBF-TV, 61, Cleveland, OH

Lucas

WTOL-TV, 11, Toledo, OH

WTVG, 13, Toledo, OH (formerly WSPD)

WNWO-TV, 24, Toledo, OH (formerly WDHO)

+WUPW, 36, Toledo, OH

WJBK, 2, Detroit, MI

WXYZ-TV, 7, Detroi, MIt

+WKBD-TV, 50, Detroit, MI

Madison

WCMH-TV, 4, Columbus, OH (formerly WLWC)

WSYX, 6, Columbus, OH (formerly WTVN)

WBNS-TV, 10, Columbus, OH

+WTTE, 28, Columbus, OH

+WRGT-TV, 45, Dayton, OH

Mahoning

WFMJ-TV, 21, Youngstown, OH

WKBN-TV, 27, Youngstown, OH

WYTV, 33, Youngstown, OH

+WOIO, 19, Shaker Heights, OH

Marion

WCMH-TV, 4, Columbus, OH (formerly WLWC)

WSYX, 6, Columbus, OH (formerly WTVN)

WBNS-TV, 10, Columbus, OH

+WTTE, 28, Columbus, OH

Medina

WKYC-TV, 3, Cleveland, OH

WEWS-TV, 5, Cleveland, OH

WJW, 8, Cleveland, OH

+WOIO, 19, Shaker Heights, OH

WUAB, 43, Lorain, OH

WKBF-TV, 61, Cleveland, OH

Meigs

WSAZ-TV, 3, Huntington, WV

WCHS-TV, 8, Charleston, WV

WOWK-TV, 13, Huntington, WV (formerly WHTN)

+WVAH-TV, 11, Charleston, WV (formerly ch. 23)

Mercer

WDTN, 2, Dayton, OH (formerly WLWD)

WHIO-TV, 7, Dayton, OH

+WRGT-TV, 45, Dayton, OH

WANE-TV, 15, Fort Wayne, IN

WPTA, 21, Fort Wayne, IN

WKJG-TV, 33, Fort Wayne, IN

+WFFT-TV, 55, Fort Wayne, IN

WIMA, 35, Lima, OH (formerly WIMA)

+WTLW, 44, Lima, OH

Miami

WDTN, 2, Dayton, OH (formerly WLWD)

WHIO-TV, 7, Dayton, OH

WPTD, 16, Dayton, OH (formerly WKTR)

WKEF, 22, Dayton, OH

+WRGT-TV, 45, Dayton, OH

Monroe

WTRF-TV, 7, Wheeling, WV

WTOV-TV, 9, Steubenville, OH (formerly WSTV)

WDTV, 5, Clarksburg, WV

WTAE-TV, 4, Pittsburgh, PA

Montgomery

WDTN, 2, Dayton, OH (formerly WLWD)

WHIO-TV, 7, Dayton, OH

WPTD, 16, Dayton, OH (formerly WKTR)

WKEF, 22, Dayton, OH

+WRGT-TV, 45, Dayton, OH

WCPO-TV, 9, Cincinnati, OH

WKRC-TV, 12, Cincinnati, OH

+WSTR-TV, 64, Cincinnati, OH

Morgan

WCMH-TV, 4, Columbus, OH (formerly WLWC)

WSYX, 6, Columbus, OH (formerly WTVN)

WBNS-TV, 10, Columbus, OH

+WTTE, 28, Columbus, OH

WSAZ-TV, 3, Huntington, WV

WCHS-TV, 8, Charleston, WV

WOWK-TV, 13, Huntington, WV (formerly WHTN)

WTAP-TV, 15, Parkersburg, WV

WHIZ-TV, 18, Zanesville, OH

Morrow

WCMH-TV, 4, Columbus, OH (formerly WLWC)

WSYX, 6, Columbus, OH (formerly WTVN)

WBNS-TV, 10, Columbus, OH

Muskingum

WHIZ-TV, 18, Zanesville, OH

WCMH-TV, 4, Columbus, OH (formerly WLWC)

WSYX, 6, Columbus, OH (formerly WTVN)

WBNS-TV, 10, Columbus, OH

+WTTE, 28, Columbus, OH

Noble

WTRF-TV, 7, Wheeling, WV

WTOV-TV, 9, Steubenville, OH (formerly WSTV)

Ottawa

WTOL-TV, 11, Toledo, OH

WTVG, 13, Toledo, OH (formerly WSPD)

WNWO-TV, 24, Toledo, OH (formerly WDHO)

+WUPW, 36, Toledo, OH

WEWS-TV, 5, Cleveland, OH

WJBK, 2, Detroit, MI

Paulding

WANE-TV, 15, Fort Wayne, IN

WPTA, 21, Fort Wayne, IN

WKJG-TV, 33, Fort Wayne, IN

Perry

WCMH-TV, 4, Columbus, OH (formerly WLWC)

WSYX, 6, Columbus, OH (formerly WTVN)

WBNS-TV, 10, Columbus, OH

+WTTE, 28, Columbus, OH

WHIZ-TV, 18, Zanesville, OH

Pickaway

WCMH-TV, 4, Columbus, OH (formerly WLWC)

WSYX, 6, Columbus, OH (formerly WTVN)

WBNS-TV, 10, Columbus, OH

+WTTE, 28, Columbus, OH

Pike

WCMH-TV, 4, Columbus, OH (formerly WLWC)

WSYX, 6, Columbus, OH (formerly WTVN)

WBNS-TV, 10, Columbus, OH

WSAZ-TV, 3, Huntington, WV

WOWK-TV, 13, Huntington (formerly WHTN)

+WVAH-TV, 11, Charleston, WV (formerly ch. 23)

Portage

WKYC-TV, 3, Cleveland, OH

WEWS-TV, 5, Cleveland, OH

WJW, 8, Cleveland, OH

+WOIO, 19, Shaker Heights, OH

WUAB, 43, Lorain, OH

WKBF-TV, 61, Cleveland, OH

Preble

WDTN, 2, Dayton, OH (formerly WLWD)

WHIO-TV, 7, Dayton, OH

WKEF, 22, Dayton, OH

+WRGT-TV, 45, Dayton, OH

WLWT, 5, Cincinnati, OH

WCPO-TV, 9, Cincinnati, OH

WKRC-TV, 12, Cincinnati, OH

WXIX-TV, 19, Cincinnati, OH

+WSTR-TV, 64, Cincinnati, OH

Putnam

WTOL-TV, 11, Toledo, OH

WTVG, 13, Toledo, OH (formerly WSPD)

WNWO-TV, 24, Toledo, OH (formerly WDHO)

+WUPW, 36, Toledo. OH

WLIO, 35, Lima, OH (formerly WIMA)

+WTLW, 44, Lima, OH

+WFFT-TV, 55, Fort Wayne, IN

Richland

WKYC-TV, 3, Cleveland, OH

WEWS-TV, 5, Cleveland, OH

WJW, 8, Cleveland, OH

+WOIO, 19, Shaker Heights, OH

WBNS-TV, 10, Columbus, OH

+WTTE, 28, Columbus, OH

Ross

WCMH-TV, 4, Columbus, OH (formerly WLWC)

WSYX, 6, Columbus, OH (formerly WTVN)

WBNS-TV, 10, Columbus, OH

+WTTE, 28, Columbus, OH

Sandusky

WTOL-TV, 11, Toledo, OH

WTVG, 13, Toledo, OH (formerly WSPD)

WNWO-TV, 24, Toledo, OH (formerly WDHO)

+WUPW, 36, Toledo, OH

Scioto

WSAZ-TV, 3, Huntington, WV

WCHS-TV, 8, Charleston, WV

WOWK-TV, 13, Huntington, WV (formerly WHTN)

+WVAH-TV, 11, Charleston, WV (formerly ch. 23)

Seneca

WTOL-TV, 11, Toledo, OH

WTVG, 13, Toledo, OH (formerly WSPD)

WNWO-TV, 24, Toledo, OH (formerly WDHO)

+WUPW, 36, Toledo, OH

WEWS-TV, 5, Cleveland, OH

Shelby

WDTN, 2, Dayton, OH (formerly WLWD)

WHIO-TV, 7, Dayton, OH

WKEF, 22, Dayton, OH

+WRGT-TV, 45, Dayton, OH

Stark

WKYC-TV, 3, Cleveland, OH

WEWS-TV, 5, Cleveland, OH

WJW, 8, Cleveland, OH

+WOIO, 19, Shaker Heights, OH

WUAB, 43, Lorain, OH

WKBF-TV, 61, Cleveland, OH

+WOAC, 67, Canton, OH

Summit

WKYC-TV, 3, Cleveland, OH

WEWS-TV, 5, Cleveland, OH

WJW, 8, Cleveland, OH

+WOIO, 19, Shaker Heights, OH

WAKC, 23, Akron, OH (formerly WAKR)

WUAB, 43, Lorain, OH

WKBF-TV, 61, Cleveland, OH

Trumbull

WFMJ-TV, 21, Youngstown, OH

WKBN-TV, 27, Youngstown, OH

WYTV, 33, Youngstown, OH

WKYC-TV, 3, Cleveland, OH

WEWS-TV, 5, Cleveland, OH

WJW, 8, Cleveland, OH

+WOIO, 19, Shaker Heights, OH

Tuscarawas

WKYC-TV, 3, Cleveland, OH

WEWS-TV, 5, Cleveland, OH

WJW, 8, Cleveland, OH

+WOIO, 19, Shaker Heights, OH

WTRF-TV, 7, Wheeling, WV

WTOV-TV, 9, Steubenville, OH (formerly WSTV)

Union

WCMH-TV, 4, Columbus, OH (formerly WLWC)

WSYX, 6, Columbus, OH (formerly WTVN)

WBNS-TV, 10, Columbus, OH

+WTTE, 28, Columbus, OH

Van Wert

WANE-TV, 15, Fort Wayne, IN

WPTA, 21, Fort Wayne, IN

WKJG-TV, 33, Fort Wayne, IN

+WFFT-TV, 55, Fort Wayne, IN

WLIO, 35, Lima, OH (formerly WIMA)

+WTLW, 44, Lima, OH

Vinton

WSAZ-TV, 3, Huntington, WV

WCHS-TV, 8, Charleston, WV

WOWK-TV, 13, Huntington, WV (formerly WHTN)

WCMH-TV, 4, Columbus, OH (formerly WLWC)

WSYX, 6, Columbus, OH (formerly WTVN)

WBNS-TV, 10, Columbus, OH

Warren

WLWT, 5, Cincinnati, OH

WCPO-TV, 9, Cincinnati, OH

WKRC-TV, 12, Cincinnati, OH

WXIX-TV, 19, Cincinnati, OH

+WSTR-TV, 64, Cincinnati, OH

WDTN, 2, Dayton, OH (formerly WLWD)

WHIO-TV, 7, Dayton, OH

WKEF, 22, Dayton, OH

+WRGT-TV, 45, Dayton, OH

Washington

#WSAZ-TV, 3, Huntington, WV ²¹

²¹ Affected community is Marietta, OH.

WCHS-TV, 8, Charleston, WV

WOWK-TV, 13, Huntington, WV (formerly WHTN)

+WVAH-TV, 11, Charleston, WV (formerly ch. 23)

WTAP-TV, 15, Parkersburg, WV

WTRF-TV, 7, Wheeling, WV

Wayne

WKYC-TV, 3, Cleveland, OH

WEWS-TV, 5, Cleveland, OH

WJW, 8, Cleveland, OH

+WOIO, 19, Shaker Heights, OH

WUAB, 43, Lorain, OH

WKBF-TV, 61, Cleveland, OH

+WOAC, 67, Akron, OH

Williams

WTOL-TV, 11, Toledo, OH

WTVG, 13, Toledo, OH (formerly WSPD)

WNWO-TV, 24, Toledo, OH (formerly WDHO)

+WUPW, 36, Toledo, OH

WANE-TV, 15, Fort Wayne, IN

WPTA, 21, Fort Wayne, IN

WKJG-TV, 33, Fort Wayne, IN

+WFFT-TV, 55, Fort Wayne, IN

Wood

WTOL-TV, 11, Toledo, OH

WTVG, 13, Toledo, OH (formerly WSPD)

WNWO-TV, 24, Toledo, OH (formerly WDHO)

+WUPW, 36, Toledo, OH

WKBD-TV, 50, Detroit, MI

Wyandot

WTOL-TV, 11, Toledo, OH

WTVG, 13, Toledo, OH (formerly WSPD)

WNWO-TV, 24, Toledo, OH (formerly WDHO)

+WUPW, 36, Toledo, OH

WCMH-TV, 4, Columbus, OH (formerly WLWC)

WBNS-TV, 10, Columbus, OH

+WTTE, 28, Columbus, OH

Ashtabula—WUAB

Ashtabula Township—WUAB

Austinburg Township—WUAB

Austintown Township—WJW

Canfield—WJW

Canfield Township (portions)—WJW

Geneva—WUAB

Geneva Township—WUAB

Geneva-on-the-Lake Village—WUAB

Harpersfield Township—WUAB

Jefferson Village—WUAB

Jefferson Township—WUAB

Kingsville Township—WUAB

Madison Village—WUAB

McDonald Township—WJW

Plymouth Township—WUAB

Sabina—WSYX, WBNS-TV

Saybrook Township—WUAB

Weathersfield Township—WJW

OKLAHOMA

Adair

KJRH, 2, Tulsa, OK (formerly KTEW)

KOTV, 6, Tulsa, OK

KTUL, 8, Tulsa, OK

+KOKI-TV, 23, Tulsa, OK

Alfalfa

KFOR-TV, 4, Oklahoma City, OK (formerly WKY)

KOCO-TV, 5, Oklahoma City, OK

KWTV, 9, Oklahoma City, OK

Atoka

KTEN, 10, Ada, OK

KXII, 12, Sherman, TX

Beaver

KBSD-TV, 6, Ensign, KS (formerly KTVC)

KSNG, 11, Garden City, KS (formerly KGLD)

KUPK-TV, 13, Garden City, KS

Beckham

KFDA-TV, 10, Amarillo, TX

KSWO-TV, 7, Lawton, OK

+KOKH-TV, 25, Oklahoma City, OK

Blaine

KFOR-TV, 4, Oklahoma City, OK (formerly WKY)

KOCO-TV, 5, Oklahoma City, OK

KWTV, 9, Oklahoma City, OK

+KAUT-TV, 43, Oklahoma City, OK

Bryan

KTEN, 10, Ada, OK

KXII, 12, Sherman, TX

KDFW, 4, Dallas, TX

WFAA-TV, 8, Dallas, TX

KTVT, 11, Fort Worth, TX

Caddo

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KOCB, 34, Oklahoma City, OK (formerly KGMC)

+KAUT-TV, 43, Oklahoma City, OK

Canadian

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Carter

KTEN, 10, Ada, OK

KXII, 12, Sherman, TX

KWTV, 9, Oklahoma City, OK

KFDX-TV, 3, Wichita Falls, TX

KAUZ-TV, 6, Wichita Falls, TX

Cherokee

KJRH, 2, Tulsa, OK (formerly KTEW)

KOTV, 6, Tulsa, OK

KTUL, 8, Tulsa, OK

+KOKI-TV, 23, Tulsa, OK

Choctaw

KTVT, 11, Fort Worth, TV

KTEN, 10, Ada, OK

KXII, 12, Sherman, TX

Cimarron

KAMR-TV, 4, Amarillo, TX (formerly KGNC)

KVII-TV, 7, Amarillo, TX

KFDA-TV, 10, Amarillo, TX

Cleveland

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KAUT-TV, 43, Oklahoma City, OK

Coal

KTEN, 10, Ada, OK

KXII, 12, Sherman, TX

KFOR-TV, 4, Oklahoma City, OK (formerly WKY)

Comanche

KFDX-TV, 3, Wichita Falls, TX

KAUZ-TV, 6, Wichita Falls, TX

KSWO-TV, 7, Lawton, OK

+KJTL, 18, Wichita Falls, TX

Cotton

KFDX-TV, 3, Wichita Falls, TX

KAUZ-TV, 6, Wichita Falls, TX

KSWO-TV, 7, Lawton, OK

Craig

KJRH, 2, Tulsa, OK (formerly KTEW)

KOTV, 6, Tulsa, OK

KTUL, 8, Tulsa, OK

+KOKI-TV, 23, Tulsa, OK

KOAM-TV, 7, Pittsburg, KS

Creek

KJRH, 2, Tulsa, OK (formerly KTEW)

KOTV, 6, Tulsa, OK

KTUL, 8, Tulsa, OK

+KOKI-TV, 23, Tulsa, OK

Custer

KFOR-TV, 4, Oklahoma City, OK (formerly WKY)

KOCO-TV, 5, Oklahoma City, OK

KWTV, 9, Oklahoma City, OK

+KOCB, 34, Oklahoma City, OK (formerly KGMC)

+KAUT-TV, 43, Oklahoma City, OK

Delaware

KJRH, 2, Tulsa, OK (formerly KTEW)

KOTV, 6, Tulsa, OK

KTUL, 8, Tulsa, OK

+KOKI-TV, 23, Tulsa, OK

KOAM-TV, 7, Pittsburg, KS

KODE-TV, 12, Joplin, MO

Dewey

KFOR-TV, 4, Oklahoma City, OK (formerly WKY)

KOCO-TV, 5, Oklahoma City, OK

KWTV, 9, Oklahoma City, OK

Ellis

KFOR-TV, 4, Oklahoma City, OK (formerly WKY)

KOCO-TV, 5, Oklahoma City, OK

KWTV, 9, Oklahoma City, OK

KAMR-TV, 4, Amarillo, TX (formerly KGNC)

KFDA-TV, 10, Amarillo, TX

Garfield

KFOR-TV, 4, Oklahoma City, OK (formerly WKY)

KOCO-TV, 5, Oklahoma City, OK

KWTV, 9, Oklahoma City, OK

+KOKH-TV, 25, Oklahoma City, OK

+KAUT-TV, 43, Oklahoma City, OK

Garvin

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KTEN, 10, Ada, OK

Grady

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Grant

KFOR-TV, 4, Oklahoma City, OK (formerly WKY)

KOCO-TV, 5, Oklahoma City, OK

KWTV, 9, Oklahoma City, OK

+KOKH-TV, 25, Oklahoma City, OK

KSNW, 3, Wichita, KS (formerly KARD)

KAKE-TV, 10, Wichita, KS

Greer

KFDX-TV, 3, Wichita Falls, TX

KAUZ-TV, 6, Wichita Falls, TX

KSWO-TV, 7, Lawton, OK

KFDA-TV, 10, Amarillo,TX

Harmon

KFDX-TV, 3, Wichita Falls, TX

KAUZ-TV, 6, Wichita Falls, TX

KSWO-TV, 7, Lawton, OK

Harper

KFOR-TV, 4, Oklahoma City, OK (formerly WKY)

KOCO-TV, 5, Oklahoma City, OK

KWTV, 9, Oklahoma City, OK

KBSD-TV, 6, Ensign, KS (formerly KTVC)

KUPK-TV, 13, Garden City, KS

Haskell

KTUL, 8, Tulsa, OK

+KOKI-TV, 23, Tulsa, OK

KFSM-TV, 5, Fort Smith, AR (formerly KFSA)

Hughes

KFOR-TV, 4, Oklahoma City, OK (formerly WKY)

KOCO-TV, 5, Oklahoma City, OK

KWTV, 9, Oklahoma City, OK

+KOKH-TV, 25, Oklahoma City, OK

KTEN, 10, Ada, OK

KJRH, 2, Tulsa, OK (formerly KTEW)

KOTV, 6, Tulsa, OK

KTUL, 8, Tulsa, OK

+KOKI-TV, 23, Tulsa, OK

Jackson

KFDX-TV, 3, Wichita Falls, TX

KAUZ-TV, 6, Wichita Falls, TX

KSWO-TV, 7, Lawton, OK

+KJTL, 18, Wichita Falls, TX

Jefferson

KFDX-TV, 3, Wichita Falls, TX

KAUZ-TV, 6, Wichita Falls, TX

KSWO-TV, 7, Lawton, OK

+KJTL, 18, Wichita Falls, TX

KXII, 12, Sherman, TX

Johnston

KTEN, 10, Ada, OK

KXII, 12, Sherman, TX

Kay

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

KJRH, 2, Tulsa, O, OKK (formerly KTEW)

KOTV, 6, Tulsa, OK

KSNW, 3, Wichita, KS (formerly KARD)

KAKE-TV, 10, Wichita, KS

Kingfisher

KFOR-TV, 4, Oklahoma City, OK (formerly WKY)

KOCO-TV, 5, Oklahoma City, OK

KWTV, 9, Oklahoma City, OK

+KTBO-TV, 14, Oklahoma City, OK

+KOKH-TV, 25, Oklahoma City, OK

+KOCB, 34, Oklahoma City, OK (formerly KGMC)

+KAUT-TV, 43, Oklahoma City, OK

Kiowa

KFDX-TV, 3, Wichita Falls, TX

KAUZ-TV, 6, Wichita Falls, TX

KSWO-TV, 7, Lawton, OK

KFOR-TV, 4, Oklahoma City, OK (formerly WKY)

KOCO-TV, 5, Oklahoma City, OK

Latimer

KTUL, 8, Tulsa, OK

KTEN, 10, Ada, OK

KFSM-TV, 5, Fort Smith, AR (formerly KFSA)

Le Flore

KFSM-TV, 5, Fort Smith, AR (formerly KFSA)

KTUL, 8, Tulsa, OK

Lincoln

KFOR-TV, 4, Oklahoma City, OK (formerly WKY)

KOCO-TV, 5, Oklahoma City, OK

KWTV, 9, Oklahoma City, OK

+KAUT-TV, 43, Oklahoma City, OK

Logan

KFOR-TV, 4, Oklahoma City, OK (formerly WKY)

KOCO-TV, 5, Oklahoma City, OK

KWTV, 9, Oklahoma City, OK

+KOKH-TV, 25, Oklahoma City, OK

+KOCB, 34, Oklahoma Cit, OK (formerly KGMC)

+KAUT-TV, 43, Oklahoma City, OK

Love

KDFW, 4, Dallas, TX

WFAA-TV, 8, Dallas, TX

KTVT, 11, Fort Worth, TX

KXII, 12, Sherman, TX

KFDX-TV, 3, Wichita Falls, TX

KAUZ-TV, 6, Wichita Falls, TX

KSWO-TV, 7, Lawton, OK

McClain

KFOR-TV, 4, Oklahoma City, OK (formerly WKY)

KOCO-TV, 5, Oklahoma City, OK

KWTV, 9, Oklahoma City, OK

+KOCB, 34, Oklahoma City, OK (formerly KGMC)

McCurtain

KTBS-TV, 3, Shreveport, LA

KTAL-TV, 12, Shreveport, LA

KFSM-TV, 5, Fort Smith, AR (formerly KFSA)

McIntosh

KJRH, 2, Tulsa, OK (formerly KTEW)

KOTV, 6, Tulsa, OK

KTUL, 8, Tulsa, OK

+KOKI-TV, 23, Tulsa, OK

Major

KFOR-TV, 4, Oklahoma City, OK (formerly WKY)

KOCO-TV, 5, Oklahoma City, OK

KWTV, 9, Oklahoma City, OK

Marshall

KTEN, 10, Ada, OK

KXII, 12, Sherman, TX

KDFW, 4, Dallas, TX

Mayes

KJRH, 2, Tulsa, OK (formerly KTEW)

KOTV, 6, Tulsa, OK

KTUL, 8, Tulsa, OK

+KOKI-TV, 23, Tulsa, OK

+KWHB, 47, Tulsa, OK

Murray

KFOR-TV, 4, Oklahoma City, OK (formerly WKY)

KOCO-TV, 5, Oklahoma City, OK

KWTV, 9, Oklahoma City, OK

KTEN, 10, Ada, OK

KXII, 12, Sherman, TX

Muskogee

KJRH, 2, Tulsa, OK (formerly KTEW)

KOTV, 6, Tulsa, OK

KTUL, 8, Tulsa, OK

+KOKI-TV, 23, Tulsa, OK

+KWHB, 47, Tulsa, OK

Noble

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

Nowata

KJRH, 2, Tulsa, OK (formerly KTEW)

KOTV, 6, Tulsa, OK

KTUL, 8, Tulsa, OK

+KOKI-TV, 23, Tulsa, OK

Okfuskee

KJRH, 2, Tulsa, OK (formerly KTEW)

KOTV, 6, Tulsa, OK

KTUL, 8, Tulsa, OK

+KOKI-TV, 23, Tulsa, OK

KTEN, 10, Ada, OK

KFOR-TV, 4, Oklahoma City, OK (formerly WKY)

KOCO-TV, 5, Oklahoma City, OK

KWTV, 9, Oklahoma City, OK

Oklahoma

KFOR-TV, 4, Oklahoma City, OK (formerly WKY)

KOCO-TV, 5, Oklahoma City, OK

KWTV, 9, Oklahoma City, OK

Okmulgee

KJRH, 2, Tulsa, OK (formerly KTEW)

KOTV, 6, Tulsa, OK

KTUL, 8, Tulsa, OK

+KOKI-TV, 23, Tulsa, OK

+KWHB, 47, Tulsa, OK

Osage

KJRH, 2, Tulsa, OK (formerly KTEW)

KOTV, 6, Tulsa, OK

KTUL, 8, Tulsa, OK

+KOKI-TV, 23, Tulsa, OK

Ottawa

KOAM-TV, 7, Pittsburg, KS

KODE-TV, 12, Joplin, MO

KSNF, 16, Joplin, MO (formerly KUHI)

KOTV, 6, Tulsa, OK

KTUL, 8, Tulsa, OK

+KOKI-TV, 23, Tulsa, OK

Pawnee

KJRH, 2, Tulsa, OK (formerly KTEW)

KOTV, 6, Tulsa, OK

KTUL, 8, Tulsa, OK

Payne

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KJRH, 2, Tulsa, OK (formerly KTEW)

KOTV, 6, Tulsa, OK

Pittsburg

KJRH, 2, Tulsa, OK (formerly KTEW)

KOTV, 6, Tulsa, OK

KTUL, 8, Tulsa, OK

+KOKI-TV, 23, Tulsa, OK

KTEN, 10, Ada, OK

Pontotoc

KTEN, 10, Ada, OK

KFOR-TV, 4, Oklahoma City, OK (formerly WKY)

KOCO-TV, 5, Oklahoma City, OK

KWTV, 9, Oklahoma City, OK

+KOKH-TV, 25, Oklahoma City, OK

KAUT-TV, 43, Oklahoma City, OK

Pottawatomie

KFOR-TV, 4, Oklahoma City, OK (formerly WKY)

KOCO-TV, 5, Oklahoma City, OK

KWTV, 9, Oklahoma City, OK

+KOKH-TV, 25, Oklahoma City, OK

+KAUT-TV, 43, Oklahoma City, OK

Pushmataha

KTEN, 10, Ada, OK

KXII, 12, Sherman, TX

Roger Mills

KFDA-TV, 10, Amarillo, TX

KFOR-TV, 4, Oklahoma City, OK (formerly WKY)

Rogers

KJRH, 2, Tulsa, OK (formerly KTEW)

KOTV, 6, Tulsa, OK

KTUL, 8, Tulsa, OK

+KOKI-TV, 23, Tulsa, OK

+KWHB, 47, Tulsa, OK

Seminole

KFOR-TV, 4, Oklahoma City, OK (formerly WKY)

KOCO-TV, 5, Oklahoma City, OK

KWTV, 9, Oklahoma City, OK

+KOKH-TV, 25, Oklahoma City, OK

+KOCB, 34, Oklahoma City, OK (formerly KGMC)

+KAUT-TV, 43, Oklahoma City, OK

KTEN, 10, Ada, OK

Sequoyah

KJRH, 2, Tulsa, OK (formerly KTEW)

KOTV, 6, Tulsa, OK

KTUL, 8, Tulsa, OK

+KOKI-TV, 23, Tulsa, OK

KFSM-TV, 5, Fort Smith, AR (formerly KFSA)

Stephens

KFDX-TV, 3, Wichita Falls, TX

KAUZ-TV, 6, Wichita Falls, TX

KSWO-TV, 7, Lawton, OK

+KJTL, 18, Wichita Falls, TX

+KOKH-TV, 25, Oklahoma City, OK

Texas

KAMR-TV, 4, Amarillo, TX (formerly KGNC)

KVII-TV, 7, Amarillo, TX

KFDA-TV, 10, Amarillo, TX

KBSD-TV, 6, Ensign, KS (formerly KTVC)

KSNG, 11, Garden City, KS (formerly KGLD)

KUPK-TV, 13, Garden City, KS

Tillman

KFDX-TV, 3, Wichita Falls, TX

KAUZ-TV, 6, Wichita Falls, TX

KSWO-TV, 7, Lawton, OK

Tulsa

KJRH, 2, Tulsa, OK (formerly KTEW)

KOTV, 6, Tulsa, OK

KTUL, 8, Tulsa, OK

+KOKI-TV, 23, Tulsa, OK

+KWHB, 47, Tulsa, OK

Wagoner

KJRH, 2, Tulsa, OK (formerly KTEW)

KOTV, 6, Tulsa, OK

KTUL, 8, Tulsa, OK

+KOKI-TV, 23, Tulsa, OK

+KWHB, 47, Tulsa, OK

Washington

KJRH, 2, Tulsa, OK (formerly KTEW)

KOTV, 6, Tulsa, OK

KTUL, 8, Tulsa, OK

+KOKI-TV, 23, Tulsa, OK

Washita

KFOR-TV, 4, Oklahoma City, OK (formerly WKY)

KOCO-TV, 5, Oklahoma City, OK

KWTV, 9, Oklahoma City, OK

+KOKH-TV, 25, Oklahoma City, OK

KFDX-TV, 3, Wichita Falls, TX

KAUZ-TV, 6, Wichita Falls, TX

KSWO-TV, 7, Lawton, OK

Woods

KFOR-TV, 4, Oklahoma City, OK (formerly WKY)

KOCO-TV, 5, Oklahoma City, OK

KWTV, 9, Oklahoma City, OK

Woodward

KFOR-TV, 4, Oklahoma City, OK (formerly WKY)

KOCO-TV, 5, Oklahoma City, OK

KWTV, 9, Oklahoma City, OK

Marlow—KFOR-TV, KOCO-TV, KWTV

OREGON

Baker

KBCI-TV, 2, Boise, ID (formerly KBOI)

KTVB, 7, Boise, ID

Benton

KATU, 2, Portland, OR

KOIN, 6, Portland, OR

KPTV, 12, Portland, OR

KEZI, 9, Eugene, OR

KVAL-TV, 13, Eugene, OR

Clackamas

KATU, 2, Portland, OR

KOIN, 6, Portland, OR

KGW, 8, Portland, OR

KPTV, 12, Portland, OR

+KPDX, 49, Vancouver, WA

Clatsop

KATU, 2, Portland, OR

KOIN, 6, Portland, OR

KGW, 8, Portland, OR

KPTV, 12, Portland, OR

KING-TV, 5, Seattle, WA

Columbia

KATU, 2, Portland, OR

KOIN, 6, Portland, OR

KGW, 8, Portland, OR

KPTV, 12, Portland, OR

+KPDX, 49, Vancouver, WA

Coos

KCBY-TV, 11, Coos Bay, OR

KOBI, 5, Medford, OR

Crook

KATU, 2, Portland, OR

KOIN, 6, Portland, OR

KGW, 8, Portland, OR

KPTV, 12, Portland, OR

KEZI, 9, Eugene, OR

+KTVZ, 21, Bend, OR

Curry

KIEM-TV, 3, Eureka, CA

KVIQ-TV, 6, Eureka, CA

Deschutes

+KTVZ, 21, Bend, OR

Douglas

KPIC, 4, Roseburg, OR

KEZI, 9, Eugene, OR

KOBI, 5, Medford, OR

Gilliam

KEPR-TV, 19, Pasco, WA

KNDU, 25, Richland, WA

KOIN, 6, Portland, OR

KGW, 8, Portland, OR

KPTV, 12, Portland, OR

Grant

KBCI-TV, 2, Boise, ID (formerly KBOI)

KTVB, 7, Boise, ID

Harney

Not available.

Hood River

KATU, 2, Portland, OR

KOIN, 6, Portland, OR

KGW, 8, Portland, OR

KPTV, 12, Portland, OR

Jackson

KOBI, 5, Medford, OR

KTVL, 10, Medford, OR (formerly KMED)

Jefferson

KATU, 2, Portland, OR

KOIN, 6, Portland, OR

KGW, 8, Portland, OR

+KTVZ, 21, Bend

Josephine

KOBI, 5, Medford, OR

KTVL, 10, Medford, OR (formerly KMED)

Klamath

KOTI, 2, Medford, OR

KTVL, 10, Medford, OR (formerly KMED)

Lake

KOTI, 2, Medford, OR

Lane Inner

KEZI, 9, Eugene, OR

KVAL-TV, 13, Eugene, OR

Lane Outer

KEZI, 9, Eugene, OR

KVAL-TV, 13, Eugene, OR

KOIN, 6, Portland, OR

Lincoln

KATU, 2, Portland, OR

KOIN, 6, Portland, OR

KGW, 8, Portland, OR

KPTV, 12, Portland, OR

KEZI, 9, Eugene, OR

KOAB-TV, 3, Bend, OR (formerly KVDO)

Linn

KATU, 2, Portland, OR

KOIN, 6, Portland, OR

KGW, 8, Portland, OR

KPTV, 12, Portland, OR

KEZI, 9, Eugene, OR

KVAL-TV, 13, Eugene, OR

KOAB-TV, 3, Bend, OR (formerly KVDO)

Malheur

KBCI-TV, 2, Boise, ID (formerly KBOI)

KTVB, 7, Boise, ID

Marion

KATU, 2, Portland, OR

KOIN, 6, Portland, OR

KGW, 8, Portland, OR

KPTV, 12, Portland, OR

+KPDX, 49, Portland, OR

KOAB-TV, 3, Bend, OR (formerly KVDO)

Morrow

KEPR-TV, 19, Pasco, WA

KNDU, 25, Richland, WA

KVEW, 42, Kennewick, WA

KATU, 2, Portland, OR

KOIN, 6, Portland, OR

KGW, 8, Portland, OR

Multnomah

KATU, 2, Portland, OR

KOIN, 6, Portland, OR

KGW, 8, Portland, OR

KPTV, 12, Portland, OR

+KPDX, 49, Portland, OR

Polk

KATU, 2, Portland, OR

KOIN, 6, Portland, OR

KGW, 8, Portland, OR

KPTV, 12, Portland, OR

KOAB-TV, 3, Bend, OR (formerly KVDO)

Sherman

KATU, 2, Portland, OR

KOIN, 6, Portland, OR

KGW, 8, Portland, OR

KPTV, 12, Portland, OR

Tillamook

KATU, 2, Portland, OR

KOIN, 6, Portland, OR

KGW, 8, Portland, OR

KPTV, 12, Portland, OR

KOAB-TV, 3, Bend, OR (formerly KVDO)

Umatilla

KEPR-TV, 19, Pasco, WA

KNDU, 25, Richland, WA

KVEW, 42, Kennewick, WA

Union

KREM-TV, 2, Spokane, WA

KXLY-TV, 4, Spokane, WA

KHQ-TV, 6, Spokane, WA

KTVB, 7, Boise, ID

Wallowa

KREM-TV, 2, Spokane, WA

KXLY-TV, 4, Spokane, WA

KHQ-TV, 6, Spokane, WA

Wasco

KATU, 2, Portland, OR

KOIN, 6, Portland, OR

KGW, 8, Portland, OR

KPTV, 12, Portland, OR

Washington

KATU, 2, Portland, OR

KOIN, 6, Portland, OR

KGW, 8, Portland, OR

KPTV, 12, Portland, OR

+KPDX, 49, Portland, OR

Wheeler

Not available.

Yamhill

KATU, 2, Portland, OR

KOIN, 6, Portland, OR

KGW, 8, Portland, OR

KPTV, 12, Portland, OR

KOAB-TV, 3, Bend, OR (formerly KVDO)

PENNSYLVANIA

Adams

WGAL, 8, Lancaster, PA

+WPMT, 43, York, PA

WMAR-TV, 2, Baltimore, MD

WBAL-TV, 11, Baltimore, MD

WJZ-TV, 13, Baltimore, MD

WTTG, 5, Washington, DC

Allegheny

KDKA-TV, 2, Pittsburgh, PA

WTAE-TV, 4, Pittsburgh, PA

WPXI, 11, Pittsburgh, PA (formerly WIIC)

+WCWB, 22, Pittsburg, PA (formerly WPTT)

WPGH-TV, 53, Pittsburgh, PA

Armstrong

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP-TV, 8, Johnstown, PA

Beaver

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTOV-TV, 9, Steubenville, OH (formerly WSTV)

Bedford

WJAC-TV, 6, Johnstown, PA

+WWCP, 8, Johnstown, PA

WTAJ-TV, 10, Altoona, PA (formerly WFBG)

Berks

KYW-TV, 3, Philadelphia, PA

WPVI-TV, 6, Philadelphia, PA (formerly WFIL)

WCAU, 10, Philadelphia, PA

WPHL-TV, 17, Philadelphia, PA

+WTXF-TV, 29, Philadelphia, PA (formerly WTAF)

WKBS-TV, 48, Altoona, PA

+WPSG, 57, Philadelphia, PA (formerly WGBS)

WGAL, 8, Lancaster, PA

Blair

WJAC-TV, 6, Johnstown, PA

+WWCP, 8, Johnstown, PA

WTAJ-TV, 10, Altoona, PA (formerly WFBG)

Bradford

WBNG-TV, 12, Binghamton, NY (formerly WNBF)

WETM-TV, 18, Elmira, NY (formerly WSYE)

WENY-TV, 36, Elmira, NY

+WOLF-TV, 38, Scranton, PA

Bucks

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Butler

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP, 8, Johnstown, PA

Cambria

WJAC-TV, 6, Johnstown, PA

+WWCP, 8, Johnstown, PA

WTAJ-TV, 10, Altoona, PA (formerly WFBG)

KDKA-TV, 2, Pittsburgh, PA

WTAE-TV, 4, Pittsburgh, PA

Cameron

Not available.

Carbon

KYW-TV, 3, Philadelphia, PA

WPVI-TV, 6, Philadelphia, PA (formerly WFIL)

WCAU, 10, Philadelphia, PA

WNEP-TV, 16, Scranton, PA

Centre

WJAC-TV, 6, Johnstown, PA

+WWCP, 8, Johnstown, PA

WTAJ-TV, 10, Altoona, PA (formerly WFBG)

Chester

KYW-TV, 3, Philadelphia, PA

WPVI-TV, 6, Philadelphia, PA (formerly WFIL)

WCAU, 10, Philadelphia, PA

WPHL-TV, 17, Philadelphia, PA

WTXF-TV, 29, Philadelphi, PA (formerly WTAF)

WKBS-TV, 48, Altoona, PA

+WPSG, 57, Philadelphia, PA (formerly WGBS)

Clarion

KDKA-TV, 2, Pittsburgh, PA

WTAE-TV, 4, Pittsburgh, PA

WPXI, 11, Pittsburgh, PA (formerly WIIC)

+WCWB, 22, Pittsburgh, PA (formerly WPTT)

WJAC-TV, 6, Johnstown, PA

+WWCP, 8, Johnstown, PA

Clearfield

WJAC-TV, 6, Johnstown, PA

+WWCP, 8, Johnstown, PA

WTAJ-TV, 10, Altoona, PA (formerly WFBG)

Clinton

WTAJ-TV, 10, Altoona, PA (formerly WFBG)

Columbia

WNEP-TV, 16, Scranton, PA

WYOU, 22, Scranton, PA (formerly WDAU)

WBRE-TV, 28, WilkeS-Barre, PA

+WOLF-TV, 38, Scranton, PA

Crawford

WICU-TV, 12, Erie, PA

WJET-TV, 24, Erie, PA

WSEE, 35, Erie, PA

Cumberland

WGAL, 8, Lancaster, PA

WHP-TV, 21, Harrisburg, PA

WHTM-TV, 27, Harrisburg, PA (formerly WTPA)

+WPMT, 43, York, PA

Dauphin

WGAL, 8, Lancaster, PA

WHP-TV, 21, Harrisburg, PA

WHTM-TV, 27, Harrisburg, PA (formerly WTPA)

+WPMT, 43, York, PA

Delaware

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (formerly WGBS)

Elk

WJAC-TV, 6, Johnstown, PA

+WWCP, 8, Johnstown, PA

WTAJ-TV, 10, Altoona, PA (formerly WFBG)

Erie

WICU-TV, 12, Erie, PA

WJET-TV, 24, Erie, PA

WSEE, 35, Erie, PA

Fayette

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

+WWCP, 8, Johnstown, PA

Forest

WICU-TV, 12, Erie, PA

WJAC-TV, 6, Johnstown, PA

KDKA-TV, 2, Pittsburgh, PA

WTAE-TV, 4, Pittsburgh, PA

Franklin

WRC-TV, 4, Washington, DC

WTTG, 5, Washington, DC

WJLA-TV, 7, Washington, DC (formerly WMAL)

WUSA, 9, Washington, DC (formerly WTOP)

WMAR-TV, 2, Baltimore, MD

WBAL-TV, 11, Baltimore, MD

WJZ-TV, 13, Baltimore, MD

WGAL, 8, Lancaster, PA

Fulton

WRC-TV, 4, Washington, DC

WTTG, 5, Washington, DC

WJLA-TV, 7, Washington, DC (formerly WMAL)

WJAC-TV, 6, Johnstown, PA

WTAJ-TV, 10, Altoona, PA (formerly WFBG)

Greene

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTRF-TV, 7, Wheeling, WV

+WWCP, 8, Johnstown, PA

Huntingdon

WJAC-TV, 6, Johnstown, PA

+WWCP, 8, Johnstown, PA

WTAJ-TV, 10, Altoona, PA (formerly WFBG)

Indiana

KDKA-TV, 2, Pittsburgh, PA

WTAE-TV, 4, Pittsburgh, PA

WPXI, 11, Pittsburgh, PA (formerly WIIC)

WJAC-TV, 6, Johnstown, PA

+WWCP, 8, Johnstown, PA

WTAJ-TV, 10, Altoona, PA (formerly WFBG)

Jefferson

WJAC-TV, 6, Johnstown, PA

+WWCP, 8, Johnstown, PA

WTAJ-TV, 10, Altoona, PA (formerly WFBG)

KDKA-TV, 2, Pittsburgh, PA

WTAE-TV, 4, Pittsburgh, PA

Juniata

WGAL, 8, Lancaster, PA

WHP-TV, 21, Harrisburg, PA

WHTM-TV, 27, Harrisburg, PA (formerly WTPA)

+WPMT, 43, York, PA

WTAJ-TV, 10, Altoona, PA (formerly WFBG)

Lackawanna

WNEP-TV, 16, Scranton, PA

WYOU, 22, Scranton, PA (formerly WDAU)

WBRE-TV, 28, WilkeS-Barre, PA

+WOLF-TV, 38, Scranton, PA

Lancaster

WGAL, 8, Lancaster, PA

WLYH-TV, 15, Lancaster, PA

WHTM-TV, 27, Harrisburg, PA (formerly WTPA)

+WPMT, 43, York, PA

KYW-TV, 3, Philadelphia, PA

WPVI-TV, 6, Philadelphia, PA (formerly WFIL)

WCAU, 10, Philadelphia, PA

WPHL-TV, 17, Philadelphia, PA

Lawrence

KDKA-TV, 2, Pittsburgh, PA

WTAE-TV, 4, Pittsburgh, PA

WPXI, 11, Pittsburgh, PA (formerly WIIC)

WFMJ-TV, 21, Youngstown, OH

WKBN-TV, 27, Youngstown, OH

WYTV, 33, Youngstown, OH

Lebanon

WGAL, 8, Lancaster, PA

WLYH-TV, 15, Lancaster, PA

WHP-TV, 21, Harrisburg, PA

WHTM-TV, 27, Harrisburg, PA (formerly WTPA)

+WPMT, 43, York, PA

Lehigh

KYW-TV, 3, Philadelphia, PA

WPVI-TV, 6, Philadelphia, PA (formerly WFIL)

WCAU, 10, Philadelphia, PA

WPHL-TV, 17, Philadelphia, PA

+WPSG, 57, Philadelphia, PA (formerly WGBS)

Luzerne

WNEP-TV, 16, Scranton, PA

WYOU, 22, Scranton, PA (formerly WDAU)

WBRE-TV, 28, Wilkes Barre, PA

+WOLF-TV, 38, Scranton, PA

Lycoming

WNEP-TV, 16, Scranton, PA

WYOU, 22, Scranton, PA (formerly WDAU)

WBRE-TV, 28, Wilkes Barre, PA

+WWLF-TV, 56, Hazelton, PA

WTAJ-TV, 10, Altoona, PA (formerly WFBG)

McKean

WGRZ-TV, 2, Buffalo, NY (formerly WGR)

WIVB-TV, 4, Buffalo, NY (formerly WBEN)

WKBW-TV, 7, Buffalo, NY

Mercer

WFMJ-TV, 21, Youngstown, OH

WKBN-TV, 27, Youngstown, OH

WYTV, 33, Youngstown, OH

KDKA-TV, 2, Pittsburgh, PA

WPXI, 11, Pittsburgh, PA (formerly WIIC)

Mifflin

WGAL, 8, Lancaster, PA

WJAC-TV, 6, Johnstown, PA

+WWCP, 8, Johnstown, PA

WTAJ-TV, 10, Altoona, PA (formerly WFBG)

Monroe

KYW-TV, 3, Philadelphia, PA

WPVI-TV, 6, Philadelphia, PA (formerly WFIL)

WCAU, 10, Philadelphia, PA

WCBS-TV, 2, New York, NY

WNBC, 4, New York, NY

WNYW, 5, New York, NY (formerly WNEW)

Montgomery

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

+WPSG, 57, Philadelphia, PA (forermly WGBS)

Montour

+WOLF-TV, 38, Scranton, PA

Northampton

KYW-TV, 3, Philadelphia, PA

WPVI-TV, 6, Philadelphia, PA (formerly WFIL)

WCAU, 10, Philadelphia, PA

WNYW, 5, New York, NY (formerly WNEW)

WWOR-TV, 9, New York, NY (forermly WOR)

WPIX, 11, New York, NY

Northumberland

+WOLF-TV, 38, Scranton, PA

Perry

WGAL, 8, Lancaster, PA

WHP-TV, 21, Harrisburg, PA

WHTM-TV, 27, Harrisburg, PA (formerly WTPA)

+WPMT, 43, York, PA

Philadelphia

KYW-TV, 3, Philadelphia, PA

WPVI-TV, 6, Philadelphia, PA (formerly WFIL)

WCAU, 10, Philadelphia, PA

WPHL-TV, 17, Philadelphia, PA

WTXF-TV, 29, Philadelphia, PA (formerly WTAF)

WKBS-TV, 48, Altoona, PA

Pike

WCBS-TV, 2, New York, NY

WNBC, 4, New York, NY

WNYW, 5, New York, NY (formerly WNEW)

WABC-TV, 7, New York, NY

WNEP-TV, 16, Scranton, PA

WYOU, 22, Scranton, PA (formerly WDAU)

WBRE-TV, 28, WilkeS-Barre, PA

Potter

WGRZ-TV, 2, Buffalo, NY (forermly WGR)

WIVB-TV, 4, Buffalo, NY (formerly WBEN)

WKBW-TV, 7, Buffalo, NY

Schuylkill

KYW-TV, 3, Philadelphia, PA

WPVI-TV, 6, Philadelphia, PA (formerly WFIL)

WCAU, 10, Philadelphia, PA

WGAL, 8, Lancaster, PA

Snyder

WGAL, 8, Lancaster, PA

WHP-TV, 21, Harrisburg, PA

WHTM-TV, 27, Harrisburg, PA (formerly WTPA)

WNEP-TV, 16, Scranton, PA

WBRE-TV, 28, WilkeS-Barre, PA

+WWLF, 56, Scranton, PA

Somerset

WJAC-TV, 6, Johnstown, PA

+WWCP, 8, Johnstown, PA

KDKA-TV, 2, Pittsburgh, PA

WTAE-TV, 4, Pittsburgh, PA

Sullivan

WBNG-TV, 12, Binghamton, NY (formerly WNBF)

WNEP-TV, 16, Scranton, PA

WYOU, 22, Scranton, PA (formerly WDAU)

WBRE-TV, 28, WilkeS-Barre, PA

Susquehanna

WBNG-TV, 12, Binghamton, NY (formerly WNBF)

WNEP-TV, 16, Scranton, PA

WYOU, 22, Scranton, PA (formerly WDAU)

WBRE-TV, 28, WilkeS-Barre, PA

+WOLF-TV, 38, Scranton, PA

Tioga

WETM-TV, 18, Elmira, NY (formerly WSYE)

WENY-TV, 36, Elmira, NY

WBNG-TV, 12, Binghamton, NY (formerly WNBF)

Union

WNEP-TV, 16, Scranton, PA

WYOU, 22, Scranton, PA (formerly WDAU)

WBRE-TV, 28, WilkeS-Barre, PA

+WOLF-TV, 38, Scranton, PA

Venango

KDKA-TV, 2, Pittsburgh, PA

WTAE-TV, 4, Pittsburgh, PA

WPXI, 11, Pittsburgh, PA (formerly WIIC)

WICU-TV, 12, Erie, PA

WJAC-TV, 6, Johnstown, PA

Warren

WGRZ-TV, 2, Buffalo, NY (formerly WGR)

WIVB-TV, 4, Buffalo, NY (formerly WBEN)

WKBW-TV, 7, Buffalo, NY

WICU-TV, 12, Erie, PA

Washington

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WTRF-TV, 7, Wheeling, WV

WTOV-TV, 9, Steubenville, OH (formerly WSTV)

+WWCP, 8, Johnstown, PA

Wayne

WNEP-TV, 16, Scranton, PA

WYOU, 22, Scranton, PA (formerly WDAU)

WBRE-TV, 28, WilkeS-Barre, PA

+WOLF-TV, 38, Scranton, PA

WBNG-TV, 12, Binghamton, NY (formerly WNBF)

WNBC, 4, New York, NY

WNYW, 5, New York, NY (formerly WNEW)

Westmoreland

KDKA-TV, 2, Pittsburgh, PA

WTAE-TV, 4, Pittsburgh, PA

WPXI, 11, Pittsburgh, PA (formerly WIIC)

+WCWB, 22, Pittsburgh, PA (formerly WPTT)

WPGH-TV, 53, Pittsburgh, PA

WJAC-TV, 6, Johnstown, PA

+WWCP, 8, Johnstown, PA

Wyoming

WNEP-TV 16, Scranton, PA

WYOU, 22, Scranton, PA (formerly WDAU)

WBRE-TV, 28, WilkeS-Barre, PA

+WOLF-TV, 38, Scranton, PA

York

WGAL, 8, Lancaster, PA

WHTM-TV, 27, Harrisburg, PA (formerly WTPA)

WPMT, 43, York, PA (formerly WSBA)

WMAR-TV, 2, Baltimore, MD

WBAL-TV, 11, Baltimore, MD

WJZ-TV, 13, Baltimore, MD

Adamstown Borough—WTXF-TV

Akron Borough—WTXF-TV

Alburtis—WTXF-TV

Allentown—WTXF-TV

Allen Township—WTXF-TV, WPHL-TV

Bangor Borough—WTXF-TV, WPHL-TV

Bath Borough—WTXF-TV, WPHL-TV

Bethlehem—WTXF-TV

Bethlehem Township—WTXF-TV, WPHL-TV

Bushkill Township—WTXF-TV, WPHL-TV

Catasauqua—WTXF-TV

Chapman Borough—WPHL-TV

Clay Township—WTXF-TV

Conestoga Township—WTXF-TV

Coopersburg—WTXF-TV

Coplay—WTXF-TV

Denver Borough—WTXF-TV

East Allen Township—WTXF-TV, WPHL-TV

East Bangor—WTXF-TV, WPHL-TV

East Cocalico Township—WTXF-TV

East Hempfield Township—WTXF-TV, WKBS-TV

East Lampeter Township—WTXF-TV, WKBS-TV

Easton—WPHL-TV

East Petersburg—WTXF-TV. WKBS-TV

Ephrata Borough—WTXF-TV

Ephrate Township—WTXF-TV

Forks Township—WPHL-TV

Fountain Hill—WTXF-TV

Freemansburg Borough—WTXF-TV, WPHL-TV

Glendon Borough—WPHL-TV

Hallerton Borough—WTXF-TV, WPHL-TV

Hanover Township—WTXF-TV, WPHL-TV

Heidelberg Township—WTXF-TV

Lancaster—WTXF-TV, WKBS-TV

Lancaster Township—WTXF-TV, WKBS-TV

Lehigh Township—WPHL-TV

Lititz Borough—WTXF-TV

Lowhill Township—WTXF-TV

Lower Macungie Township—WTXF-TV

Lower Milford Township—WTXF-TV

Lower Mt. Bethel—WTXF-TV, WPHL-TV

Lower Nazareth Township—WTXF-TV, WPHL-TV

Lower SauconTownship—WTXF-TV, WPHL-TV

Lynn Township—WTXF-TV

Manheim Borough—WTXF-TV

Manheim Township—WTXF-TV, WKBS-TV

Manor Township—WTXF-TV, WKBS-TV

Millcreek Township—KYW-TV, WPVI-TV, WCAU

Millersville—WTXF-TV, WKBS-TV

Moore Township—WTXF-TV, WPHL-TV

Mountville—WTXF-TV, WKBS-TV

Nazareth Borough—WTXF-TV, WPHL-TV

Northampton Borough—WPHL-TV

North Catasaqua Borough—WTXF-TV, WPHL-TV

North Whitehall Township—WTXF-TV

Palmer Township—WPHL-TV

Pen Argyl Borough—WTXF-TV, WPHL-TV

Penn Township—WTXF-TV

Pequea Township—WTXF-TV

Plainfield Township—WTXF-TV, WPHL-TV

Portland—WTXF-TV, WPHL-TV

Richland Borough—KYW-TV, WPVI-TV, WCAU

Roseto—WTXF-TV, WPHL-TV

Roseto Borough—WPHL-TV

Salisbury Township—WTXF-TV

South Heidelberg Townshlp—WTXF-TV

South Whitehall Township—WTXF-TV

Stockerton Borough—WPHL-TV

Strasburg—WTXF-TV

Strasburg Borough—WKBS-TV

Strasburg Township—WTXF-TV

Tatamy—WTXF-TV, WPHL-TV

Tatamy Borough—WPHL-TV

Upper Macungie Township—WTXF-TV

Upper Mt. Bethel—WTXF-TV, WPHL-TV

Upper Nazareth—WTXF-TV, WPHL-TV

Upper Nazareth Township—WPHL-TV

Upper Saucon Township—WTXF-TV

Warwick Township—WTXF-TV

Washington Township—WTXF-TV, WPHL-TV

Weisenberg Township—WTXF-TV

West Cocalico Township—WTXF-TV

West Earl Township—WTXF-TV

West Easton Township—WPHL-TV

West Hempfield Township—WTXF-TV, WKBS-TV

West Lampeter Township—WTXF-TV, WKBS-TV

Whitehall Township—WTXF-TV

Williams Township—WTXF-TV, WPHL-TV

Wilson Borough—WPHL-TV

Wind Gap Borough—WTXF-TV, WPHL-TV

RHODE ISLAND

Bristol

WLNE-TV, 6, Providence, RI (formerly WTEV)

WJAR, 10, Providence, RI

WPRI-TV, 12, Providence, RI

WNAC-TV, 64, Providence, RI

WBZ-TV, 4, Boston, MA

+WHDH-TV, 7, Boston, MA (formerly WNAC)

WSBK-TV, 38, Boston, MA

Kent

WLNE-TV, 6, Providence, RI (formerly WTEV)

WJAR, 10, Providence, RI

WPRI-TV, 12, Providence, RI

WNAC-TV, 64, Providence, RI

WCVB-TV, 5, Boston, MA (formerly WHDH)

+WHDH-TV, 7, Boston, MA (formerly WNAC)

WSBK-TV, 38, Boston, MA

Newport

WLNE-TV, 6, Providence, RI (formerly WTEV)

WJAR, 10, Providence, RI

WPRI-TV, 12, Providence, RI

WNAC-TV, 64, Providence, RI

+WHDH-TV, 7, Boston, MA (formerly WNAC)

WSBK-TV, 38, Boston, MA

WLVI-TV, 56, Cambridge, MA (formerly WKBG)

Providence

WLNE-TV, 6, Providence, RI (formerly WTEV)

WJAR, 10, Providence, RI

WPRI-TV, 12, Providence, RI

WNAC-TV, 64, Providence, RI

WBZ-TV, 4, Boston, MA

WCVB-TV, 5, Boston, MA (formerly WHDH)

+WHDH-TV, 7, Boston, MA (formerly WNAC)

WSBK-TV, 38, Boston, MA

WLVI-TV, 56, Cambridge, MA (formerly WKBG)

Washington

WLNE-TV, 6, Providence, RI (formerly WTEV)

WJAR, 10, Providence, RI

WPRI-TV, 12, Providence, RI

+WNAC-TV, 64, Providence, RI

WHPX, 26, New London, CT (formerly WTWS)

Coventry—WLVI-TV

East Greenwich—WLVI-TV

Warwick—WLVI-TV

West Warwick—WLVI-TV

SOUTH CAROLINA

Abbeville

WYFF, 4, Greenville, SC (formerly WFBC)

WSPA-TV, 7, Greenville, SC

WLOS, 13, Greenville, SC

+WHNS, 21, Greenville, SC

WJBF, 6, Augusta, GA

Aiken

WJBF, 6, Augusta, GA

WRDW-TV, 12, Augusta, GA

+WFXG, 54, Augusta, GA

Allendale

WJBF, 6, Augusta, GA

WRDW-TV, 12, Augusta, GA

+WFXG, 54, Augusta, GA

Anderson

WYFF, 4, Greenville, SC (formerly WFBC)

WSPA-TV, 7, Greenville, SC

WLOS, 13, Greenville, SC

+WHNS, 21, Greenville, SC

Bamberg

WJBF, 6, Augusta, GA

WRDW-TV, 12, Augusta, GA

WCSC-TV, 5, Charleston, SC

WIS, 10, Columbia, SC

Barnwell

WJBF, 6, Augusta, GA

WRDW-TV, 12, Augusta, GA

+WFXG, 54, Augusta, GA

WIS, 10, Columbia, SC

Beaufort

WCBD-TV, 2, Charleston, SC (formerly WUSN)

WCIV, 4, Charleston, SC

WCSC-TV, 5, Charleston, SC

WSAV-TV, 3, Savannah, GA

WTOC-TV, 11, Savannah, GA

Berkeley

WCBD-TV, 2, Charleston, SC (formerly WUSN)

WCIV, 4, Charleston, SC

WCSC-TV, 5, Charleston, SC

+WTAT-TV, 24, Charleston, SC

Calhoun

WIS, 10, Columbia, SC

WLTX, 19, Columbia, SC (formerly WNOK)

WRDW-TV, 12, Augusta, GA

WCBD-TV, 2, Charleston, SC (formerly WUSN)

WCSC-TV, 5, Charleston, SC

Charleston

WCBD-TV, 2, Charleston, SC (formerly WUSN)

WCIV, 4, Charleston, SC

WCSC-TV, 5, Charleston, SC

+WTAT-TV, 24, Charleston, SC

Cherokee

WYFF, 4, Greenville, SC (formerly WFBC)

WSPA-TV, 7, Greenville, SC

WLOS, 13, Greenville, SC

+WHNS, 21, Greenville, SC

WBTV, 3, Charlotte, NC

WSOC-TV, 9, Charlotte, NC

+WJZY, 46, Belmont, NC

Chester

WBTV, 3, Charlotte, NC

WSOC-TV, 9, Charlotte, NC

+WCNC-TV, 36, Charlotte, NC

+WJZY, 46, Belmont, NC

WIS, 10, Columbia, SC

WYFF, 4, Greenville, SC (formerly WFBC)

WSPA-TV, 7, Greenville, SC

WLOS, 13, Greenville, SC

+WHNS, 21, Greenville, SC

Chesterfield

WBTV, 3, Charlotte, NC

WSOC-TV, 9, Charlotte, NC

WCCB, 18, Charlotte, NC

WCNC-TV, 36, Charlotte, NC (formerly WRET)

+WJZY, 46, Belmont, NC

WIS, 10, Columbia, SC

WBTW, 13, Florence, SC

+WWMB, 21, Florence, SC

Clarendon

WIS, 10, Columbia, SC

+WLTX, 19, Columbia, SC

WCBD-TV, 2, Charleston, SC (formerly WUSN)

WCIV, 4, Charleston, SC

WCSC-TV, 5, Charleston, SC

+WTAT-TV, 24, Charleston, SC

WBTW, 13, Florence, SC

Colleton

WCBD-TV, 2, Charleston, SC (formerly WUSN)

WCIV, 4, Charleston, SC

WCSC-TV, 5, Charleston, SC

+WTAT-TV, 24, Charleston, SC

Darlington

WBTW, 13, Florence, SC

+WPDE-TV, 15, Florence, SC

+WWMB, 21, Florence, SC

+WFXB, 43, Myrtle Beach, SC

WIS, 10, Columbia, SC

Dillon

WBTW, 13, Florence, SC

+WPDE-TV, 15, Florence, SC

+WFXB, 43, Myrtle Beach, SC

WWAY, 3, Wilmington, NC

WECT, 6, Wilmington, NC

Dorchester

WCBD-TV, 2, Charleston, SC (formerly WUSN)

WCIV, 4, Charleston, SC

WCSC-TV, 5, Charleston, SC

+WTAT-TV, 24, Charleston, SC

Edgefield

WJBF, 6, Augusta, GA

WRDW-TV, 12, Augusta, GA

+WFXG, 54, Augusta, GA

Fairfield

WIS, 10, Columbia, SC

WLTX, 19, Columbia, SC (formerly WNOK)

WOLO-TV, 25, Columbia, SC

WSPA-TV, 7, Greenville, SC

Florence

WBTW, 13, Florence, SC

+WPDE-TV, 15, Florence, SC

+WWMB, 21, Florence, SC

+WFXB, 43, Myrtle Beach, SC

WIS, 10, Columbia, SC

+WTAT-TV, 24, Charleston, SC

Georgetown

WCBD-TV, 2, Charleston, SC (formerly WUSN)

WCIV, 4, Charleston, SC

WCSC-TV, 5, Charleston, SC

+WTAT-TV, 24, Charleston, SC

+WFXB, 43, Myrtle Beach, SC

Greenville

WYFF, 4, Greenville, SC (formerly WFBC)

WSPA-TV, 7, Greenville, SC

WLOS, 13, Greenville, SC

+WHNS, 21, Greenville, SC

Greenwood

WYFF, 4, Greenville, SC (formerly WFBC)

WSPA-TV, 7, Greenville, SC

WLOS, 13, Greenville, SC

WJBF, 6, Augusta, GA

Hampton

WJBF, 6, Augusta, GA

WRDW, 12, Augusta, GA

WCBD-TV, 2, Charleston, SC (formerly WUSN)

WCIV, 4, Charleston, SC

WCSC-TV, 5, Charleston, SC

WSAV-TV, 3, Savannah, GA

WTOC-TV, 11, Savannah, GA

Horry

WWAY, 3, Wilmington, NC

WECT, 6, Wilmington, NC

WCSC-TV, 5, Charleston, SC

WBTW, 13, Florence, SC

+WPDE-TV, 15, Florence, SC

+WWMB, 21, Florence, SC

+WFXB, 43, Myrtle Beach, SC

Jasper

WSAV-TV, 3, Savannah, GA

WTOC-TV, 11, Savannah, GA

WCBD-TV, 2, Charleston, SC (formerly WUSN)

WCIV, 4, Charleston, SC

WCSC-TV, 5, Charleston, SC

Kershaw

WIS, 10, Columbia, SC

WLTX, 19, Columbia, SC (formerly WNOK)

WOLO-TV, 25, Columbia, SC

WBTW, 13, Florence, SC

Lancaster

WBTV, 3, Charlotte, NC

WSOC-TV, 9, Charlotte, NC

WCCB, 18, Charlotte, NC

WCNC-TV, 36, Charlotte, NC (formerly WRET)

+WJZY, 46, Belmont,NC

WIS, 10, Columbia, SC

Laurens

WYFF, 4, Greenville, SC (formerly WFBC)

WSPA-TV, 7, Greenville, SC

WLOS, 13, Greenville, SC

+WHNS, 21, Greenville, SC

Lee

WIS, 10, Columbia, SC

WBTW, 13, Florence, SC

+WPDE-TV, 15, Florence, SC

+WFXB, 43, Myrtle Beach, SC

Lexington

WIS, 10, Columbia, SC

WLTX, 19, Columbia, SC (formerly WNOK)

WOLO-TV, 25, Columbia, SC

McCormick

WJBF, 6, Augusta, GA

WRDW-TV, 12, Augusta, GA

+WFXG, 54, Augusta, GA

WYFF, 4, Greenville, SC (formerly WFBC)

WSPA-TV, 7, Greenville, SC

Marion

WBTW, 13, Florence, SC

+WPDE-TV, 15, Florence, SC

+WWMB, 21, Florence, SC

+WFXB, 43, Myrtle Beach, SC

WIS, 10, Columbia, SC

WWAY, 3, Wilmington, NC

WECT, 6, Wilmington, NC

Marlboro

WBTW, 13, Florence, SC

+WPDE-TV, 15, Florence, SC

+WWMB, 21, Florence, SC

+WFXB, 43, Myrtle Beach, SC

WIS, 10, Columbia, SC

WECT, 6, Wilmington, NC

Newberry

WYFF, 4, Greenville, SC (formerly WFBC)

WSPA-TV, 7, Greenville, SC

WLOS, 13, Greenville, SC

+WHNS, 21, Greenville, SC

WJBF, 6, Augusta, GA

WIS, 10, Columbia, SC

+WLTX, 19, Columbia, SC

Oconee

WYFF, 4, Greenville, SC (formerly WFBC)

WSPA-TV, 7, Greenville, SC

WLOS, 13, Greenville, SC

+WHNS, 21, Greenville, SC

Orangeburg

WIS, 10, Columbia, SC

+WLTX, 19, Columbia, SC

WJBF, 6, Augusta, GA

WRDW-TV, 12, Augusta, GA

+WFXG, 54, Augusta, GA

WCBD-TV, 2, Charleston, SC (formerly WUSN)

WCIV, 4, Charleston, SC

WCSC-TV, 5, Charleston, SC

+WTAT-TV, 24, Charleston, SC

Pickens

WYFF, 4, Greenville, SC (formerly WFBC)

WSPA-TV, 7, Greenville, SC

WLOS, 13, Greenville, SC

+WHNS, 21, Greenville, SC

Richland

WIS, 10, Columbia, SC

WLTX, 19, Columbia, SC (formerly WNOK)

WOLO-TV, 25, Columbia, SC

Saluda

WJBF, 6, Augusta, GA

WRDW-TV, 12, Augusta, GA

WIS, 10, Columbia, SC

WYFF, 4, Greenville, SC (formerly WFBC)

WSPA-TV, 7, Greenville, SC

Spartanburg

WYFF, 4, Greenville, SC (formerly WFBC)

WSPA-TV, 7, Greenville, SC

WLOS, 13, Greenville, SC

+WHNS, 21, Greenville, SC

WBTV, 3, Charlotte, NC

+WJZY, 46, Belmont, NC

Sumter

WIS, 10, Columbia, SC

WLTX, 19, Columbia, SC (formerly WNOK)

WOLO-TV, 25, Columbia, SC

WBTW, 13, Florence, SC

+WTAT-TV, 24, Charleston, SC

Union

WYFF, 4, Greenville, SC (formerly WFBC)

WSPA-TV, 7, Greenville, SC

WLOS, 13, Greenville, SC

+WHNS, 21, Greenville, SC

WBTV, 3, Charlotte, NC

+WJZY, 46, Belmont, NC

Williamsburg

WCBD-TV, 2, Charleston, SC (formerly WUSN)

WCIV, 4, Charleston, SC

WCSC-TV, 5, Charleston, SC

WIS, 10, Columbia, SC

WBTW, 13, Florence, SC

York

WBTV, 3, Charlotte, NC

WSOC-TV, 9, Charlotte, NC

WCCB, 18, Charlotte, NC

WCNC-TV, 36, Charlotte, NC (formerly WRET)

+WJZY, 46, Belmont, NC

WSPA-TV, 7, Greenville, SC

+WHNS, 21, Greenville, SC

SOUTH DAKOTA

Aurora

KDLV-TV, 5, Mitchell, SD (formerly KORN)

KELO-TV, 11, Sioux Falls, SD

KFSY-TV, 13, Sioux Falls, SD (formerly KSOO)

Beadle

KDLV-TV, 5, Mitchell, SD (formerly KORN)

KELO-TV, 11, Sioux Falls, SD

KSFY-TV, 13, Sioux Falls, SD (formerly KSOO)

Bennett

KOTA-TV, 3, Rapid City, SD

KDUH-TV, 4, Scottsbluff, NE

Bon Homme

KDLV-TV, 5, Mitchell, SD (formerly KORN)

KELO-TV, 11, Sioux Falls, SD

KSFY-TV, 13, Sioux Falls, SD (formerly KSOO)

KTIV, 4, Sioux City, IA

KCAU-TV, 9, Sioux City, IA

Brookings

KDLV-TV, 5, Mitchell, SD (formerly KORN)

KELO-TV, 11, Sioux Falls, SD

KSFY-TV, 13, Sioux Falls, SD (formerly KSOO)

Brown

KELO-TV, 11, Sioux Falls, SD

KSFY-TV, 13, Sioux Falls, SD (formerly KSOO)

Brule

KDLV-TV, 5, Mitchell, SD (formerly KORN)

KELO-TV, 11, Sioux Falls, SD

Buffalo

KDLV-TV, 5, Mitchell, SD (formerly KORN)

KELO-TV, 11, Sioux Falls, SD

Butte

KOTA-TV, 3, Rapid City, SD

KEVN-TV, 7, Rapid City, SD (formerly KRSD)

Campbell

KFYR-TV, 5, Bismarck, ND

KXMB-TV, 12, Bismarck, ND

Charles Mix

KDLV-TV, 5, Mitchell, SD (formerly KORN)

KELO-TV, 11, Sioux Falls, SD

KSFY-TV, 13, Sioux Falls, SD (formerly KSOO)

Clark

KELO-TV, 11, Sioux Falls, SD

KSFY-TV, 13, Sioux Falls, SD (formerly KSOO)

Clay

KTIV, 4, Sioux City, IA

KCAU-TV, 9, Sioux City, IA

KMEG, 14, Sioux City, IA

KELO-TV, 11, Sioux Falls, SD

KSFY-TV, 13, Sioux Falls, SD (formerly KSOO)

Codington

KELO-TV, 11, Sioux Falls, SD

KSFY-TV, 13, Sioux Falls, SD (formerly KSOO)

Corson

KFYR-TV, 5, Bismarck, ND

KXMB-TV, 12, Bismarck, ND

Custer

KOTA-TV, 3, Rapid City, SD

KEVN-TV, 7, Rapid City, SD (formerly KRSD)

Davison

KDLV-TV, 5, Mitchell, SD (formerly KORN)

KELO-TV, 11, Sioux Falls, SD

+KTTM, 12, Huron, SD

KSFY-TV, 13, Sioux Falls, SD (formerly KSOO)

Day

KELO-TV, 11, Sioux Falls, SD

KSFY-TV, 13, Sioux Falls, SD (formerly KSOO)

Deuel

KELO-TV, 11, Sioux Falls, SD

KSFY-TV, 13, Sioux Falls, SD (formerly KSOO)

Dewey

KFYR-TV, 5, Bismarck, ND

KXMB-TV, 12, Bismarck, ND

KELO-TV, 11, Sioux Falls, SD

Douglas

KDLV-TV, 5, Mitchell, SD (formerly KORN)

KELO-TV, 11, Sioux Falls, SD

Edmunds

KELO-TV, 11, Sioux Falls, SD

KSFY-TV, 13, Sioux Falls, SD (formerly KSOO)

Fall River

KOTA-TV, 3, Rapid City, SD

KDUH-TV, 4, Scottsbluff, NE

KSTF, 10, Scottsbluff, NE

Faulk

KELO-TV, 11, Sioux Falls, SD

KSFY-TV, 13, Sioux Falls, SD (formerly KSOO)

Grant

KELO-TV, 11, Sioux Falls, SD

KCCO-TV, 7, Alexandria, MN (formerly KCMT)

Gregory

KDLV-TV, 5, Mitchell, SD (formerly KORN)

KELO-TV, 11, Sioux Falls, SD

Haakon

KOTA-TV, 3, Rapid City, SD

KELO-TV, 11, Sioux Falls, SD

Hamlin

KELO-TV, 11, Sioux Falls, SD

KSFY-TV, 13, Sioux Falls, SD (formerly KSOO)

Hand

KELO-TV, 11, Sioux Falls, SD

KSFY-TV, 13, Sioux Falls, SD (formerly KSOO)

Hanson

KDLV-TV, 5, Mitchell, SD (formerly KORN)

KELO-TV, 11, Sioux Falls, SD

KSFY-TV, 13, Sioux Falls, SD (formerly KSOO)

Harding

KOTA-TV, 3, Rapid City, SD

Hughes

KELO-TV, 11, Sioux Falls, SD

Hutchinson

KDLV-TV, 5, Mitchell, SD (formerly KORN)

KELO-TV, 11, Sioux Falls, SD

KSFY-TV, 13, Sioux Falls, SD (formerly KSOO)

Hyde

KELO-TV, 11, Sioux Falls, SD

KSFY-TV, 13, Sioux Falls, SD (formerly KSOO)

Jackson

KOTA-TV, 3, Rapid City, SD

KELO-TV, 11, Sioux Falls, SD

Jerauld

KDLV-TV, 5, Mitchell, SD (formerly KORN)

KELO-TV, 11, Sioux Falls, SD

KSFY-TV, 13, Sioux Falls, SD (formerly KSOO)

Jones

KELO-TV, 11, Sioux Falls, SD

Kingsbury

KDLV-TV, 5, Mitchell, SD (formerly KORN)

KELO-TV, 11, Sioux Falls, SD

KSFY-TV, 13, Sioux Falls, SD (formerly KSOO)

Lake

KDLV-TV, 5, Mitchell, SD (formerly KORN)

KELO-TV, 11, Sioux Falls, SD

KSFY-TV, 13, Sioux Falls, SD (formerly KSOO)

Lawrence

KOTA-TV, 3, Rapid City, SD

KEVN-TV, 7, Rapid City, SD (formerly KRSD)

Lincoln

KDLV-TV, 5, Mitchell, SD (formerly KORN)

KELO-TV, 11, Sioux Falls, SD

KSFY-TV, 13, Sioux Falls, SD (formerly KSOO)

KTIV, 4, Sioux City, IA

KCAU-TV, 9, Sioux City, IA

Lyman

KELO-TV, 11, Sioux Falls, SD

McCook

KDLV-TV, 5, Mitchell, SD (formerly KORN)

KELO-TV, 11, Sioux Falls, SD

KSFY-TV, 13, Sioux Falls, SD (formery KSOO)

McPherson

KELO-TV, 11, Sioux Falls, SD

KSFY-TV, 13, Sioux Falls, SD (formerly KSOO)

KFYR-TV, 5, Bismarck, ND

Marshall

KELO-TV, 11, Sioux Falls, SD

KSFY-TV, 13, Sioux Falls, SD (formerly KSOO)

KXJB-TV, 4, Valley City, ND

Meade

KOTA-TV, 3, Rapid City, SD

KEVN-TV, 7, Rapid City, SD (formerly KRSD)

Mellette

KELO-TV, 11, Sioux Falls, SD

Miner

KDLV-TV, 5, Mitchell, SD (formerly KORN)

KELO-TV, 11, Sioux Falls, SD

KSFY-TV, 13, Sioux Falls, SD (formerly KSOO)

Minnehaha

KDLV-TV, 5, Mitchell, SD (formerly KORN)

KELO-TV, 11, Sioux Falls, SD

KSFY-TV, 13, Sioux Falls, SD (formerly KSOO)

KCAU-TV, 9, Sioux City, IA

Moody

KDLV-TV, 5, Mitchell, SD (formerly KORN)

KELO-TV, 11, Sioux Falls, SD

KSFY-TV, 13, Sioux Falls, SD (formerly KSOO)

Pennington

KOTA-TV, 3, Rapid City, SD

KEVN-TV, 7, Rapid City, SD (formerly KRSD)

Perkins

KFYR-TV, 5, Bismarck, ND

KXMA-TV, 2, Dickinson, ND (formerly KDIX)

KOTA-TV, 3, Rapid City, SD

Potter

KELO-TV, 11, Sioux Falls, SD

KSFY-TV, 13, Sioux Falls, SD (formerly KSOO)

KFYR-TV, 5, Bismarck, ND

Roberts

KELO-TV, 11, Sioux Falls, SD

KSFY-TV, 13, Sioux Falls, SD (formerly KSOO)

WDAY-TV, 6, Fargo, ND

Sanborn

KDLV-TV, 5, Mitchell, SD (formerly KORN)

KELO-TV, 11, Sioux Falls, SD

KSFY-TV, 13, Sioux Falls, SD (formerly KSOO)

Shannon

KOTA-TV, 3, Rapid City, SD

KDUH-TV, 4, Scottsbluff, NE

KEVN-TV, 7, Rapid City, SD (formerly KRSD)

Spink

KELO-TV, 11, Sioux Falls, SD

KSFY-TV, 13, Sioux Falls, SD (formerly KSOO)

Stanley

KELO-TV, 11, Sioux Falls, SD

Sully

KELO-TV, 11, Sioux Falls, SD

Todd

KELO-TV, 11, Sioux Falls, SD

Tripp

KDLV-TV, 5, Mitchell, SD (formerly KORN)

KELO-TV, 11, Sioux Falls, SD

Turner

KDLV-TV, 5, Mitchell, SD (formerly KORN)

KELO-TV, 11, Sioux Falls, SD

KSFY-TV, 13, Sioux Falls, SD (formerly KSOO)

KTIV, 4, Sioux City, IA

KCAU-TV, 9, Sioux City, IA

Union

KTIV, 4, Sioux City, IA

KCAU-TV, 9, Sioux City, IA

KMEG, 14, Sioux City, IA

KELO-TV, 11, Sioux Falls, SD

KSFY-TV, 13, Sioux Falls, SD (formerly KSOO)

Walworth

KFYR-TV, 5, Bismarck, ND

KXMB-TV, 12, Bismarck, ND

KELO-TV, 11, Sioux Falls, SD

Washabaugh

KOTA-TV, 3, Rapid City, SD

KELO-TV, 11, Sioux Falls, SD

Yankton

KTIV, 4, Sioux City, IA

KCAU-TV, 9, Sioux City, IA

KELO-TV, 11, Sioux Falls, SD

KSFY-TV, 13, Sioux Falls, SD (formerly KSOO)

Ziebach

KOTA-TV, 3, Rapid City, SD

TENNESSEE

Anderson

WATE-TV, 6, Knoxville, TN

WBIR-TV, 10, Knoxville, TN

WVLT-TV, 8, Knoxville, TN (formerly WTVK)

+WTNZ, 43, Knoxville, TN (formerly WKCH)

Bedford

WSMV, 4, Nashville, TN (formerly WSM)

WTVF, 5, Nashville, TN (formerly WLAC)

WKRN-TV, 2, Nashville, TN (formerly WSIX)

Benton

WSMV, 4, Nashville, TN (formerly WSM)

WTVF, 5, Nashville, TN (formerly WLAC)

WKRN-TV, 2, Nashville, TN (formerly WSIX)

Bledsoe

WRCB-TV, 3, Chattanooga, TN

WTVC, 9, Chattanooga, TN

WDEF-TV, 12, Chattanooga, TN

Blount

WATE-TV, 6, Knoxville, TN

WBIR-TV, 10, Knoxville, TN

WVLT-TV, 8, Knoxville, TN (formerly WTVK)

+WTNZ, 43, Knoxville, TN (formerly WKCH)

Bradley

WRCB-TV, 3, Chattanooga, TN

WTVC, 9, Chattanooga, TN

WDEF-TV, 12, Chattanooga, TN

Campbell

WATE-TV, 6, Knoxville, TN

WBIR-TV, 10, Knoxville, TN

WVLT-TV, 8, Knoxville, TN (formerly WTVK)

+WTNZ, 43, Knoxville, TN (formerly WKCH)

Cannon

WSMV, 4, Nashville, TN (formerly WSM)

WTVF, 5, Nashville, TN (formerly WLAC)

WKRN-TV, 2, Nashville, TN (formerly WSIX)

Carroll

WSMV, 4, Nashville, TN (formerly WSM)

WTVF, 5, Nashville, TN (formerly WLAC)

WKRN-TV, 2, Nashville, TN (formerly WSIX)

WBBJ-TV, 7, Jackson, TN

+WJKT, 16, Jackson, TN (formerly WMTU)

WREG-TV, 3, Memphis, TN (formerly WREC)

WPSD-TV, 6, Paducah, KY

Carter

WCYB-TV, 5, Bristol, VA

WJHL-TV, 11, Johnson City, TN

WKPT-TV, 19, Kingsport, TN

+WEMT, 39, Greenville, TN

Cheatam

WSMV, 4, Nashville, TN (formerly WSM)

WTVF, 5, Nashville, TN (formerly WLAC)

WKRN-TV, 2, Nashville, TN (formerly WSIX)

Chester

WREG-TV, 3, Memphis, TN (formerly WREC)

WMC-TV, 5, Memphis, TN

WHBQ-TV, 13, Memphis, TN

WBBJ-TV, 7, Jackson, TN

+WJKT, 16, Jackson, TN (formerly WMTU)

Claiborne

WATE-TV, 6, Knoxville, TN

+WVLT-TV, 8, Knoxville, TN (formerly WTVK, WKXT)

WBIR-TV, 10, Knoxville, TN

+WTNZ, 43, Knoxville, TN (formerly WKCH)

+WEMT, 39, Greenville, TN

Clay

WSMV, 4, Nashville, TN (formerly WSM)

WTVF, 5, Nashville, TN (formerly WLAC)

WKRN-TV, 2, Nashville, TN (formerly WSIX)

Cocke

WATE-TV, 6, Knoxville, TN

+WVLT-TV, 8, Knoxville, TN (formerly WTVK, WKXT)

WBIR-TV, 10, Knoxville, TN

WLOS, 13, Greenville, SC

+WEMT, 39, Greenville, TN

Coffee

WSMV, 4, Nashville, TN (formerly WSM)

WTVF, 5, Nashville, TN (formerly WLAC)

WKRN-TV, 2, Nashville, TN (formerly WSIX)

Crockett

WREG-TV, 3, Memphis, TN (formerly WREC)

WMC-TV, 5, Memphis, TN

WHBQ-TV, 13, Memphis, TN

WBBJ-TV, 7, Jackson, TN

Cumberland

WATE-TV, 6, Knoxville, TN

+WVLT-TV, 8, Knoxville, TN (formerly WTVK, WKXT)

WBIR-TV, 10, Knoxville, TN

WTVC, 9, Chattanooga, TN

Davidson

WSMV, 4, Nashville, TN (formerly WSM)

WTVF, 5, Nashville, TN (formerly WLAC)

WKRN-TV, 2, Nashville, TN (formerly WSIX)

+WUXP, 30, Nashville, TN

Decatur

WSMV, 4, Nashville, TN (formerly WSM)

WTVF, 5, Nashville, TN (formerly WLAC)

WKRN-TV, 2, Nashville, TN (formerly WSIX)

WBBJ-TV, 7, Jackson, TN

De Kalb

WSMV, 4, Nashville, TN (formerly WSM)

WTVF, 5, Nashville, TN (formerly WLAC)

WKRN-TV, 2, Nashville, TN (formerly WSIX)

Dickson

WSMV, 4, Nashville, TN (formerly WSM)

WTVF, 5, Nashville, TN (formerly WLAC)

WKRN-TV, 2, Nashville, TN (formerly WSIX)

+WUXP, 30, Nashville, TN

Dyer

WREG-TV, 3, Memphis, TN (formerly WREC)

WMC-TV, 5, Memphis, TN

WHBQ-TV, 13, Memphis, TN

+WPTY-TV, 24, Memphis, TN

WBBJ-TV, 7, Jackson, TN

KFVS-TV, 12, Cape Girardeau, MO

Fayette

WREG-TV, 3, Memphis, TN (formerly WREC)

WMC-TV, 5, Memphis, TN

WHBQ-TV, 13, Memphis, TN

Fentress

WATE-TV, 6, Knoxville, TN

+WVLT-TV, 8, Knoxville, TN (formerly WTVK, WKXT)

WBIR-TV, 10, Knoxville, TN

Franklin

WSMV, 4, Nashville, TN (formerly WSM)

WTVF, 5, Nashville, TN (formerly WLAC)

WKRN-TV, 2, Nashville, TN (formerly WSIX)

WTVC, 9, Chattanooga, TN

WDEF-TV, 12, Chattanooga, TN

+WZDX, 54, Huntsville, AL

Gibson

WREG-TV, 3, Memphis, TN (formerly WREC)

WMC-TV, 5, Memphis, TN

WHBQ-TV, 13, Memphis, TN

WBBJ-TV, 7, Jackson, TN

Giles

WSMV, 4, Nashville, TN (formerly WSM)

WTVF, 5, Nashville, TN (formerly WLAC)

WKRN-TV, 2, Nashville, TN (formerly WSIX)

Grainger

WATE-TV, 6, Knoxville, TN

+WVLT-TV, 8, Knoxville, TN (formerly WTVK, WKXT)

WBIR-TV, 10, Knoxville, TN

Greene

WCYB-TV, 5, Bristol, VA

WJHL-TV, 11, Johnson City, TN

+WEMT, 39, Greenville, TN

WLOS, 13, Greenville, SC

WATE-TV, 6, Knoxville, TN

WBIR-TV, 10, Knoxville, TN

Grundy

WRCB-TV, 3, Chattanooga, TN

WTVC, 9, Chattanooga, TN

WDEF-TV, 12, Chattanooga, TN

WSMV, 4, Nashville, TN (formerly WSM)

WTVF, 5, Nashville, TN (formerly WLAC)

WKRN-TV, 2, Nashville, TN (formerly WSIX)

Hamblen

WATE-TV, 6, Knoxville, TN

+WVLT-TV, 8, Knoxville, TN (formerly WTVK, WKXT)

WBIR-TV, 10, Knoxville, TN

+WTNZ, 43, Knoxville, TN (formerly WKCH)

WCYB-TV, 5, Bristol, VA

+WEMT, 39, Greenville, TN

WLOS, 13, Greenville, SC

Hamilton

WRCB-TV, 3, Chattanooga, Tn

WTVC, 9, Chattanooga, TN

WDEF-TV, 12, Chattanooga, TN

Hancock

WATE-TV, 6, Knoxville, TN

WBIR-TV, 10, Knoxville, TN

WCYB-TV, 5, Bristol, VA

Hardeman

WREG-TV, 3, Memphis, TN (formerly WREC)

WMC-TV, 5, Memphis, TN

WHBQ-TV, 13, Memphis, TN

Hardin

WBBJ-TV, 7, Jackson, TN

+WJKT, 16, Jackson, TN (formerly WMTU)

WREG-TV, 3, Memphis, TN (formerly WREC)

WMC-TV, 5, Memphis, TN

Hawkins

WCYB-TV, 5, Bristol, VA

WJHL-TV, 11, Johnson City, TN

+WEMT, 39, Greenville, TN

WLOS, 13, Greenville, SC

WATE-TV, 6, Knoxville, TN

+WVLT-TV, 8, Knoxville, TN (formerly WTVK, WKXT)

WBIR-TV, 10, Knoxville, TN

Haywood

WREG-TV, 3, Memphis, TN (formerly WREC)

WMC-TV, 5, Memphis, TN

WHBQ-TV, 13, Memphis, TN

+WLMT, 30, Memphis, TN

WBBJ-TV, 7, Jackson, TN

Henderson

WBBJ-TV, 7, Jackson, TN

+WJKT, 16, Jackson, TN (formerly WMTU)

WREG-TV, 3, Memphis, TN (formerly WREC)

WMC-TV, 5, Memphis, TN

WSMV, 4, Nashville, TN (formerly WSM)

WTVF, 5, Nashville, TN (formerly WLAC)

Henry

WSMV, 4, Nashville, TN (formerly WSM)

WTVF, 5, Nashville, TN (formerly WLAC)

WKRN-TV, 2, Nashville, TN (formerly WSIX)

WPSD-TV, 6, Paducah, KY

Hickman

WSMV, 4, Nashville, TN (formerly WSM)

WTVF, 5, Nashville, TN (formerly WLAC)

WKRN-TV, 2, Nashville, TN (formerly WSIX)

Houston

WSMV, 4, Nashville, TN (formerly WSM)

WTVF, 5, Nashville, TN (formerly WLAC)

WKRN-TV, 2, Nashville, TN (formerly WSIX)

Humphreys

WSMV, 4, Nashville, TN (formerly WSM)

WTVF, 5, Nashville, TN (formerly WLAC)

WKRN-TV, 2, Nashville, TN (formerly WSIX)

Jackson

WSMV, 4, Nashville, TN (formerly WSM)

WTVF, 5, Nashville, TN (formerly WLAC)

WKRN-TV, 2, Nashville, TN (formerly WSIX)

Jefferson

WATE-TV, 6, Knoxville, TN

WBIR-TV, 10, Knoxville, TN

WVLT-TV, 8, Knoxville, TN (formerly WTVK)

+WTNZ, 43, Knoxville, TN (formerly WKCH)

WLOS, 13, Greenville, SC

+WEMT, 39, Greenville, TN

Johnson

WCYB-TV, 5, Bristol, VA

WJHL-TV, 11, Johnson City, TN

Knox

WATE-TV, 6, Knoxville, TN

WVLT-TV, 8, Knoxville, TN (formerly WTVK, WKXT)

WBIR-TV, 10, Knoxville, TN

+WTNZ, 43, Knoxville, TN (formerly WKCH)

Lake

WPSD-TV, 6, Paducah, KY

KFVS-TV, 12, Cape Girardeau, MO

WREG-TV, 3, Memphis, TN (formerly WREC)

WMC-TV, 5, Memphis, TN

WHBQ-TV, 13, Memphis, TN

Lauderdale

WREG-TV, 3, Memphis, TN (formerly WREC)

WMC-TV, 5, Memphis, TN

WHBQ-TV, 13, Memphis, TN

Lawrence

WSMV, 4, Nashville, TN (formerly WSM)

WTVF, 5, Nashville, TN (formerly WLAC)

WKRN-TV, 2, Nashville, TN (formerly WSIX)

WHNT-TV, 19, Huntsville, AL

WAAY-TV, 31, Huntsville, AL

+WZDX, 54, Huntsville, AL

Lewis

WSMV, 4, Nashville, TN (formerly WSM)

WTVF, 5, Nashville, TN (formerly WLAC)

WKRN-TV, 2, Nashville, TN (formerly WSIX)

Lincoln

WHNT-TV, 19, Huntsville, AL

WAAY-TV, 31, Huntsville, AL

WAFF, 48, Huntsville, AL (formerly WMSL)

+WZDX, 54, Huntsville, AL

WSMV, 4, Nashville, TN (formerly WSM)

WTVF, 5, Nashville, TN (formerly WLAC)

WKRN-TV, 2, Nashville, TN (formerly WSIX)

Loudon

WATE-TV, 6, Knoxville, TN

WBIR-TV, 10, Knoxville, TN

WVLT-TV, 8, Knoxville, TN (formerly WTVK)

+WTNZ, 43, Knoxville, TN (formerly WKCH)

McMinn

WRCB-TV, 3, Chattanooga, TN

WTVC, 9, Chattanooga, TN

WDEF-TV, 12, Chattanooga, TN

WATE-TV, 6, Knoxville, TN

McNairy

WREG-TV, 3, Memphis, TN (formerly WREC)

WMC-TV, 5, Memphis, TN

WHBQ-TV, 13, Memphis, TN

WBBJ-TV, 7, Jackson, TN

+WJKT, 16, Jackson, TN (formerly WMTU)

Macon

WSMV, 4, Nashville, TN (formerly WSM)

WTVF, 5, Nashville, TN (formerly WLAC)

WKRN-TV, 2, Nashville, TN (formerly WSIX)

Madison

WBBJ-TV, 7, Jackson, TN

+WJKT, 16, Jackson, TN (formerly WMTU)

WREG-TV, 3, Memphis, TN (formerly WREC)

WMC-TV, 5, Memphis, TN

WHBQ-TV, 13, Memphis, TN

+WPTY-TV, 24, Memphis, TN

Marion

WRCB-TV, 3, Chattanooga, TN

WTVC, 9, Chattanooga, TN

WDEF-TV, 12, Chattanooga, TN

Marshall

WSMV, 4, Nashville, TN (formerly WSM)

WTVF, 5, Nashville, TN (formerly WLAC)

WKRN-TV, 2, Nashville, TN (formerly WSIX)

Maury

WSMV, 4, Nashville, TN (formerly WSM)

WTVF, 5, Nashville, TN (formerly WLAC)

WKRN-TV, 2, Nashville, TN (formerly WSIX)

+WUXP, 30, Nashville, TN

Meigs

WRCB-TV, 3, Chattanooga, TN

WTVC, 9, Chattanooga, TN

WDEF-TV, 12, Chattanooga, TN

Monroe

WATE-TV, 6, Knoxville, TN

+WVLT-TV, 8, Knoxville, TN (formerly WKXT, WTVK)

WBIR-TV, 10, Knoxville, TN

WRCB-TV, 3, Chattanooga, TN

WTVC, 9, Chattanooga, TN

WDEF-TV, 12, Chattanooga, TN

Montgomery

WSMV, 4, Nashville, TN (formerly WSM)

WTVF, 5, Nashville, TN (formerly WLAC)

WKRN-TV, 2, Nashville, TN (formerly WSIX)

+WUXP, 30, Nashville, TN

Moore

WHNT-TV, 19, Huntsville, AL

WAAY-TV, 31, Huntsville, AL

WAFF, 48, Huntsville, AL (formerly WMSL)

WSMV, 4, Nashville, TN (formerly WSM)

WTVF, 5, Nashville, TN (formerly WLAC)

WKRN-TV, 2, Nashville, TN (formerly WSIX)

Morgan

WATE-TV, 6, Knoxville, TN

+WVLT-TV, 8, Knoxville, TN (formerly WKXT, WTVK)

WBIR-TV, 10, Knoxville, TN

WTVC, 9, Chattanooga, TN

Obion

WPSD-TV, 6, Paducah, KY

KFVS-TV, 12, Cape Girardeau, MO

+KBSI, 23, Cape Girardeau, MO

WBBJ-TV, 7, Jackson, TN

Overton

WSMV, 4, Nashville, TN (formerly WSM)

WTVF, 5, Nashville, TN (formerly WLAC)

WKRN-TV, 2, Nashville, TN (formerly WSIX)

Perry

WSMV, 4, Nashville, TN (formerly WSM)

WTVF, 5, Nashville, TN (formerly WLAC)

WKRN-TV, 2, Nashville, TN (formerly WSIX)

Pickett

WSMV, 4, Nashville, TN (formerly WSM)

WTVF, 5, Nashville, TN (formerly WLAC)

WKRN-TV, 2, Nashville, TN (formerly WSIX)

Polk

WRCB-TV, 3, Chattanooga, TN

WTVC, 9, Chattanooga, TN

WDEF-TV, 12, Chattanooga, TN

WATL, 36, Atlanta, GA

Putnam

WSMV, 4, Nashville, TN (formerly WSM)

WTVF, 5, Nashville, TN (formerly WLAC)

WKRN-TV, 2, Nashville, TN (formerly WSIX)

Rhea

WRCB-TV, 3, Chattanooga, TN

WTVC, 9, Chattanooga, TN

WDEF-TV, 12, Chattanooga, TN

Roane

WATE-TV, 6, Knoxville, TN

+WVLT-TV, 8, Knoxville, TN (formerly WTVK, WKXT)

WBIR-TV, 10, Knoxville, TN

+WTNZ, 43, Knoxville, TN (formerly WKCH)

WRCB-TV, 3, Chattanooga, TN

WTVC, 9, Chattanooga, TN

WDEF-TV, 12, Chattanooga, TN

Robertson

WSMV, 4, Nashville, TN (formerly WSM)

WTVF, 5, Nashville, TN (formerly WLAC)

WKRN-TV, 2, Nashville, TN (formerly WSIX)

Rutherford

WSMV, 4, Nashville, TN (formerly WSM)

WTVF, 5, Nashville, TN (formerly WLAC)

WKRN-TV, 2, Nashville, TN (formerly WSIX)

+WUXP, 30, Nashville, TN

Scott

WATE-TV, 6, Knoxville, TN

+WVLT-TV, 8, Knoxville, TN (formerly WTVK, WKXT)

WBIR-TV, 10, Knoxville, TN

Sequatchie

WRCB-TV, 3, Chattanooga, TN

WTVC, 9, Chattanooga, TN

WDEF-TV, 12, Chattanooga, TN

Sevier

WATE-TV, 6, Knoxville, TN

WBIR-TV, 10, Knoxville, TN

WVLT-TV, 8, Knoxville, TN (formerly WTVK)

+WTNZ, 43, Knoxville, TN (formerly WKCH)

+WEMT, 39, Greenville, TN

Shelby

WREG-TV, 3, Memphis, TN (formerly WREC)

WMC-TV, 5, Memphis, TN

WHBQ-TV, 13, Memphis, TN

+WLMT, 30, Memphis, TN

Smith

WSMV, 4, Nashville, TN (formerly WSM)

WTVF, 5, Nashville, TN (formerly WLAC)

WKRN-TV, 2, Nashville, TN (formerly WSIX)

Stewart

WSMV, 4, Nashville, TN (formerly WSM)

WTVF, 5, Nashville, TN (formerly WLAC)

WKRN-TV, 2, Nashville, TN (formerly WSIX)

Sullivan

WCYB-TV, 5, Bristol, VA

WJHL-TV, 11, Johnson City, TN

WKPT-TV, 19, Kingsport, TN

Sumner

WSMV, 4, Nashville, TN (formerly WSM)

WTVF, 5, Nashville, TN (formerly WLAC)

WKRN-TV, 2, Nashville, TN (formerly WSIX)

+WUXP, 30, Nashville, TN

Tipton

WREG-TV, 3, Memphis, TN (formerly WREC)

WMC-TV, 5, Memphis, TN

WHBQ-TV, 13, Memphis, TN

+WLMT, 30, Memphis, TN

Trousdale

WSMV, 4, Nashville, TN (formerly WSM)

WTVF, 5, Nashville, TN (formerly WLAC)

WKRN-TV, 2, Nashville, TN (formerly WSIX)

Unicoi

WCYB-TV, 5, Bristol, VA

WJHL-TV, 11, Johnson City, TN

Union

WATE-TV, 6, Knoxville, TN

WBIR-TV, 10, Knoxville, TN

WVLT-TV, 8, Knoxville, TN (formerly WTVK)

Van Buren

WSMV, 4, Nashville, TN (formerly WSM)

WTVF, 5, Nashville, TN (formerly WLAC)

WKRN-TV, 2, Nashville, TN (formerly WSIX)

WRCB-TV, 3, Chattanooga, TN

WDEF-TV, 12, Chattanooga, TN

Warren

WSMV, 4, Nashville, TN (formerly WSM)

WTVF, 5, Nashville, TN (formerly WLAC)

WKRN-TV, 2, Nashville, TN (formerly WSIX)

Washington

WCYB-TV, 5, Bristol, VA

WJHL-TV, 11, Johnson City, TN

WKPT-TV, 19, Kingsport, TN

Wayne

WSMV 4, Nashville, TN (formerly WSM)

WTVF, 5, Nashville, TN (formerly WLAC)

WKRN-TV, 2, Nashville, TN (formerly WSIX)

Weakley

WPSD-TV, 6, Paducah, KY

KFVS-TV, 12, Cape Girardeau, MO

+KBSI, 23, Cape Girardeau, MO

WBBJ-TV, 7, Jackson, TN

White

WSMV, 4, Nashville, TN (formerly WSM)

WTVF, 5, Nashville, TN (formerly WLAC)

WKRN-TV, 2, Nashville, TN (formerly WSIX)

Williamson

WSMV, 4, Nashville, TN (formerly WSM)

WTVF, 5, Nashville, TN (formerly WLAC)

WKRN-TV, 2, Nashville, TN (formerly WSIX)

+WUXP, 30, Nashville, TN

Wilson

WSMV, 4, Nashville, TN (formerly WSM)

WTVF, 5, Nashville, TN (formerly WLAC)

WKRN-TV, 2, Nashville, TN (formerly WSIX)

+WUXP, 30, Nashville, TN

TEXAS

Anderson

KDFW, 4, Dallas, TX

KXAS-TV, 5, Fort Worth, TX (formerly WBAP)

WFAA-TV, 8, Dallas, TX

KTVT, 11, Fort Worth, TX

KLTV, 7, Tyler, TX

+KETK-TV, 56, Jacksonville, TX

Andrews

KMID, 2, Midland, TX

KOSA-TV, 7, Odessa, TX

KWES-TV, 9, Odessa, TX (formerly KMOM)

+KPEJ, 24, Odessa, TX

Angelina

KTRE, 9, Lufkin, TX

+KLSB-TV, 19, Nacogdoches, TX

Aransas

KIII-TV, 3, Corpus Christi, TX

KRIS-TV, 6, Corpus Christi, TX

KZTV, 10, Corpus Christi, TX

Archer

KFDX-TV, 3, Wichita Falls, TX

KAUZ-TV, 6, Wichita Falls, TX

KSWO-TV, 7, Lawton, OK

+KJTL, 18, Wichita Falls, TX

Armstrong

KAMR-TV, 4, Amarillo, TX (formerly KGNC)

KVII-TV, 7, Amarillo, TX

KFDA-TV, 10, Amarillo, TX

Atascosa

KMOL-TV, 4, San Antonio, TX (formerly WOAI)

KENS-TV, 5, San Antonio, TX

KSAT-TV, 12, San Antonio, TX

+KABB, 29, San Antonio, TX

+KRRT, 35, Kerrville, TX

Austin

KPRC-TV, 2, Houston, TV

KHOU-TV, 11, Houston, TX

KTRK-TV, 13, Houston, TX

KHTV, 39, Houston, TX

Bailey

KCBD--TV, 11, Lubbock, TX

KLBK-TV, 13, Lubbock, TX

+KJTV-TV, 34, Lubbock, TX

KFDA-TV, 10, Amarillo, TX

Bandera

KMOL-TV, 4, San Antonio, TX (formerly WOAI)

KENS-TV, 5, San Antonio, TX

KSAT-TV, 12, San Antonio, TX

Bastrop

KTBC, 7, Austin, TX

KXAN-TV, 36, Austin, TX (formerly KHFI)

+KEYE-TV, 42, Austin (formerly KBVO)

KMOL-TV, 4, San Antonio, TX (formerly WOAI)

KENS-TV, 5, San Antonio, TX

KSAT-TV, 12, San Antonio, TX

Baylor

KFDX-TV, 3, Wichita Falls, TX

KAUZ-TV, 6, Wichita Falls, TX

KSWO-TV, 7, Lawton, OK

Bee

KIII-TV, 3, Corpus Christi, TX

KRIS-TV, 6, Corpus Christi, TX

KZTV, 10, Corpus Christi, TX

KMOL-TV, 4, San Antonio, TX (formerly WOAI)

KENS-TV, 5, San Antonio, TX

KSAT-TV, 12, San Antonio, TX

+KABB, 29, San Antonio, TX

Bell

KCEN-TV, 6, Temple, TX

KWTX-TV, 10, Waco, TX

+KXXV, 25, Waco, TX

+KWKT, 44, Waco, TX

KTBC, 7, Austin, TX

+KEYE-TV, 42, Austin, TX (formerly KBVO)

Bexar

KMOL-TV, 4, San Antonio, TX (formerly WOAI)

KENS-TV, 5, San Antonio, TX

KSAT-TV, 12, San Antonio, TX

+KABB, 29, San Antonio, TX

+KRRT, 35, Kerrville, TX

KWEX-TV, 41, San Antonio, TX

Blanco

KMOL-TV, 4, San Antonio, TX (formerly WOAI)

KENS-TV, 5, San Antonio, TX

KSAT-TV, 12, San Antonio, TS

KTBC, 7, Austin, TX

KXAN-TV, 36, Austin, TX (formerly KHFI)

Borden

KCBD-TV, 11, Lubbock, TX

KLBK-TV, 13, Lubbock, TX

KAMC, 28, Lubbock, TX (formerly KSEL)

Bosque

KDFW, 4, Dallas, TX

KXAS-TV, 5, Fort Worth, TX (formerly WBAP)

WFAA-TV, 8, Dallas, TX

KTVT, 11, Fort Worth, TX

KCEN-TV, 6, Temple, TX

KWTX-TV, 10, Waco, TX

Bowie

KTBS-TV, 3, Shreveport, LA

KTAL-TV, 6, Shreveport, LA

KSLA-TV, 12, Shreveport, LA

+KMSS-TV, 33, Shreveport, LA

Brazoria

KPRC-TV, 2, Houston, TX

KHOU-TV, 11, Houston, TX

KTRK-TV, 13, Houston, TX

+KTXH, 20, Houston, TX

KHTV, 39, Houston, TX

+KXLN-TV, 45, Rosenberg, TX

Brazos

KBTX-TV, 3, Waco, TX

KCEN-TV, 6, Temple, TX

+KWKT, 44, Waco, TX

KTVT, 11, Fort Worth, TX

Brewster

Not available.

Briscoe

KAMR-TV, 4, Amarillo, TX (formerly KGNC)

KVIITV 7, Amarillo, TX

KFDA-TV, 10, Amarillo, TX

Brooks

KIII-TV, 3, Corpus Christi, TX

KRIS-TV, 6, Corpus Christi, TX

KZTV, 10, Corpus Christi, TX

Brown

KRBC-TV, 9, Abilene, TX

KTXS-TV, 12, Sweetwater, TX

+KTAB-TV, 32, Abilene, TX

KTVT, 11, Fort Worth, TX

Burleson

KBTX-TV, 3, Bryan, TX

KCEN-TV, 6, Temple, TX

KTBC, 7, Austin, TX

+KEYE-TV, 42, Austin, TX (formerly KBVO)

Burnet

KTBC, 7, Austin, TX

KXAN-TV, 36, Austin, TX (formerly KHFI)

+KEYE-TV, 42, Austin, TX (formerly KBVO)

KWTX-TV, 10, Waco, TX

+KWKT, 44, Waco, TX

Caldwell

KMOL-TV, 4, San Antonio, TX (formerly WOAI)

KENS-TV, 5, San Antonio, TX

KSAT-TV, 12, San Antonio, TX

+KABB, 29, San Antonio, TX

KTBC, 7, Austin, TX

KXAN-TV, 36, Austin, TX (formerly KHFI)

+KEYE-TV, 42, Austin, TX (formerly KBVO)

Calhoun

+KAVU-TV, 25, Victoria, TX

Callahan

KRBC-TV, 9, Abilene, TX

KTXS-TV, 12, Sweetwater, TX

+KTAB-TV, 32, Abilene, TX

Cameron

KGBT-TV, 4, Harlingen, TX

KRGV-TV, 5, Weslaco, TX

+KVEO, 23, Brownsville, TX

Camp

KTBS-TV, 3, Shreveport, LA

KTAL-TV, 6, Shreveport, LA

KSLA-TV, 12, Shreveport, LA

+KMSS-TV, 33, Shreveport, LA

KLTV, 7, Tyler, TX

Carson

KAMR-TV, 4, Amarillo, TX (formerly KGNC)

KVII-TV, 7, Amarillo, TX

KFDA-TV, 10, Amarillo, TX

+KCIT, 14, Amarillo, TX

Cass

KTBS-TV, 3, Shreveport, LA

KTAL-TV, 6, Shreveport, LA

KSLA,-TV 12, Shreveport, LA

+KMSS-TV, 33, Shreveport, LA

Castro

KAMR-TV, 4, Amarillo, TX (formerly KGNC)

KVII-TV, 7, Amarillo, TX

KFDA-TV, 10, Amarillo, TX

KLBK-TV, 13, Lubbock, TX

+KJTV-TV, 34, Lubbock, TX

Chambers

KPRC-TV, 2, Houston, TX

KHOU-TV, 11, Houston, TX

KTRK-TV, 13, Houston, TX

KHTV, 39, Houston, TX

KBTV-TV, 4, Port Arthur, TX (formerly KJAC)

KFDM-TV, 6, Beaumont, TX

KBMT, 12, Beaumont, TX

Cherokee

KLTV, 7, Tyler, TX

KTRE, 9, Lufkin, TX

+KFXK, 51, Longview, TX

+KETK-TV, 56, Jacksonville, TX

KTBS-TV, 3, Shreveport, LA

Childress

Not available.

Clay

KFDX-TV, 3, Wichita Falls, TX

KAUZ-TV, 6, Wichita Falls, TX

KSWO-TV, 7, Lawton, OK

+KJTL, 18, Wichita Falls, TX

Cochran

KCBD-TV, 11, Lubbock, TX

KLBK-TV, 13, Lubbock, TX

KAMC, 28, Lubbock, TX (formerly KSEL)

Coke

KRBC+-TV, 9, Abilene, TX

KTXS-TV, 12, Sweetwater, TX

KLST, 8, San Angelo, TX (formerly KCTV)

Coleman

KRBC-TV, 9, Abilene, TX

KTXS-TV, 12, Sweetwater, TX

+KTAB-TV, 32, Abilene, TX

Collin

KDFW, 4, Dallas, TX

KXAS-TV, 5, Fort Worth, TX (formerly WBAP)

WFAA-TV, 8, Dallas, TX

KTVT, 11, Fort Worth, TX

+KDFI-TV, 27, Dallas, TX

+KDAF, 33, Dallas, TX

KXTX-TV, 39, Dallas, TX (formerly KDTV)

Collingsworth

KVII-TV, 7, Amarillo, TX

KFDA-TV, 10, Amarillo, TX

KFDX-TV, 3, Wichita Falls, TX

KAUZ-TV, 6, Wichita Falls, TX

KSWO-TV, 7, Lawton, OK

Colorado

KPRC-TV, 2, Houston, TX

KHOU-TV, 11, Houston, TX

KTRK-TV, 13, Houston, TX

+KTXH, 20, Houston, TX

Comal

KMOL-TV, 4, San Antonio, TX (formerly WOAI)

KENS-TV, 5, San Antonio, TX

KSAT-TV, 12, San Antonio, TX

+KABB, 29, San Antonio, TX

+KRRT, 35, Kerrville, TX

Comanche

KDFW-TV, 4, Dallas, TX

KXAS-TV, 5, Fort Worth, TX (formerly WBAP)

WFAA-TV, 8, Dallas, TX

KTVT, 11, Fort Worth, TX

KRBC-TV, 9, Abilene, TX

Concho

+KIDY, 6, San Angelo, TX

Cooke

KDFW-TV, 4, Dallas, TX

KXAS-TV, 5, Fort Worth, TX (formerly WBAP)

WFAA-TV, 8, Dallas, TX

KTVT, 11, Fort Worth, TX

+KDFI-TV, 27, Dallas, TX

Coryell

KCEN-TV, 6, Temple, TX

KWTX-TV, 10, Waco, TX

+KXXV, 25, Waco, TX

+KWKT, 44, Waco, TX

KTBC, 7, Austin, TX

KTVT, 11, Fort Worth, TX

Cottle

Over 90% cable penetration.

Crane

KMID, 2, Midland, TX

KOSA-TV, 7, Odessa, TX

KWES-TV, 9, Odessa, TX (formerly KMOM)

Crockett

Not available.

Crosby

KCBD-TV, 11, Lubbock, TX

KLBK-TV, 13, Lubbock, TX

KAMC, 28, Lubbock, TX (formerly KSEL)

+KJTV-TV, 34, Lubbock, TX

Culberson

Not available.

Dallam

KAMR-TV, 4, Amarillo, TX (formerly KGNC)

KVII-TV, 7, Amarillo, TX

KFDA-TV, 10, Amarillo, TX

Dallas

KDFW, 4, Dallas, TX

KXAS-TV, 5, Fort Worth, TX (formerly WBAP)

WFAA-TV, 8, Dallas, TX

KTVT, 11, Fort Worth, TV

+KDFI-TV, 27, Dallas, TX

+KDAF, 33, Dallas, TX

KXTX-TV, 39, Dallas, TX (formerly KDTV)

Dawson

KCBD-TV, 11, Lubbock, TX

KLBK-TV, 13, Lubbock, TX

KAMC, 28, Lubbock, TX (formerly KSEL)

KJTV-TV, 34, Lubbock, TX (formerly KMXN)

KMID, 2, Midland, TX

+KPEJ, 24, Odessa, TX

Deaf Smith

KAMR-TV, 4, Amarillo, TX (formerly KGNC)

KVII-TV, 7, Amarillo, TX

KFDA-TV, 10, Amarillo, TX

Delta

KDFW-TV, 4, Dallas, TX

KXAS-TV, 5, Fort Worth, TX (formerly WBAP)

WFAA-TV, 8, Dallas, TX

KTVT, 11, Fort Worth, TX

Denton

KDFW-TV, 4, Dallas, TX

KXAS-TV, 5, Fort Worth, TX (formerly WBAP)

WFAA-TV, 8, Dallas, TX

KTVT, 11, Fort Worth, TX

+KTXA, 21, Arlington, TX

+KDFI-TV, 27, Dallas, TX

+KDAF, 33, Dallas, TX

KXTX-TV, 39, Dallas, TX (formerly KDTV)

De Witt

KMOL-TV, 4, San Antonio, TX (formerly WOAI)

KENS-TV, 5, San Antonio, TX

KSAT-TV, 12, San Antonio, TX

+KABB, 29, San Antonio, TX

Dickens

KCBD-TV, 11, Lubbock, TX

KLBK-TV, 13, Lubbock, TX

KAMC, 28, Lubbock, TX (formerly KSEL)

KTXS-TV, 12, Sweetwater, TX

Dimmit

Not available.

Donley

KAMR-TV, 4, Amarillo, TX (formerly KGNC)

KVII-TV, 7, Amarillo, TX

KFDA-TV, 10, Amarillo, TX

Duval

KIII-TV, 3, Corpus Christi, TX

KRIS-TV, 6, Corpus Christi, TX

KZTV, 10, Corpus Christi, TX

Eastland

KRBC-TV, 9, Abilene, TX

KTXS-TV, 12, Sweetwater, TX

+KTAB-TV, 32, Abilene, TX

Ector

KMID, 2, Midland, TX

KOSA-TV, 7, Odessa, TX

KWES-TV, 9, Odessa, TX (formerly KMOM)

+KPEJ, 24, Odessa, TX

Edwards

KMOL-TV, 4, San Antonio, TX (formerly WOAI)

KENS-TV, 5, San Antonio, TX

KSAT-TV, 12, San Antonio, TX

Ellis

KDFW-TV, 4, Dallas, TX

KXAS-TV, 5, Fort Worth, TX (formerly WBAP)

WFAA-TV, 8, Dallas, TX

KTVT, 11, Fort Worth, TX

+KDFI-TV, 27, Dallas, TX

+KDAF, 33, Dallas, TX

KXTX-TV, 39, Dallas, TX (formerly KDTV)

El Paso

KDBC-TV, 4, El Paso, TX (formerly KROD)

KTSM-TV, 9, El Paso, TX

KVIA-TV, 7, El Paso, TX (formerly KELP)

+KFOX-TV, 14, El Paso, TX

Erath

KDFW-TV, 4, Dallas, TX

KXAS-TV, 5, Fort Worth, TX (formerly WBAP)

WFAA-TV, 8, Dallas, TX

KTVT, 11, Fort Worth, TX

Falls

KCEN-TV, 6, Temple, TX

KWTX-TV, 10, Waco, TX

+KXXV, 25, Waco, TX

+KWKT, 44, Waco, TX

Fannin

KDFW-TV, 4, Dallas, TX

KXAS-TV, 5, Fort Worth, TX (formerly WBAP)

WFAA-TV, 8, Dallas, TX

KTVT, 11, Fort Worth, TX

KXII-TV, 12, Sherman, TX

Fayette

KTBC, 7, Austin, TX

+KEYE-TV, 42, Austin, TX (formerly KBVO)

KPRC-TV, 2, Houston, TX

KHOU-TV, 11, Houston, TX

KTRK-TV, 13, Houston, TX

KENS-TV, 5, San Antonio, TX

KSAT-TV, 12, San Antonio, TX

Fisher

KRBC-TV, 9, Abilene, TX

KTXS-TV, 12, Sweetwater, TX

Floyd

KCBD-TV, 11, Lubbock, TX

KLBK-TV, 13, Lubbock, TX

KAMC, 28, Lubbock, TX (formerly KSEL)

+KJTV-TV, 34, Lubbock, TX

Foard

KFDX-TV, 3, Wichita Falls, TX

KAUZ-TV, 6, Wichita Falls, TX

KSWO-TV, 7, Lawton, OK

Fort Bend

KPRC-TV, 2, Houston, TX

KHOU-TV, 11, Houston, TX

KTRK-TV, 13, Houston, TX

+KTXH, 20, Houston, TX

KHTV, 39, Houston, TX

+KXLN-TV, 45, Rosenberg, TX

Franklin

Not available.

Freestone

KDFW-TV, 4, Dallas, TX

KXAS-TV, 5, Fort Worth, TX (formerly WBAP)

WFAA-TV, 8, Dallas, TX

KTVT, 11, Fort Worth, TX

Frio

KMOL-TV, 4, San Antonio, TX (formerly WOAI)

KENS-TV, 5, San Antonio, TX

KSAT-TV, 12, San Antonio, TX

Gaines

KCBD-TV, 11, Lubbock, TX

KLBK-TV, 13, Lubbock, TX

+KJTV-TV, 34, Lubbock, TX

WFAA-TV, 8, Dallas, TX

KTVT, 11, Fort Worth, TX

KXTX-TV, 39, Dallas, TX (formerly KDTV)

+KPEJ, 24, Odessa, TX

Galveston

KPRC-TV, 2, Houston, TX

KHOU-TV, 11, Houston, TX

KTRK-TV, 13, Houston, TX

+KTXH, 20, Houston, TX

KHTV, 39, Houston, TX

Garza

KCBD-TV, 11, Lubbock, TX

KLBK-TV, 13, Lubbock, TX

KAMC, 28, Lubbock, TX (formerly KSEL)

Gillespie

KMOL-TV, 4, San Antonio, TX (formerly WOAI)

KENS-TV, 5, San Antonio, TX

KSAT-TV, 12, San Antonio, TX

+KRRT, 35, Kerrville, TX

KTBC-TV, 7, Austin, TX

+KEYE-TV, 42, Austin, TX (formerly KBVO)

Glasscock

KMID, 2, Midland, TX

KOSA-TV, 7, Odessa, TX

KWES-TV, 9, Odessa, TX (formerly KMOM)

Goliad

KMOL-TV, 4, San Antonio, TX (formerly WOAI)

KENS-TV, 5, San Antonio, TX

KSAT-TV, 12, San Antonio, TX

Gonzales

KMOL-TV, 4, San Antonio, TX (formerly WOAI)

KENS-TV, 5, San Antonio, TX

KSAT-TV, 12, San Antonio, TX

+KABB, 29, San Antonio, TX

+KEYE-TV, 42, Austin, TX (formerly KBVO)

Gray

KAMR-TV, 4, Amarillo, TX (formerly KGNC)

KVII-TV, 7, Amarillo, TX

KFDA-TV, 10, Amarillo, TX

Grayson

KDFW-TV, 4, Dallas, TX

KXAS-TV, 5, Fort Worth, TX (formerly WBAP)

WFAA-TV, 8, Dallas, TX

KTVT, 11, Fort Worth, TX

+KTXA, 21, Arlington, TX

KXII, 12, Sherman, TX

Gregg

KTBS-TV, 3, Shreveport, LA

KTAL-TV, 6, Shreveport, LA

KSLA-TV, 12, Shreveport, LA

+KMSS-TV, 33, Shreveport, LA

KLTV, 7, Tyler, TX

+KFXK, 51, Longview, TX

+KETK-TV, 56, Jacksonville, TX

Grimes

KPRC-TV, 2, Houston, TX

KHOU-TV, 11, Houston, TX

KTRK-TV, 13, Houston, TX

KBTX-TV, 3, Bryan, TX

Guadalupe

KMOL-TV, 4, San Antonio, TX (formerly WOAI)

KENS-TV, 5, San Antonio, TX

KSAT-TV, 12, San Antonio, TX

+KABB, 29, San Antonio, TX

+KRRT, 35, Kerrville, TX

Hale

KCBD-TV, 11, Lubbock, TX

KLBK-TV, 13, Lubbock, TX

KAMC, 28, Lubbock, TX (formerly KSEL)

+KJTV-TV, 34, Lubbock, TX

Hall

Over 90% cable penetration.

Hamilton

KDFW-TV, 4, Dallas, TX

KXAS-TV, 5, Fort Worth, TX (formerly WBAP)

WFAA-TV, 8, Dallas, TX

KTVT, 11, Fort Worth, TX

KCEN-TV, 6, Temple, TX

KWTX-TV, 10, Waco, TX

Hansford

KAMR-TV, 4, Amarillo, TX (formerly KGNC)

KVII-TV, 7, Amarillo, TX

KFDA-TV, 10, Amarillo, TX

Hardeman

KFDX-TV, 3, Wichita Falls, TX

KAUZ-TV, 6, Wichita Falls, TX

KSWO-TV, 7, Lawton, OK

Hardin

KBTV-TV, 4, Port Arthur, TX (formerly KJAC)

KFDM-TV, 6, Beaumont, TX

KBMT, 12, Beaumont, TX

+KVHP, 29, Lake Charles, LA

Harris

KPRC-TV, 2, Houston, TX

KHOU-TV, 11, Houston, TX

KTRK-TV, 13, Houston, TX

+KTXH, 20, Houston, TX

KHTV, 39, Houston, TX

+KXLN-TV, 45, Rosenberg, TX

+KTMD, 48, Galveston, TX

Harrison

KTBS-TV, 3, Shreveport, LA

KTAL-TV, 6, Shreveport, LA

KSLA-TV, 12, Shreveport, LA

+KMSS-TV, 33, Shreveport, LA

Hartley

KAMR-TV, 4, Amarillo, TX (formerly KGNC)

KVII-TV, 7, Amarillo, TX

KFDA-TV, 10, Amarillo, TX

Haskell

KRBC-TV, 9, Abilene, TX

KTXS-TV, 12, Sweetwater, TX

+KTAB-TV, 32, Abilene, TX

KFDX-TV, 3, Wichita Falls, TX

Hays

KMOL-TV, 4, San Antonio, TX (formerly WOAI)

KENS-TV, 5, San Antonio, TX

KSAT-TV, 12, San Antonio, TX

+KABB, 29, San Antonio, TX

KTBC-TV, 7, Austin, TX

+KEYE-TV, 42, Austin, TX (formerly KBVO)

Hemphill

Over 90% cable penetration.

Henderson

KDFW-TV, 4, Dallas, TX

KXAS-TV, 5, Fort Worth, TX (formerly WBAP)

WFAA-TV, 8, Dallas, TX

KTVT, 11, Fort Worth, TX

KLTV, 7, Tyler, TX

Hidalgo

KGBT-TV, 4, Harlingen, TX

KRGV-TV, 5, Weslaco, TX

+KVEO, 23, Brownsville, TX

Hill

KDFW-TV, 4, Dallas, TX

KXAS-TV, 5, Fort Worth, TX (formerly WBAP)

WFAA-TV, 8, Dallas, TX

KTVT, 11, Fort Worth, TX

KWTX-TV, 10, Waco, TX

Hockley

KCBD-TV, 11, Lubbock, TX

KLBK-TV, 13, Lubbock, TX

KAMC, 28, Lubbock, TX (formerly KSEL)

+KJTV-TV, 34, Lubbock, TX

Hood

KDFW-TV, 4, Dallas, TX

KXAS-TV, 5, Fort Worth, TX (formerly WBAP)

WFAA-TV, 8, Dallas, TX

KTVT, 11, Fort Worth, TX

Hopkins

KDFW-TV, 4, Dallas, TX

KXAS-TV, 5, Fort Worth, TX (formerly WBAP)

WFAA-TV, 8, Dallas, TX

KTVT, 11, Fort Worth, TX

KLTV, 7, Tyler, TX

Houston

KTRE, 9, Lufki, TX

KBTX-TV, 3, Bryan, TX

Howard

KMID, 2, Midland, TX

KWAB-TV, 4, Big Spring, TX

KOSA-TV, 7, Odessa, TX

KWES-TV, 9, Odessa, TX (formerly KMOM)

Hudspeth

KDBC-TV, 4, El Paso, TX (formerly KROD)

KTSM-TV, 9, El Paso, TX

KVIA-TV, 7, El Paso, TX (formerly KELP)

Hunt

KDFW-TV, 4, Dallas, TX

KXAS-TV, 5, Fort Worth, TX (formerly WBAP)

WFAA-TV, 8, Dallas, TX

KTVT, 11, Fort Worth, TX

KTXA, 21, Fort Worth, TX

+KDFI-TV, 27, Dallas, TX

+KDAF, 33, Dallas, TX

Hutchinson

KAMR-TV, 4, Amarillo, TX (formerly KGNC)

KVII-TV, 7, Amarillo, TX

KFDA-TV, 10, Amarillo, TX

+KCIT, 14, Amarillo, TX

Irion

KLST, 8, San Angelo, TX (formerly KCTV)

KRBC-TV, 9, Abilene, TX

Jack

KFDX-TV, 3, Wichita Falls, TX

KAUZ-TV, 6, Wichita Falls, TX

KSWO-TV, 7, Lawton, OK

KDFW-TV, 4, Dallas, TX

KXAS-TV, 5, Fort Worth, TX (formerly WBAP)

WFAA-TV, 8, Dallas, TX

KTVT, 11, Fort Worth, TX

Jackson

KPRC-TV, 2, Houston, TX

KHOU-TV, 11, Houston, TX

KTRK-TV, 13, Houston, TX

KHTV, 39, Houston, TX

+KAVU-TV, 25, Victoria, TX

Jasper

KBTV-TV, 4, Port Arthur, TX (formerly KJAC)

KFDM-TV, 6, Beaumont, TX

KBMT, 12, Beaumont, TX

+KVHP, 29, Lake Charles, LA

Jeff Davis

KMID, 2, Midland, TX

KOSA-TV, 7, Odessa, TX

KWES-TV, 9, Odessa, TX (formerly KMOM)

Jefferson North

KBTV-TV, 4, Port Arthur, TX (formerly KJAC)

KFDM-TV, 6, Beaumont, TX

KBMT, 12, Beaumont, TX

+KVHP, 29, Lake Charles, LA

Jefferson South

KBTV-TV, 4, Port Arthur, TX (formerly KJAC)

KFDM-TV, 6, Beaumont, TX

KBMT, 12, Beaumont, TX

+KVHP, 29, Lake Charles, LA

Jim Hogg

KIII-TV, 3, Corpus Christi, TX

KRIS-TV, 6, Corpus Christi, TX

KZTV, 10, Corpus Christi, TX

Jim Wells

KIII-TV, 3, Corpus Christi, TX

KRIS-TV, 6, Corpus Christi, TX

KZTV, 10, Corpus Christi, TX

Johnson

KDFW-TV, 4, Dallas, TX

KXAS-TV, 5, Fort Worth, TX (formerly WBAP)

WFAA-TV, 8, Dallas, TX

KTVT, 11, Fort Worth, TX

+KDFI-TV, 27, Dallas, TX

+KDAF, 33, Dalla, TX

KXTX-TV, 39, Dallas, TX (formerly KDTV)

Jones

KRBC-TV, 9, Abilene, TX

KTXS-TV, 12, Sweetwater, TX

+KTAB-TV, 32, Abilene, TX

Karnes

KMOL-TV, 4, San Antonio, TX (formerly WOAI)

KENS-TV, 5, San Antonio, TX

KSAT-TV, 12, San Antonio, TX

Kaufman

KDFW-TV, 4, Dallas, TX

KXAS-TV, 5, Fort Worth, TX (formerly WBAP)

WFAA-TV, 8, Dallas, TX

KTVT, 11, Fort Worth, TX

KXTX-TV, 39, Dallas, TX (formerly KDTV)

Kendall

KMOL-TV, 4, San Antonio, TX (formerly WOAI)

KENS-TV 5, San Antonio, TX

KSAT-TV, 12, San Antonio, TX

+KABB, 29, San Antonio, TX

Kenedy

KIII-TV, 3, Corpus Christi, TX

KRIS-TV, 6, Corpus Christi, TX

KZTV, 10, Corpus Christi, TX

Kent

KCBD-TV, 11, Lubbock, TX

KLBK-TV, 13, Lubbock, TX

KAMC, 28, Lubbock, TX (formerly KSEL)

KTXS-TV, 12, Sweetwater, TX

Kerr

KMOL-TV, 4, San Antonio, TX (formerly WOAI)

KENS-TV, 5, San Antonio, TX

KSAT-TV, 12, San Antonio, TX

+KRRT, 35, Kerrville, TX

Kimble

KMOL-TV, 4, San Antonio, TX (formerly WOAI)

KENS-TV, 5, San Antonio, TX

KSAT-TV, 12, San Antonio, TX

King

KFDX-TV, 3, Wichita Falls, TX

KAUZ-TV, 6, Wichita Falls, TX

KSWO-TV, 7, Lawton, OK

KTXS-TV, 12, Sweetwater, TX

Kinney

Over 90% cable penetration.

Kleberg

KIII-TV, 3, Corpus Christi, TX

KRIS-TV, 6, Corpus Christi, TX

KZTV, 10, Corpus Christi, TX

Knox

KFDX-TV, 3, Wichita Falls, TX

KAUZ-TV, 6, Wichita Falls, TX

KSWO-TV, 7, Lawton, OK

KTXS-TV, 12, Sweetwater, TX

Lamar

KDFW-TV, 4, Dallas, TX

KXAS-TV, 5, Fort Worth, TX (formerly WBAP)

WFAA-TV, 8, Dallas, TX

KTVT, 11, Fort Worth, TX

KXII-TV, 12, Sherman, TX

Lamb

KCBD-TV, 11, Lubbock, TX

KLBK-TV, 13, Lubbock, TX

KAMC, 28, Lubbock, TX (formerly KSEL)

+KJTV-TV, 34, Lubbock, TX

Lampasas

KCEN-TV, 6, Temple, TX

KWTX-TV, 10, Waco, TX

+KXXV, 25, Waco, TX

+KWKT, 44, Waco, TX

KTBC-TV, 7, Austin, TX

+KEYE-TV, 42, Austin, TX (formerly KBVO)

La Salle

Not available.

Lavaca

KMOL-TV, 4, San Antonio, TX (formerly WOAI)

KENS-TV, 5, San Antonio, TX

KSAT-TV, 12, San Antonio, TX

KPRC-TV, 2, Houston, TX

Lee

KTBC-TV, 7, Austin, TX

KXAN-TV, 36, Austin, TX (formerly KHFI)

+KEYE-TV, 42, Austin, TX (formerly KBVO)

KBTX-TV, 3, Bryan, TX

KCEN-TV, 6, Temple, TX

Leon

KBTX-TV, 3, Bryan, TX

KCEN-TV, 6, Temple, TX

KWTX-TV, 10, Waco, TX

+KXXV, 25, Waco, TX

+KWKT, 44, Waco, TX

Liberty

KPRC-TV, 2, Houston, TX

KHOU-TV, 11, Houston, TX

KTRK-TV, 13, Houston, TX

+KTXH, 20, Houston, TX

KHTV, 39, Houston, TX

Limestone

KDFW-TV, 4, Dallas, TX

KXAS-TV, 5, Fort Worth, TX (formerly WBAP)

WFAA-TV, 8, Dallas, TX

KTVT, 11, Fort Worth, TX

KCEN-TV, 6, Temple, TX

KWTX-TV, 10, Waco, TX

+KWKT, 44, Waco, TX

Lipscomb

KAMR-TV, 4, Amarillo, TX (formerly KGNC)

KVII-TV, 7, Amarillo, TX

KFDA-TV, 10, Amarillo, TX

Live Oak

KMOL-TV, 4, San Antonio, TX (formerly WOAI)

KENS-TV, 5, San Antonio, TX

KSAT-TV, 12, San Antonio, TX

Llano

KTBC-TV, 7, Austin, TX

KXAN-TV, 36, Austin, TX (formerly KHFI)

Loving

KOSA-TV, 7, Odessa, TX

KWES-TV, 9, Odessa, TX (formerly KMOM)

Lubbock

KCBD-TV, 11, Lubbock, TX

KLBK-TV, 13, Lubbock, TX

KAMC, 28, Lubbock, TX (formerly KSEL)

+KJTV-TV, 34, Lubbock, TX

Lynn

KCBD-TV, 11, Lubbock, TX

KLBK-TV, 13, Lubbock, TX

KAMC, 28, Lubbock, TX (formerly KSEL)

KJTV, 34, Lubbock, TX (formerly KMSN)

McCulloch

Over 90% cable penetration.

McLennan

KCEN-TV, 6, Temple, TX

KWTX-TV, 10, Waco, TX

+KXXV, 25, Waco, TX

+KWKT, 44, Waco, TX

KDFW-TV, 4, Dallas, TX

WFAA-TV, 8, Dallas, TX

KTVT, 11, Fort Worth, TX

McMullen

KMOL-TV, 4, San Antonio, TX (formerly WOAI)

KENS-TV, 5, San Antonio, TX

KSAT-TV, 12, San Antonio, TX

Madison

KBTX-TV, 3, Bryan, TX

KPRC-TV, 2, Houston, TX

Marion

KTBS-TV, 3, Shreveport, LA

KTAL-TV, 6, Shreveport, LA

KSLA-TV, 12, Shreveport, LA

+KMSS-TV, 33, Shreveport, LA

Martin

KMID, 2, Midland, TX

KOSA-TV, 7, Odessa, TX

KWES-TV, 9, Odessa, TX (formerly KMOM)

Mason

Not available.

Matagorda

KPRC-TV, 2, Houston, TX

KHOU-TV, 11, Houston, TX

KTRK-TV, 13, Houston, TX

+KTXH, 20, Houston, TX

KHTV, 39, Houston, TX

Maverick

Over 90% cable penetration.

Medina

KMOL-TV, 4, San Antonio, TX (formerly WOAI)

KENS-TV, 5, San Antonio, TX

KSAT-TV, 12, San Antonio, TX

+KABB, 29, San Antonio, TX

+KRRT, 35, Kerrville, TX

Menard

KRBC-TV, 9, Abilene, TX

KLST, 8, San Angelo, TX (formerly KCTV)

Midland

KMID, 2, Midland, TX

KOSA-TV, 7, Odessa, TX

KWES-TV, 9, Odessa, TX (formerly KMOM)

+KPEJ, 24, Odessa, TX

Milam

KCEN-TV, 6, Temple, TX

KWTX-TV, 10, Waco, TX

+KXXV, 25, Waco, TX

+KWKT, 44, Waco, TX

KTBC-TV, 7, Austin, TX

+KEYE-TV, 42, Austin, TX (formerly KBVO)

Mills

KCEN-TV, 6, Temple, TX

KWTX-TV, 10, Waco, TX

KRBC-TV, 9, Abilene, TX

KTXS-TV, 12, Sweetwater, TX

Mitchell

KMID, 2, Midland, TX

KWES-TV, 9, Odessa, TX (formerly KMOM)

KTXS-TV, 12, Sweetwater, TX

Montague

KFDX-TV, 3, Wichita Falls, TX

KAUZ-TV, 6, WichitA-Falls, TX

KSWO-TV, 7, Lawton, OK

+KJTL, 18, Wichita Falls, TX

KDFW-TV, 4, Dallas, TX

KXAS-TV, 5, Fort Worth, TX (formerly WBAP)

KTVT, 11, Fort Worth, TX

KXTX-TV, 39, Dallas, TX (formerly KDTV)

Montgomery

KPRC-TV, 2, Houston, TX

KHOU-TV, 11, Houston, TX

KTRK-TV, 13, Houston, TX

+KTXH, 20, Houston, TX

KHTV, 39, Houston, TX

Moore

KAMR-TV, 4, Amarillo, TX (formerly KGNC)

KVII-TV, 7, Amarillo, TX

KFDA-TV, 10, Amarillo, TX

Morris

KTBS-TV, 3, Shreveport, LA

KTAL-TV, 6, Shreveport, LA

KSLA-TV, 12, Shreveport, LA

+KMSS-TV, 33, Shreveport, LA

Motley

Over 90% cable penetration.

Nacogdoches

KTBS-TV, 3, Shreveport, LA

KSLA-TV, 12, Shreveport, LA

KTVT, 11, Fort Worth, TX

KTRE, 9, Lufkin, TX

+KLSB-TV, 19, Nacogdoches, TX

Navarro

KDFW-TV, 4, Dallas, TX

KXAS-TV, 5, Fort Worth, TX (formerly WBAP)

WFAA-TV, 8, Dallas, TX

KTVT, 11, Fort Worth, TX

+KTXA, 21, Arliington, TX

Newton

KBTV-TV, 4, Port Arthur, TX (formerly KJAC)

KFDM-TV, 6, Beaumont, TX

KBMT, 12, Beaumont, TX

+KVHP, 29, Lake Charles, LA

Nolan

KRBC-TV, 9, Abilene, TX

KTXS-TV, 12, Sweetwater, TX

+KTAB-TV, 32, Abilene, TX

Nueces

KIII-TV, 3, Corpus Christi, TX

KRIS-TV, 6, Corpus Christi, TX

KZTV, 10, Corpus Christi, TX

Ochiltree

KAMR-TV, 4, Amarillo, TX (formerly KGNC)

KVII-TV, 7, Amarillo, TX

KFDA-TV, 10, Amarillo, TX

Oldham

KAMR-TV, 4, Amarillo, TX (formery KGNC)

KVII-TV, 7, Amarillo, TX

KFDA-TV, 10, Amarillo, TX

Orange

KBTV-TV, 4, Port Arthur, TX (formerly KJAC)

KFDM-TV, 6, Beaumont, TX

KBMT, 12, Beaumont, TX

+KVHP, 29, Lake Charles, LA

Palo Pinto

KDFW-TV, 4, Dallas, TX

KXAS-TV, 5, Fort Worth, TX (formerly WBAP)

WFAA-TV, 8, Dallas, TX

KTVT, 11, Fort Worth, TX

Panola

KTBS-TV, 3, Shreveport, LA

KTAL-TV, 6, Shreveport, LA

KSLA-TV, 12, Shreveport, LA

+KMSS-TV, 33, Shreveport, LA

Parker

KDFW-TV, 4, Dallas, TX

KXAS-TV, 5, Fort Worth, TX (formerly WBAP)

WFAA-TV, 8, Dallas, TX

KTVT, 11, Fort Worth, TX

Parmer

KAMR-TV, 4, Amarillo, TX (formerly KGNC)

KVII-TV, 7, Amarillo, TX

KFDA-TV, 10, Amarillo, TX

KCBD-TV, 11, Lubbock, TX

Pecos

KMID, 2, Midland, TX

KOSA-TV, 7, Odessa, TX

KWES-TV, 9, Odessa, TX (formerly KMOM)

Polk

KTRE, 9, Lufkin, TX

KBTV-TV, 4, Port Arthur, TX (formerly KJAC)

KFDM-TV, 6, Beaumont, TX

KPRC-TV, 2, Houston, TX

+KTXH, 20, Houston, TX

Potter

KAMR-TV, 4, Amarillo, TX (formerly KGNC)

KVII-TV, 7, Amarillo, TX

KFDA-TV, 10, Amarillo, TX

+KCIT, 14, Amarillo, TX

Presidio

KOSA-TV, 7, Odessa, TX

Rains

KDFW-TV, 4, Dallas, TX

KXAS-TV, 5, Fort Worth, TX (formerly WBAP)

WFAA-TV, 8, Dallas, TX

KTVT, 11, Fort Worth, TX

Randall

KAMR-TV, 4, Amarillo, TX (formerly KGNC)

KVII-TV, 7, Amarillo, TX

KFDA-TV, 10, Amarillo, TX

+KCIT, 14, Amarillo, TX

Reagan

KMID, 2, Midland, TX

KOSA-TV, 7, Odessa, TX

KWES-TV, 9, Odessa, TX (formerly KMOM)

Real

KMOL-TV, 4, San Antonio, TX (formerly WOAI)

KENS-TV, 5, San Antonio, TX

KSAT-TV, 12, San Antonio, TX

Red River

KTBS-TV, 3, Shreveport, LA

KTAL-TV, 6, Shreveport, LA

KSLA-TV, 12, Shreveport, LA

Reeves

KOSA-TV, 7, Odessa, TX

KWES-TV, 9, Odessa, TX (formerly KMOM)

Refugio

KIII-TV, 3, Corpus Christi, TX

KRIS-TV, 6, Corpus Christi, TX

KZTV, 10, Corpus Christi, TX

Roberts

KAMR-TV, 4, Amarillo, TX (formerly KGNC)

KVII-TV, 7, Amarillo, TX

KFDA-TV, 10, Amarillo, TX

Robertson

KCEN-TV, 6, Temple, TX

KWTX-TV, 10, Waco, TX

+KXXV, 25, Waco, TX

+KWKT, 44, Waco, TX

Rockwall

KDFW-TV, 4, Dallas, TX

KXAS-TV, 5, Fort Worth, TX (formerly WBAP)

WFAA-TV, 8, Dallas, TX

KTVT, 11, Fort Worth, TX

KXTX-TV, 39, Dallas, TX (formerly KDTV)

Runnels

KRBC-TV, 9, Abilene, TX

KTXS-TV, 12, Sweetwater, TX

+KTAB-TV, 32, Abilene, TX

+KIDY, 6, San Angelo, TX

KLST, 8, San Angelo, TX (formerly KCTV)

Rusk

KTBS-TV, 3, Shreveport, LA

KTAL-TV, 6, Shreveport, LA

KSLA-TV, 12, Shreveport, LA

+KMSS-TV, 33, Shreveport, LA

KLTV, 7, Tyler, TX

+KFXK, 51, Longview, TX

+KETK-TV, 56, Jacksonville, TX

Sabine

KBTV-TV, 4, Port Arthur, TX (formerly KJAC)

KFDM-TV, 6, Beaumont, TX

KTBS-TV, 3, Shreveport, LA

KSLA-TV, 12, Shreveport, LA

KTRE, 9, Lufkin, TX

San Augustine

KTBS-TV, 3, Shreveport, LA

KSLA-TV, 12, Shreveport, LA

KTRE, 9, Lufkin, TX

San Jacinto

KPRC-TV, 2, Houston, TX

KHOU-TV, 11, Houston, TX

KTRK-TV, 13, Houston, TX

San Patricio

KIII-TV, 3, Corpus Christi, TX

KRIS-TV, 6, Corpus Christi, TX

KZTV, 10, Corpus Christi, TX

San Saba

KDFW-TV, 4, Dallas, TX

KRBC-TV, 9, Abilene, TX

KTBC-TV, 7, Austin, TX

KCEN-TV, 6, Temple, TX

KWTX-TV, 10, Waco, TX

Schleicher

KLST, 8, San Angelo, TX (formerly KCTV)

KRBC-TV, 9, Abilene, TX

Scurry

KRBC-TV, 9, Abilene, TX

KTXS-TV, 12, Sweetwater, TX

Shackelford

KRBC-TV, 9, Abilene, TX

KTXS-TV, 12, Sweetwater, TX

Shelby

KTBS-TV, 3, Shreveport, LA

KTAL-TV, 6, Shreveport, LA

KSLA-TV, 12, Shreveport, LA

+KMSS-TV, 33, Shreveport, LA

Sherman

KAMR-TV, 4, Amarillo, TX (formerly KGNC)

KVII-TV, 7, Amarillo, TX

KFDA-TV, 10, Amarillo, TX

Smith

KLTV, 7, Tyler, TX

+KFXK, 51, Longview, TX

+KETK-TV, 56, Jacksonville, TX

KDFW-TV, 4, Dallas, TX

KTVT, 11, Fort Worth, TX

KTBS-TV, 3, Shreveport, LA

KSLA-TV, 12, Shreveport, LA

+KMSS-TV, 33, Shreveport, LA

Somervell

KDFW-TV, 4, Dallas, TX

KXAS-TV, 5, Fort Worth, TX (formerly WBAP)

WFAA-TV, 8, Dallas, TX

KTVT, 11, Fort Worth, TX

Starr

KGBT-TV, 4, Harlingen, TX

KRGV-TV, 5, Weslaco, TX

+KVEO, 23, Brownsville, TX

Stephens

KRBC-TV, 9, Abilene, TX

KTXS-TV, 12, Sweetwater, TX

WFAA-TV, 8, Dallas, TX

KTVT, 11, Fort Worth, TX

Sterling

KRBC-TV, 9, Abilene, TX

KLST, 8, San Angelo, TX (formerly KCTV)

Stonewall

KRBC-TV, 9, Abilene, TX

KTXS-TV, 12, Sweetwater, TX

Sutton

Not available.

Swisher

KAMR-TV, 4, Amarillo, TX (formerly KGNC)

KVII-TV, 7, Amarillo, TX

KFDA-TV, 10, Amarillo, TX

+KJTV-TV, 34, Lubbock, TX

Tarrant

KDFW-TV, 4, Dallas, TX

KXAS-TV, 5, Fort Worth, TX (formerly WBAP)

WFAA-TV, 8, Dallas, TX

KTVT, 11, Fort Worth, TX

+KTXA, 21, Arlington, TX

+KDFI-TV, 27, Dallas, TX

+KDAF, 33, Dallas, TX

KXTX-TV, 39, Dallas, TX (formerly KDTV)

Taylor

KRBC-TV, 9, Abilene, TX

KTXS-TV, 12, Sweetwater, TX

+KTAB-TV, 32, Abilene, TX

Terrell

Over 90% cable penetration.

Terry

KCBD-TV, 11, Lubbock, TX

KLBK-TV, 13, Lubbock, TX

KAMC, 28, Lubbock, TX (formerly KSEL)

+KJTV-TV, 34, Lubbock, TX

Throckmorton

KFDX-TV, 3, Wichita Falls, TX

KAUZ-TV, 6, Wichita Falls, TX

KSWO-TV, 7, Lawton, OK

Titus

KTBS-TV, 3, Shreveport, LA

KTAL-TV, 6, Shreveport, LA

KSLA-TV, 12, Shreveport, LA

Tom Green

+KIDY, 6, San Angelo, TX

KCTV, 8, San Angelo, TX (formerly KCTV)

KRBC-TV, 9, Abilene, TX

Travis

KTBC-TV, 7, Austin, TX

KXAN-TV, 36, Austin, TX (formerly KHFI)

+KEYE-TV, 42, Austin, TX (formerly KBVO)

Trinity

KTRE, 9, Lufkin, TX

KPRC-TV, 2, Houston, TX

KBTX-TV, 3, Bryan, TX

Tyler

KBTV-TV, 4, Port Arthur, TX (formerly KJAC)

KFDM-TV, 6, Beaumont, TX

KBMT, 12, Beaumont, TX

Upshur

KTBS-TV, 3, Shreveport, LA

KTAL-TV, 6 Shreveport, LA

KSLA-TV, 12, Shreveport, LA

+KMSS-TV, 33, Shreveport, LA

KLTV, 7, Tyle, TX

+KFXK, 51, Longview, TX

Upton

KMID, 2, Midland, TX

KOSA-TV, 7, Odessa, TX

KWES-TV, 9, Odessa, TX (formerly KMOM)

Uvalde

KMOL-TV, 4, San Antonio, TX (formerly WOAI)

KENS-TV, 5, San Antonio, TX

KSAT-TV, 12, San Antonio, TX

Val Verde

Not available.

Van Zandt

KDFW-TV, 4, Dallas, TX

KXAS-TV, 5, Fort Worth, TX (formerly WBAP)

WFAA-TV, 8, Dallas, TX

KTVT, 11, Fort Worth, TX

KLTV, 7, Tyler, TX

Victoria

KMOL-TV, 4, San Antonio, TX (formerly WOAI)

KENS-TV, 5, San Antonio, TX

KSAT-TV, 12, San Antonio, TX

KIII-TV, 3, Corpus Christi, TX

+KAVU-TV, 25, Victoria, TX

Walker

KPRC-TV, 2, Houston, TX

KHOU-TV, 11, Houston, TX

KTRK-TV, 13, Houston, TX

+KTXH, 20, Houston, TX

KHTV, 39, Houston, TX

KBTX-TV, 3, Bryan, TX

Waller

KPRC-TV, 2, Houston, TX

KHOU-TV, 11, Houston, TX

KTRK-TV, 13, Houston, TX

KHTV, 39, Houston, TX

Ward

KMID, 2, Midland, TX

KOSA-TV, 7, Odessa, TX

KWES-TV, 9, Odessa, TX (formerly KMOM)

Washington

KPRC-TV, 2, Houston, TX

KHOU-TV, 11, Houston, TX

KTRK-TV, 13, Houston, TX

+KTXH, 20, Houston, TX

KHTV, 39, Houston, TX

KBTX-TV, 3, Bryan, TX

Webb

KGNS-TV, 8, Laredo, TX

XEFE-TV, 2, Mexico

Wharton

KPRC-TV, 2, Houston, TX

KHOU-TV, 11, Houston, TX

KTRK-TV, 13, Houston, TX

+KTXH, 20, Houston, TX

KHTV, 39, Houston, TX

Wheeler

KFDA-TV, 10, Amarillo, TX

Wichita

KFDX-TV, 3, Wichita Falls, TX

KAUZ-TV, 6, Wichita Falls, TX

KSWO-TV, 7, Lawton, OK

+KJTL, 18, Wichita Falls, TX

Wilbarger

KFDX-TV, 3, Wichita Falls, TX

KAUZ-TV, 6, Wichita Falls, TX

KSWO-TV, 7, Lawton, OK

+KJTL, 18, Wichita Falls, TX

Willacy

KGBT-TV, 4, Harlingen, TX

KRGV-TV, 5, Weslaco, TX

+KVEO, 23, Brownsville, TX

Williamson

KTBC-TV, 7, Austin, TX

KXAN-TV, 36, Austin, TX (formerly KHFI)

+KEYE-TV, 42, Austin, TX (formerly KBVO)

KCEN-TV, 6, Temple, TX

KWTX-TV, 10, Waco, TX

+KWKT, 44, Waco, TX

Wilson

KMOL-TV, 4, San Antonio, TX (formerly WOAI)

KENS-TV, 5, San Antonio, TX

KSAT-TV, 12, San Antonio, TX

KWEX-TV, 41, San Antonio, TX

Winkler

KMID, 2, Midland, TX

KOSA-TV, 7, Odessa, TX

KWES-TV, 9, Odessa, TX (formerly KMOM)

Wise

KDFW-TV, 4, Dallas, TX

KXAS-TV, 5, Fort Worth, TX (formerly WBAP)

WFAA-TV, 8, Dallas, TX

KTVT, 11, Fort Worth, TX

KXTX-TV, 39, Dallas, TX (formerly KDTV)

Wood

KTBS-TV, 3, Shreveport, LA

KTAL-TV, 6, Shreveport, LA

KSLA-TV, 12, Shreveport, LA

KDFW-TV, 4, Dallas, TX

KXAS-TV, 5, Fort Worth, TX (formerly WBAP)

WFAA-TV, 8, Dallas, TX

KTVT, 11, Fort Worth, TX

KLTV, 7, Tyler, TX

Yoakum

KCBD-TV, 11, Lubbock, TX

KLBK-TV, 13, Lubbock, TX

+KJTV-TV, 34, Lubbock, TX

KBIM-TV, 10, Roswell, NM

Young

KFDX-TV, 3, Wichita Falls, TX

KAUZ-TV, 6, Wichita Falls, TX

KSWO-TV, 7, Lawton, OK

Zapata

KGNS-TV, 8, Laredo, TX

KGBT-TV, 4, Harlingen, TX

XEFB, 3, Mexico

Zavala

KMOL-TV, 4, San Antonio, TX (formerly WOAI)

KENS-TV, 5, San Antonio, TX

Brenham—KRIV

Copperas Cove—KEYE-TV

Denison—KDFI-TV, KDAF

Greenville—KXTX-TV

Knollwood—KDFI-TV, KDAF

Portions of Grayson County—KDFI-TV, KDAF

Sherman—KDFI-TV, KDAF

Unincorporated portions of Washington County (adjacent to Brenham)—KRIV

UTAH

Beaver

KUTV, 2, Salt Lake City, UT

KTVX, 4, Salt Lake City, UT (formerly KCPX)

KSL-TV, 5, Salt Lake City, UT

Box Elder

KUTV, 2, Salt Lake City, UT

KTVX, 4, Salt Lake City, UT (formerly KCPX)

KSL-TV, 5, Salt Lake City, UT

+KSTU, 13, Salt Lake City, UT

Cache

KUTV, 2, Salt Lake City, UT

KTVX, 4, Salt Lake City, UT (formerly KCPX)

KSL-TV, 5, Salt Lake City, UT

+KSTU, 13, Salt Lake City, UT

Carbon

KUTV, 2, Salt Lake City, UT

KTVX, 4, Salt Lake City, UT (formerly KCPX)

KSL-TV, 5, Salt Lake City, UT

Daggett

KUTV, 2, Salt Lake City, UT

KTVX, 4, Salt Lake City, UT (formerly KCPX)

KSL-TV, 5, Salt Lake City, UT

Davis

KUTV, 2, Salt Lake City, UT

KTVX, 4, Salt Lake City, UT (formerly KCPX)

KSL-TV, 5, Salt Lake City, UT

+KSTU, 13, Salt Lake City, UT

Duchesne

KUTV, 2, Salt Lake City, UT

KTVX, 4, Salt Lake City, UT (formerly KCPX)

KSL-TV, 5, Salt Lake City, UT

Emery

KUTV, 2, Salt Lake City, UT

KTVX, 4, Salt Lake City, UT (formerly KCPX)

KSL-TV, 5, Salt Lake City, UT

Garfield

KUTV, 2, Salt Lake City, UT

KTVX, 4, Salt Lake City, UT (formerly KCPX)

KSL-TV, 5, Salt Lake City, UT

Grand

KUTV, 2, Salt Lake City, UT

KTVX, 4, Salt Lake City, UT (formerly KCPX)

KSL-TV, 5, Salt Lake City, UT

Iron

KUTV, 2, Salt Lake City, UT

KTVX, 4, Salt Lake City, UT (formerly KCPX)

KSL-TV, 5, Salt Lake City, UT

Juab

KUTV, 2, Salt Lake City, UT

KTVX, 4, Salt Lake City, UT (formerly KCPX)

KSL-TV, 5, Salt Lake City, UT

Kane

KUTV, 2, Salt Lake City, UT

KTVX, 4, Salt Lake City, UT (formerly KCPX)

KSL-TV, 5, Salt Lake City, UT

Millard

KUTV, 2, Salt Lake City, UT

KTVX, 4, Salt Lake City, UT (formerly KCPX)

KSL-TV, 5, Salt Lake City, UT

Morgan

KUTV, 2, Salt Lake City, UT

KTVX, 4, Salt Lake City, UT (formerly KCPX)

KSL-TV, 5, Salt Lake City, UT

+KSTU, 13, Salt Lake City, UT

Piute

KUTV, 2, Salt Lake City, UT

KTVX, 4, Salt Lake City, UT (formerly KCPX)

KSL-TV, 5, Salt Lake City, UT

Rich

KUTV, 2, Salt Lake City, UT

KTVX, 4, Salt Lake City, UT (formerly KCPX)

KSL-TV, 5, Salt Lake City, UT

Salt Lake

KUTV, 2, Salt Lake City, UT

KTVX, 4, Salt Lake City, UT (formerly KCPX)

KSL-TV, 5, Salt Lake City, UT

+KSTU, 13, Salt Lake City, UT

San Juan

KUTV, 2, Salt Lake City, UT

KTVX, 4, Salt Lake City, UT (formerly KCPX)

KSL-TV, 5, Salt Lake City, UT

Sanpete

KUTV, 2, Salt Lake City, UT

KTVX, 4, Salt Lake City, UT (formerly KCPX)

KSL-TV, 5, Salt Lake City, UT

+KSTU, 13, Salt Lake City, UT

Sevier

KUTV, 2, Salt Lake City, UT

KTVX, 4, Salt Lake City, UT (formerly KCPX)

KSL-TV, 5, Salt Lake City, UT

+KSTU, 13, Salt Lake City, UT

Summit

KUTV, 2, Salt Lake City, UT

KTVX, 4, Salt Lake City, UT (formerly KCPX)

KSL-TV, 5, Salt Lake City, UT

Tooele

KUTV, 2, Salt Lake City, UT

KTVX, 4, Salt Lake City, UT (formerly KCPX)

KSL-TV, 5, Salt Lake City, UT

+KSTU, 13, Salt Lake City, UT

Uintah

KUTV, 2, Salt Lake City, UT

KTVX, 4, Salt Lake City, UT (formerly KCPX)

KSL-TV, 5, Salt Lake City, UT

+KSTU, 13, Salt Lake City, UT

Utah

KUTV, 2, Salt Lake City, UT

KTVX, 4, Salt Lake City, UT (formerly KCPX)

KSL-TV, 5, Salt Lake City, UT

+KSTU, 13, Salt Lake City, UT

Wasatch

KUTV, 2, Salt Lake City, UT

KTVX, 4, Salt Lake City, UT (formerly KCPX)

KSL-TV, 5, Salt Lake City, UT

Washington

KUTV, 2, Salt Lake City

KTVX, 4, Salt Lake City (KTVX) (formerly KCPX)

KSL-TV, 5, Salt Lake City

+KSTU, 13, Salt Lake City

KVBC, 3, Las Vegas, NV (formerly KORK)

Wayne

KUTV, 2, Salt Lake City, UT

KTVX, 4, Salt Lake City, UT (formerly KCPX)

KSL-TV, 5, Salt Lake City, UT

Weber

KUTV, 2, Salt Lake City, UT

KTVX, 4, Salt Lake City, UT (formerly KCPX)

KSL-TV, 5, Salt Lake City, UT

+KSTU, 13, Salt Lake City, UT

VERMONT

Addison

WCAX-TV, 3, Burlington, VT

WPTZ, 5, Plattsburgh, NY

Bennington

WRGB, 6, Schenectady, NY

WTEN, 10, Albany, NY

WNYT, 13, Albany, NY (formerly WAST)

+WXXA-TV, 23, Albany, NY

Caledonia

WCAX-TV, 3, Burlington, VT

WMTW-TV, 8, Portland, ME

Chittenden

WCAX-TV, 3, Burlington, VT

WPTZ, 5, Plattsburgh, NY

WVNY, 22, Burlington, VT

CFCF, 12, Canada

Essex

WCAX-TV, 3, Burlington, VT

WMTW-TV, 8, Portland, ME

Franklin

WCAX-TV, 3, Burlington, VT

WPTZ, 5, Plattsburgh, NY

WVNY, 22, Burlington, VT

CBMT, 6, Canada

CFCF, 12, Canada

Grand Isle

WCAX-TV, 3, Burlington, VT

WPTZ, 5, Plattsburgh, NY

WVNY, 22, Burlington, VT

CBMT, 6, Canada

CFCF, 12, Canada

Lamoille

WCAX-TV, 3, Burlington, VT

WPTZ, 5, Plattsburgh, NY

WVNY, 22, Burlington, VT

WMTW-TV, 8, Portland, ME

CBMT, 6, Canada

Orange

WCAX-TV, 3, Burlington, VT

WMTW-TV, 8, Portland, ME

Orleans

WCAX-TV, 3, Burlington, VT

WPTZ, 5, Plattsburgh, NY

WMTW-TV, 8, Portland, ME

CBMT, 6, Canada

CFCF, 12, Canada

Rutland

WCAX-TV, 3, Burlington, VT

WPTZ, 5, Plattsburgh, NY

WRGB, 6, Schenectady, NY

WTEN, 10, Albany, NY

WNYT, 13, Albany, NY (formerly WAST)

Washington

WCAX-TV, 3, Burlington, VT

WPTZ, 5, Plattsburgh, NY

WMTW-TV, 8, Portland, ME

Windham

WMTW-TV, 8, Portland, ME

WCVB-TV, 5, Boston, MA

Windsor

WCAX-TV, 3, Burlington, VT

WMTW-TV, 8, Portland, ME

VIRGINIA

Accomack

WTKR, 3, Norfolk, VA (formerly WTAR)

WAVY-TV, 10, Portsmouth, VA

WVEC-TV, 13, Hampton, VA

WBOC-TV, 16, Salisbury, MD

+WMDT, 47, Salisbury, MD

WTTG, 5, Washington, DC

Albemarle & Charlottesville City

WTVR-TV, 6, Richmond, VA

WRIC-TV, 8, Richmond, VA (formerly WXEX)

WWBT, 12, Richmond, VA WHSV-TV, 3, Harrisonburg, VA (formerly WSVA)

+WVIR-TV, 29, Charlottesville, VA

Alleghany & Covington City incl. Clifton Forge City

WDBJ, 7, Roanoke, VA

WSLS-TV, 10, Roanoke, VA

Amelia

WTVR-TV, 6, Richmond, VA

WRIC-TV, 8, Richmond, VA (formerly WXEX)

WWBT, 12, Richmond, VA

+WRLH-TV, 35, Richmond, VA

Amherst

WDBJ, 7, Roanoke, VA

WSLS-TV, 10, Roanoke, VA

WSET-TV, 13, Lynchburg, VA (formerly WLVA)

+WJPR, 21, Lynchburg, VA

Appomattox

WDBJ, 7, Roanoke, VA

WSLS-TV, 10, Roanoke, VA

WSET-TV, 13, Lynchburg, VA (formerly WLVA)

Arlington & Alexandria City

WRC-TV, 4, Washington, DC

WTTG, 5, Washington, DC

WJLA-TV, 7, Washington, DC (formerly WMAL)

WUSA, 9, Washington, DC (formerly WTOP)

WDCA, 20, Washington, DC

Augusta & Staunton City & Waynesboro City

WTVR-TV, 6, Richmond, VA

WWBT, 12, Richmond, VA

WHSV-TV, 3, Harrisonburg, VA (formerly WSVA)

WTTG, 5, Washington, DC

+WVIR-TV, 29, Charlottesville, VA

Bath

WDBJ, 7, Roanoke, VA

WSLS-TV, 10, Roanoke, VA

WVVA, 6, Bluefield, WV (formerly WHIS)

WHSV-TV, 3, Harrisonburg, VA (formerly WSVA)

Bedford

WDBJ, 7, Roanoke, VA

WSLS-TV, 10, Roanoke, VA

WSET-TV, 13, Lynchburg, VA (formerly WLVA)

+WJPR, 21, Lynchburg, VA

+WFXR-TV, 27, Roanoke, VA (formerly WVFT)

Bland

WVVA, 6, Bluefield, WV (formerly WHIS)

WDBJ, 7, Roanoke, VA

WSLS-TV, 10, Roanoke, VA

Botetourt

WDBJ, 7, Roanoke, VA

WSLS-TV, 10, Roanoke, VA

WSET-TV, 13, Lynchburg, VA (formerly WLVA)

+WFXR-TV, 27, Roanoke, VA (formerly WVFT)

Brunswick

WTVR-TV, 6, Richmond, VA

WRIC-TV, 8, Richmond, VA (formerly WXEX)

WWBT, 12, Richmond, VA

Buchanan

WOAY-TV, 4, Oak Hill, WV

WVVA, 6, Bluefield, WV (formerly WHIS)

WCYB-TV, 5, Bristol, VA

+WVAH-TV, 11, Charleston, WV (formerly ch. 23)

Buckingham

WTVR-TV, 6, Richmond, VA

WRIC-TV, 8, Richmond, VA (formerly WXEX)

WWBT, 12, Richmond, VA

+WRLH-TV, 35, Richmond, VA

+WVIR-TV, 29, Charlottesville, VA

Campbell & Lynchburg City

WDBJ, 7, Roanoke, VA

WSLS-TV, 10, Roanoke, VA

WSET-TV, 13, Lynchburg, VA (formerly WLVA)

+WJPR, 21, Lynchburg, VA

+WFXR-TV, 27, Roanoke, VA (formerly WVFT)

Caroline

WTVR-TV, 6, Richmond, VA

WRIC-TV, 8, Richmond, VA (formerly WXEX)

WWBT, 12, Richmond, VA

WTTG, 5, Washington, DC

Carroll

WDBJ, 7, Roanoke, VA

WSLS-TV, 10, Roanoke, VA

WVVA, 6, Bluefield, WV (formerly WHIS)

WFMY-TV, 2, Greensboro, NC

WGHP, 8, Greensboro, NC

WXII, 12, Greensboro, NC (formerly WSJS)

Charles City

WTVR-TV, 6, Richmond, VA

WRIC-TV, 8, Richmond, VA (formerly WXEX)

WWBT, 12, Richmond, VA

+WRLH-TV, 35, Richmond, VA

Charlotte

WDBJ, 7, Roanoke, VA

WSLS-TV, 10, Roanoke, VA

WSET-TV, 13, Lynchburg, VA (formerly WLVA)

WTVR-TV, 6, Richmond, VA

Chesterfield & Colonial Heights City

WTVR-TV, 6, Richmond, VA

WRIC-TV, 8, Richmond, VA (formerly WXEX)

WWBT, 12, Richmond, VA

+WRLH-TV, 35, Richmond, VA

Clarke

WRC-TV, 4, Washington, DC

WTTG, 5, Washington, DC

WJLA-TV, 7, Washington, DC (formerly WMAL)

WUSA, 9, Washington, DC (formerly WTOP)

+WDCA, 20, Washington, DC

Craig

WDBJ, 7, Roanoke, VA

WSLS-TV, 10, Roanoke, VA

Culpeper

WRC-TV, 4, Washington, DC

WTTG, 5, Washington, DC

WJLA-TV, 7, Washington, DC (formerly WMAL)

WUSA, 9, Washington, DC (formerly WTOP)

Cumberland

WTVR-TV, 6, Richmond, VA

WRIC-TV, 8, Richmond, VA (formerly WXEX)

WWBT, 12, Richmond, VA

+WRLH-TV, 35, Richmond, VA

Dickenson

WCYB-TV, 5, Bristol, VA

Dinwiddie & Petersburg City

WTVR-TV, 6, Richmond, VA

WRIC-TV, 8, Richmond, VA (formerly WXEX)

WWBT, 12, Richmond, VA

+WRLH-TV, 35, Richmond, VA

Essex

WTVR-TV, 6, Richmond, VA

WRIC-TV, 8, Richmond, VA (formerly WXEX)

WWBT, 12, Richmond, VA

WTTG, 5, Washington, DC

Fairfax & Fairfax City & Falls Church City

WRC-TV, 4, Washington, DC

WTTG, 5, Washington, DC

WJLA-TV, 7, Washington, DC (formerly WMAL)

WUSA, 9, Washington, DC (formerly WTOP)

WDCA, 20, Washington, DC

Fauquier

WRC-TV, 4, Washington, DC

WTTG, 5, Washington, DC

WJLA-TV, 7, Washington, DC (formery WMAL)

WUSA, 9, Washington, DC (formerly WTOP)

+WDCA, 20, Washington, DC

Floyd

WDBJ, 7, Roanoke, VA

WSLS-TV, 10, Roanoke, VA

Fluvanna

WTVR-TV, 6, Richmond, VA

WRIC-TV, 8, Richmond, VA (formerly WXEX)

WWBT, 12, Richmond, VA

+WVIR-TV, 29, Charlottesville, VA

Franklin

WDBJ, 7, Roanoke, VA

WSLS-TV, 10, Roanoke, VA

WSET-TV, 13, Lynchburg, VA (formerly WLVA)

+WFXR-TV, 27, Roanoke, VA (formerly WVFT)

Frederick & Winchester City

WRC-TV, 4, Washington, DC

WTTG, 5, Washington, DC

WJLA-TV, 7, Washington, DC (formerly WMAL)

WUSA, 9, Washington, DC (formerly WTOP)

Giles

WDBJ, 7, Roanoke, VA

WSLS-TV, 10, Roanoke, VA

WVVA, 6, Bluefield, WV (formerly WHIS)

Gloucester

WTKR, 3, Norfolk, VA (formerly WTAR)

WAVY-TV, 10, Portsmouth, VA

WVEC-TV, 13, Hampton, VA

WTVR-TV, 6, Richmond, VA

WRIC-TV, 8, Richmond, VA (formerly WXEX)

Goochland

WTVR-TV, 6, Richmond, VA

WRIC-TV, 8, Richmond, VA (formerly WXEX)

WWBT, 12, Richmond, VA

+WRLH-TV, 35, Richmond, VA

Grayson

WDBJ, 7, Roanoke, VA

WSLS-TV, 10, Roanoke, VA

WFMY-TV, 2, Greensboro, NC

WGHP, 8, Greensboro, NC

WXII, 12, Greensboro, NC (formerly WSJS)

Greene

WTVR-TV, 6, Richmond, VA

WRIC-TV, 8, Richmond, VA (formerly WXEX)

WWBT, 12, Richmond, VA

WHSV-TV, 3, Harrisonburg, VA (formerly WSVA)

+WVIR-TV, 29, Charlottesville, VA

Greensville

WTVR-TV, 6, Richmond, VA

WRIC-TV, 8, Richmond, VA (formerly WXEX)

WWBT, 12, Richmond, VA

+WRLH-TV, 35, Richmond, VA

WTKR, 3, Norfolk, VA (formerly WTAR)

WAVY-TV, 10, Portsmouth, VA

Halifax

WDBJ, 7, Roanoke, VA

WSLS-TV, 10, Roanoke, VA

WSET-TV, 13, Lynchburg, VA (formerly WLVA)

+WJPR, 21, Lynchburg, VA

+WLFL, 22, Raleigh, NC

Hampton-Newport News & Hampton City & Newport News City

WTKR, 3, Norfolk, VA (formerly WTAR)

WAVY-TV, 10, Portsmouth, VA

WVEC-TV, 13, Hampton, VA

Hanover

WTVR-TV, 6, Richmond, VA

WRIC-TV, 8, Richmond, VA (formerly WXEX)

WWBT, 12, Richmond, VA

Henrico & Richmond City

WTVR-TV, 6, Richmond, VA

WRIC-TV, 8, Richmond, VA (formerly WXEX)

WWBT, 12, Richmond, VA

Henry & Martinsville City

WDBJ, 7, Roanoke, VA

WSLS-TV, 10, Roanoke, VA

+WFXR-TV, 27, Roanoke, VA (formerly WVFT)

WFMY-TV, 2, Greensboro, NC

WGHP, 8, Greensboro, NC

WXII, 12, Greensboro, NC (formerly WSJS)

+WXLV-TV, 45, Winston-Salem, NC (formerly WNRW)

+WUPN-TV, 48, Greensboro, NC (formerly WGGT)

Highland

WDBJ, 7, Roanoke, VA

WSLS-TV, 10, Roanoke, VA

WHSV-TV, 3, Harrisonbur, VA (formerly WSVA)

Isle of Wight

WTKR, 3, Norfolk, VA (formerly WTAR)

WAVY-TV, 10, Portsmouth, VA

WVEC-TV, 13, Hampton, VA

James City & Williamsburg City

WTKR, 3, Norfolk, VA (formerly WTAR)

WAVY-TV, 10, Portsmouth, VA

WVEC-TV, 13, Hampton, VA

WTVR-TV, 6, Richmond, VA

WRIC-TV, 8, Richmond, VA (formerly WXEX)

WWBT, 12, Richmond, VA

King and Queen

WTVR-TV, 6, Richmond, VA

WRIC-TV, 8, Richmond, VA (formerly WXEX)

WWBT, 12, Richmond, VA

+WRLH-TV, 35, Richmond, VA

WAVY-TV, 10, Portsmouth, VA

King George

WRC-TV, 4, Washington, DC

WTTG, 5, Washington, DC

WJLA-TV, 7, Washington, DC (formerly WMAL)

WUSA, 9, Washington, DC (formerly WTOP)

WDCA, 20, Washington, DC

King William

WTVR-TV, 6, Richmond, VA

WRIC-TV, 8, Richmond, VA (formerly WXEX)

WWBT, 12, Richmond, VA

+WRLH-TV, 35, Richmond, VA

Lancaster

WTVR-TV, 6, Richmond, VA

WRIC-TV, 8, Richmond, VA (formerly WXEX)

WWBT, 12, Richmond, VA

WTKR, 3, Norfolk, VA (formerly WTAR)

WAVY-TV, 10, Portsmouth, VA

Lee

WCYB-TV, 5, Bristol, VA

WJHL-TV, 11, Johnson City, TN

+WEMT, 39, Greenville, TN

WATE-TV, 6, Knoxville, TN

WBIR-TV, 10, Knoxville, TN

Loudoun

WRC-TV, 4, Washington, DC

WTTG, 5, Washington, DC

WJLA-TV, 7, Washington, DC (formerly WMAL)

WUSA, 9, Washington, DC (formerly WTOP)

WDCA, 20, Washington, DC

Louisa

WTVR-TV, 6, Richmond, VA

WRIC-TV, 8, Richmond, VA (formerly WXEX)

WWBT, 12, Richmond, VA

Lunenburg

WTVR-TV, 6, Richmond, VA

WRIC-TV, 8, Richmond, VA (formerly WXEX)

WWBT, 12, Richmond, VA

Madison

WTVR-TV, 6, Richmond, VA

WRIC-TV, 8, Richmond, VA (formerly WXEX)

WWBT, 12, Richmond, VA

WHSV-TV, 3, Harrisonburg, VA (formerly WSVA)

WRC-TV, 4, Washington, D

WTTG, 5, Washington, D

+WVIR-TV, 29, Charlottesville, VA

Mathews

WTKR, 3, Norfolk, VA (formerly WTAR)

WAVY-TV, 10, Portsmouth, VA

WVEC-TV, 13, Hampton, VA

WTVR-TV, 6, Richmond, VA

WRIC-TV, 8, Richmond, VA (formerly WXEX)

Mecklenburg

WDBJ, 7, Roanoke, VA

WSLS-TV, 10, Roanoke, VA

WSET-TV, 13, Lynchburg, VA (formerly WLVA)

WRAL-TV, 5, Raleigh, NC

WTVD, 11, Durham, NC

WTVR-TV, 6, Richmond, VA

WRIC-TV, 8, Richmond, VA (formerly WXEX)

Middlesex

WTVR-TV, 6, Richmond, VA

WRIC-TV, 8, Richmond, VA (formerly WXEX)

WWBT, 12, Richmond, VA

WTKR, 3, Norfolk, VA (formerly WTAR)

WAVY-TV, 10, Portsmouth, VA

Montgomery & Radford City

WDBJ, 7, Roanoke, VA

WSLS-TV, 10, Roanoke, VA

WSET-TV, 13, Lynchburg, VA (formerly WLVA)

+WFXR-TV, 27, Roanoke, VA (formerly WVFT)

Nansemond & Suffolk City

WTKR, 3, Norfolk, VA (formerly WTAR)

WAVY-TV, 10, Portsmouth, VA

WVEC-TV, 13, Hampton, VA

WGNT, 27, Portsmouth, VA (formerly WYAH)

Nelson

WDBJ, 7, Roanoke, VA

WSLS-TV, 10, Roanoke, VA

WSET-TV, 13, Lynchburg, VA (formerly WLVA)

WTVR-TV, 6, Richmond, VA

WWBT, 12, Richmond, VA

+WVIR-TV, 29, Charlottesville, VA

New Kent

WTVR-TV, 6, Richmond, VA

WRIC-TV, 8, Richmond, VA (formerly WXEX)

WWBT, 12, Richmond, VA

+WRLH-TV, 35, Richmond, VA

Norfolk & Chesapeake City & Portsmouth City & Norfolk City

WTKR, 3, Norfolk, VA (formerly WTAR)

WAVY-TV, 10, Portsmouth, VA

WVEC-TV, 13, Hampton, VA

Northampton

WTKR, 3, Norfolk, VA (formerly WTAR)

WAVY-TV, 10, Portsmouth, VA

WVEC-TV, 13, Hampton, VA

Northumberland

WTVR-TV, 6, Richmond, VA

WRIC-TV, 8, Richmond, VA (formerly WXEX)

WWBT, 12, Richmond, VA

WTKR, 3, Norfolk, VA (formerly WTAR)

WAVY-TV, 10, Portsmouth, VA

WTTG, 5, Washington, DC

Nottoway

WTVR-TV, 6, Richmond, VA

WRIC-TV, 8, Richmond, VA (formerly WXEX)

WWBT, 12, Richmond, VA

Orange

WTVR-TV, 6, Richmond, VA

WRIC-TV, 8, Richmond, VA (formerly WXEX)

WWBT, 12, Richmond, VA

+WRLH-TV, 35, Richmond, VA

WRC-TV, 4, Washington, DC

WTTG, 5, Washington, DC

+WVIR-TV, 29, Charlottesville, VA

Page

WRC-TV, 4, Washington, DC

WTTG, 5, Washington, DC

WJLA-TV, 7, Washington, DC (formerly WMAL)

WUSA, 9, Washington, DC (formerly WTOP)

WHSV-TV, 3, Harrisonburg, VA (formerly WSVA)

WTVR-TV, 6, Richmond, VA

Patrick

WFMY-TV, 2, Greensboro, NC

WGHP, 8, Greensboro, NC

WXII, 12, Greensboro, NC (formerly WSJS)

+WUPN-TV, 48, Greensboro, NC (formerly WGGT)

WDBJ, 7, Roanoke, VA

WSLS-TV, 10, Roanoke, VA

Pittsylvania & Danville City

WDBJ, 7, Roanoke, VA

WSLS-TV, 10, Roanoke, VA

WSET-TV, 13, Lynchburg, VA (formerly WLVA)

+WJPR, 21, Lynchburg, VA

+WFXR-TV, 27, Roanoke, VA (formerly WVFT)

WFMY-TV, 2, Greensboro, NC

WGHP, 8, Greensboro, NC

WXII, 12, Greensboro, NC (formerly WSJS)

+WUPN-TV, 48, Greensboro, NC (formerly WGGT)

Powhatan

WTVR-TV, 6, Richmond, VA

WRIC-TV, 8, Richmond, VA (formerly WXEX)

WWBT, 12, Richmond, VA

+WRLH-TV, 35, Richmond, VA

Prince Edward

WTVR-TV, 6, Richmond, VA

WRIC-TV, 8, Richmond, VA (formerly WXEX)

WWBT, 12, Richmond, VA

WSET-TV, 13, Lynchburg, VA (formerly WLVA)

Prince George & Hopewell City

WTVR-TV, 6, Richmond, VA

WRIC-TV, 8, Richmond, VA (formerly WXEX)

WWBT, 12, Richmond, VA

+WRLH-TV, 35, Richmond, VA

Prince William

WRC-TV, 4, Washington, DC

WTTG, 5, Washington, DC

WJLA-TV, 7, Washington, DC (formerly WMAL)

WUSA, 9, Washington, DC (formerly WTOP)

WDCA, 20, Washington, DC

Pulaski

WDBJ, 7, Roanoke, VA

WSLS-TV, 10, Roanoke, VA

+WFXR-TV, 27, Roanoke, VA (formerly WVFT)

WVVA, 6, Bluefield, WV (formerly WHIS)

Rappahannock

WRC-TV, 4, Washington, DC

WTTG, 5, Washington, DC

WJLA-TV, 7, Washington, DC (formerly WMAL)

WUSA, 9, Washington, DC (formerly WTOP)

WHSV-TV, 3, Harrisonburg, VA (formerly WSVA)

Richmond

WTVR-TV, 6, Richmond, VA

WRIC-TV, 8, Richmond, VA (formerly WXEX)

WWBT, 12, Richmond, VA

+WRLH-TV, 35, Richmond, VA

WTTG, 5, Washington, DC

Roanoke & Roanoke City & Salem City

WDBJ, 7, Roanoke, VA

WSLS-TV, 10, Roanoke, VA

WSET-TV, 13, Lynchburg, VA (formerly WLVA)

+WJPR, 21, Lynchburg, VA

+WFXR-TV, 27, Roanoke, VA (formerly WVFT)

Rockbridge

WDBJ, 7, Roanoke, VA

WSLS-TV, 10, Roanoke, VA

WSET-TV, 13, Lynchburg, VA (formerly WLVA)

+WFXR-TV, 27, Roanoke, VA (formerly WVFT)

Rockingham & Harrisonburg City

WHSV-TV, 3, Harrisonburg, VA (formerly WSVA)

WTVR-TV, 6, Richmond, VA

WWBT, 12, Richmond, VA

WTTG, 5, Washington, DC

+WVIR-TV, 29, Charlottesville, VA

Russell

WCYB-TV, 5, Bristol, VA

WJHL-TV, 11, Johnson City, TN

+WEMT, 39, Greenville, TN

WVVA, 6, Bluefield, WV (formerly WHIS)

Scott

WCYB-TV, 5, Bristol, VA

WJHL-TV, 11, Johnson City, TN

+WEMT, 39, Greenville, TN

Shenandoah

WRC-TV, 4, Washington, DC

WTTG, 5, Washington, DC

WJLA-TV, 7, Washington, DC (formerly WMAL)

WUSA, 9, Washington, DC (formerly WTOP)

WHSV-TV, 3, Harrisonburgm VA (formerly WSVA)

Smyth

WCYB-TV, 5, Bristol, VA

WJHL-TV, 11, Johnson City, TN

Southampton

WTKR, 3, Norfolk, VA (formerly WTAR)

WAVY-TV, 10, Portsmouth, VA

WVEC-TV, 13, Hampton, VA

Spotsylvania & Fredericksburg City

WRC-TV, 4, Washington, DC

WTTG, 5, Washington, DC

WJLA-TV, 7, Washington, DC (formerly WMAL)

WUSA, 9, Washington, DC (formerly WTOP)

WTVR-TV, 6, Richmond, VA

+WRLH-TV, 35, Richmond, VA

Stafford

WRC-TV, 4, Washington, DC

WTTG, 5, Washington, DC

WJLA-TV, 7, Washington, DC (formerly WMAL)

WUSA, 9, Washington, DC (formerly WTOP)

WDCA, 20, Washington, DC

WTVR-TV, 6, Richmond, VA

Surry

WTVR-TV, 6, Richmond, VA

WRIC-TV, 8, Richmond, VA (formerly WXEX)

WWBT, 12, Richmond, VA

WTKR, 3, Norfolk, VA (formerly WTAR)

WAVY-TV, 10, Portsmouth, VA

WVEC-TV, 13, Hampton, VA

Sussex

WTVR-TV, 6, Richmond, VA

WRIC-TV, 8, Richmond, VA (formerly WXEX)

WWBT, 12, Richmond, VA

+WRLH-TV, 35, Richmond, VA

WTKR, 3, Norfolk, VA (formerly WTAR)

WAVY-TV, 10, Portsmouth, VA

Tazewell

WOAY-TV, 4, Oak Hill, WV

WVVA, 6, Bluefield, WV (formerly WHIS)

WDBJ, 7, Roanoke, VA

Virginia Beach & Virginia Beach City

WTKR, 3, Norfolk, VA (formerly WTAR)

WAVY-TV, 10, Portsmouth, VA

WVEC-TV, 13, Hampton, VA

Warren

WRC-TV, 4, Washington, DC

WTTG, 5, Washington, DC

WJLA-TV, 7, Washington, DC (formerly WMAL)

WUSA, 9, Washington, DC (formerly WTOP)

WMAR-TV, 2, Baltimore, MD

WBAL-TV, 11, Baltimore, MD

WJZ-TV, 13, Baltimore, MD

WHSV-TV, 3, Harrisonburg, VA (formerly WSVA)

Washington & Bristol City

WCYB-TV, 5, Bristol, VA

WJHL-TV, 11, Johnson City, TN

WKPT-TV, 19, Kingsport, TN

+WEMT, 39, Greenville, TN (formerly WETO)

Westmoreland

WRC-TV, 4, Washington, DC

WTTG, 5, Washington, D

WJLA-TV, 7, Washington, DC (formerly WMAL)

WUSA, 9, Washington, DC (formerly WTOP)

WTVR-TV, 6, Richmond, VA

WRIC-TV, 8, Richmond, VA (formerly WXEX)

Wise

WCYB-TV, 5, Bristol, VA

WJHL-TV, 11, Johnson City, TN

+WEMT, 39, Greenville, TN

Wythe

WDBJ, 7, Roanoke, VA

WSLS-TV, 10, Roanoke, VA

WVVA, 6, Bluefield, WV (formerly WHIS)

York

WTKR, 3, Norfolk, VA (formerly WTAR)

WAVY-TV, 10, Portsmouth, VA

WVEC-TV, 13, Hampton, VA

Bedford—WJPR, WFXR-TV

Colonial Heights—WRLH-TV

Danville—WJPR, WFXR-TV

Hopewell City—WRLH-TV

Lynchburg—WJPR, WFXR-TV

Petersburg City—WRLH-TV

Roanoke—WJPR

Salem—WJPR

WASHINGTON

Adams

KREM-TV, 2, Spokane, WA

KXLY-TV, 4, Spokane, WA

KHQ-TV, 6, Spokane, WA

KEPR-TV, 19, Pasco, WA

KNDU, 25, Richland, WA

Asotin

KREM-TV, 2, Spokane, WA

KXLY-TV, 4, Spokane, WA

KHQ-TV, 6, Spokane, WA

KLEW-TV, 3, Lewiston, ID

Benton

KEPR-TV, 19, Pasco, WA

KNDU, 25, Richland, WA

KVEW, 42, Kennewick, WA

Chelan

KREM-TV, 2, Spokane, WA

KXLY-TV, 4, Spokane, WA

KHQ-TV, 6, Spokane, WA

+KAYU-TV, 28, Spokane, WA

Clallam

KOMO-TV, 4, Seattle, WA

KING-TV, 5, Seattle, WA

KIRO-TV, 7, Seattle, WA

KVOS-TV, 12, Bellingham, WA

CBUT, 2, Canada

CHEK, 6, Canada

CHAN, 8, Canada

Clark

KATU, 2, Portland, OR

KOIN, 6, Portland, OR

KGW, 8, Portland, OR

KPTV, 12, Portland, OR

+KPDX, 49, Vancouver, WA

Columbia

KREM-TV, 2, Spokane, WA

KXLY-TV, 4, Spokane, WA

KHQ-TV, 6, Spokane, WA

Cowlitz

KATU, 2, Portland, OR

KOIN, 6, Portland, OR

KGW, 8, Portland, OR

KPTV, 12, Portland, OR

+KPDX, 49, Vancouver, WA

Douglas

KREM-TV, 2, Spokane, WA

KXLY-TV, 4, Spokane, WA

KHQ-TV, 6, Spokane, WA

+KAYU-TV, 28, Spokane, WA

Ferry

KREM-TV, 2, Spokane, WA

KXLY-TV, 4, Spokane, WA

KHQ-TV, 6, Spokane, WA

Franklin

KEPR-TV, 19, Pasco, WA

KNDU, 25, Richland, WA

KVEW, 42, Kennewick, WA

Garfield

KREM-TV, 2, Spokane, WA

KXLY-TV, 4, Spokane, WA

KHQ-TV, 6, Spokane, WA

Grant

KREM-TV, 2, Spokane, WA

KXLY-TV, 4, Spokane, WA

KHQ-TV, 6, Spokane, WA

Grays Harbor

KOMO-TV 4, Seattle, WA

KING-TV, 5, Seattle, WA

KIRO-TV, 7, Seattle, WA

Island

KOMO-TV, 4, Seattle, WA

KING-TV, 5, Seattle, WA

KIRO-TV, 7, Seattle, WA

KSTW, 11, Tacoma, WA (formerly KTNT)

KVOS-TV, 12, Bellingham, WA

+KCPQ, 13, Tacoma, WA

CHEK, 6, Canada

Jefferson

KOMO-TV, 4, Seattle, WA

KING-TV, 5, Seattle, WA

KIRO-TV, 7, Seattle, WA

KSTW, 11, Tacoma, WA (formerly KTNT)

+KCPQ, 13, Tacoma, A

King

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Kitsap

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Kittitas

KNDO, 23, Yakima, WA

KIMA-TV, 29, Yakima, WA

Klickitat

KATU, 2, Portland, OR

KOIN, 6, Portland, OR

KGW, 8, Portland, OR

KPTV, 12, Portland, OR

Lewis

KOMO-TV, 4, Seattle, WA

KING-TV, 5, Seattle, WA

KIRO-TV, 7, Seattle, WA

KSTW, 11, Tacoma, WA (formerly KTNT)

+KCPQ, 13, Tacoma, WA

KATU, 2, Portland, OR

KOIN, 6, Portland, OR

KGW, 8, Portland, OR

KPTV, 12, Portland, OR

Lincoln

KREM-TV, 2, Spokane, WA

KXLY-TV, 4, Spokane, WA

KHQ-TV, 6, Spokane, WA

Mason

KOMO-TV, 4, Seattle, WA

KING-TV, 5, Seattle, WA

KIRO-TV, 7, Seattle, WA

KSTW, 11, Tacoma, WA (formerly KTNT)

Okanogan

KREM-TV, 2, Spokane, WA

KXLY-TV, 4, Spokane, WA

KHQ-TV, 6, Spokane, WA

Pacific

KOMO-TV, 4, Seattle, WA

KING-TV, 5, Seattle, WA

Pend Oreille

KREM-TV, 2, Spokane, WA

KXLY-TV, 4, Spokane, WA

KHQ-TV, 6, Spokane, WA

Pierce

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

San Juan

KOMO-TV, 4, Seattle, WA

KING-TV, 5, Seattle, WA

KIRO-TV, 7, Seattle, WA

KVOS-TV, 12, Bellingham, WA

CBUT, 2, Canada

CHEK, 6, Canada

CHAN, 8, Canada

Skagit

KOMO-TV, 4, Seattle, WA

KING-TV, 5, Seattle, WA

KIRO-TV, 7, Seattle, WA

KSTW, 11, Tacoma, WA (formerly KTNT)

KVOS-TV, 12, Tacoma, WA

+KCPQ, 13, Tacoma, WA

CHEK, 6, Canada

CHAN, 8, Canada

Skamania

KATU, 2, Portland, OR

KOIN, 6, Portland, OR

KGW, 8, Portland, OR

KPTV, 12, Portland, OR

Snohomish

KOMO-TV, 4, Seattle, WA

KING-TV, 5, Seattle, WA

KIRO-TV, 7, Seattle, WA

KSTW, 11, Tacoma, WA (formerly KTNT)

+KCPQ, 13, Tacoma, WA

+KTZZ-TV, 22, Seattle, WA

Spokane

KREM-TV, 2, Spokane, WA

KXLY-TV, 4, Spokane, WA

KHQ-TV, 6, Spokane, WA

+KAYU-TV, 28, Spokane, WA

Stevens

KREM-TV, 2, Spokane, WA

KXLY-TV, 4, Spokane, WA

KHQ-TV, 6, Spokane, WA

+KAYU-TV, 28, Spokane, WA

Thurston

KOMO-TV, 4, Seattle, WA

KING-TV, 5, Seattle, WA

KIRO-TV, 7, Seattle, WA

KSTW, 11, Tacoma, WA (formerly KTNT)

KSPQ, 13, Tacoma, WA (formerly KTVW)

Wahkiakum

KATU, 2, Portland, OR

KOIN, 6, Portland, OR

KPTV, 12, Portland, OR

Walla Walla

KEPR-TV, 19, Pasco, WA

KNDU, 25, Richland, WA

KVEW, 42, Kennewick, WA

KREM-TV, 2, Spokane, WA

KXLY-TV, 4, Spokane, WA

KHQ-TV, 6, Spokane, WA

Whatcom

KOMO-TV, 4, Seattle, WA

KING-TV, 5, Seattle, WA

KIRO-TV, 7, Seattle, WA

KVOS-TV, 12, Bellingham, WA

+KCPQ, 13, Tacoma, WA

CBUT, 2, Canada

CHEK, 6, Canada

CHAN, 8, Canada

Whitman

KREM-TV, 2, Spokane, WA

KXLY-TV, 4, Spokane, WA

KHQ-TV, 6, Spokane, WA

+KAYU-TV, 28, Spokane, WA

Yakima

KNDO, 23, Yakima, WA

KIMA-TV, 29, Yakima, WA

KAPP, 35, Yakima, WA

WEST VIRGINIA

Barbour

WDTV, 5, Clarksburg, WV

WBOY-TV, 12, Clarksburg, WV

KDKA-TV, 2, Pittsburgh, PA

WTAE-TV, 4, Pittsburgh, PA

Berkeley

WRC-TV, 4, Washington, DC

WTTG, 5, Washington, DC

WJLA-TV, 7, Washington, DC (formerly WMAL)

WUSA, 9, Washington, DC (formerly WTOP)

WMAR-TV, 2, Baltimore, MD

Boone

WSAZ-TV, 3, Huntington, WV

WCHS-TV, 8, Charleston, WV

WOWK-TV, 13, Huntington, WV (formerly WHTN)

Braxton

WSAZ-TV, 3, Huntington, WV

WCHS-TV, 8, Charleston, WV

+WVAH-TV, 11, Charleston, WV (formerly ch. 23)

WOAY-TV, 4, Oak Hill, WV

WDTV, 5, Clarksburg, WV

Brooke

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WPGH-TV, 53, Pittsburgh, PA

Cabell

WSAZ-TV, 3, Huntington, WV

WCHS-TV, 8, Charleston, WV

WOWK-TV, 13, Huntington, WV (formerly WHTN)

+WVAH-TV, 11, Charleston, WV (formerly ch. 23)

Calhoun

WSAZ-TV, 3, Huntington, WV

WCHS-TV, 8, Charleston, WV

WOWK-TV, 13, Huntington, WV (formerly WHTN)

WDTV, 5, Clarksburg, WV

Clay

WSAZ-TV, 3, Huntington, WV

WCHS-TV, 8, Charleston, WV

WOAY-TV, 4, Oak Hill, WV

Doddridge

WDTV, 5, Clarksburg, WV

WBOY-TV, 12, Clarksburg, WV

Fayette

WOAY-TV, 4, Oak Hill, WV

WVVA, 6, Bluefield, WV (formerly WHIS)

WSAZ-TV, 3, Huntington, WV

WCHS-TV, 8, Charleston, WV

WOWK-TV, 13, Huntington, WV (formerly WHTN)

+WVAH-TV, 11, Charleston, WV (formerly ch. 23)

Gilmer

WDTV, 5, Clarksburg, WV

WBOY-TV, 12, Clarksburg, WV

WOAY-TV, 4, Oak Hill, WV

WSAZ-TV, 3, Huntington, WV

Grant

WHSV-TV, 3, Harrisonburg, VA (formerly WSVA)

WJAC-TV, 6, Johnstown, PA

Greenbrier

WOAY-TV, 4, Oak Hill, WV

WVVA, 6, Bluefield, WV (formerly WHIS)

WDBJ, 7, Roanoke, VA

WSLS-TV, 10, Roanoke, VA

+WVAH-TV, 11, Charleston, WV

Hampshire

WRC-TV, 4, Washington, DC

WTTG, 5, Washington, DC

WUSA, 9, Washington, DC (formerly WTOP)

WMAR-TV, 2, Baltimore, MD

WHSV-TV, 3, Harrisonburg, VA (formerly WSVA)

WJAC-TV, 6, Johnstown, PA

Hancock

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

Hardy

WHSV-TV, 3, Harrisonburg, VA (formerly WSVA)

WRC-TV, 4, Washington, DC

WTTG, 5, Washington, DC

WUSA, 9, Washington, DC (formerly WTOP)

Harrison

WDTV, 5, Clarksburg, WV

WBOY-TV, 12, Clarksburg, WV

WTAE-TV, 4, Pittsburgh, PA

Jackson

WSAZ-TV, 3, Huntington, WV

WCHS-TV, 8, Charleston, WV

WOWK-TV, 13, Huntington, WV (formerly WHTN)

+WVAH-TV, 11, Charleston, WV (formerly ch. 23)

Jefferson

WRC-TV, 4, Washington, DC

WTTG, 5, Washington, DC

WJLA-TV, 7, Washington, DC (formerly WMAL)

WUSA, 9, Washington, DC (formerly WTOP)

WMAR-TV, 2, Baltimore, MD

Kanawha

WSAZ-TV, 3, Huntington, WV

WCHS-TV, 8, Charleston, WV

WOWK-TV, 13, Huntington, WV (formerly WHTN)

+WVAH-TV, 11, Charleston, WV (formerly ch. 23)

Lewis

WDTV, 5, Clarksburg, WV

WBOY-TV, 12, Clarksburg, WV

Lincoln

WSAZ-TV, 3, Huntington, WV

WCHS-TV, 8, Charleston, WV

WOWK-TV, 13, Huntington, WV (formerly WHTN)

+WVAH-TV, 11, Charleston, WV (formerly ch. 23)

Logan

WSAZ-TV, 3, Huntington, WV

WCHS-TV, 8, Charleston, WV

WOWK-TV, 13, Huntington, WV (formerly WHTN)

Marion

KDKA-TV, 2, Pittsburgh, PA

WTAE-TV, 4, Pittsburgh, PA

WDTV, 5, Clarksburg, WV

WBOY-TV, 12, Clarksburg, WV

WTRF-TV, 7, Wheeling, WV

WTOV-TV, 9, Steubenville, OH (formerly WSTV)

Marshall

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

Mason

WSAZ-TV, 3, Huntington, WV

WCHS-TV, 8, Charleston, WV

WOWK-TV, 13, Huntington, WV (formerly WHTN)

+WVAH-TV, 11, Charleston, WV (formerly ch. 23)

McDowell

WSAZ-TV, 3, Huntington, WV

WCHS-TV, 8, Charleston, WV

WOWK-TV, 13, Huntington, WV (formerly WHTN)

+WVAH-TV, 11, Charleston, WV (formerly ch. 23)

WOAY-TV, 4, Oak Hill, WV

WVVA, 6, Bluefield, WV (formerly WHIS)

Mercer

WOAY-TV, 4, Oak Hill, WV

WVVA, 6, Bluefield, WV (formerly WHIS)

WDBJ, 7, Roanoke, VA

WSLS-TV, 10, Roanoke, VA

Mineral

Over 90% cable penetration.

Mingo

WSAZ-TV, 3, Huntington, WV

WCHS-TV, 8, Charleston, WV

WOWK-TV, 13, Huntington, WV (formerly WHTN)

+WVAH-TV, 11, Charleston, WV (formerly ch. 23)

WVVA, 6, Bluefield, WV (formerly WHIS)

Monongalia

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

WBOY-TV, 12, Clarksburg, WV

WTRF-TV, 7, Wheeling, WV

Monroe

WVVA, 6, Bluefield, WV (formerly WHIS)

WDBJ, 7, Roanoke, VA

WSLS-TV, 10, Roanoke, VA

Morgan

WRC-TV, 4, Washington, DC

WTTG, 5, Washington, DC

WJLA-TV, 7, Washington, DC (formerly WMAL)

WUSA, 9, Washington, DC (formerly WTOP)

WMAR-TV, 2, Baltimore, MD

WTAJ-TV, 10, Johnstown, PA (formerly WFBG)

Nicholas

WSAZ-TV, 3, Huntington, WV

WCHS-TV, 8, Charleston, WV

WOWK-TV, 13, Huntington, WV (formerly WHTN)

+WVAH-TV, 11, Charleston, WV (formerly ch. 23)

WOAY-TV, 4, Oak Hill, WV

Ohio

WTRF-TV, 7, Wheeling, WV

WTOV-TV, 9, Steubenville, OH (formerly WSTV)

KDKA-TV, 2, Pittsburgh, PA

WTAE-TV, 4, Pittsburgh, PA

WPXI, 11, Pittsburgh, PA (formerly WIIC)

+WCWB, 22, Pittsburgh, PA (formerly WPTT)

+WPGH-TV, 53, Pittsburgh, PA

Pendleton

WHSV-TV, 3, Harrisonburg, VA (formerly WSVA)

Pleasants

WTRF-TV, 7, Wheeling, WV

WCHS-TV, 8, Charleston, WV

+WVAH-TV, 11, Charleston, WV

WDTV, 5, Clarksburg, WV

Pocahontas

WDBJ, 7, Roanoke, WV

WSLS-TV, 10, Roanoke, WV

WVVA, 6, Bluefield, WV (formerly WHIS)

Preston

KDKA-TV, 2, Pittsburgh, PA

WTAE-TV, 4, Pittsburgh, PA

WPXI, 11, Pittsburgh, PA (formerly WIIC)

WDTV, 5, Clarksburg, WV

WTRF-TV, 7, Wheeling, WV

+WWCP-TV, 8, Johnstow, PA

Putnam

WSAZ-TV, 3, Huntington, WV

WCHS-TV, 8, Charleston, WV

WOWK-TV, 13, Huntington, WV (formerly WHTN)

+WVAH-TV, 11, Charleston, WV (formerly ch. 23)

Raleigh

WOAY-TV, 4, Oak Hill, WV

WVVA, 6, Bluefield, WV (formerly WHIS)

WSAZ-TV, 3, Huntington, WV

WCHS-TV, 8, Charlestonm, WV

WOWK-TV, 13, Huntington, WV (formerly WHTN)

+WVAH-TV, 11, Charleston, WV (formerly ch. 23)

Randolph

WDTV, 5, Clarksburg.WV

WBOY-TV, 12, Clarksburg, WV

WCHS-TV, 8, Charleston, WV

Ritchie

WSAZ-TV, 3, Huntington, WV

WCHS-TV, 8, Charleston, WV

+WVAH-TV, 11, Charleston, WV

WOWK-TV, 13, Huntington, WV (formerly WHTN)

WDTV, 5, Clarksburg, WV

WBOY-TV, 12, Clarksburg, WV

WTRF-TV, 7, Wheeling, WV

Roane

WSAZ-TV, 3, Huntington, WV

WCHS-TV, 8, Charleston, WV

WOWK-TV, 13, Huntington, WV (formerly WHTN)

+WVAH-TV, 11, Charleston, WV (formerly ch. 23)

Summers

WOAY-TV, 4, Oak Hill, WV

WVVA, 6, Bluefield, WV (formerly WHIS)

Taylor

WDTV, 5, Clarksburg, WV

WBOY-TV, 12, Clarksburg, WV

Tucker

KDKA-TV, 2, Pittsburgh, PA

WTAE-TV, 4, Pittsburgh, PA

WDTV, 5, Clarksburg, WV

WBOY-TV, 12, Clarksburg, WV

WTRF-TV, 7, Wheeling, WV

WTOV-TV, 9, Steubenville, OH (formerly WSTV)

Tyler

WTRF-TV, 7, Wheeling, WV

WDTV, 5, Clarksburg, WV

Upshur

WDTV, 5, Clarksburg, WV

WBOY-TV, 12, Clarksburg, WV

Wayne

WSAZ-TV, 3, Huntington, WV

WCHS-TV, 8, Charleston, WV

WOWK-TV, 13, Huntington, WV (formerly WHTN)

+WVAH-TV, 11, Charleston, WV (formerly ch. 23)

Webster

WSAZ-TV, 3, Huntington, WV

+WVAH-TV, 11, Charleston, WV

WOAY-TV, 4, Oak Hill, WV

WDTV, 5, Clarksburg, WV

Wetzel

WTRF-TV, 7, Wheeling, WV

WTOV-TV, 9, Steubenville, OH (formerly WSTV)

KDKA-TV, 2, Pittsburgh, PA

WTAE-TV, 4, Pittsburgh, PA

Wirt

WSAZ-TV, 3, Huntington, WV

WCHS-TV, 8, Charleston, WV

WOWK-TV, 13, Huntington, WV (formerly WHTN)

Wood

WSAZ-TV, 3, Huntington, WV

WCHS-TV, 8, Charleston, WV

WOWK-TV, 13, Huntington, WV (formerly WHTN)

+WVAH-TV, 11, Charleston, WV (formerly ch. 23)

WTAP-TV, 15, Parkersburg, WV

Wyoming

WOAY-TV, 4, Oak Hill, WV

WVVA, 6, Bluefield, WV (formerly WHIS)

WCHS-TV, 8, Charleston, WV

WISCONSIN

Adams

WSAW-TV, 7, Wausau, WI (formerly WSAU)

WAOW-TV, 9, Wausau, WI

WKBT, 8, La Crosse, WI

WEAU-TV, 13, Eau Claire, WI

WISC-TV, 3, Madison, WI

+WMSN-TV, 47, Madison, WI

Ashland

KDLH, 3, Duluth, MN (formerly KDAL)

KBJR-TV, 6, Duluth, MN (formerly WDSM)

WDIO-TV, 10, Duluth, MN

Barron

WCCO-TV, 4, MinneapoliS-St. Paul

KSTP-TV, 5, St. Paul, MN

KMSP-TV, 9, Minneapolis, MN

KARE, 11, Minneapolis, MN (formerly WTCN)

WEAU-TV, 13, Eau Claire, WI

Bayfield

KDLH, 3, Duluth, MN (formerly KDAL)

KBJR-TV, 6, Duluth, MN (formerly WDSM)

WDIO-TV, 10, Duluth, MN

Brown

WBAY-TV, 2, Green Bay, WI

WFRV-TV, 5, Green Bay, WI

WLUK-TV, 11, Green Bay, WI

Buffalo

WKBT, 8, La Crosse, WI

WEAU-TV, 13, Eau Claire, WI

+WLAX, 25, La Crosse, WI

KTTC, 10, Rochester, MN (formerly KROC)

Burnett

WCCO-TV, 4, Minneapolis, MN

KSTP-TV, 5, St. Paul, MN

KMSP-TV, 9, Minneapolis, MN

KARE, 11, Minneapolis, MN (formerly WTCN)

KDLH, 3, Duluth, MN (formerly KDAL)

KBJR-TV, 6, Duluth, MN (formerly WDSM)

Calumet

WBAY-TV, 2, Green Bay, WI

WFRV-TV, 5, Green Bay, WI

WLUK-TV, 11, Green Bay, WI

Chippewa

WKBT, 8, La Crosse, WI

WEAU-TV, 13, Eau Claire, WI

Clark

WSAW-TV, 7, Wausau, WI (formerly WSAU)

WAOW-TV, 9, Wausau, WI

WKBT, 8, La Crosse, WI

WEAU-TV, 13, Eau Claire, WI

Columbia

WISC-TV, 3, Madison, WI

WMTV, 15, Madison, WI

WKOW-TV, 27, Madison, WI

+WMSN-TV, 47, Madison, WI

+WCGV-TV, 24, Milwaukee, WI

Crawford

WKBT, 8, La Crosse, WI

+WLAX, 25, La Crosse, WI

KGAN, 2, Cedar Rapids, IA (formerly WMT)

KWWL, 7, Waterloo, IA

KCRG-TV, 9, Cedar Rapids, IA

+WMSN-TV, 47, Madison, WI

Dane

WISC-TV, 3, Madison, WI

WMTV, 15, Madison, WI

WKOW-TV, 27, Madison, WI

+WMSN-TV, 47, Madison, WI

Dodge

WTMJ-TV, 4, Milwaukee, WI

WITI, 6, Milwaukee, WI

WISN-TV, 12, Milwaukee, WI

+WVTV, 18, Milwaukee, WI

+WCGV-TV, 24, Milwaukee, WI

WISC-TV, 3, Madison, WI

WMTV, 15, Madison, WI

WKOW-TV, 27, Madison, WI

+WMSN-TV, 47, Madison, WI

Door

WBAY-TV, 2, Green Bay, WI

WFRV-TV, 5, Green Bay, WI

WLUK-TV, 11, Green Bay, WI

Douglas

KDLH, 3, Duluth, MN (formerly KDAL)

KBJR-TV, 6, Duluth, MN (formerly WDSM)

WDIO-TV, 10, Duluth, MN

Dunn

WKBT, 8, La Crosse, WI

WEAU-TV, 13, Eau Claire, WI

WCCO-TV, 4, Minneapolis, MN

KSTP-TV, 5, St. Paul, MN

KMSP-TV, 9, Minneapolis, MN

KARE, 11, Minneapolis, MN (formerly WTCN)

Eau Claire

WKBT, 8, La Crosse, WI

WEAU-TV, 13, Eau Claire, WI

Florence

WLUC-TV, 6, Marquette, MI

WFRV-TV, 5, Green Bay, WI

WJFW-TV, 12, Rhinelander, WI (formerly WAEO)

Fond du Lac

WBAY-TV, 2, Green Bay, WI

WFRV-TV, 5, Green Bay, WI

WLUK-TV, 11, Green Bay, WI

+WGBA, 26, Green Bay, WI

KFIZ-TV, 34, Fond du Lac, WI

WTMJ-TV, 4, Milwaukee, WI

WITI, 6, Milwaukee, WI

WISN-TV, 12, Milwaukee, WI

+WVTV, 18, Milwaukee, WI

+WCGV-TV, 24, Milwaukee, WI

Forest

WBAY-TV, 2, Green Bay, WI

WFRV-TV, 5, Green Bay, WI

WLUK-TV, 11, Green Bay, WI

WSAW-TV, 7, Wausau, WI (formerly WSAU)

WAOW-TV, 9, Wausau, WI

WJFW-TV, 12, Rhinelander, WI (formerly WAEO)

Grant

KGAN, 2, Cedar Rapids, IA (formerly WMT)

KWWL, 7, Waterloo, IA

KCRG-TV, 9, Cedar Rapids, IA

WISC-TV, 3, Madison, WI

+WMSN-TV, 47, Madison, WI

Green

WISC-TV, 3, Madison, WI

WMTV, 15, Madison, WI

WKOW-TV, 27, Madison, WI

+WMSN-TV, 47, Madison, WI

WREX-TV, 13, Rockford, IL

WTVO, 17, Rockford, IL

WIFR, 23, Freeport, IL (formerly WCEE)

Green Lake

WBAY-TV, 2, Green Bay, WI

WFRV-TV, 5, Green Bay, WI

WLUK-TV, 11, Green Bay, WI

WISC-TV, 3, Madison, WI

+WMSN-TV, 47, Madison, WI

Iowa

WISC-TV, 3, Madison, WI

WMTV, 15, Madison, WI

WKOW-TV, 27, Madison, WI

+WMSN-TV, 47, Madison, WI

Iron

KDLH, 3, Duluth, MN (formerly KDAL)

KBJR-TV, 6, Duluth, MN (formerly WDSM)

WDIO-TV, 10, Duluth, MN

Jackson

WKBT, 8, La Crosse, WI

WEAU-TV, 13, Eau Claire, WI

+WLAX, 25, La Crosse, WI

Jefferson

WTMJ-TV, 4, Milwaukee, WI

WITI-TV, 6, Milwaukee, WI

WISN-TV, 12, Milwaukee, WI

+WVTV, 18, Milwaukee, WI

+WCGV-TV, 24, Milwaukee, WI

WISC-TV, 3, Madison, WI

WMTV, 15, Madison, WI

WKOW-TV, 27, Madison, WI

+WMSN-TV, 47, Madison, WI

Juneau

WKBT, 8, La Crosse, WI

WEAU-TV, 13, Eau Claire, WI

WISC-TV, 3, Madison, WI

+WMSN-TV, 47, Madison, WI

WSAW-TV, 7, Wausau, WI (formerly WSAU)

WAOW-TV, 9, Wausau, WI

Kenosha

WBBM-TV, 2, Chicago, IL

WMAQ-TV, 5, Chicago, IL

WLS-TV, 7, Chicago, IL

WGN-TV, 9, Chicago, IL

+WPWR-TV, 50, Chicago, IL

+WGBO-TV, 66, Joliet, IL

WTMJ-TV, 4, Milwaukee, WI

WITI-TV, 6, Milwaukee, WI

WISN-TV, 12, Milwaukee, WI

+WVTV, 18, Milwaukee, WI

+WCGV-TV, 24, Milwaukee, WI

Kewaunee

WBAY-TV, 2, Green Bay, WI

WFRV-TV, 5, Green Bay, WI

WLUK-TV, 11, Green Bay, WI

+WACY, 32, Appleton, WI (formerly WXGZ)

La Crosse

WKBT, 8, La Crosse, WI

WEAU-TV, 13, Eau Claire, WI

WXOW-TV, 19, La Crosse, WI

+WLAX, 25, La Crosse, WI

Lafayette

WISC-TV, 3, Madison, WI

WMTV, 15, Madison, WI

WKOW-TV, 27, Madison, WI

+WMSN-TV, 47, Madison, WI

Langlade

WSAW-TV, 7, Wausau, WI (formerly WSAU)

WAOW-TV, 9, Wausau, WI

WJFW-TV, 12, Rhinelander, WI (formerly WAEO)

WBAY-TV, 2, Green Bay, WI

WFRV-TV, 5, Green Bay, WI

WLUK-TV, 11, Green Bay, WI

Lincoln

WSAW-TV, 7, Wausau, WI (formerly WSAU)

WAOW-TV, 9, Wausau, WI

WJFW-TV, 12, Rhinelander, WI (formerly WAEO)

Manitowoc

WBAY-TV, 2, Green Bay, WI

WFRV-TV, 5, Green Bay, WI

WLUK-TV, 11, Green Bay, WI

+WACY, 32, Appleton, WI (formerly WXGZ)

Marathon

WSAW-TV, 7, Wausau, WI (formerly WSAU)

WAOW-TV, 9, Wausau, WI

WJFW-TV, 12, Rhinelander, WI (formerly WAEO)

WEAU-TV, 13, Eau Claire, WI

Marinette

WBAY-TV, 2, Green Bay, WI

WFRV-TV, 5, Green Bay, WI

WLUK-TV, 11, Green Bay, WI

+WGBA, 26, Green Bay, WI

+WACY, 32, Appleton, WI (formerly WXGZ)

Marquette

WISC-TV, 3, Madison, WI

WMTV, 15, Madison, WI

WKOW-TV, 27, Madison, WI

WBAY-TV, 2, Green Bay, WI

WFRV-TV, 5, Green Bay, WI

WLUK-TV, 11, Green Bay, WI

Menominee

WBAY-TV, 2, Green Bay, WI

WFRV-TV, 5, Green Bay, WI

WLUK-TV, 11, Green Bay, WI

Milwaukee

WTMJ-TV, 4, Milwaukee, WI

WITI-TV, 6, Milwaukee, WI

WISN-TV, 12, Milwaukee, WI

WVTV, 18, Milwaukee, WI

+WCGV-TV, 24, Milwaukee, WI

Monroe

WKBT, 8, La Crosse, WI

WEAU-TV, 13, Eau Claire, WI

+WLAX, 25, La Crosse, WI

Oconto

WBAY-TV, 2, Green Bay, WI

WFRV-TV, 5, Green Bay, WI

WLUK-TV, 11, Green Bay, WI

+WACY, 32, Appleton, WI (formerly WXGZ)

Oneida

WSAW-TV, 7, Wausau, WI (formerly WSAU)

WAOW-TV, 9, Wausau, WI

WJFW-TV, 12, Rhinelander, WI (formerly WAEO)

Outagamie

WBAY-TV, 2, Green Bay, WI

WFRV-TV, 5, Green Bay, WI

WLUK-TV, 11, Green Bay, WI

Ozaukee

WTMJ-TV, 4, Milwaukee, WI

WITI-TV, 6, Milwaukee, WI

WISN-TV, 12, Milwaukee, WI

WVTV, 18, Milwaukee, WI

+WCGV-TV, 24, Milwaukee, WI

Pepin

WKBT, 8, La Crosse, WI

WEAU-TV, 13, Eau Claire, WI

WCCO-TV, 4, Minneapolis, MN

KSTP-TV, 5, St. Paul, MN

Pierce

WCCO-TV, 4, Minneapolis, MN

KSTP-TV, 5, St. Paul, MN

KMSP-TV, 9, Minneapolis, MN

KARE, 11, Minneapolis, MN (formerly WTCN)

Polk

WCCO-TV, 4, Minneapolis, MN

KSTP-TV, 5, St. Paul, MN

KMSP-TV, 9, Minneapolis, MN

KARE, 11, Minneapolis, MN (formerly WTCN)

Portage

WSAW-TV, 7, Wausau, WI (formerly WSAU)

WAOW-TV, 9, Wausau, WI

WBAY-TV, 2, Green Bay, WI

WFRV-TV, 5, Green Bay, WI

WLUK-TV, 11, Green Bay, WI

Price

WSAW-TV, 7, Wausau, WI (formerly WSAU)

WAOW-TV, 9, Wausau, WI

WJFW-TV, 12, Rhinelander, WI (formerly WAEO)

WEAU-TV, 13, Eau Claire, WI

Racine

WTMJ-TV, 4, Milwaukee, WI

WITI-TV, 6, Milwaukee, WI

WISN-TV, 12, Milwaukee, WI

WVTV, 18, Milwaukee, WI

+WCGV-TV, 24, Milwaukee, WI

WLS-TV, 7, Chicago, IL

WGN-TV, 9, Chicago, IL

Richland

WISC-TV, 3, Madison, WI

+WMSN-TV, 47, Madison, WI

WKBT, 8, La Crosse, WI

Rock

WREX-TV, 13, Rockford, IL

WTVO, 17, Rockford, I:

WIFR, 23, Freeport, IL (formerly WCEE)

+WQRF-TV, 39, Rockford, IL

WISC-TV, 3, Madison, WI

WMTV, 15, Madison, WI

WKOW-TV, 27, Madison, WI

+WMSN-TV, 47, Madison, WI

Rusk

WKBT, 8, La Crosse, WI

WEAU-TV, 13, Eau Claire, WI

WSAW-TV, 7, Wausau, WI (formerly WSAU)

St. Croix

WCCO-TV, 4, Minneapolis, MN

KSTP-TV, 5, St. Paul, MN

KMSP-TV, 9, Minneapolis, MN

KARE, 11, Minneapolis, MN (formerly WTCN)

+KLGT, 23, Minneapolis, MN (formerly KTMA)

+WFTC, 29, Minneapolis, MN (formerly KITN)

Sauk

WISC-TV, 3, Madison, WI

WMTV, 15, Madison, WI

WKOW-TV, 27, Madison, WI

+WMSN-TV, 47, Madison, WI

Sawyer

KDLH, 3, Duluth, MN (formerly KDAL)

KBJR-TV, 6, Duluth, MN (formerly WDSM)

WDIO-TV, 10, Duluth, MN

Shawano

WBAY-TV, 2, Green Bay, WI

WFRV-TV, 5, Green Bay, WI

WLUK-TV, 11, Green Bay, WI

+WACY, 32, Appleton, WI (formerly WXGZ)

WSAW-TV, 7, Wausau, WI (formerly WSAU)

Sheboygan

WTMJ-TV, 4, Milwaukee, WI

WITI-TV, 6, Milwaukee, WI

WISN-TV, 12, Milwaukee, WI

+WVTV, 18, Milwaukee, WI

+WCGV-TV, 24, Milwaukee, WI

WBAY-TV, 2, Green Bay, WI

WFRV-TV, 5, Green Bay, WI

WLUK-TV, 11, Green Bay, WI

+WGBA, 26, Green Bay, WI

Taylor

WSAW-TV, 7, Wausau, WI (formerly WSAU)

WAOW-TV, 9, Wausau, WI

WEAU-TV, 13, Eau Claire, WI

Trempealeau

WKBT, 8, La Crosse, WI

WEAU-TV, 13, Eau Claire, WI

+WLAX, 25, La Crosse, WI

Vernon

WKBT, 8, La Crosse, WI

WEAU-TV, 13, Eau Claire, WI

+WLAX, 25, La Crosse, WI

KTTC, 10, Rochester, MN (formerly KROC)

Vilas

WSAW-TV, 7, Wausau, WI (formerly WSAU)

WAOW-TV, 9, Wausau, WI

WJFW-TV, 12, Rhinelander, WI (formerly WAEO)

Walworth

WTMJ-TV, 4, Milwaukee, WI

WITI-TV, 6, Milwaukee, WI

WISN-TV, 12, Milwaukee, WI

+WVTV, 18, Milwaukee, WI

+WCGV-TV, 24, Milwaukee, WI

WBBM-TV, 2, Chicago, IL

WGN-TV, 9, Chicago, IL

WISC-TV, 3, Madison, WI

WREX-TV, 13, Rockford, IL

Washburn

KDLH, 3, Duluth, MN (formerly KDAL)

KBJR-TV, 6, Duluth, MN (formerly WDSM)

WDIO-TV, 10, Duluth, MN

Washington

WTMJ-TV, 4, Milwaukee, WI

WITI-TV, 6, Milwaukee, WI

WISN-TV, 12, Milwaukee, WI

WVTV, 18, Milwaukee, WI

+WCGV-TV, 24, Milwaukee, WI

Waukesha

WTMJ-TV, 4, Milwaukee, WI

WITI-TV, 6, Milwaukee, WI

WISN-TV, 12, Milwaukee, WI

WVTV, 18, Milwaukee, WI

+WCGV-TV, 24, Milwaukee, WI

Waupaca

WBAY-TV, 2, Green Bay, WI

WFRV-TV, 5, Green Bay, WI

WLUK-TV, 11, Green Bay, WI

WSAW-TV, 7, Wausau, WI (formerly WSAU)

Waushara

WBAY-TV, 2, Green Bay, WI

WFRV-TV, 5, Green Bay, WI

WLUK-TV, 11, Green Bay, WI

WSAW-TV, 7, Wausau, WI (formerly WSAU)

Winnebago

WBAY-TV, 2, Green Bay, WI

WFRV-TV, 5, Green Bay, WI

WLUK-TV, 11, Green Bay, WI

KFIZ-TV, 34, Fond du Lac, WI

Wood

WSAW-TV, 7, Wausau, WI (formerly WSAU)

WAOW-TV, 9, Wausau, WI

WEAU-TV, 13, Eau Claire, WI

Beloit—WMSN-TV

Beloit Township—WMSN-TV

Turtle Township—WMSN-TV

WYOMING

Albany

KCNC-TV, 4, Denver, CO (formerly KOA)

KMGH-TV, 7, Denver, CO (formerly KLZ)

KUSA-TV, 9, Denver, CO (formerly KBTV)

KGWN-TV, 5, Cheyenne, WY (formerly KFBC)

Big Horn

KTVQ, 2, Billings, MT (formerly KOOK)

KULR-TV, 8, Billings, MT

KFNE, 10, Riverton, WY (formerly KWRB)

Campbell

Over 90% cable penetration.

Carbon

KTWO-TV, 2, Casper, WY

KGWN-TV, 5, Cheyenne, WY (formerly KFBC)

Converse

KTWO-TV, 2, Casper, WY

TF, 10, Scottsbluff, NE

Crook

KOTA-TV, 3, Rapid City, SD

KTWO-TV, 2, Casper, WY

Fremont

KTWO-TV, 2, Casper, WY

KFNE, 10, Riverton, WY (formerly KWRB)

Goshen

KSTF, 10, Scottsbluff, NE

KDUH-TV, 4, Scottsbluff, NE

Hot Springs

KTWO-TV, 2, Casper, WY

KFNE, 10, Riverton, WY (formerly KWRB)

Johnson

KTWO-TV 2, Casper, WY

Laramie

#KGWN-TV, 5, Cheyenne, WY (formerly KFBC) ²²

²² Affected community is Cheyenne, WY.

+KKTU, 33, Cheyenne, WY

KWGN-TV, 2, Denver, CO

#KCNC-TV, 4, Denver, CO (formerly KOA) ²³

²³ Affected community is Cheyenne, WY.

KMGH-TV, 7, Denver, CO (formerly KLZ)

KUSA-TV, 9, Denver, CO (formerly KBTV)

Lincoln

KIDK, 3, Idaho Falls, ID (formerly KID)

+KPVI, 6, Pocatello, ID

KIFI-TV, 8, Idaho Falls, ID

KTVX, 4, Salt Lake City, UT (formerly KCPX)

KSL-TV, 5, Salt Lake City, UT

Natrona

KTWO-TV, 2, Casper, WY

Niobrara

KTWO-TV, 2, Casper, WY

KGWN-TV, 5, Cheyenne, WY (formerly KFBC)

Park

KTVQ, 2, Billings, MT (formerly KOOK)

KULR-TV, 8, Billings, MT

Platte

KGWN-TV, 5, Cheyenne, WY (formerly KFBC)

KSTF, 10, Scottsbluff, NE

KTWO-TV, 2, Casper, WY

Sheridan

KTVQ, 2, Billings, MT (formerly KOOK)

KULR-TV, 8, Billings, MT

KTWO-TV, 2, Casper, WY

KOTA-TV, 3, Rapid City, SD

Sublette

KTWO-TV, 2, Casper, WY

KIDK, 3, Idaho Falls, ID (formerly KID)

Sweetwater

Over 90% cable penetration.

Teton

KIDK, 3, Idaho Falls, ID (formerly KID)

KIFI-TV, 8, Idaho Falls, ID

Uinta

KUTV, 2, Salt Lake City, UT

KTVX, 4, Salt Lake City, UT (formerly KCPX)

KSL-TV, 5, Salt Lake City, UT

+KSTU, 13, Salt Lake City, UT

Washakie

KTWO-TV, 2, Casper, WY

KFNE, 10, Riverton, WY (formerly KWRB)

KTVX, 4, Salt Lake City, UT (formerly KCPX)

KSL-TV, 5, Salt Lake City, UT

Weston

KTWO-TV, 2, Casper, WY

KOTA-TV, 3, Rapid City, SD

Yellowstone National Park

KIDK, 3, Idaho Falls, ID (formerly KID)

KULR-TV, 8, Billings, MT

[FR Doc. 05-3847 Filed 3-7-05; 8:45 am]

BILLING CODE 6712-01-P